OFFICE OF PERSONNEL MANAGEMENT

SES Positions That Were Career Reserved During 2006

AGENCY: Office of Personnel Management (OPM).

ACTION: Notice.

SUMMARY: As required by the Civil Service Reform Act of 1978, this gives notice of all positions in the Senior Executive Service (SES) that were career reserved during 2006.

FOR FURTHER INFORMATION CONTACT: C. Penn, Executive Resources Services Group, Center for Human Resources, Division for Human Capital Leadership and Merit System Accountability, 202-606-2246.

SUPPLEMENTARY INFORMATION: The list below shows the titles of SES positions that were career reserved at any time during calendar year 2006, regardless of whether those positions were career reserved on December 31, 2006. Section 3132(b)(4) of Title 5, United States Code, requires that the head of each agency publish such list by March of the following year. OPM is publishing a consolidated list for all agencies.

U.S. Office of Personnel Management.
Tricia Hollis,
Chief of Staff/Director External Affairs.

Positions That Were Career Reserved During Calendar Year 2006
Agency/organization | Career reserved position
ADVISORY COUNCIL ON HISTORIC PRESERVATION:
OFFICE OF THE EXECUTIVE DIRECTOR | EXECUTIVE DIRECTOR.
DEPARTMENT OF AGRICULTURE:
OFFICE OF THE CHIEF INFORMATION OFFICER | DEPUTY CHIEF INFORMATION OFFICER.
| ASSOCIATE CHIEF INFORMATION OFFICER.
OFFICE OF THE CHIEF FINANCIAL OFFICER | DEPUTY CHIEF FINANCIAL OFFICER.
| PROJECT MANAGER.
NATIONAL FINANCE CENTER | DIRECTOR, INFORMATION RESOURCES MANAGEMENT DIVISION.
| DIRECTOR, FINANCIAL SERVICES DIVISION.
| DEPUTY DIRECTOR.
OFFICE OF THE GENERAL COUNSEL | ASSISTANT GENERAL COUNSEL (NATURAL RESOURCES DIVISION).
OFFICE OF THE INSPECTOR GENERAL | ASSISTANT INSPECTOR GENERAL FOR INVESTIGATIONS.
| DEPUTY ASSISTANT INSPECTOR GENERAL FOR INVESTIGATION.
| DEPUTY ASSISTANT INSPECTOR GENERAL FOR AUDIT.
| DEPUTY ASSISTANT INSPECTOR GENERAL FOR AUDIT.
| DEPUTY ASSISTANT INSPECTOR GENERAL FOR AUDIT.
| ASSISTANT INSPECTOR GENERAL FOR POLICY DEVELOPMENT AND RESEARCH MANAGEMENT.
| DEPUTY ASSISTANT INSPECTOR GENERAL FOR INVESTIGATIONS, IMMEDIATE OFFICE COUNSEL TO THE INSPECTOR GENERAL.
| DEPUTY INSPECTOR GENERAL.
OFFICE OF THE CHIEF ECONOMIST | DIRECTOR, OFFICE OF RISK ASSESSMENT AND COST-BENEFIT ANALYSIS CHAIRPERSON.
| DIRECTOR GLOBAL CHANGE PROGRAM OFFICE.
| DIRECTOR, OFFICE OF ENERGY POLICY AND NEW USES.
OFFICE OF HUMAN CAPITAL MANAGEMENT | MANAGER, ENTERPRISE HUMAN RESOURCES SYSTEMS STAFF.
OFFICE OF OPERATIONS | DIRECTOR OFFICE OF OPERATIONS.
PROCUREMENT AND PROPERTY MANAGEMENT. | DIRECTOR, PROCUREMENT AND PROPERTY MANAGEMENT.
| DEPUTY DIRECTOR, OFFICE OF PROPERTY AND PROCRUEMENT MANAGEMENT.
OFFICE OF THE ASSISTANT SECRETARY FOR CIVIL RIGHTS | SPECIAL ASSISTANT FOR OUTREACH AND DIVERSITY.
RURAL HOUSING SERVICE | DEPUTY ADMINISTRATOR FOR OPERATIONS AND MANAGEMENT.
| DIRECTOR CENTRALIZED SERVICING CENTER.
| DEPUTY ADMINISTRATOR, MULTI-FAMILY HOUSING.
| CHIEF FINANCIAL OFFICER.
| BUDGET OFFICER.
RURAL BUSINESS SERVICE | DEPUTY ADMINISTRATOR FOR BUSINESS PROGRAMS.
AGRICULTURAL MARKETING SERVICE | DEPUTY ADMINISTRATOR, FRUIT AND VEGETABLE PROGRAMS.
| DEPUTY ADMINISTRATOR, DAIRY PROGRAMS.
| DEPUTY ADMINISTRATOR, LIVESTOCK AND SEED PROGRAMS.
| DEPUTY ADMINISTRATOR, TOBACCO PROGRAMS.
| DEPUTY ADMINISTRATOR, COMPLIANCE AND ANALYSIS.
| DEPUTY ADMINISTRATOR, COTTON PROGRAMS.
| DEPUTY ADMINISTRATOR, SCIENCE AND TECHNOLOGY PROGRAMS.
| DEPUTY ADMINISTRATOR, TRANSPORTATION AND MARKETING PROGRAMS.
| DEPUTY ADMINISTRATOR, POULTRY PROGRAMS
GRAIN INSPECTION, PACKERS AND STOCKYARDS ADMINISTRATION | DIRECTOR FIELD MANAGEMENT DIVISION
ANIMAL AND PLANT HEALTH INSPECTION SERVICE | DEPUTY ADMINISTRATOR FOR MARKETING AND REGULATORY PROGRAMS-BUSINESS SERVICES.
| ASSOCIATE DEPUTY ADMINISTRATOR FOR MARKETING AND REGULATORY PROGRAMS - BUSNINESS SERVICES.
| DEPUTY ADMINISTRATOR, ANIMAL CARE DIRECTOR, CENTER FOR PLANT HEALTH SCIENCE AND TECHNOLOGY.
| ASSISTANT DEPUTY ADMINISTRATOR, PEST DETECTION AND MANAGEMENT.
| ASSOCIATE DEPUTY ADMINISTRATOR, WILDLIFE SERVICES.
| ASSISTANT DEPUTY ADMINISTRATOR, INTERNATIONAL SERVICES.
| DEPUTY ADMINISTRATOR, BIOTECHNOLOGY REGULATORY PROGRAMS.
| DIRECTOR, EASTERN REGION, WILDLIFE SERVICES.
| DIRECTOR, WESTERN REGION, WILDLIFE SERVICES.
| ASSOCIATE DEPUTY ADMINISTRATOR, VETERINARY SERVICES, EMERGENCY PROGRAMS.
| CHIEF OPERATING OFFICER.
| DEPUTY ADMINISTRATOR, LEGISLATIVE AND PUBLIC AFFAIRS.
| DIRECTOR, CENTER FOR VETERINARY BIOLOGICS.
| ASSOCIATE DEPUTY ADMINISTRATOR, EMERGING AND INTERNATIONAL PROGRAMS.
| DIRECTOR, INFORMATION TECHNOLOGY DIVISION.
| DIRECTOR, INVESTIGATIVE AND ENFORCEMENT SERVICES.
| ANIMAL AND PLANT HEALTH INSPECTION SERVICE INTERNATIONAL ORGANIZATION COORDINATOR.
VETERINARY SERVICES | DIRECTOR, EASTERN REGION, VETERINARY SERVICES.
| DIRECTOR, WESTERN REGION, VETERINARY SERVICES.
| DEPUTY ADMINISTRATOR, WILDLIFE SERVICES.
| ASSOCIATE DEPUTY ADMINISTRATOR, NATIONAL ANIMAL HEALTH POLICY PROGRAMS.
| DIRECTOR, CENTER FOR EPIDEMIOLOGY AND ANIMAL HEALTH.
PLANT PROTECTION AND QUARANTINE SERVICE | DIRECTOR, WESTERN REGION, PLANT PROTECTION AND QUARANTINE.
| DIRECTOR, PLANT HEALTH PROGRAMS, PLANT PROTECTION AND QUARANTINE.
| DIRECTOR, EASTERN REGION, PLANT PROTECTION AND QUARANTINE.
FOOD SAFETY AND INSPECTION SERVICE | ASSISTANT ADMINISTRATOR, OFFICE OF PROGRAM EVALUATION ENFORCEMENT AND REVIEW.
| UNITED STATES MANAGER FOR CODEX.
| ASSISTANT DEPUTY ADMINISTRATOR, OFFICE OF MANAGEMENT.
| EXECUTIVE ASSOCIATE FOR REGULATORY OPERATIONS, OFFICE OF FIELD OPERATIONS.
| ASSISTANT ADMINISTRATOR, OFFICE OF PUBLIC HEALTH SCIENCE.
| EXECUTIVE ASSOCIATE FOR REGULATORY OPERATIONS, OFFICE OF FIELD OPERATIONS.
| DEPUTY ASSISTANT ADMINISTRATOR, OFFICE OF INTERNATIONAL AFFAIRS.
| EXECUTIVE ASSOCIATE FOR REGULATORY OPERATIONS, OFFICE OF FIELD OPERATIONS.
| EXECUTIVE ASSOCIATE FOR LABORATORY SERVICES, OFFICE OF PUBLIC HEALTH SCIENCE.
| ASSISTANT ADMINISTRATOR, OFFICE OF INTERNATIONAL AFFIARS.
| EXECUTIVE ASSOCIATE FOR PROGRAM DEVELOPMENT, OFFICE OF POLICY, PROGRAM AND EMPLOYEE DEVELOPMENT.
| DEPUTY ASSISTANT ADMINISTRATOR, OFFICE OF FIELD OPERATIONS.
| DEPUTY ASSISTANT ADMINISTRATOR, OFFICE OF PUBLIC HEALTH SCIENCE.
| ASSISTANT ADMINISTRATOR, OFFICE OF POLICY, PROGRAM AND EMPLOYEE DEVELOPMENT.
| DEPUTY ADMINISTRATOR.
| EXECUTIVE ASSOCIATE FOR POLICY ANALYSIS AND FORMULATIONS.
| EXECUTIVE ASSOCIATE FOR REGULATORY OPERATIONS, OFFICE OF FIELD OPERATIONS.
| DEPUTY ASSISTANT ADMINISTRATOR, OFFICE OF PROGRAM EVALUATION ENFORCEMENT AND REVIEW.
| ASSISTANT ADMINISTRATOR OFFICE OF PUBLIC AFFAIRS, EDUCATION AND OUTREACH.
| ASSISTANT ADMINISTRATOR, OFFICE OF MANAGEMENT.
| DEPUTY ASSISTANT ADMINISTRATOR, OFFICE OF FOOD SAFETY AND EMERGENCY.
| DIRECTOR, FOOD SAFETY INSTITUTE OF THE AMERICAS.
| CHIEF OPERATING OFFICER.
| ASSISTANT ADMINISTRATOR, OFFICE OF FIELD OPERATIONS.
FOOD AND NUTRITION SERVICE | DEPUTY ADMINISTRATOR FOR FINANCIAL MANAGEMENT.
| DEPUTY ADMINISTRATOR FOR MANAGEMENT.
| ASSOCIATE ADMINISTRATOR.
| DIRECTOR/OFFICE OF ANALYSIS AND EVALUATION.
FARM SERVICE AGENCY | DIRECTOR, BUDGET DIVISION.
| DEPUTY ADMINISTRATOR FOR FARM LOAN PROGRAMS.
| DIRECTOR, FINANCIAL MANAGEMENT DIVISION.
| DIRECTOR, CONSERVATION ENVIRONMENT PROGRAMS DIVISION.
FOREIGN AGRICULTURAL SERVICE | DIRECTOR, GRAIN AND FEED DIVISION.
| DIRECTOR, COTTON, OILSEEDS, TOBACCO AND SEEDS DIVISION.
RISK MANAGEMENT AGENCY | DEPUTY ADMINISTRATOR FOR RESEARCH AND DEVELOPMENT.
| DEPUTY ADMINISTRATOR FOR INSURANCE SERVICES DIVISION.
AGRICULTURAL RESEARCH SERVICE | ASSISTANT ADMINISTRATOR FOR TECHNOLOGY TRANSFER.
| DEPUTY ADMINISTRATOR FOR ADMINISTRATIVE AND FINANCIAL MANAGEMENT.
| DIRECTOR, OFFICE OF PEST MANAGEMENT POLICY.
| DIRECTOR, NATIONAL ANIMAL DISEASE CENTER CHIEF BUDGET OFFICER.
| ASSOCIATE ADMINISTRATOR, RESEARCH OPERATIONS AND MANAGEMENT.
| DEPUTY ADMINISTRATOR, ANIMAL PRODUCTION AND PROTECTION.
| DIRECTOR, OFFICE OF INTERNATIONAL RESEARCH PROGRAMS.
| DEPUTY ADMINISTRATOR, FOOD NUTRITION, SAFETY AND QUALITY.
| ASSOCIATE DEPUTY ADMINISTRATOR FOR ADMINISTRATIVE AND FINANCIAL MANAGEMENT.
NATIONAL PROGRAM STAFF OFFICE | ASSOCIATE ADMINISTRATOR, NATIONAL PROGRAMS.
| DEPUTY ADMINISTRATOR FOR NATURAL RESOURCES AND SUSTAINABLE ARGICULTURE SYSTEMS.
| DEPUTY ADMINISTRATOR, CROP PRODUCTION AND PROTECTION.
BELTSVILLE AREA OFFICE | DIRECTOR BELTSVILLE AREA OFFICE.
| ASSOCIATE DIRECTOR BELTSVILLE AREA.
| DIRECTOR UNITED STATES NATIONAL ARBORETUM.
| DIRECTOR, BELTSVILLE HUMAN NUTRITION RESEARCH CENTER.
| DIRECTOR PLANT SCIENCES INSTITUTE.
| DIRECTOR LIVESTOCK AND POULTRY SCIENCES INSTITUTE.
| CHIEF INFORMATION OFFICER.
NORTH ATLANTIC AREA OFFICE | DIRECTOR, EASTERN REGIONAL RESEARCH CENTER.
| ASSOCIATE DIRECTOR, NORTH ATLANTIC AREA.
| DIRECTOR, NORTH ATLANTIC AREA.
SOUTH ATLANTIC AREA OFFICE | ASSOCIATE DIRECTOR SOUTH ATLANTIC AREA.
| DIRECTOR, SOUTH ATLANTIC AREA.
MIDWEST AREA OFFICE | DIRECTOR, MIDWEST AREA.
| ASSOCIATE DIRECTOR, MIDWEST AREA.
| DIRECTOR, NATIONAL CENTER FOR AGRICULTURE UTILIZATION.
MIDSOUTH AREA OFFICE | DIRECTOR, SOUTHERN REGIONAL RESEARCH CENTER.
| DIRECTOR, MID-SOUTH AREA.
| ASSOCIATE DIRECTOR, MID SOUTH AREA.
SOUTHERN PLAINS AREA OFFICE | DIRECTOR SOUTHERN PLAINS AREA.
| ASSOCIATE DIRECTOR, SOUTHERN PLAINS AREA.
NORTHERN PLAINS AREA OFFICE | DIRECTOR, NORTHERN PLAINS AREA.
| ASSOCIATE DIRECTOR, NORTHERN PLAINS AREA OFFICE.
| DIRECTOR, UNITED STATES MEAT ANIMAL RESEARCH CENTER.
PACIFIC WEST AREA OFFICE | DIRECTOR, WESTERN REGIONAL RESEARCH CENTER.
| DIRECTOR, WESTERN HUMAN NUTRITION RESEARCH CENTER.
| DIRECTOR, PACIFIC WEST AREA OFFICE.
| ASSOCIATE DIRECTOR, PACIFIC WEST AREA OFFICE.
COOPERATIVE STATE RESEARCH, EDUCATION AND EXTENSION SERVICE | DEPUTY ADMINISTRATOR, ECONOMIC AND COMMUNITY SYSTEMS.
| DEPUTY ADMINISTRATOR, OFFICE OF EXTRAMURAL PROGRAMS.
| DEPUTY ADMINISTRATOR, INFORMATION SYSTEMS AND TECHNOLOGY MANAGEMENT.
ECONOMIC RESEARCH SERVICE | ADMINISTRATOR, ECONOMIC RESEARCH SERVICE.
| ASSOCIATE ADMINISTRATOR, ECONOMIC RECEARCH SERVICE.
| DIRECTOR, RESOURCE ECONOMICS DIVISION.
| DIRECTOR, INFORMATION SERVICES DIVISION.
| BUDGET COORDINATOR AND STRATEGIC PLANNER.
| DIRECTOR, FOOD AND RURAL ECONOMICS DIVISION.
| DIRECTOR, MARKET AND TRADE ECONOMICS DIVISION.
NATIONAL AGRICULTURAL STATISTICS SERVICE | ADMINISTRATOR, NATIONAL AGRICULTURAL STATISTICS SERVICE.
| DEPUTY ADMINISTRATOR FOR FIELD OPERATIONS.
| ASSOCIATE ADMINISTRATOR.
| DEPUTY ADMINISTRATOR FOR PROGRAMS AND PRODUCTS.
| DIRECTOR, STATISTICS DIVISION.
| DIRECTOR, RESEARCH AND DEVELOPMENT DIVISION.
| DIRECTOR, CENSUS AND SURVEY DIVISION.
| DIRECTOR, INFORMATION TECHNOLOGY DIVISION.
| ASSOCIATE DEPUTY ADMINISTRATOR (WESTERN UNITED STATES).
| ASSOICATE DEPUTY ADMINISTRATOR (EASTERN UNITED STATES).
NATURAL RESOURCES CONSERVATION SERVICE | DIRECTOR, CONSERVATION ENGINEERING DIVISION.
| DIRECTOR ECOLOGICAL SCIENCES DIVISION.
| DIRECTOR, SOIL SURVEY DIVISION.
| DIRECTOR, OPERATIONS MANAGEMENT AND OVERSIGHT.
| ASSOCIATE DEPUTY CHIEF FOR SCIENCE AND TECHNOLOGY.
| DIRECTOR, EASEMENT PROGRAMS DIVISION.
| DEPUTY CHIEF FOR MANAGEMENT.
| DEPUTY CHIEF FOR STRATEGIC PLANNING AND ACCOUNTABILITY.
| DIRECTOR, RESOURCE CONSERVATION AND RURAL LANDS DIVISION.
| DIRECTOR, RESOURCE INVENTORY AND ASSESSMENT DIVISION.
| DIRECTOR, ANIMAL HUSBANDRY AND CLEAN WATER PROGRAMS DIVISION.
| ASSOCIATE DEPUTY CHIEF FOR PROGRAMS, AIR, WATER AND SOIL.
| DIRECTOR, CONSERVATION PLANNING AND TECHNICAL ASSISTANCE DIVISION.
| ASSOCIATE DEPUTY CHIEF FOR PROGRAMS.
| DIRECTOR, RESOURCE ECONOMICS AND SOCIAL SCIENCES DIVISION.
| SPECIAL ASSISTANT FOR OUTREACH AND DIVERSITY.
| CHIEF FINANCIAL OFFICER.
| ASSOCIATE DEPUTY CHIEF FOR PROGRAMS
FOREST SERVICE | ASSOCIATE DEPUTY CHIEF FOR ADMINISTRATION.
| DIRECTOR, FIRE AND AVIATION STAFF.
| ASSOCIATE DEPUTY CHIEF, BUSINESS OPERATIONS/CHIEF FINANCIAL OFFICER.
| DEPUTY CHIEF, BUSINESS OPERATIONS.
| DIRECTOR, FINANCIAL MANAGEMENT STAFF.
| DIRECTOR, FOREST MANAGEMENT STAFF.
| DIRECTOR, ACQUISITION MANAGEMENT.
| DIRECTOR, LAW ENFORCEMENT AND INVESTIGATIONS
RESEARCH | DIRECTOR, VEGETATION MANAGEMENT AND PROTECTION RESEARCH STAFF.
| DIRECTOR, RESOURCE VALUATION AND USE RESEARCH STAFF.
| DIRECTOR, WILDLIFE, FISH AND WATERSHED RESEARCH STAFF.
| DIRECTOR, SCIENCE POLICY, PLANNING, AND INFORMATION STAFF
NATIONAL FOREST SYSTEM | DIRECTOR, RANGELAND MANAGEMENT STAFF.
| DIRECTOR, FOREST MANAGEMENT STAFF.
| DIRECTOR, ENGINEERING STAFF.
| DIRECTOR, LANDS MANAGEMENT STAFF.
| DIRECTOR, ECOSYSTEM MANAGEMENT COORINATION.
| DIRECTOR, WATER, FISH, WASTELAND, AIR AND RARE PLANTS.
| DIRECTOR, MINERALS AND GEOLOGY MANAGEMENT STAFF.
STATE AND PRIVATE FORESTRY | DIRECTOR COOPERATIVE FORESTRY.
| DIRECTOR, FOREST HEALTH PROTECTION.
FIELD UNITS | NORTHEAST AREA DIRECTOR, STATE AND PRIVATE FORESTRY.
| STATION DIRECTOR, NORTH EASTERN FOREST EXPERIMENT STATION (NEWTOWN SQUARE).
| DIRECTOR, NORTH CENTRAL FOREST EXPERIMENT STATION (SAINT PAUL).
| DIRECTOR, PACIFIC NORTHWEST RESEARCH STATION.
| DIRECTOR, PACIFIC SOUTHWEST FOREST AND RANGE EXPERIMINT STATION (VALLEJO).
| DIRECTOR, ROCKY MOUNTAIN FOREST AND RANGE EXPERIMINT STATION (FORT COLLINS).
| DIRECTOR, SOUTHERN RESEARCH STATION (ASHEVILLE).
| DIRECTOR, FOREST PRODUCTS LABORATORY (MADISON).
INTERNATIONAL FOREST SYSTEM | DIRECTOR INTERNATIONAL INSTITUE OF TROPICAL FOREST (RIO PIEDRAS).
AMERICAN BATTLE MONUMENTS COMMISSION:
SECRETARIAT | EXECUTIVE DIRECTOR.
| DIRECTOR, EUROPEAN REGION.
DIRECTOR, EUROPEAN REGION | DIRECTOR, EUROPEAN REGION.
ARCHITECTURAL AND TRANSPORTATION BARRIERS COMPLIANCE BOARD (UNITED STATES ACCESS BOARD):
ARCHITECTURAL AND TRANSPORTATION BARRIERS COMPLIANCE BOARD (UNITED STATES ACCESS BOARD) | EXECUTIVE DIRECTOR. DIRECTOR OFFICE OF TECHNICAL AND INFORMATION SERVICES.
BROADCASTING BOARD OF GOVERNORS:
INTERNATIONAL BROADCASTING BUREAU | DIRECTOR ENGINEERING AND TECHNICAL OPERATIONS.
| DEPUTY FOR ENGINEERING RESOURCE CONTROL.
| DEPUTY FOR NETWORK OPERATIONS.
| ASSOCIATE DIRECTOR FOR MANAGEMENT.
CHEMICAL SAFETY AND HAZARD INVESTIGATION BOARD:
OFFICE OF THE CHIEF OPERATING OFFICER | CHIEF OPERATING OFFICER.
DEPARTMENT OF COMMERCE:
DEPARTMENT OF COMMERCE | DEPUTY ASSISTANT INSPECTOR GENERAL FOR AUDITING.
| DEPUTY CHIEF ADMINISTRATIVE OFFICER.
| DEPUTY CHIEF FINANCIAL OFFICER/DEPUTY CHIEF.
| ADMINISTRATIVE OFFICER.
| CHIEF INFORMATION OFFICER.
| DEPUTY DIRECTOR FOR FINANCIAL MANAGEMENT.
OFFICE OF THE SECRETARY | DIRECTOR, OFFICE OF INFORMATION TECHNOLOGY POLICY, AND PLANNING.
| DIRECTOR, OFFICE INFORMATION TECHNOLOGY SECURITY, INFRASTRUCTURE AND TECHNOLOGY.
OFFICE OF THE GENERAL COUNSEL | CHIEF, ETHICS DIVISION.
| ASSISTANT GENERAL COUNSEL FOR FINANCE AND LITIGATION.
| DIRECTOR, OFFICE OF EXECUTIVE SUPPORT.
OFFICE OF THE CHIEF FINANICAL OFFICER AND ASSISTANT SECRETARY FOR ADMINISTRATION | DIRECTOR FOR Y2K OUTREACH. DEPUTY DIRECTOR, OFFICE OF BUDGET.
| DEPUTY CHIEF INFORMATION OFFICER.
| DEPUTY DIRECTOR FOR ADMINISTRATIVE SERVICES.
| DIRECTOR FOR ADMINISTRATIVE SERVICES.
OFFICE OF THE ASSISTANT SECRETARY FOR ADMINISTRATION | DIRECTOR FOR SECURITY. DEPUTY DIRECTOR FOR ACQUISITION MANAGEMENT.
DIRECTOR FOR HUMAN RESOURCES MANAGEMENT | DIRECTOR FOR HUMAN RESOURCES MANAGEMENT.
| DEPUTY DIRECTOR OF HUMAN RESOURCES MANAGEMENT.
DIRECTOR FOR FINANCIAL MANAGEMENT | DIRECTOR FOR FINANCIAL MANAGEMENT AND DEPUTY CHIEF FINANCIAL OFFICER.
OFFICE OF BUDGET MANAGEMENT AND INFORMATION AND CHIEF INFORMATION OFFICER | DIRECTOR, OFFICE OF BUDGET.
DIRECTOR FOR EXECUTIVE BUDGETING AND ASSISTANCE MANAGEMENT | DIRECTOR FOR FEDERAL ASSISTANT AND MANAGEMENT SUPPORT.
OFFICE OF SECURITY AND ADMINISTRATIVE SERVICES | DEPUTY DIRECTOR FOR SECURITY.
| DIRECTOR, OFFICE OF SECURITY.
| DIRECTOR, OFFICE OF ACQUISITION MANAGEMENT
OFFICE OF THE ASSISTANT SECRETARY FOR ADMINISTRATION | DIRECTOR FOR TECHNOLOGY MANAGEMENT. DEPUTY ASSISTANT SECRETARY AND DIRECTOR FOR SECURITY
OFFICE OF INSPECTOR GENERAL | ASSISTANT INSPECTOR GENERAL FOR ADMINISTRATION.
| ASSISTANT INSPECTOR GENERAL FOR SYSTEMS EVALUATION.
OFFICE OF COUNSEL TO THE INSPECTOR GENERAL | COUNSEL TO THE INSPECTOR GENERAL.
OFFICE OF INSPECTIONS AND PROGRAM EVALUATION | ASSISTANT INSPECTOR GENERAL FOR INSPECTIONS AND PROGRAM EVALUATION.
OFFICE OF AUDITS | ASSISTANT INSPECTOR GENERAL FOR AUDITING.
OFFICE OF INVESTIGATIONS | ASSISTANT INSPECTOR GENERAL FOR INVESTIGATIONS.
ECONOMICS AND STATISTICS ADMINISTRATION | DIRECTOR, STATISTICS—UNITED STATES OF AMERICA.
| CHIEF FINANCIAL OFFICER AND DIRECTOR FOR ADMINISTRATION.
| DEPUTY DIRECTOR, OFFICE OF POLICY DEVELOPMENT.
OFFICE OF POLICY DEVELOPMENT | SENIOR EXECUTIVE FOR RESEARCH.
BUREAU OF THE CENSUS | COMPTROLLER.
| ASSISTANT DIRECTOR FOR MARKETING AND CUSTOMER LIAISON.
| ASSOCIATE DIRECTOR FOR STRATEGIC PLANNING AND INNOVATION.
| POLICY ADVISOR TO THE ASSOCIATE DIRECTOR FOR ECONOMIC PROGRAMS.
| ASSISTANT DIRECTOR FOR AMERICAN COMMUNITY SURVEY AND DECENNIAL CENSUS.
| CHIEF, CENTER FOR ECONOMIC STUDIES AND CHIEF ECONOMIST.
| ASSISTANT DIRECTOR FOR DECENNIAL INFORMATION TECHNOLOGY AND GEOGRAPHIC SYSTEMS.
| ASSOCIATE DIRECTOR FOR INFORMATION TECHNOLOGY AND CHIEF INFORMATION OFFICER.
| CHIEF, FIELD DIVISION.
| CHIEF, HUMAN RESOURCES DIVISION.
| CHIEF, HUMAN RESOURCE DIVISION.
OFFICE OF THE DIRECTOR | ASSOCIATE DIRECTOR FOR FIELD OPERATIONS.
| CHIEF DECENNIAL SYSTEM AND CONTRACTS MANAGEMENT OFFICE.
| PRINCIPAL ASSOCIATE DIRECTOR AND CHIEF FINANCIAL OFFICE.
| PRINCIPAL ASSOCIATE DIRECTOR FOR PROGRAMS.
| SPECIAL ADVISOR TO THE DEPUTY DIRECTOR.
| CHIEF, POLICY AND STATEGIC PLANNING DIVISION.
ADMINISTRATIVE AND CUSTOMER SERVICES DIVISION | CHIEF ADMINISTRATOR AND CUSTOMER SERVICES DIVISION.
ASSOCIATE DIRECTOR FOR INFORMATION TECHNOLOGY | ASSISTANT TO THE DIRECTOR FOR INFORMATION TECHNOLOGY.
| ASSOCIATE DIRECTOR FOR INFORMATION TECHNOLOGY.
ASSOCIATE DIRECTOR FOR FINANCE AND ADMINISTRATION | CHIEF, ACQUISITION DIVISION.
DATA PREPARATION DIVISION | CHIEF NATIONAL PROCESSING CENTER.
ASSOCIATE DIRECTOR FOR ECONOMIC PROGRAMS | ASSOCIATE DIRECTOR FOR ECONOMIC PROGRAMS.
| ASSISTANT DIRECTOR FOR ECONOMIC PROGRAMS.
ECONOMIC PLANNING AND COORDINATION DIVISION | CHIEF, ECONOMIC PLANNING AND COORDINATION DIVISION.
ECONOMIC STATISTICAL METHODS AND PROGRAMMING DIVISION | CHIEF, ECONOMIC STATISTICAL METHODS AND PROGRAMMING DIVISION.
AGRICULTURE AND FINANCIAL STATISTICS DIVISION | CHIEF COMPANY STATISTICS DIVISION.
SERVICES DIVISION | CHIEF SERVICE SECTOR STATISTICS DIVISION.
FOREIGN TRADE DIVISION | CHIEF, FOREIGN TRADE DIVISION.
GOVERNMENTS DIVISION | CHIEF, GOVERNMENT DIVISION.
MANUFACTURING AND CONSTRUCTION DIVISION | CHIEF, MANUFACTURING AND CONSTRUCTION DIVISION.
ASSOCIATE DIRECTOR FOR DECENNIAL CENSUS | CHIEF, AMERICAN COMMUNITY SURVEY OFFICE.
| ASSOCIATE DIRECTOR FOR DECENNIAL CENSUS.
| ASSISTANT TO THE ASSOCIATE DIRECTOR FOR CENSUS.
| ASSISTANT DIRECTOR FOR DECENNIAL CENSUS.
DECENNIAL MANAGEMENT DIVISION | CHIEF, DECENNIAL MANAGEMENT DIVISION.
GEOGRAPHY DIVISION | CHIEF, GEOGRAPHY DIVISION.
DECENNIAL STATISTICAL STUDIES DIVISION | CHIEF, DECENNIAL STATISTICAL STUDIES DIVISION.
ASSOCIATE DIRECTOR FOR DEMOGRAPHIC PROGRAMS | ASSOCIATE DIRECTOR FOR DEMOGRAPHIC PROGRAMS.
| CHIEF, POPULATION DIVISION.
| CHIEF DEMOGRAPHIC SURVEYS DIVISION.
HOUSING AND HOUSEHOLD ECONOMIC STATISTICS DIVISION | CHIEF, HOUSING AND HOUSEHOLD ECONOMICS STATISTICS DIVISION.
DEMOGRAPHIC STATISTICAL METHODS DIVISION | CHIEF, DEMOGRAPHIC STATISTICAL METHODS DIVISION.
ASSOCIATE DIRECTOR FOR METHODOLOGY AND STANDARDS | CHIEF, PLANNING, RESEARCH, AND EVALUATION DIVISION. ASSOCIATE DIRECTOR FOR METHODOLOGY AND STANDARDS.
STATISTICAL RESEARCH DIVISION | CHIEF STATISTICAL RESEARCH DIVISION.
BUREAU OF ECONOMIC ANALYSIS | Did not find title for this position.
| CHIEF INFORMATION OFFICER
OFFICE OF THE DIRECTOR | DIRECTOR.
| DEPUTY DIRECTOR, BUREAU OF ECONOMIC ANALYSIS.
| CHIEF ECONOMIST.
| CHIEF STATISTICIAN.
| ASSOCIATE DIRECTOR FOR MANAGEMENT AND CHIEF ADMINISTRATIVE OFFICER.
ASSOCIATE DIRECTOR FOR REGIONAL ECONOMICS | ASSOCIATE DIRECTOR FOR REGIONAL ECONOMICS.
ASSOCIATE DIRECTOR FOR INTERNATIONAL ECONOMICS | ASSOCIATE DIRECTOR FOR INTERNATIONAL ECONOMICS.
ASSOCIATE DIRECTOR FOR NATIONAL INCOME, EXPENDITURE AND WEALTH ACCOUNTS | ASSOCIATE DIRECTOR FOR NATIONAL INCOME, EXPENDITURE AND WEALTH ACCOUNTS.
| CHIEF NATIONAL INCOME AND WEALTH DIVISION.
| CHIEF INTERNATIONAL INVESTMENT DIVISION.
| CHIEF, COMPUTER SYSTEMS AND SERVICES DIVISION.
DIRECTOR OF ADMINISTRATION | DIRECTOR OF ADMINISTRATION.
OFFICE OF THE ASSTISTANT SECRETARY FOR EXPORT ENFORCEMENT | DEPUTY ASSISTANT SECRETARY FOR EXPORT ENFORCEMENT DIRECTOR OFFICE OF EXPORT ENFORCEMENT.
ECONOMIC DEVELOPMENT ADMINISTRATION | DEPUTY ASSISTANT SECRETARY FOR MANAGEMENT SERVICES AND CHIEF FINANCIAL OFFICER.
OFFICE OF THE ASSISTANT SECRETARY FOR ECONOMIC DEVELOPMENT | CHIEF FINANCIAL OFFICER/CHIEF ADMINISTRATIVE OFFICER (CHIEF FINANCIAL OFFICER/CHIEF ADMINISTRATIVE OFFICER).
INTERNATIONAL TRADE ADMINISTRATION | DIRECTOR, OFFICE OF ENVIRONMENTAL TECHNOLOGIES INDUSTRIES.
OFFICE OF THE UNDER SECRETARY | CHIEF, FINANCIAL OFFICER AND DIRECTOR OF ADMINISTRATION.
OFFICE OF THE DIRECTOR OF ADMINISTRATION | HUMAN RESOURCES MANAGER.
OFFICE OF CONSUMER GOODS | DIRECTOR OFFICE OF CONSUMER GOODS.
DEPUTY ASSISTANT SECRETARY FOR MARKET ACCESS AND COMPLIANCE | DIRECTOR TRADE COMPLIANCE CENTER.
MARKET ACCESS AND COMPLIANCE | DIRECTOR, OFFICE OF EASTERN EUROPE, RUSSIA, AND INDEPENDENT STATES.
| DIRECTOR, OFFICE OF MULTILATERAL AFFAIRS.
DEPUTY ASSISTANT SECRETARY FOR AGREEMENT COMPLIANCE | ASSOCIATE DIRECTOR FOR MANAGEMENT.
NATIONAL OCEANIC AND ATMOSPHERIC ADMINISTRATION | CHIEF FINANCIAL OFFICER/CHIEF ADMINISTRATOR OFFICER.
| DIRECTOR STAFF OFFICE FOR INTERNATIONAL PROGRAMS.
| CHIEF FINANCIAL OFFICER.
| CHIEF INFORMATION OFFICER AND DIRECTOR FOR HIGH PERFORMANCE COMPUTING AND COMMUNICATIONS.
| DIRECTOR, OFFICE OF EDUCATION.
| DEPUTY DIRECTOR, ACQUISITION AND GRANTS OFFICE.
| DEPUTY ASSISTANT ADMINISTRATOR FOR SYSTEMS.
| DIRECTOR, SPACE ENVIRONMENT CENTER.
| DIRECTOR, OFFICE OF OPERATIONS, MANAGEMENT AND INFORMATION.
| DIRECTOR, OCEAN PREDICTION CENTER.
OFFICE OF INTERNATIONAL AFFAIRS | CHIEF FINANCIAL OFFICER/ADMINISTRATOR OFFICER.
NATIONAL OCEANIC AND ATMOSPHERIC ADMINISTRATION COASTAL OCEAN PROGRAM OFFICE | DIRECTOR, BUDGET OFFICE.
OFFICE OF FINANCE AND ADMINISTRATION | DIRECTOR, BUDGET OFFICE.
| DIRECTOR, MAJOR PROJECTS OFFICE.
| DIRECTOR FOR HUMAN RESOURCES MANAGEMENT.
| Did not find title for this position.
OFFICE OF HIGH PERFORMANCE COMPUTING AND COMMUNICATIONS | DIRECTOR FOR HIGH PERFORMANCE COMPUTING AND COMMUNICATIONS.
SYSTEMS ACQUISITION OFFICE | CHIEF INFORMATION OFFICER AND INFORMATION TECHNOLOGY ACQUISITION MANAGER.
OFFICE OF ASSISTANT ADMINISTRATOR OCEAN SERVICES AND COASTAL ZONE MANAGEMENT | SENIOR OCEAN POLICY ADVISOR.
NATIONAL OCEAN SERVICE | ASSOCIATE ASSISTANT ADMINISTRATOR FOR MANAGEMENT AND CHIEF FINANCIAL OFFICER/CHIEF ADMINISTRATIVE OFFICER.
| DIRECTOR, NATIONAL CENTERS FOR COASTAL OCEAN SCIENCE AND SCIENTIST FOR NATIONAL OCEAN SERVICE.
| DEPUTY DIRECTOR, NATIONAL CENTERS FOR COASTAL OCEAN SCIENCE.
| TECHNICAL DIRECTOR.
| DIRECTOR, OFFICE OF NATIONAL GEODTIC SURVEY.
NATIONAL OCEANIC AND ATMOSPHERIC ADMINISTRATION COASTAL SERVICES CENTER | DIRECTOR, NATIONAL CENTERS FOR COASTAL OCEAN SCIENCE.
STRATEGIC ENVIRONMENTAL ASSESSMENTS DIVISION | CHIEF, STRATEGIC ENVIRONMENTAL ASSESSMENTS DIVISION.
COASTAL MONITORING AND BIOEFFECTS ASSESSMENT DIVISON | CHIEF COASTAL MONITORING BIOEFFECTS ASSESSMENT DIVISION.
HAZARDOUS MATERIALS RESPONSE AND ASSESSMENT DIVISION | CHIEF, HAZARDOUS MATERIALS RESPONES AND ASSESSMENT DIVISION.
OFFICE OF THE ASSISTANT ADMINISTRATOR FOR WEATHER SERVICES | SENIOR ADVISOR. DIRECTOR, STRATEGIC PLANNING AND POLICY OFFICE.
OFFICE OF THE CHIEF INFORMATION OFFICER | CHIEF INFORMATION OFFICER FOR WEATHER SERVICE.
MANAGEMENT AND BUDGET OFFICE | DEPUTY CHIEF FINANICAL OFFICE/CHIEF ADMINISTRATOR OFFICER.
OFFICE—FEDERAL COORDINATOR—METEOROLOGY | DIRECTOR, OFFICE OF THE FEDERAL COORDINATOR FOR METEROLOGY.
OFFICE OF HYDROLOGIC DEVELOPMENT | DIRECTOR, OFFICE OF HYDROLOGIC DEVELOPMENT.
HYDROLOGY LABORATORY | DIRECTOR, HYDROLOGY LABORATORY.
OFFICE OF SCIENCE AND TECHNOLOGY | CHIEF, PROGRAMS AND PLANS DIVISION.
| DIRECTOR, OFFICE OF SCIENCE AND TECHNOLOGY.
METEOROLOGICAL DEVELOPMENT LABORATORY | DIRECTOR, METEOROLOGICAL DEVELOPMENT LABORATORY.
SYSTEMS ENGINEERING CENTER | DIRECTOR, SYSTEMS ENGINEERING CENTER.
OFFICE OF OPERATIONAL SYSTEMS | DIRECTOR, OFFICE OF OPERATIONAL SYSTEMS.
FIELD SYSTEMS OPERATIONS CENTER | DIRECTOR, FIELD SYSTEMS OPERATIONS CENTER.
TELECOMMUNICATIONS OPERATIONS CENTER | CHIEF, TELECOMMUNICATIONS OPERATIONS CENTER.
MAINTENANCE, LOGISTICS, AND ACQUISITION DIVISION | CHIEF, MAINTENANCE, LOGISTICS, AND ACQUISITION DIVISION.
RADAR OPERATIONS CENTER | DIRECTOR, RADAR OPERATIONS CENTER.
NATIONAL DATA BUOY CENTER | DIRECTOR, NATIONAL DATA BUOY CENTER.
OFFICE OF CLIMATE, WATER, AND WEATHER SERVICES | DIRECTOR, OFFICE OF CLIMATE, WATER, AND WEATHER SERVICES.
| CHIEF, METEOROLOGICAL SERVICES DIVISION.
EASTERN REGION | DIRECTOR EASTERN REGION NATIONAL WEATHER SERVICE.
SOUTHERN REGION | DIRECTOR SOUTHERN REGION, FORT WORTH.
CENTERAL REGION | DIRECTOR CENTRAL REGION.
WESTERN REGION | DIRECTOR, SALT LAKE CITY REGION.
ALASKA REGION | DIRECTOR, ALASKA REGION, ANCHORAGE.
NATIONAL CENTERS FOR ENVIRONMENTAL PREDICTION | DIRECTOR NATIONAL SEVERE STORMS LABORATORY.
| DIRECTOR NATIONAL CENTER FOR ENVIRONMENTAL PREDICTION.
| DIRECTOR, ENVIRONMENTAL MODELING CENTER.
| DIRECTOR, AVIATION WEATHER CENTER.
| DIRECTOR, CENTRAL OPERATIONS.
HYDROMETEOROLOGICAL PREDICTION CENTER | CHIEF, METEOROLOGICAL OPERATIONS DIVISION.
CLIMATE PREDICTION CENTER | DIRECTOR CLIMATE PREDICTION CENTER (CLIMATE PREDICTION CENTER).
STORM PREDICTION CENTER | DIRECTOR, STORM PREDICTION CENTER.
TROPICAL PREDICTION CENTER | DIRECTOR TROPICAL PREDICTION CENTER/NATIONAL HURRICANE CENTER.
OFFICE OF ASSISTANT ADMINISTRATOR FOR FISHERIES | DIRECTOR, OFFICE OF MANAGEMENT AND BUDGET.
NATIONAL MARINE FISHERIES SERVICE | SCIENCE AND RESEARCH DIRECTOR SOUTHWEST REGION.
| DIRECTOR SEAFOOD INSPECTION PROGRAM.
| DIRECTOR, INTERNATIONAL AFFAIRS.
| DIRECTOR OFFICE OF SUSTAINABLE FISHERIES.
| DEPUTY ASSISTANT ADMINISTRATOR FOR REGULATORY PROGRAMS.
| SENIOR ADVISOR FOR INTERGOVERNMENTAL PROGRAMS.
| SCIENCE AND RESEARCH DIRECTOR, PACIFIC ISLAND REGION.
| Did not find title for this position.
OFFICE OF FISHERIES CONSERVATION AND MANAGEMENT | DIRECTOR, SCIENTIFIC PROGRAMS' AND CHIEF SCIENCE ADVISOR.
| DIRECTOR, OFFICE OF ENFORCEMENT.
OFFICE OF PROTECTED RESOURCES | DIRECTOR OFFICE OF SCIENCE AND TECHNOLOGY.
NORTHEAST FISHERIES SCIENCE CENTER | SCIENCE AND RESEARCH DIRECTOR NORTHEAST REGION.
SOUTHEAST FISHERIES SCIENCE CENTER | SCIENCE AND RESEARCH DIRECTOR.
NORTHWEST FISHERIES SCIENCE CENTER | SCIENCE AND RESEARCH DIRECTOR.
ALASKA FOSHERIES SCIENCE CENTER | SCIENCE AND RESEARCH DIRECTOR.
OFFICE OF ASSISTANT ADMINISTRATOR SATELLITE, DATA INFORMATION SERVICE | CHIEF FINANCIAL OFFICER/CHIEF ADMINISTRATIVE OFFICER. SENIOR SCIENTIST FOR ENVIRONMENTAL SATELLITE, DATA AND INFORMATION SERVICES (NATIONAL ENVIRONMENTAL SATELLITE, DATA AND INFORMATION SERVICES).
| SYSTEM PROGRAM DIRECTOR.
DIRECTOR NATIONAL POLAR-ORBITING OPERATIONAL ENVIRONMENTAL SATELLITE SYSTEM INTEGRATED PROGRAM | SYSTEMS PROGRAM DIRECTOR.
NATIONAL CLIMATIC DATA CENTER | DIRECTOR, NATIONAL CLIMATIC DATA CENTER.
NATIONAL OCEANOGRAPHIC DATA CENTER | DIRECTOR, NATIONAL OCEANOGRAPHIC DATA CENTER.
NATIONAL GEOPHYSICAL DATA CENTER | DIRECTOR, NATIONAL GEOPHYSICAL DATA CENTER.
OFFICE OF SYSTEMS DEVELOPMENT | DIRECTOR, REQUIREMENTS, PLANNING AND SYSTEM INTEGRATION DIVISION.
| DIRECTOR, SATELLITE AND GROUND SYSTEMS PROGRAM.
| DIRECTOR OFFICE OF SYSTEMS DEVELOPMENT.
OFFICE OF ASSISTANT ADMINISTRATOR, OCEAN AND ATMOSPHERIC RESEARCH | PROGRAM DIRECTOR FOR WEATHER RESEARCH. DEPUTY ASSISTANT ADMINISTRATOR, LABORATORIES AND COOPERATIVE INSTITUTES AND DIRECTOR.
| CHIEF FINANCIAL OFFICER/CHIEF ADMINISTRATIVE OFFICER.
| DIRECTOR, NATIONAL OCEANIC AND ATMOSPHERIC ADMINISTRATION CLIMATE OFFICE.
| DEPUTY ASSISTANT ADMINISTRATOR FOR EXTRAMURAL RESEARCH.
OFFICE OF OCEANIC RESEARCH PROGRAMS | DIRECTOR, ATLANTIC OCEANOGRAPHIC AND METEOROLOGICAL LABORATORY
NATIONAL SEA GRANT COLLEGE PROGRAM | DIRECTOR, NATIONAL SEA GRANT COLLEGE PROGRAM
AERONOMY LABORATORY | DIRECTOR, AERONOMY LABORATORY.
AIR RESOURCES LABORATORY | DIRECTOR AIR RESOURCES LABORATORY.
ATLANTIC OCEAN AND METEOROLOGY LABORATORY | DIRECTOR, ATLANTIC OCEANOGRAPHIC AND METEOROLOGICAL.
GEOPHYSICAL FLUID DYNAMICS LABORATORY | DIRECTOR.
GREAT LAKE ENVIRONMENTAL RESEARCH LABORATORY | DIRECTOR GREAT LAKES ENVIRONMENTAL RESEARCH LABORATORY.
PACIFIC MARINE ENVIRONMENTAL RESEARCH LABORATORY | DIRECTOR PACIFIC MARINE ENVIRONMENTAL LABORATORY.
ENVIRONMENTAL TECHNOLOGY LABORATORY | DIRECTOR.
FORECAST SYSTEMS LABORATORY | DIRECTOR, GLOBAL SYSTEMS DIVISION.
CLIMATE MONITORING AND DIAGNOSTICS LABORATORY | DIRECTOR CLIMATE MONITORING AND DIAGNOSTICS LABORATORY.
INSTITUTE FOR TELECOMMUNICATION SCIENCES | ASSOCIATE ADMINISTRATOR FOR TELECOMMUNICATIONS SCIENCE.
INSTITUTE FOR TELECOMMUNICATION SCIENCES, SYSTEMS AND NETWORKS DIVISION | DEPUTY DIRECTOR FOR SYSTEMS AND NETWORKS.
PATENT AND TRADEMARK OFFICE | PATENT EXAMINING GROUP DIRECTOR.
OFFICE OF THE GENERAL COUNSEL | DEPUTY GENERAL COUNSEL FOR INTELLECTUAL PROPERTY AND SOLICITOR.
BOARD OF PATENT APPEALS AND INTERFERENCES | CHIEF ADMINISTRATIVE PATENT JUDGE.
| VICE CHIEF ADMINISTRATIVE PATENT JUDGE.
TRADEMARK TRIAL AND APPEAL BOARD | CHAIRMAN, TRADEMARK TRIAL AND APPEAL BOARD.
OFFICE OF THE CHIEF FINANCIAL OFFICER | CHIEF FINANCIAL OFFICER.
| DEPUTY CHIEF FINANCIAL OFFICER.
OFFICE OF THE CHIEF ADMINISTRATIVE OFFICER | DIRECTOR, HUMAN CAPITAL MANAGEMENT.
OFFICE OF THE COMMISSIONER FOR PATENTS | ADMINISTRATOR FOR SEARCH AND INFORMATION RESEARCH.
| DEPUTY COMMISSIONER FOR PATENT OPERATIONS.
EXAMINING GROUP DIRECTORS | GROUP DIRECTOR.
| GROUP DIRECTOR.
| DEPUTY GROUP DIRECTOR 1300.
| GROUP DIRECTOR.
| GROUP DIRECTOR.
| GROUP DIRECTOR.
| GROUP DIRECTOR.
| GROUP DIRECTOR.
| GROUP DIRECTOR.
| PATENT EXAMINING GROUP DIRECTOR.
| PATENT EXAMINING GROUP DIRECTOR.
| PATENT EXAMINING GROUP DIRECTOR.
| PATENT EXAMINING GROUP DIRECTOR.
| PATENT EXAMINING GROUP DIRECTOR.
| PATENT EXAMINING GROUP DIRECTOR.
| PATENT EXAMINING GROUP DIRECTOR.
| PATENT EXAMINING GROUP DIRECTOR.
| PATENT EXAMINING GROUP DIRECTOR.
| EXAMINING GROUP DIRECTOR.
ELECTRICAL PATENT EXAMINING GROUPS | GROUP DIRECTOR 260.
| GROUP DIRECTOR 210.
| GROUP DIRECTOR 220.
| GROUP DIRECTOR 230.
| GROUP DIRECTOR 240.
| GROUP DIRECTOR 250.
| DEPUTY GROUP DIRECTOR 250.
| DEPUTY GROUP DIRECTOR 260.
| DEPUTY GROUP DIRECTOR 230.
MECHANICAL PATENT EXAMINING GROUPS | GROUP DIRECTOR 310.
| GROUP DIRECTOR 320.
| GROUP DIRECTOR 330.
| GROUP DIRECTOR 340.
| GROUP DIRECTOR 350.
CHEMICAL PATENT EXAMINING GROUPS | GROUP DIRECTOR 110.
| GROUP DIRECTOR 120.
| GROUP DIRECTOR 130.
| GROUP DIRECTOR 150.
| DEPUTY GROUP DIRECTOR 110.
| GROUP DIRECTOR 180.
| DEPUTY GROUP DIRECTOR 150.
OFFICE OF THE COMMISSIONER FOR TRADEMARKS | DEPUTY ASSISTANT COMMISSIONER FOR TRADEMARKS.
| DIRECTOR, TRADEMARK EXAMINING OPERATION GROUP.
| DIRECTOR, TRADEMARK LAW OFFICES GROUP.
| DIRECTOR, TRADEMARK LAW OFFICES.
| DEPUTY COMMISSIONER FOR TRADEMARK OPERATIONS.
| DEPUTY COMMISSIONER FOR TRADEMARK EXAMINATION POLICY.
| GROUP DIRECTOR, TRADEMARK LAW OFFICES.
| GROUP DIRECTOR, TRADEMARK LAW OFFICES.
NATIONAL INSTITUTE OF STANDARDS AND TECHNOLOGY | DEPUTY DIRECTOR, NATIONAL INSTITUTE OF STANDARDS AND TECHNOLOGY CENTER FOR NEUTRON RESEARCH.
| DIRECTOR, NATIONAL INSTITUTE OF STANDARDS AND TECHNOLOGY CENTER FOR NEUTRON RESEARCH.
| CHIEF OF STAFF FOR NATIONAL INSTITUTE FOR STANDARDS AND TECHNOLOGY.
NATIONAL INSTITUTE OF STANDARDS AND TECHNOLOGY | DIRECTOR, US MEASUREMENT SYSTEM PROGRAM.
| CHIEF SCIENTIST.
| CHIEF FACILITIES MANAGEMENT OFFICER.
| CHIEF, HUMAN CAPITAL OFFICER FOR NATIONAL INSTITUTE OF STANDARDS AND TECHNOLOGY.
| DIRECTOR, OFFICE OF LAW ENFORCEMENT STANDARDS.
| DIRECTOR, MANUFACTURING ENGINEERING LABORATORY.
| CHIEF, OPTICAL TECHNOLOGY DIVISION.
| DIRECTOR, INFORMATION TECHNOLOGY AND APPLICATIONS OFFICE.
| DEPUTY DIRECTOR, NATIONAL INSTITUTE OF STANDARDS AND TECHNOLOGY CENTER FOR NEUTRON RESEARCH.
OFFICE OF THE DIRECTOR, NATIONAL INSTITUTE OF STANDARS AND TECHNOLOGY | DIRECTOR FOR ADMINISTRATION AND CHIEF FINANCIAL OFFICER.
| DEPUTY DIRETOR FOR SAFETY AND FACILITIES.
| EXECUTIVE DIRECTOR, VISITING COMMITTEE ON ADVANCED TECHNOLOGY PROGRAM.
| CHIEF INFORMATION OFFICER FOR NATIONAL INSTITUTE OF STANDARDS AND TECHNOLOGY.
| DIRECTOR, BOULDER LABORATORIES.
| CHIEF FINANCIAL OFFICER.
OFFICE OF QUALITY PROGRAMS | DIRECTOR FOR QUALITY PROGRAMS.
| DEPUTY DIRECTOR, OFFICE OF QUALITY PROGRAMS.
PROGRAM OFFICE | DIRECTOR, PROGRAM OFFICE.
| DEPUTY DIRECTOR, INFORMATION TECHNOLOGY LABORATORY.
OFFICE OF INTERNATIONAL AND ACADEMIC AFFAIRS | DIRECTOR INTERNATIONAL AND ACADEMIC AFFAIRS.
| CHIEF FINANCIAL OFFICER.
OFFICE OF THE DIRECTOR FOR TECHNOLOGY SERVICES | DEPUTY DIRECTOR, TECHNOLOGY SERVICES.
MANUFACTURING EXTENSION PARTNER SHIP PROGRAM | ASSOCIATE DIRECTOR FOR NATIONAL PROGRAMS.
| DIRECTOR, MANUFACTURING EXTENSION PARTNERSHIP PROGRAMS.
| DEPUTY DIRECTOR, MANUFACTURING EXTENSION PARTNERSHIP PROGRAM.
DIRECTORS OFFICE, TECHNOLOGY INNOVATION | DIRECTOR, OFFICE OF TECHNOLOGY EVALUATION AND ASSESSMENT.
DIRECTORS OFFICE, ADVANCED TECHNOLOGY PROGRAM | DIRECTOR INFORMATION TECHNOLOGY LABORATORY.
| ASSOCIATE DIRECTOR FOR POLICY AND OPERATIONS.
| DEPUTY DIRECTOR, ADVANCED TECHNOLOGY PROGRAM.
| DIRECTOR, ADVANCED TECHNOLOGY PROGRAM.
| DIRECTOR, MATERIALS AND MANUFACTURING TECHNOLOGY OFFICE.
| DIRECTOR, ELECTRONICS AND PHOTONICS TECHNOLOGY OFFICE.
ECONOMIC ASSESSMENT OFFICE | DIRECTOR, ECONOMIC ASSESSMENT OFFICE.
ELECTRONICS AND ELECTRICAL ENGINEERING LABORATORY | DIRECTOR, ELECTRONICS AND ELECTRICAL ENGINEERING LABORATORY.
| CHIEF OPTOELECTRONICS DIVISION.
| DEPUTY DIRECTOR, ELECTRONICS AND ELECTRICAL ENGINEERING LABORATORY.
| DIRECTOR, OFFICE OF MICROELECTRONICS PROGRAMS.
MANUFACTURING ENGINEERING LABORATORY | CHIEF, OFFICE OF MANUFACTURING PROGRAMS.
| DEPUTY DIRECTOR, MANUFACTURING ENGINEERING LABORATORY.
| DEPUTY DIRECTOR, MANUFACTURING ENGINEERING LABORATORY.
PRECISION ENGINEERING DIVISION | CHIEF, PRECISION ENGINEERING DIVISION.
INTELLIGENT SYSTEMS DIVISION | CHIEF, INTELLIGENT SYSTEMS DIVISION.
CHEMICAL SCIENCE AND TECHNOLOGY LABORATORY OFFICE | CHIEF PROCESS MEASUREMENTS DIVISION. DIRECTOR, CHEMICAL SCIENCE AND TECHNOLOGY LABORATORY.
| DEPUTY DIRECTOR, CHEMICAL SCIENTIST AND TECHNOLOGY LABORATORY.
PHYSICAL AND CHEMICAL PROPERTIES DIVISION | CHIEF, PHYSICAL AND CHEMICAL PROPERTIES DIVISION.
ANALYTICAL CHEMISTRY DIVISION | CHIEF, ANALYTICAL CHEMISTRY DIVISION.
PHYSICS LABORATORY OFFICE | MANAGER, FUNDAMENTAL CONSTANTS DATA CENTER.
| DIRECTOR, PHYSICS LABORATORY.
| DEPUTY DIRECTOR, PHYSICS LABORATORY.
ELECTRON AND OPTICAL PHYSICS DIVISION | CHIEF ELECTRON AND OPTICAL PHYSICS DIVISION.
ATOMIC PHYSICS DIVISION | CHIEF, ATOMIC PHYSICS DIVISION.
| CHIEF, QUANTUM METROLOGY DIVISION.
TIME AND FREQUENCY DIVISION | CHIEF, TIME AND FREQUENCY DIVISION.
QUANTUM PHYSICS DIVISION | SENIOR SCIENTIST AND FELLOW OF JOINT INSTITUTE FOR LABORATORY ASTROPHYSICS.
| SENIOR SCIENTIST AND FELLOW OF JOINT INSTITUTE FOR LABORATORY ASTROPHYSICS.
| CHIEF, QUANTUM PHYSICS DIVISION.
MATERIALS SCIENCE AND ENGINEERING LABORATORY OFFICE | DIRECTOR, MATERIALS SCIENTIST AND ENGINEERING LABORATORY.
CERAMICS DIVISION | DEPUTY DIRECTOR, MATERIALS SCIENCE AND ENGINEERING LABORATORY.
| CHIEF, CERAMICS DIVISION.
MATERIALS RELIABILITY DIVISION | CHIEF MATERIALS RELIABILITY DIVISION.
REACTOR RADIATION DIVISION | CHIEF, NATIONAL INSTITUTE OF STANDARDS AND TECHNOLOGY CENTER FOR NEUTRON RESEARCH.
| GROUP LEADER NEUTRON CONDENSED MATTER SCIENCE.
| CHIEF, REACTOR OPERATIONS AND ENGINEERING.
BUILDING AND FIRE RESEARCH LABORATORY | CHIEF, FIRE SAFETY ENGINEERING DIVISION.
| DIRECTOR, BUILDING AND FIRE RESEARCH LABORATORY.
| DEPUTY DIRECTOR, BUILDING AND FIRE RESEARCH LABORATORY.
| CHIEF, FIRE SAFETY ENGINEERING DIVISION.
BUILDING MATERIALS DIVISION | CHIEF, BUILDING MATERIALS DIVISION.
BUILDING ENVIRONMENT DIVISION | CHIEF, BUILDING ENVIRNMENT DIVISION.
FIRE SCIENCE DIVISION | CHIEF, FIRE SCIENCE DIVISION.
COMPUTER SYSTEMS LABORATORY OFFICE | ASSOCIATE DIRECTOR FOR PROGRAM IMPLEMENTATION.
ADVANCED NETWORK TECHNOLOGIES DIVISION | CHIEF ADVANCED NETWORK TECHNOLOGIES DIVISION.
COMPUTING AND APPLIED MATHEMATICS LABORATORY OFFICE | ASSOCIATE DIRECTOR FOR COMPUTING. CHIEF HIGH PERFORMANCE SYSTEMS AND SEVICES DIVISION.
NATIONAL TECHNICAL INFORMATION SERVICE | DEPUTY DIRECTOR, NATIONAL TECHNICAL INFORMATION SERVICE.
OFFICE ASSISTANT DIRECTOR FOR FINANCIAL AND ADMINISTRATIVE MANAGEMENT | ASSOCIATE DIRECTOR FOR FINANCE AND ADMINISTRATION.
INFORMATION TECHNOLOGY LABORATORY | DIRECTOR, INFORMATION TECHNOLOGY LABORATORY.
| DEPUTY DIRECTOR, INFORMATION TECHNOLOGY LABORATORY.
CONSUMER PRODUCT SAFETY COMMISSION:
OFFICE OF EXECUTIVE DIRECTOR | ASSISTANT EXECUTIVE DIRECTOR FOR COMPLIANCE AND ADMINISTRATIVE LITIGATION.
| ASSOCIATE EXECUTIVE DIRECTOR FOR FIELD OPERATIONS.
| ASSISTANT EXECUTIVE DIRECTOR FOR INFORMATION AND TECH SERVICES.
| EXECUTIVE ASSISTANT.
| DIRECTOR, OFFICE OF INTERNATIONAL PROGRAMS AND INTERGOVERNMENTAL AFFAIRS.
OFFICE OF HAZARD IDENTIFICATION AND REDUCTION | ASSOCIATE EXECUTIVE DIRECTOR FOR ENGINEERING SCIENCES.
| ASSOCIATE EXECUTIVE DIRECTOR FOR ECONOMIC ANALYSIS.
| ASSISTANT EXECUTIVE DIRECTOR FOR HAZARD IDENTIFICATION AND REDUCTION.
| DEPUTY ASSISTANT EXECUTIVE DIRECTOR FOR HAZARD IDENTIFICATION AND REDUCTION.
| ASSOCIATE EXECUTIVE DIRECTOR FOR EPIDEMIOLOGY.
OFFICE OF THE SECRETARY OF DEFENSE:
OFFICE OF THE SECRETARY | DEPUTY ASSISTANT TO THE SECRETARY OF DEFENSE (INTELLIGENCE OVERSIGHT).
OFFICE OF THE ASSISTANT SECRETARY OF DEFENSE (GLOBAL SECURITY AFFAIRS) | DEPUTY DIRECTOR, DEFENSE TECHNOLOGY SECURITY ADMINISTRATION.
OFFICE OF ASSISTANT SECRETARY OF DEFENSE (SPECIAL OPERATIONS AND LOW INTENSITY CONFLICT) | DIRECTOR, RESOURCES. PRINCIPAL DEPUTY, DIRECTOR FOR RESOURCES.
DIRECTOR, OPERATIONAL TEST AND EVALUATION | DEPUTY DIRECTOR FOR LIVE FIRE TEST AND EVALUATION.
| SPECIAL ASSISTANT TO THE DIRECTOR OPERATIONAL TEST AND EVALUATION.
OFFICE OF INSPECTOR GENERAL | DIRECTOR FOR CONTRACT MANAGEMENT.
| DIRECTOR FOR READINESS AND LOGISTICS.
| DIRECTOR, DEFENSE CRIMINAL INVESTIGATIVE SERVICE.
| ASSISTANT INSPECTOR GENERAL FOR INVESTIGATIONS.
| DIRECTOR OF INVESTIGATIONS OF SENIOR OFFICIALS.
| DEPUTY INSPECTOR GENERAL FOR INVESTIGATIONS.
| DEPUTY INSPECTOR GENERAL FOR AUDITING.
| DEPUTY INSPECTOR GENERAL FOR INSPECTIONS AND POLICY AND OVERSIGHT.
| ASSISTANT INSPECTOR GENERAL FOR AUDIT POLICY AND OVERSIGHT.
| ASSISTANT INSPECTOR GENERAL FOR INSPECTIONS AND EVALUATIONS.
| ASSISTANT INSPECTOR GENERAL FOR INVESTIGATIVE POLICY AND OVERSIGHT.
| ASSISTANT INSPECTOR GENERAL FOR ACQUISITION AND TECHNOLOGY MANAGEMENT.
| ASSISTANT INSPECTOR GENERAL FOR INTELLIGENCE.
| DEPUTY INSPECTOR GENERAL FOR INTELLIGENCE.
| DEPUTY DIRECTOR, DEFENSE FINANCIAL AUDITING SERVICE.
| ASSISTANT INSPECTOR GENERAL, OFFICE OF COMMUNICATIONS AND CONGRESSIONAL LIAISON.
| ASSISTANT INSPECTOR GENERAL FOR AUDIT FOLLOWUP AND TECHNICAL SUPPORT.
| DIRECTOR, DEFENSE FINANCIAL AUDITING SERVICE.
| DEPUTY DIRECTOR, DEFENSE CRIMINAL INVESTIGATIVE SERVICE.
| GENERAL COUNSEL AND ASSISTANT INSPECTOR GENERAL FOR THE OFFICE OF LEGAL COUNSEL.
| CRIMINAL INVESTIGATOR.
| PRINCIPAL DEPUTY INSPECTOR GENERAL.
| ASSISTANT INSPECTOR GENERAL FOR ADMINISTRATION AND MANAGEMENT.
OFFICE ASSISTANT SECRETARY OF DEFENSE (HEALTH AFFAIRS) | DIRECTOR ACQUISITION MANAGEMENT AND SUPPORT. GENERAL COUNSEL.
| DEPUTY CHIEF, TRICARE ACQUISITIONS DIRECTORATE.
| DIRECTOR, INFORMATION MANAGEMENT, TECHNOLOGY AND REENGINEERING/MILITARY HEALTH SYSTEM CHIEF INFORMATION OFFICER.
OFFICE OF ASSISTANT SECRETARY OF DEFENSE (RESERVE AFFAIRS) | PRINCIPAL DIRECTOR (MANPOWER AND PERSONNEL).
OFFICE OF ASSISTANT SECRETARY OF DEFENSE (PUBLIC AFFAIRS) | DIRECTOR ARMED FORCES RADIO AND TELEVISION SERVICE. DEPUTY DIRECTOR, AMERICAN FORCES INFORMATION SERVICE.
| SPECIAL ASSISTANT TO THE ASSISTANT SECRETARY OF DEFENSE (PUBLIC AFFAIRS).
OFFICE OF THE UNDER SECRETARY OF DEFENSE (COMPTROLLER) | DIRECTOR, PROGRAM AND FINANCIAL CONTROL.
| DEPUTY DIRECTOR FOR PROGRAM AND FINANCIAL CONTROL.
| DEPUTY CHIEF FINANCIAL OFFICER.
| ASSISTANT DEPUTY COMPTROLLER (PROGRAM/BUDGET).
| FINANCIAL MANAGEMENT AND CONTROL.
OFFICE OF DIRECTOR OF ADMINISTRATION AND MANAGEMENT | DEPUTY DIRECTOR, PENTAGON FORCE PROTECTION AGENCY.
| DIRECTOR, PENTAGON FORCE PROTECTION AGENCY.
| DEPUTY DIRECTOR, LAW ENFORCEMENT AND SECURITY, PENTAGON FORCE PROTECTION AGENCY.
WASHINGTON HEADQUARTERS SERVICES | DIRECTOR, HUMAN RESOURCES DIRECTORATE.
| DIRECTOR, FREEDOM OF INFORMATION AND SECURITY REVIEW.
| DIRECTOR, DEFENSE FACILITIES DIRECTORATE.
| DEPUTY DIRECTOR, DEFENSE FACILITIES DIRECTORATE.
| DEPUTY DIRECTOR, HUMAN RESOURCES DIRECTORATE.
| DIRECTOR, DEFENSE FACILITIES DIRECTORATE/PRINCIPAL.
| DEPUTY TO THE DIRECTOR, WASHINGTON HEADQUARTERS SERVICES.
| DIRECTOR, ACQUISITION AND PROtUREMENT OFFICE.
OFFICE OF THE GENERAL COUNSEL | DEPUTY GENERAL COUNSEL (INSPECTOR GENERAL).
| DIRECTOR DEFENSE OFFICE OF HEARINGS AND APPEALS.
| DIRECTOR, OFFICE OF LITIGATION.
OFFICE OF UNDER SECRETARY OF DEFENSE (INTELLIGENCE) | DIRECTOR, TECHNOLOGY AND EVALUATION.
OFFICE OF THE UNDER SECRETARY OF DEFENSE (ACQUISITION, TECHNOLOGY, AND LOGISTICS) | DIRECTOR, PACIFIC ARMAMENTS COOPERATION.
| DIRECTOR PLANNING AND ANALYSIS.
| DIRECTOR, ACQUISITION RESOURCES AND ANALYSIS.
| DEPUTY DIRECTOR, RESOURCE ANALYSIS.
| PRINCIPAL DEPUTY, ACQUISITION RESOURCES AND ANALYSIS.
| DEPUTY DIRECTOR, OFFICE OF THE SECRETARY OF DEFENSE STUDIES AND FEDERALLY FUNDED RESEARCH AND DEVELOPMENT CENTER PROGRAMS.
| DIRECTOR, ENVIRONMENTAL READINESS AND SAFETY.
DEPUTY UNDER SECRETARY OF DEFENSE (ACQUISITION AND TECHNOLOGY) | DEPUTY DIRECTOR NAVAL WARFARE.
| SPECIAL ASSISTANT CONCEPTS AND PLANS.
| DEPUTY DIRECTOR AIR WARFARE.
| DEPUTY DIRECTOR (MISSILE WARFARE).
| DEPUTY DIRECTOR, DEVELOPMENTAL TEST AND EVALUATION.
| ASSISTANT DEPUTY UNDER SECRETARY OF DEFENSE (ACQUISITION PROCESS AND POLICIES).
| DEPUTY DIRECTOR, ACQUISITION MANAGEMENT.
| DEPUTY DIRECTOR, ELECTRONIC BUSINESS.
| DEPUTY DIRECTOR, DEFENSE ACQUISITION REGULATIONS SYSTEM.
| DIRECTOR, DEFENSE PROCUREMENT AND ACQUISITION POLICY.
| DEPUTY DIRECTOR, POLICY.
| DEPUTY DIRECTOR, PROGRAM ACQUISITION AND INTERNATIONAL CONTRACTING.
| DEPUTY DIRECTOR, ACQUISITION WORFORCE AND CAREER MANAGEMENT.
| DEPUTY DIRECTOR, LAND WARFARE AND MUNITIONS.
| ASSISTANT DIRECTOR, LAND SYSTEMS.
| DEPUTY DIRECTOR, TREATY COMPLIANCE.
| ASSISTANT DIRECTOR, ELECTRONIC WARFARE.
| ASSISTANT DIRECTOR, SYSTEMS ENGINEERING (ASSESSMENTS AND SUPPORT).
| DEPUTY DIRECTOR, STRATEGIC SOURCING.
ASSISTANT TO THE SECRETARY OF DEFENSE FOR NUCLEAR AND CHEMICAL AND BIOLOGICAL DEFENSE PROGRAMS | DEPUTY ASISTANT TO THE UNDER SECRETARY OF DEFENSE (NUCLEAR MATTERS).
| DEPUTY ASSISTANT TO THE UNDER. SECRETARY OF DEFENSE (CHEMICAL AND BIOLOICAL DEFENSE).
OFFICE OF THE DIRECTOR OF DEFENSE RESEARCH AND ENGINEERING | DIRECTOR, SPACE AND SENSOR TECHNOLOGY.
| DIRECTOR FOR WEAPONS SYSTEMS.
| ASSISTANT DEPUTY UNDER SECRETARY OF DEFENSE (FULL DIMENSIONAL PROTECTION).
| DIRECTOR FOR BIOLOGICAL SYSTEMS.
| DIRECTOR FOR SCIENCE AND TECHNOLOGY PLANS AND PROGRAMS.
| DIRECTOR FOR TECHNOLOGY TRANSITION.
| DIRECTOR FOR INFORMATION TECHNOLOGIES.
| DIRECTOR, PLANS AND PROGRAMS
DEFENSE ADVANCED RESEARCH PROJECTS AGENCY | DIRECTOR, CONTRACTS MANAGEMENT OFFICE.
| DEPUTY DIRECTOR, DEFENSE ADVANCED RESEARCH PROJECT AGENCY.
| PROGRAM MANAGER (JOINT APPLICATIONS STUDY GROUP).
| DIRECTOR, OFFICE OF MANAGEMENT OPERATIONS JOINT APPLICATIONS STUDY GROUP PROGRAM MANAGER.
| DEPUTY DIRECTOR, ADVANCED TECHNOLOGY OFFICE.
| DEPUTY DIRECTOR, TACTICAL TECHNOLOGY OFFICE.
| DIRECTOR, SPECIAL PROJECTS OFFICE.
| DIRECTOR, ADVANCED TECHNOLOGY OFFICE.
| DIRECTOR, INFORMATION PROCESSING TECHNOLOGY OFFICE.
OFFICE OF THE JOINT CHIEFS OF STAFF | DEPUTY DIRECTOR FOR WARGAMING, SIMULATION AND ANALYSIS.
MISSILE DEFENSE AGENCY | DEPUTY FOR PROGRAM OPERATIONS.
| DIRECTOR, CONTRACTING.
| DEPUTY PROGRAM DIRECTOR, GROUND BASED MIDCOURSE DEFENSE PROGRAM OFFICE.
| DEPUTY FOR PROGRAM INTEGRATION.
| DEPUTY DIRECTOR, JOINT NATIONAL INTEGRATION CENTER.
| DEPUTY FOR SYSTEMS ENGINEERING AND INTEGRATION.
| DEPUTY PROGRAM DIRECTOR FOR BATTLE MANAGEMENT, COMMAND AND CONTROL.
| DEPUTY FOR SYSTEM OPERATION.
| DEPUTY FOR ADVANCED TECHNOLOGY.
| ASSISTANT DEPUTY DIRECTOR, AGENCY OPERATIONS.
| CHIEF ENGINEER.
| DEPUTY FOR ACQUISITION MANAGEMENT.
| PROGRAM DIRECTOR, MULTIPLE KILL VEHICLE.
| EXECUTIVE DIRECTOR.
| DEPUTY FOR ENGINEERING.
DEFENSE CONTRACT AUDIT AGENCY | DEPUTY DIRECTOR, DEFENSE CONTRACT AUDIT AGENCY.
| ASSISTANT DIRECTOR, OPERATIONS.
| ASSISTANT DIRECTOR, POLICY AND PLANS.
| DIRECTOR, FIELD DETACHMENT.
| DIRECTOR, DEFENSE CONTRACT AUDIT AGENCY.
| DEPUTY REGIONAL DIRECTOR, WESTERN REGION.
REGIONAL MANAGERS | REGIONAL DIRECTOR, EASTERN.
| REGIONAL DIRECTOR, NORTHEASTERN.
| REGIONAL DIRECTOR, CENTRAL.
| REGIONAL DIRECTOR, WESTERN.
| REGIONAL DIRECTOR, MID-ATLANTIC.
| DEPUTY REGIONAL DIRECTOR EASTERN REGION.
| DEPUTY REGIONAL DIRECTOR NORTHEASTERN REGION.
| DEPUTY REGIONAL DIRECTOR CENTRAL REGION.
| DEPUTY REGIONAL DIRECTOR MID ATLANTIC REGION.
DEFENSE LOGISTICS AGENCY | CHIEF ACTUARY.
| DIRECTOR, DEFENSE LOGISTICS AGENCY ENTERPRISE SUPPORT.
| DEPUTY COMMANDER, DEFENSE CONSTRUCTION SUPPLY CENTER.
| DEPUTY COMMANDER, DEFENSE GENERAL SUPPLY CENTER.
| DEPUTY COMMANDER, DEFENSE PERSONNEL SUPPORT CENTER.
| DEPUTY COMMANDER DEFENSE DISTRIBUTION CENTER.
| CHIEF FINANCIAL OFFICER.
| DEPUTY COMMANDER DEFENSE LOGISTICS SUPPORT COMMAND.
| EXECUTIVE DIRECTOR, RESOURCE, PLANNING AND PERFORMANCE DIRECTORATE.
| DIRECTOR, INFORMATION OPERATIONS/CHIEF TECHNICAL OFFICER.
| EXECUTIVE DIRECTOR HUMAN RESOURCES.
| DIRECTOR, DEFENSE ENERGY SUPPORT CENTER.
| EXECUTIVE DIRECTOR, DEFENSE LOGISTICS AGENCY READINESS CENTER.
| EXECUTIVE DIRECTOR, BUSINESS MODERNIZATION.
| EXECUTIVE DIRECTOR, ACQUISITION, TECHNICAL AND SUPPLY.
| PROGRAM EXECUTIVE OFFICER.
| PRINCIPAL DEPUTY COMPTROLLER.
| DEPUTY DIRECTOR, INFORMATION OPERATIONS/CHIEF TECHNICAL OFFICER.
| EXECUTIVE DIRECTOR, ENTERPRISE SOLUTIONS.
| DIRECTOR, DEFENSE REUTILIZATION AND MARKETING SERVICES.
| DIRECTOR, DISTRIBUTION REENGINEERING DEFENSE DISTRIBUTION CENTER.
| DEPUTY DIRECTOR, CUSTOMER OPERATIONS AND READINESS.
DEFENSE HUMAN RESOURCES ACTIVITY | DIRECTOR, DEFENSE MANPOWER DATA CENTER.
| DIRECTOR, DEFENSE MANPOWER DATA CENTER.
| DIRECTOR, CIVILIAN PERSONNEL MANAGEMENT SERVICE.
| DEPUTY DIRECTOR FOR PROGRAM SUPPORT.
| DEPUTY DIRECTOR FOR ADVISORY SERVICES, DEFENSE HUMAN RESOURCES ACTIVITY.
OFFICE OF GENERAL COUNSEL | GENERAL COUNSEL.
| DEPUTY GENERAL COUNSEL (ADMINISTRATION).
OFFICE OF THE COMPTROLLER | ASSISTANT DEPUTY CHIEF FINANCIAL OFFICER.
DEFENSE CONTRACT MANAGEMENT AGENCY | DIRECTOR, DEFENSE CONTRACT.
| DIRECTOR, DEFENSE CONTRACT MANAGEMENT AGENCY-EAST.
| DIRECTOR, DEFENSE CONTRACT MANAGEMENT AGENCY-WEST.
| DEPUTY EXECUTIVE DIRECTOR, CONTRACT MANAGEMENT OPERATIONS.
| DIRECTOR, DEFENSE CONTRACT MANAGEMENT AGENCY DISTRICT LOS ANGELES.
| DEPUTY DIRECTOR, DEFENSE CONTRACT MANAGEMENT AGENCY DISTRICT BOSTON.
| EXECUTIVE DIRECTOR, CONTRACT MANAGEMENT OPERATIONS.
| EXECUTIVE DIRECTOR, GROUND SYSTEMS AND MUNITIONS DIVISION.
| EXECUTIVE DIRECTOR, PROGRAM SUPPORT AND CUSTOMER RELATIONS.
| DEPUTY DIRECTOR, DEFENSE CONTRACT MANAGEMENT AGENCY.
| EXECUTIVE DIRECTOR, FINANCIAL AND BUSINESS OPERATIONS AND COMPTROLLER.
| CHIEF INFORMATION OFFICER.
| GENERAL COUNSEL.
| DEPUTY GENERAL COUNSEL.
| EXECUTIVE DIRECTOR, NAVAL SEA SYSTEMS DIVISION (BOSTON DIVISION).
DEFENSE INFORMATION SYSTEMS AGENCY | CHIEF FINANCIAL OFFICER/COMPTROLLER.
| DIRECTOR FOR STRATEGIC PLANS AND POLICY.
| INSPECTOR GENERAL.
| SPECIAL ASSISTANT FOR LIAISON ACTIVITIES.
| DIRECTOR FOR TECHNICAL INTEGRATION SERVICES.
| DIRECTOR FOR PROCUREMENT AND LOGISTICS.
| CHIEF ENGINEER, INFORMATION SYSTEMS SECURITY.
| CHIEF SPECTRUM ANALYSIS AND MANAGEMENT DIVISION.
| PRINCIPAL DIRECTOR FOR COMPUTING SERVICES.
| CHIEF, POLICY, PLANS, AND APPROPRIATED PROGRAMS DIVISION.
| CHIEF, DEFENSE COMPUTING BUSINESS OFFICE.
| CHIEF, DEFENSE INFORMATION SYSTEMS NETWORK BUSINESS OFFICE.
| CHIEF TECHNOLOGY OFFICER AND TECHNICAL DIRECTOR FOR JOINT INTEROPERABILITY ENGINEERING ORGANIZATION.
| DIRECTOR FOR MANPOWER, PERSONNEL AND SECURITY.
| PRINCIPAL DIRECTOR FOR APPLICATIONS ENGINEERING.
| DEPUTY CHIEF FINANCIAL EXECUTIVE/COMPTROLLER.
| CHIEF ENGINEER EXECUTIVE, NETWORK SERVICES DIRECORATE.
| CHIEF EXECUTIVE FOR INFORMATION TECHNOLOGY SYSTEMS AND PROGRAMS.
| PRINCIPAL DIRECTOR FOR NETWORK SERVICES.
| CHIEF, GLOBAL INFORMATION GRID NETWORK AND INFORMATION OPERATIONS.
| SPECIAL ASSISTANT TO CHIEF SATELLITE COMMUNICATIONS DIVISION.
| DEPUTY PORTFOLIO MANAGER, GLOBAL INFORMATION GRID ENTERPRISE SERVICES.
| VICE PRINCIPAL DIRECTOR, GLOBAL INFORMATION GRID COMBAT SUPPORT DIRECTORATE.
| DEPUTY DIRECTOR, STRATEGIC PLANNING AND INFORMATION.
| DIRECTOR, NET CENTRIC ENTERPRISE SERVICES SYSTEMS ENGINEERING TRANSFORMATION.
| EXECUTIVE CHIEF, CENTER FOR NETWORK SERVICES.
| DIRECTOR FOR TESTING.
| CHIEF, TRANSPORT ENGINEERING CENTER.
| PRINCIPAL DIRECTOR GLOBAL INFORMATION GRID COMBAT SUPPORT.
| JOINT COMMAND AND CONTROL PROGRAM EXECUTIVE OFFICER.
| DEPUTY DIRECTOR, NET CENTRIC ENTERPRISE SERVICES.
DEFENSE THREAT REDUCTION AGENCY | DEPUTY DIRECTOR, OPERATIONS DIRECTORATE.
| DIRECTOR FOR ELECTRONICS AND SYSTEMS.
| CHIEF, SIMULATION AND TEST DIVISION.
| DIRECTOR FOR PROGRAMS.
| COMPTROLLER.
| DEPUTY DIRECTOR, PLANS AND RESOURCES ON-SITE INSPECTION.
| DIRECTOR, COUNTERPROLIFERATION SUPPORT AND OPERATIONS.
| DIRECTOR, ACQUISITION MANAGEMENT.
| DIRECTOR, SYSTEM APPLICATIONS DIVISION.
| DIRECTOR, CHEMICAL-BIOLOGICAL DEFENSE.
| DIRECTOR, NUCLEAR TECHNOLOGY DIVISION.
| CHIEF, OPERATIONAL APPLICATIONS DIVISION.
| EXECUTIVE DIRECTOR.
DEFENSE SECURITY COOPERATION AGENCY | CHIEF INFORMATION OFFICER/PRINCIPAL DIRECTOR FOR INFORMATION TECHNOLOGY.
DEFENSE FINANCE AND ACCOUNTING SERVICE | ACCOUNTING REQUIREMENTS OFFICER.
DEFENSE SECURITY SERVICE | PRINCIPAL DEPUTY CHIEF OPERATING OFFICER.
| DEPUTY DIRECTOR FOR INDUSTRIAL SECURITY.
| DIRECTOR FOR INDUSTRIAL SECURITY.
| DEPUTY DIRECTOR FOR SECURITY EDUCATION, TRAINING, AND AWARENESS.
| DIRECTOR, DEFENSE SECURITY SERVICE.
| DIRECTOR, DEFENSE SECURITY SERVICE.
| DEPUTY DIRECTOR, DEFENSE SECURITY SERVICE.
| DIRECTOR, PERSONNEL SECURITY CLEARANCE OFFICE.
DEPARTMENT OF THE AIR FORCE:
OFFICE OF THE SECRETARY | DIRECTOR, SPACE ACQUISITION.
| DIRECTOR, COMMUNICATIONS AND INFORMATION SUPPORT.
OFFICE OF THE UNDER SECRETARY | DEPUTY UNDER SECRETARY OF THE AIR FORCE (SPACE PROGRAMS).
OFFICE OF ADMINISTRATIVE ASSISTANT TO THE SECRETARY | ADMINISTRATIVE ASSISTANT.
| DEPUTY ADMINISTRATOR ASSISTANT.
OFFICE OF SMALL AND DISADVANTAGED BUSINESS UTILIZATION | DIRECTOR, OFFICE OF SMALL AND DISADVANTAGED BUSNESS UTILIZATION.
AUDITOR GENERAL | AUDITOR GENERAL OF THE AIR FORCE.
AIR FORCE AUDIT AGENCY (FIELD OPERATING AGENCY) | ASSISTANT AUDITOR GENERAL (SUPPORT AND PERSONNEL AUDITS).
| ASSISTANT AUDITOR GENERAL (ACQUISITION AND LOGISTICS AUDITS).
| ASSISTANT AUDITOR GENERAL (FINANCIAL AND SYSTEMS AUDITS).
| DEPUTY AUDITOR GENERAL AND DIRECTOR OF OPERATIONS.
AIR FORCE OFFICE OF SPECIAL INVESTIGATIONS (FIELD OPERATING AGENCY) | EXECUTIVE DIRECTOR.
| EXECUTIVE DIRECTOR, DEFENSE CYBER CRIME CENTER (DEFENSE CYBER CRIME CENTER).
OFFICE OF THE GENERAL COUNSEL | DEPUTY GENERAL COUNSEL (INTERNATIONAL AFFAIRS).
| DEPUTY GENERAL COUNSEL (INSTALLATIONS AND ENVIRONMENTAL LAW).
| DEPUTY GENERAL COUNSEL (ACQUISITION).
OFFICE DEPUTY ASSISTANT SECRETARY BUDGET | CHIEF BUDGET MANAGEMENT DIVISION.
| ASSISTANT DEPUTY COMPTROLLER BUDGET.
| DIRECTOR, BUDGET INVESTMENT.
OFFICE DEPUTY ASSISTANT SECRETARY COST AND ECONOMICS | ASSOCIATE DEPUTY ASSISTANT SECRETARY (COST AND ECONOMICS).
| DEPUTY ASSISTANT SECRETARY (COST AND ECONOMICS).
| ASSOCIATE DEPUTY ASSISTANT SECRETARY (COST AND ECONOMICS).
OFFICE DEPUTY ASSISTANT SECRETARY FINANCIAL OPERATIONS | ASSOCIATE DEPUTY ASSISTANT SECRETARY (FINANCIAL OPERATIONS AND TECHNOLOGY).
OFFICE OF ASSISTANT SECRETARY AIR FORCE FOR ACQUISITION | DIRECTOR, AIR FORCE RAPID CAPABILITIES OFFICE.
| DIRECTOR, INFORMATION DOMINANCE PROGRAMS.
| SENIOR ADVISOR FOR ACQUISITION MATTERS.
| ASSOCIATE DEPUTY ASSISTANT SECRETARY (ACQUISITION INTEGRATION).
| SENIOR ADVISOR FOR ACQUISITION MATTERS.
OFFICE DEPUTY ASSISTANT SECRETARY SCIENCE, TECHNOLOGY AND ENGINEERING | DEPUTY ASSISTANT SECRETARY (SCIENCE, TECHNOLOGY AND ENGINEERING).
OFFICE DEPUTY ASSISTANT SECRETARY MANAGEMENT POLICY AND PROGRAM INTEGRATION | DEPUTY ASSISTANT SECRETARY (MANAGEMENT POLICY AND PROGRAM INTEGRATION).
OFFICE DEPUTY ASSISTANT SECRETARY CONTRACTING | ASSOCIATE DEPUTY ASSISTANT SECRETARY (CONTRACTING).
AIR FORCE PROGRAM EXECUTIVE OFFICE (FIELD OPERATING AGENCY) | DEPUTY AIR FORCE PROGRAM EXECUTIVE OFFICER (COMBAT AND MISSION SUPPORT).
| AIR FORCE PROGRAM EXECUTIVE OFFICER (COMBAT AND MISSION SUPPORT).
AIR FORCE REVIEW BOARDS AGENCY (AIR FORCE REVIEW BOARDS AGENCY)—FIELD OPERATING AGENCY | DEPUTY FOR AIR FORCE REVIEW BOARDS.
OFFICE OF ASSISTANT SECRETARY AIR FORCE, INSTALLATIONS, ENVIRONMENT, AND LOGISTICS | DEPUTY ASSISTANT SECRETARY (ENVIRONMENT, SAFETY AND OCCUPATIONAL HEALTH).
AIR FORCE BASE CONVERSION AGENCY (FIELD OPERATING AGENCY) | DIRECTOR AIR FORCE REAL PROPERTY AGENCY.
OFFICE DEPUTY ASSISTANT SECRETARY INSTALLATIONS | DEPUTY ASSISTANT SECRETARY (INSTALLATIONS).
OFFICE OF THE CHIEF OF STAFF | DIRECTOR, QUADRENNIAL DEFENSE REVIEW ORGANIZATION.
| DIRECTOR, AIR FORCE HISTORY OFFICE.
AIR FORCE OFFICE OF SAFETY AND AIR FORCE SAFETY CENTER (FIELD OPERATING AGENCY) | DEPUTY CHIEF OF SAFETY.
OFFICE OF THE SURGEON GENERAL | REGIONAL DIRECTOR, TRICARE REGIONAL OFFICE-SOUTH.
| REGIONAL DIRECTOR, TRICARE REGIONAL OFFICE-NORTH.
TEST AND EVALUATION | DEPUTY DIRECTOR, TEST AND EVALUATION.
AIR FORCE STUDIES AND ANALYSES AGENCY (DIRECT REPORTING UNIT (DRU)) | DIRECTOR, AIR FORCE STUDIES AND ANALYSES, ASSESSMENTS AND LESSONS LEARNED.
DEPUTY CHIEF OF STAFF, WARFIGHTING INTEGRATION | ASSISTANT DEPUTY CHIEF OF STAFF FOR WARFIGHTING INTEGRATION.
| DEPUTY DIRECTOR, INFORMATION SERVICES AND INTEGRATION.
| DIRECTOR, ARCHITECTURE AND OPERATIONAL SUPPORT MODERNIZATION.
AIR FORCE COMMAND AND CONTROL AND INTELLIGENCE SURVEILLANCE RECONAISSANCE CENTER (FIELD OPERATING AGENCY) | SENIOR TECHNICAL DIRECTOR, COMMAND AND CONTROL, INTELLIGENCE, SURVEILLANCE, AND RECONAISSANCE CENTER.
DEPUTY CHIEF OF STAFF, INSTALLATIONS AND LOGISTICS | ASSISTANT DEPUTY CHIEF OF STAFF, INSTALLATION AND LOGISTICS.
CIVIL ENGINEER | DEPUTY CIVIL ENGINEER.
SERVICES | DIRECTOR OF SERVICES.
MAINTENANCE | DEPUTY DIRECTOR OF MAINTENANCE.
LOGISTICS READINESS | DEPUTY DIRECTOR OF LOGISTICS READINESS.
RESOURCES | CHIEF, AIRCRAFT/MISSILE SUPPORT DIVISION.
| DEPUTY DIRECTOR OF RESOURCES.
INNOVATION AND TRANSFORMATION | DIRECTOR, INNOVATION AND TRANSFORMATION.
AIR FORCE CENTER FOR ENVIRONMENTAL EXCELLENCE (FIELD OPERATING AGENCY) | DIRECTOR AIR FORCE CENTER FOR ENVIRONMENTAL EXCELLENCE.
STRATEGIC PLANNING | DEPUTY DIRECTOR OF STRATEGIC PLANNING.
DEPUTY CHIEF OF STAFF, PERSONNEL | ASSISTANT DEPUTY CHIEF OF STAFF PERSONNEL.
| DIRECTOR, STRATEGIC PLANS AND FUTURE SYSTEMS.
| DEPUTY DIRECTOR, FORCE MANAGEMENT POLICY.
| DEPUTY DIRECTOR, AIRMAN DEVELOPMENT AND SUSTAINMENT.
| ASST DEPUTY CHIEF OF STAFF, PERSONNEL.
| DIRECTOR OF SERVICES.
| DIRECTOR, PLANS AND INTEGRATION.
DEPUTY CHIEF OF STAFF, AIR AND SPACE OPERATIONS | DEPUTY DIRECTOR OF OPERATIONAL REQUIREMENTS.
| ASSOCIATE DIRECTOR, NUCLEAR WEAPONS AND COUNTERPROLIFERATION.
| DEPUTY FOR OPERATIONS AND TRAINING, AIRSPACE, RANGES AND AIRFIELD OPERATIONS.
AIR FORCE OPERATIONAL TEST AND EVALUATION CENTER (DIRECT REPORTING UNIT) | TECHNICAL DIRECTOR.
AIR FORCE MATERIEL COMMAND | DIRECTOR, NATIONAL MUSEUM OF THE UNITED STATES AIR FORCE.
| DIRECTOR, TRANSFORMATION AND SPACE.
| EXECUTIVE DIRECTOR.
PERSONNEL | DIRECTOR, PERSONNEL.
CONTRACTING | DIRECTOR, CONTRACTING.
LOGISTICS | DEPUTY DIRECTOR FOR DEPOT MAINTENANCE.
| DEPUTY DIRECTOR FOR SUPPLY MANAGEMENT.
| DEPUTY DIRECTOR OF INSTALLATIONS AND MISSION SUPPORT.
ENGINEERING AND TECHNICAL MANAGEMENT | DIRECTOR, ENGINEERING AND TECHNICAL MANAGEMENT.
FINANCIAL MANAGEMENT AND COMPTROLLER | DEPUTY DIRECTOR, FINANCIAL MANAGEMENT AND COMPTROLLER.
PLANS AND PROGRAMS | DEPUTY DIRECTOR, PLANS AND PROGRAMS.
| ASSOCIATE DIRECTOR, PROGRAMS.
REQUIREMENTS | DEPUTY DIRECTOR CAPABILITIES INTEGRATION
OPERATIONS DIRECTORATE | DEPUTY DIRECTOR OF OPERATIONS
INFORMATION TECHNOLOGY | DIRECTOR, INFORMATION TECHNOLOGY
MISSION SUPPORT DIRECTORATE | COMMAND CIVIL ENGINEER
ELECTRONIC SYSTEMS CENTER | EXECUTIVE DIRECTOR.
| PROGRAM DIRECTOR STRATEGIC AND NUCLEAR DETERRENCE COMMAND AND CONTROL.
| DIRECTOR, MATERIEL SYSTEMS GROUP.
| DEPUTY FOR ACQUISITION.
| DIRECTOR, OPERATIONS SUPPORT SYSTEMS WING.
| DIRECTOR, COMBATANT COMMANDERS' COMMAND AND CONTROL SYSTEMS GROUP.
| DIRECTOR, NETWORK CENTRIC OPERATIONS AND INTEGRATION SYSTEMS WING.
STANDARD SYSTEMS CENTER | DIRECTOR HEADQUARTERS 754TH ELECTRONIC SYSTEMS GROUP.
AERONAUTICAL SYSTEMS CENTER | DEPUTY FOR SUPPORT.
| DIRECTOR FINANCIAL MANAGEMENT AND COMPTROLLER.
| EXECUTIVE DIRECTOR.
| DIRECTOR, 326TH AERONAUTICAL SYSTEMS WING.
| DIRECTOR, MOBILITY SYSTEMS WING.
DIRECTORS OF ENGINEERING | DIRECTOR OF ENGINEERING JOINT STRIKE FIGHTER.
SYSTEMS PROGRAM OFFICES | PROGRAM DIRECTOR, MOBILITY SYSTEM PROGRAM OFFICE.
| DEPUTY PROGRAM DIRECTOR, FEDERAL AVIATION-22 SYSTEMS PROGRAM OFFICE.
HUMAN SYSTEMS CENTER | DIRECTOR, 311TH HUMAN SYSTEMS CENTER.
AIR FORCE RESEARCH LABORATORY | DIRECTOR, PLANS AND PROGRAMS.
| DIRECTOR, PLANS AND PROGRAMS.
| DIRECTOR, REQUIREMENTS EXECUTIVE.
| DIRECTOR, AIR FORCE RESEARCH LABORATORY.
AIR VEHICLES DIRECTORATE | ASSOCIATE DIRECTOR FOR AIR PLATFORMS.
AIR FORCE RESEARCH LABORATORY—MUNITIONS DIRECTORATE | ASSOCIATE DIRECTOR FOR WEAPONS.
SPACE VEHICLES DIRECTORATE | ASSOCIATE DIRECTOR FOR SPACE TECHNOLOGY.
INFORMATION DIRECTORATE | DIRECTOR INFORMATION.
DIRECTED ENERGY DIRECTORATE | DIRECTOR, DIRECTED ENERGY.
MATERIALS AND MANUFACTURING DIRECTORATE | DIRECTOR, MATERIALS AND MANUFACTURING.
SENSORS DIRECTORATE | DIRECTOR SENSORS.
HUMAN EFFECTIVENESS DIRECTORATE | DIRECTOR, HUMAN EFFECTIVENESS DIRECTORATE.
ARNOLD ENGINEERING DEVELOPMENT CENTER | ASSOCIATE DIRECTOR FOR PROGRAM INTEGRATION.
AIR FORCE FLIGHT TEST CENTER | EXECUTIVE DIRECTOR.
AIR LOGISTICS CENTER, OKLAHOMA CITY | PRODUCT GROUP MANAGER, PROPULSION SYSTEMS.
| DIRECTOR, LOGISTICS MANAGEMENT.
| DIRECTOR, ENGINEERING.
| EXECUTIVE DIRECTOR.
| DIRECTOR, 448TH COMBAT SUSTAINMENT WING.
| DIRECTOR, OKLAHOMA CITY, AIR LOGISTICS CENTER.
| DIRECTOR, CONTRACTING.
AIR LOGISTICS CENTER, WARNER ROBINS | DIRECTOR, LOGISTICS MANAGEMENT.
| DIRECTOR, ENGINEERING.
| EXECUTIVE DIRECTOR.
| DIRECTOR, CONTRACTING.
AIR LOGISTICS CENTER, OGDEN | DIRECTOR, LOGISTICS MANAGEMENT.
| DIRECTOR, ENGINEERING.
| EXECUTIVE DIRECTOR.
| DIRECTOR, CONTRACTING.
AIR ARMAMENT CENTER | DEPUTY FOR ACQUISITION.
| EXECUTIVE DIRECTOR.
| DIRECTOR, AIR-TO-GROUND MUNITIONS SYSTEMS WING.
AIR ARMAMENT CENTER—SYSTEMS PROGRAM OFFICE | DIRECTOR, LETHAL STRIKE JOINT PROGRAM OFFICE.
AIR COMBAT COMMAND | DEPUTY DIRECTOR OF MAINTENANCE AND LOGISTICS.
AIR MOBILITY COMMAND | DEPUTY DIRECTOR OF LOGISTICS.
AIR EDUCATION AND TRAINING COMMAND | DIRECTOR, CENTER FOR SYSTEMS ENGINEERING.
| DIRECTOR, INTERNATIONAL TRAINING AND EDUCATION.
AIR FORCE RESERVE COMMAND | AIR COMMANDER 4TH AIR FORCE.
| AIR COMMANDER 10TH AIR FORCE.
| AIR COMMANDER 22ND AIR FORCE.
| ASSISTANT VICE COMMANDER.
| DIRECTOR, PLANS.
| DIRECTOR OF OPERATIONS.
| AIR COMMANDER 4TH AIR FORCE.
UNITED STATES CENTRAL COMMAND | DIRECTOR OF RESOURCES, REQUIREMENTS, BUDGET AND ASSESSMENT.
| DIRECTOR, JOINT INTERAGENCY COORDINATION GROUP.
| DIRECTOR OF RESOURCES, REQUIREMENTS, BUDGET AND ASSESSMENT.
UNITED STATES STRATEGIC COMMAND | DEPUTY DIRECTOR, COMMAND, CONTROL, COMMUNICATIONS, COMPUTER, AND INTELLIGENCE SYSTEMS.
| DIRECTOR, GLOBAL INNOVATION STRATEGY CENTER.
| ASSOCIATE DIRECTOR CAPABILITY AND RESOURCE INTEGRATION.
| DEPUTY DIRECTOR, PLANS AND POLICY DIRECTOR, CAPABILITY AND RESOURCE INTEGRATION.
UNITED STATES TRANSPORTATION COMMAND | DEPUTY DIRECTOR, COMMAND, CONTROL, COMMUNICATIONS, AND COMPUTER SYSTEMS DIRECTORATE.
| DEPUTY FOR MILITARY SURFACE DEPLOYMENT AND DISTRIBUTION COMMAND.
| DEPUTY DIRECTOR FOR DISTRIBUTION PORTFOLIO MANAGEMENT.
| DIRECTOR, PROGRAM ANALYSIS AND FINANCIAL MANAGEMENT.
| DEPUTY DIRECTOR, STRATEGIES AND POLICY.
JOINT STAFF | DIRECTOR, FINANCIAL MANAGEMENT AND COMPTROLLER.
| DIRECTOR AND CHIEF INFOMATION, OFFICER FOR SPECIAL OPERATIONS NETWORKS AND COMMUNICATIONS CENTER.
UNITED STATES NORTHERN COMMAND | DIRECTOR, PROGRAMS AND RESOURCES.
| DIRECTOR, INTERAGENCY COORDINATION.
| DIRECTOR, JOINT EXERCISES AND TRAINING.
| DIRECTOR, INTERAGENCY COORDINATION.
DEPARTMENT OF THE ARMY:
DEPARTMENT OF THE ARMY | DIRECTOR, ARMY EVALUATION CENTER.
| ASSISTANT DEPUTY CHIEF OF STAFF FOR PERSONNEL (INSTALLATION MANAGEMENT).
| ASSISTANT DEPUTY CHEIF OF STAFF, G1.
| DIRECTOR, CHEMICAL MATERIALS AGENCY.
| ASSISTANT DEPUTY CHIEF OF STAFF, G-4.
| DIRECTOR FOR ARMAMENT RESEARCH, DEVELOPMENT AND ENGINEERING.
| DIRECTOR, TEST AND EVALUATION MANAGEMENT AGENCY.
| DEPUTY TO THE COMMANDING GENERAL.
| DIRECTOR, FORCE PROJECTION AND DISTRIBUTION.
| DEPUTY ASSISTANT SECRETARY OF THE ARMY (FINANCIAL INFORMATION MANAGEMENT).
| EXECUTIVE DIRECTOR FOR LOGCAP.
| DEPUTY DIRECTOR (OPERATIONS).
| DIRECTOR, RESERVE AFFAIRS INTEGRATION OFFICE.
OFFICE OF THE SECRETARY | DIRECTOR OF ENTERPRISE SITUATIONAL AWARENESS AND DEPUTY TO THE DEPUTY UNDER SECRETARY OF THE ARMY FOR BUSINESS TRANSFORMATION.
OFFICE DEPUTY UNDER SECRETARY OF ARMY (OPERATIONS RESEARCH) | SPECIAL ASSISTANT FOR SYSTEMS.
| ASSISTANT DEPUTY UNDER SECRETARY OF THE ARMY FOR OPERATIONS RESEARCH.
| SPECIAL ASSISTANT FOR SYSTEMS.
OFFICE ADMINSTRATIVE ASSISTANT TO THE SECRETARY OF ARMY | ADMINISTRATIVE ASSISTANT TO THE SECRETARY OF THE ARMY.
| DEPUTY ADMINISTRATIVE ASSISTANT TO THE SECRETARY OF THE ARMY/DIRECTOR FOR SHARED SERVICES.
| DEPUTY FOR SERVICES AND OPERATIONS/EXECUTIVE.
| DIRECTOR, UNITED STATES ARMY SERVICES AND OPERATIONS AGENCY.
| EXECUTIVE DIRECTOR, US ARMY INFORMATION TECHNOLOGY AGENCY.
| EXECUTIVE DIRECTOR, US ARMY RESOURCES AND PROGRAM AGENCY.
OFFICE OF THE GENERAL COUNSEL | DEPUTY GENERAL COUNSEL (ETHICS AND FISCAL).
OFFICE ASSISTANT SECRETARY ARMY (CIVIL WORKS) | DEPUTY ASSISTANT SECRETARY OF THE ARMY (MANAGEMENT AND BUDGET).
OFFICE ASSISTANT SECRETARY ARMY (FINANCIAL MANAGEMENT AND COMPTROLLER) | DEPUTY ASSISTANT SECRETARY OF THE ARMY (COST AND ECONOMICS).
| DIRECTOR OF INVESTMENT.
| DEPUTY ASSSISTANT SECRETARY OF THE ARMY (FINANCIAL OPERATIONS).
| DIRECTOR FOR BUSINESS RESOURCES.
| DIRECTOR OF MANAGEMENT AND CONTROL.
| ASSISTANT TO THE DEPUTY ASSISTANT SECRETARY OF THE ARMY (BUDGET).
| DIRECTOR, PROGRAMS AND STRATEGY.
OFFICE ASSISTANT SECRETARY ARMY (FINANCIAL MANAGEMENT AND COMPTROLLER) | DIRECTOR OF OPERATIONS AND SUPPORT.
OFFICE ASSISTANT SECRETARY ARMY (INSTALLATIONS AND ENVIRONMENT) | DEPUTY ASSISTANT SECRETARY OF THE ARMY (INFRASTRUCTURE ANALYSIS).
OFFICE ASSISTANT SECRETARY ARMY (MANPOWER AND RESERVE AFFAIRS) | DEPUTY ASSISTANT SECRETARY OF THE ARMY (ARMY REVIEW BOARDS AGENCY).
| DEPUTY ASSISTANT SECRETARY OF THE ARMY (EQUAL EMPLOYMENT OPPORTUNITY AND CIVIL RIGHTS).
OFFICE ASSISTANT SECRETARY ARMY (ACQUISITION, LOGISTICS AND TECHNOLOGY) | DEPUTY ASSISTANT SECRETARY FOR RESEARCH AND TECHNOLOGY/CHIEF SCIENTIST.
| DEPUTY ASSISTANT SECRETARY OF THE ARMY (POLICY AND PROCUREMENT).
| DEPUTY ASSISTANT SECRETARY OF THE ARMY FOR PLANS, PROGRAMS AND RESOURCES.
| DEPUTY ASSISTANT SECRETARY OF THE ARMY (DEFENSE EXPORTS AND COOPERATION).
| DIRECTOR FOR RESEARCH AND LABORATORY MANAGEMENT.
| DIRECTOR FOR TECHNOLOGY.
| PROGRAM MANAGER FOR CHEMICAL DEMILITARIZATION.
| DIRECTOR, ARMY CONTRACTING AGENCY.
| DEPUTY ASSISTANT SECRETARY OF THE ARMY FOR INTEGRATED LOGISTICS SUPPORT.
| DEPUTY ASSISTANT SECRETARY OF THE ARMY (ELIMINATION OF CHEMICAL WEAPONS).
ARMY ACQUISITION EXECUTIVE | DEPUTY PROGRAM EXECUTIVE OFFICER, COMMAND CONTROL AND COMMUNICATIONS TACTICAL.
| PROGRAM EXECUTIVE OFFICER ENTERPRISE INFORMATION SYSTEMS.
| DEPUTY PROGRAM EXECUTIVE OFFICER, AIR AND MISSILE DEFENSE.
| DEPUTY PROGRAM EXECUTIVE OFFICER, TACTICAL MISSILES.
| PROGRAM EXECUTIVE OFFICER, INTELLIGENCE, ELECTRONIC WARFARE AND SENSORS.
| DEPUTY PROGRAM EXECUTIVE OFFICER AMMUNITION.
| DEPUTY PROGRAM EXECUTIVE OFFICER FOR SOLDIER.
| DEPUTY PROGRAM EXECUTIVE OFFICER, GROUND COMBAT SYSTEMS.
| PROGRAM EXECUTIVE OFFICER, GROUND COMBAT SYSTEMS.
| PROGRAM EXECUTIVE OFFICER AVIATION.
| DEPUTY PROGRAM MANAGER (OPERATIONS) PROGRAM MANAGER UNIT OF ACTION.
| PROGRAM EXECUTIVE OFFICER SIMULATION, TRAINING AND INSTRUMENTATION.
| DIRECTOR, COMBINED TEST ORGANIZATION, PROGRAM.
| MANAGER, FUTURE COMBAT SYSTEM (BRIGADE COMBAT TEAM).
| DEPUTY JOINT PROGRAM EXECUTIVE OFFICE, JOINT TACTICAL RADIO SYSTEM.
ARMY CONTRACTING AGENCY | DIRECTOR, INFORMATION TECHNOLOGY, ELECTRONIC COMMERCE AND CONTRACTING CENTER.
| DIRECTOR, NORTHERN REGION, UNITED STATES ARMY CONTRACTING AGENCY.
| DIRECTOR, SOUTHERN REGION, UNITED STATES ARMY CONTRACTING AGENCY.
CHIEF INFORMATION OFFICER/G-6 | DEPUTY CHIEF INFORMATION OFFICER/G-6.
| DIRECTOR FOR ENTERPRISE MANAGEMENT.
| DIRECTOR FOR ARMY ARCHITECTURE INTEGRATION CELL.
OFFICE, CHIEF OF PUBLIC AFFAIRS | PRINCIPAL DEPUTY CHIEF OF PUBLIC AFFAIRS/DIRECTOR, SOLDIERS MEDIA CENTER.
ARMY AUDIT AGENCY | THE AUDITOR GENERAL, U.S. ARMY.
| PRINCIPAL DEPUTY AUDITOR GENERAL.
| DEPUTY AUDITOR GENERAL, ACQUISITION AND LOGISTICS AUDITS.
| DEPUTY AUDITOR GENERAL, POLICY AND OPERATIONS MANAGEMENT.
| DEPUTY AUDITOR GENERAL, FORCES AND FINANCIAL AUDITS.
OFFICE, CHIEF OF STAFF | DIRECTOR, TEST AND EVALUATION MANAGEMENT AGENCY.
| DIRECTOR, ENTERPRISE SYSTEMS TECHNOLOGY ACTIVITY
OPERATIONS TEST AND EVALUATION COMMAND (OFFICE OF THE CHIEF OF STAFF OF THE ARMY, FIELD OPERATING AGENCY) | EXECUTIVE DIRECTOR.
ARMY CENTER OF MILITARY HISTORY (OFFICE OF THE CHIEF OF STAFF OF THE ARMY, FIELD OPERATING AGENCY) | CHIEF HISTORIAN.
OFFICE, CHIEF ARMY RESERVE | DIRECTOR OF RESOURCE MANAGEMENT.
OFFICE, ASSISTANT CHIEF OF STAFF FOR INSTALLATION MANAGEMENT | DEPUTY ASSISTANT CHIEF OF STAFF FOR INSTALLATION MANAGEMENT.
| DEPUTY, INSTALLATION MANAGEMENT AGENCY.
| DEPUTY DIRECTOR FOR RESOURCE MANAGEMENT.
| REGIONAL DIRECTOR (NORTHEAST).
| REGIONAL DIRECTOR (NORTHWEST).
| REGIONAL DIRECTOR (SOUTHEAST).
| REGIONAL DIRECTOR (SOUTHWEST).
| REGIONAL DIRECTOR (EUROPE).
| REGIONAL DIRECTOR (PACIFIC).
OFFICE, DEPUTY CHIEF OF STAFF, G-4 | ASSOCIATE DIRECTOR, FORCE PROJECTION AND DISTRIBUTION.
| EXECUTIVE DIRECTOR, STRATEGIC, LOGISTICS AGENCY.
| ASSOCIATE DIRECTOR OF SUSTAINMENT.
| SPECIAL ASSISTANT TO THE DEPUTY CHIEF OF STAFF, G-4.
| DIRECTOR FOR MAINTENANCE POLICY, PROGRAMS AND PROCESSES.
OFFICE, DEPUTY CHIEF OF STAFF, G-8 | ASSISTANT DEPUTY CHIEF OF STAFF, G-8.
| DIRECTOR OF MODERNIZATION.
OFFICE, DEPUTY CHIEF OF STAFF, G-3 | TECHNICAL ADVISOR TO THE DEPUTY CHIEF OF STAFF, G-3.
| DIRECTOR, ARMY MODEL AND SIMULATION OFFICE.
| DEPUTY DIRECTOR OF TRAINING.
| ASSISTANT DEPUTY CHIEF OF STAFF FOR OPERATIONS.
| DEPUTY DIRECTOR FOR PLANS AND POLICY.
OFFICE, DEPUTY CHIEF OF STAFF, G-1 | DIRECTOR OF CIVILIAN PERSONNEL MANAGEMENT.
| DIRECTOR, UNITED STATES ARMY RESEARCH INSTITUTE AND CHIEF PSYCHOLOGIST.
| ASSISTANT DEPUTY CHIEF OF STAFF, G-1 FOR CIVILIAN PERSONNEL.
| DIRECTOR FOR MANPRINT DIRECTORATE.
| CHIEF, POLICY AND PROGRAM DEVELOPMENT DIVISION.
| DIRECTOR OF PLANS, RESOURCES AND OPERATIONS.
| DIRECTOR OF ARMY PERSONNEL TRANSFORMATION.
| ASSISTANT DEPUTY CHIEF OF STAFF, G-1.
ARMY RESEARCH INSTITUTE (DEPUTY CHIEF OF STAFF FOR PERSONNEL, FIELD OPERATING AGENCY) | TECHNICAL DIRECTOR.
NATIONAL GUARD BUREAU | NATIONAL GUARD BUREAU J6/CHIEF INFORMATION OFFICER.
OFFICE OF THE SURGEON GENERAL | CHIEF OF STAFF, HEALTH SYSTEM ADMIN.
UNITED STATES ARMY MEDICAL RESEARCH AND MATERIEL COMMAND | PRINCIPAL ASSISTANT FOR ACQUISITION.
| PRINCIPAL ASSISTANT FOR RESEARCH AND TECHNOLOGY.
UNITED STATES OF AMERICA SPACE AND MISSILE DEFENSE COMMAND | PRIN ADVISOR RESP FOR CONTRACTING.
| DIRECTOR, ADVANCED TECHNOLOGY DIRECTORATE.
| DIRECTOR, SPACE AND MISSILE DEFENSE BATTLE LABORATORY.
| DEPUTY TO THE COMMANDER, RESEARCH, DEVELOPMENT AND ACQUISITION.
| DIRECTOR, INTEGRATION AND INTEROPERABILITY FOR MISSILE DEFENSE/ASSISTANT TO THE DEPUTY COMMANDING GENERAL—RESEARCH, DEVELOPMENT AND ACOUISITION.
TRAINING AND DOCTRINE COMMAND (TRAINING AND DOCTRINE COMMAND) | ASSISTANT DEPUTY CHIEF OF STAFF FOR RESOURCES MANAGEMENT.
| ASSISTANT DEPUTY CHIEF OF STAFF FOR TRAINING POLICY PLANS AND PROGRAMS.
| DEPUTY TO THE COMMANDING GENERAL, COMBINED ARMS SUPPORT COMMAND.
| ASSISTANT DEPUTY CHIEF OF STAFF FOR BASE OPERATIONS SUPPORT.
| ASSISTANT DEPUTY CHIEF OF STAFF FOR COMBAT DEVELOPMENT.
| DEPUTY CHIEF OF STAFF FOR BASE OPERATIONS SUPPORT.
| DEPUTY CHIEF OF STAFF FOR PERSONNEL, ENGINEERING, ENVIRONMENTAL AND LOGISTICS.
| DEPUTY TO THE COMMANDING GENERAL FIRES/DIRECTOR, CAPABILITIES, DEVELOPMENT AND INTEGRATION.
TRAINING AND DOCTRINE COMMAND ANALYSIS CENTER | DIRECTOR OF OPERATIONS.
| DIRECTOR OF OPERATIONS.
| DIRECTOR.
UNITED STATES ARMY NUCLEAR AND CHEMICAL AGENCY | DIRECTOR, UNITED STATES ARMY NUCLEAR AND CHEMICAL AGENCY.
MILITARY TRAFFIC MANAGEMENT COMMAND | SPECIAL ASSISTANT FOR TRANSPORTATION ENGINEERING.
UNITED STATES ARMY FORCES COMMAND | ASSISTANT DEPUTY CHIEF OF STAFF FOR PERSONNEL AND INSTALLATION MANAGEMENT.
| ASSISTANT DEPUTY CHIEF OF STAFF FOR LOGISTICS AND READINESS.
| DEPUTY CHIEF OF STAFF FOR RESOURCE MANAGEMENT.
| CHIEF EXECUTIVE OFFICER.
UNITED STATES ARMY NETWORK ENTERPRISE TECHNOLOGY COMMAND/9TH ARMY SIGNAL COMMAND | DEPUTY TO COMMANDER/SENIOR TECHNICAL DIRECTOR/CHIEF ENGINEER.
UNITED STATES ARMY CORPS OF ENGINEERS | DIRECTOR, REAL ESTATE.
| DIRECTOR OF HUMAN RESOURCES.
| DIRECTOR OF RESOURCE MANAGEMENT.
| PRINCIPAL ASSISTANT RESPONSIBLE FOR CONTRACTING.
| DIRECTOR OF CORPORATE INFORMATION.
| REGIONAL BUSINESS DIRECTOR.
| REGIONAL BUSINESS DIRECTOR.
| PROGRAMS DIRECTOR.
| PROGRAMS DIRECTOR.
| DIRECTOR OF CONTRACTING.
| DIRECTOR, RESEARCH AND DEVELOPMENT AND DIRECTOR, ENGINEERING RESEARCH AND DEVELOPMENT CENTER.
DIRECTORATE OF RESEARCH AND DEVELOPMENT | DIRECTOR OF RESEARCH AND DEVELOPMENT.
| DEPUTY DIRECTOR.
DIRECTORATE OF CIVIL WORKS | CHIEF, PROGRAMS MANAGEMENT DIVISION.
| PRINCIPAL ASSISTANT FOR CIVIL WORKS.
| CHIEF, ENGINEERING AND CONSTRUCTION DIVISION.
| CHIEF, OPERATIONS DIVISION.
| CHIEF, PLANNING AND POLICY DIVISION.
DIRECTORATE OF MILITARY PROGRAMS | DEPUTY DIRECTOR OF MILITARY PROGRAMS.
| CHIEF, PROGRAMS MANAGEMENT DIVISION.
| CHIEF, ENVIRONMENTAL DIVISION.
| CHIEF, INTERAGENCY AND INTERNATIONAL SERVICES DIVISION.
| CHIEF, INSTALLATION SUPPORT DIVISION.
DIRECTORS OF PROGRAMS MANAGEMENT | PROGRAMS DIRECTOR.
| PROGRAMS DIRECTOR.
| PROGRAMS DIRECTOR.
| PROGRAMS DIRECTOR.
| PROGRAMS DIRECTOR.
| PROGRAMS DIRECTOR.
DIRECTORS OF ENGINEERING AND TECHNICAL SERVICES | REGIONAL BUSINESS DIRECTOR.
| REGIONAL BUSINESS DIRECTOR.
| REGIONAL BUSINESS DIRECTOR.
| REGIONAL BUSINESS DIRECTOR.
| REGIONAL BUSINESS DIRECTOR.
| REGIONAL BUSINESS DIRECTOR.
ENGINEER RESEARCH AND DEVELOPMENT CENTER | DIRECTOR, ENVIRONMENTAL LABORATORY.
| DIRECTOR, COASTAL AND HYDRAULICS LABORATORY.
| DIRECTOR, ENGINEER RESEARCH AND DEVELOPMENT.
| DEPUTY DIRECTOR ENGINEER RESEARCH AND DEVELOPMENT CENTER.
| DIRECTOR, INFORMATION TECHNOLOGY LABORATORY.
| DIRECTOR GEOTECHNICAL AND STRUCTURES LABORATORY.
ENGINEER TOPOGRAPHIC LABORATORIES, CENTER OF ENGINEERS | DIRECTOR.
CONSTRUCTION ENGINEERING RESEARCH LABORATORY CHAMPAIGN, ILLINOIS | DIRECTOR, CONSTRUCTION ENGINEERING RESEARCH LABORATORIES.
COLD REGIONS RESEARCH AND ENGINEERING LABORATORY HANOVER, NEW HAMSHIRE | DIRECTOR, COLD REGIONS RESEARCH AND ENGINEERING LABORATORY.
UNITED STATES ARMY MATERIEL COMMAND | DIRECTOR FOR CONTRACTING.
| DEPUTY CHIEF OF STAFF FOR CORPORATE INFORMATION/CHIEF INFORMATION OFFICER.
| DEPUTY FOR OPERATIONS.
| SPECIAL ASSISTANT TO THE EXECUTIVE DEPUTY TO THE COMMANDING GENERAL FOR ARMY MATERIEL COMMAND TRANSFORMATION INTEGRATION.
| DEPUTY G-3 FOR SUPPORT OPERATIONS.
| DEPUTY G-3 FOR CURRENT OPERATIONS.
| DEPUTY CHIEF OF STAFF FOR BUSINESS TRANSFORMATION, G-7.
| DIRECTOR, SIMULATION AND TRAINING TECHNOLOGY CENTER.
OFFICE OF DEPUTY CHIEF OF STAFF FOR LOGISTICS AND OPERATIONS | DIRECTOR ARMY SINGLE STOCK FUND/DIRECTOR ARMY.
| MATERIEL COMMAND LOGISTICS SYSTEMS AND PROCESSES.
| DEPUTY G-3 FOR ENTERPRISE INTEGRATION.
| Did not find title for this position.
SPECIAL ANALYSIS OFFICE | CHIEF, STATEGIC ANALYSIS AND PLANNING OFFICE.
OFFICE DEPUTY COMMANDING GENERAL | PRINCIPAL DEPUTY FOR LOGISTICS.
| EXECUTIVE DEPUTY TO THE COMMANDING GENERAL.
OFFICE OF DEPUTY CHIEF OF STAFF FOR AMMUNITION | ASSISTANT DEPUTY CHIEF OF STAFF FOR AMMUNITION.
OFFICE OF DEPUTY CHIEF OF STAFF FOR PERSONNEL | DEPUTY CHIEF OF STAFF FOR PERSONNEL.
OFFICE OF THE DEPUTY CHIEF OF STAFF FOR RESOURCE MANAGEMENT | ASSISTANT DEPUTY CHIEF OF STAFF FOR RESOURCE.
| MANAGEMENT/EXECUTIVE DIRECTOR FOR BUSINESS.
| DEPUTY CHIEF OF STAFF FOR RESOURCE MANAGEMENT.
| DEPUTY CHIEF OF STAFF FOR RESOURCE MANAGEMENT.
UNITED STATES OF AMERICA SECURITY ASSISTANCE COMMAND | DEPUTY.
UNITED STATES ARMY FIELD SUPPORT COMMAND | DIRECTOR OF ACQUSITION CENTER.
| DEPUTY TO THE COMMANDER.
| EXECUTIVE DIRECTOR FOR AMMUNITION.
NATICK SOLDIER CENTER | DIRECTOR, UNITED STATES ARMY NATICK RESEARCH, DEVELOPMENT AND ENGINEERING CENTER.
UNITED STATES ARMY SOLDIER AND BIOLOGICAL COMMAND (SOLDIER AND BIOLOGICAL COMMAND) | DIRECTOR, ENGINEERING DIRECTORATE.
| TECHNICAL DIRECTOR.
| DIRECTOR, UNITED STATES ARMY ROBERT MORRIS ACQUISITION CENTER.
UNITED STATES ARMY COMMUNICATIONS ELECTION COMMAND (COMMUNICATIONS ELECTION COMMAND) | DIRECTOR, COMMUNICATIONS ELECTION COMMAND ACQUISITION CENTER.
| DEPUTY TO THE COMMANDER.
COMMUNICATIONS ELECTRONICS COMMAND RESEARCH, DEVELOPMENT AND ENGINEERING CENTER | DIRECTOR-NIGHT VISION/ELECTROMAGNETICS SENSORS DIRECTORATE.
COMMUNICATIONS ELECTRONICS COMMAND RESEARCH, DEVELOPMENT AND ENGINEERING CENTER | DIRECTOR, SPACE AND TERRESTRIAL COMMITTEE DIRECTORATE.
| DIRECTOR, INTELLIGENCE AND INFORMATION WARFARE DIRECTORATE.
| DIRECTOR, SOFTWARE ENGINEERING DIRECTORATE.
| DIRECTOR/ARMY SYSTEMS ENGINEER.
| DIRECTOR FOR COMMAND, CONTROL, COMMUNICATIONS, COMPUTERS, INTELLIGENCE LOGISTICS AND READINESS CENTER.
| ASSOCIATE TECHNICAL DIRECTOR RESREACH DEVELOPMENT AND ENGINEERING CENTER.
| DIRECTOR, COMMAND, CONTROL AND SYSTEM INTEGRATION DIRECTORATE.
UNITED STATES ARMY RESEARCH LABORATORY | DIRECTOR UNITED STATES ARMY RESEARCH LABORATORY.
| ASSOCIATE DIRECTOR FOR PLANS, PROGRAMS AND BUDGET.
| DEPUTY DIRECTOR.
| DIRECTOR, COMPUTATIONAL AND INFORMATION SCIENCES DIRECTORATE.
SURVIVABILITY/LETHALITY ANALYSIS DIRECTORATE | DIRECTOR, SURVIVABILITY/LETHALITY ANALYSIS DIRECTORATE.
ARMY RESEARCH OFFICE | DIRECTOR.
| DIRECTOR, RESEARCH AND TECHNOLOGY INTEGRATION.
| DIRECTOR, EGINEERING SCIENCES DIRECTORATE.
| DIRECTOR, PHYSICAL SCIENCES DIRECTORATE.
SENSORS AND ELECTRON DEVICES DIRECTORATE | DIRECTOR.
COMPUTATIONAL AND INFORMATION SCIENCES DIRECTORATE | DEPUTY DIRECTOR.
WEAPONS AND MATERIAL RESEARCH DIRECTOARATE | DEPUTY DIRECTOR AND DIRECTORATE MATERIALS RESEARCH DIRECTOR.
HUMAN RESEARCH AND ENGINEERING DIRECTORATE (ARMY RESEARCH LABORATORY) | DIRECTOR, HUMAN RESEARCH AND ENGINEERING DIRECTORATE.
UNITED STATES ARMY AVIATION AND MISSILE COMMAND (ARMY MATERIEL COMMAND) | EXECUTIVE DIRECTOR, ACQUISITION CENTER.
| DIRECTOR FOR ENGINEERING.
| EXECUTIVE DIRECTOR, INTEGRATED MATERIEL MANAGEMENT CENTER.
| DIRECTOR FOR TEST MEASUREMENT DIAGNOSTIC EQUIPMENT ACTIVITY.
| DEPUTY TO THE COMMANDER.
| DEPUTY TO THE COMMANDER.
| EXECUTIVE DIRECTOR ACQUISITION CENTER.
| EXECUTIVE DIRECTOR INTEGRATED MATERIAL MANAGEMENT CENTER.
| DEPUTY TO THE COMMANDER FOR SYSTEMS SUPPORT.
MISSILE RESEARCH DEVELOPMENT AND ENGINEERING CENTER (RESEARCH DEVELOPMENT AND ENGINEERING CENTER) | DIRECTOR FOR SYSTEMS SIMULATION AND DEVELOPMENT.
| TECHNOLOGY DIRECTOR FOR MISSILES AND DEVELOPMENT, RESEARCH, DEVELOPMENT AND ENGINEERING CENTER.
| ASSOCIATE DIRECTOR FOR AVIATION AND MISSILE SYSTEMS.
| DIRECTOR FOR WEAPONS SCIENCES.
| DIRECTOR FOR MISSILE GUIDANCE.
| DIRECTOR FOR PROPULSION AND STRUCTURES.
AVIATION RESEARCH, DEVELOPMENT AND ENGINEERING CENTER | DIRECTOR OF AVIATION ENGINEERING.
| DIRECTOR OF AEROFLIGHT DYNAMICS.
| DIRECTOR OF ADVANCED SYSTEMS/ASSOCIATE DIRECTOR FOR TECHNOLOGY.
| ASSOCIATE DIRECTOR FOR TECHNICAL APPLIED/DIRECTOR OF SPECIAL PROGRAM.
RESEARCH, DEVELOPMENT AND ENGINEERING COMMAND | DEPUTY TO THE COMMANDER.
TANK-AUTOMOTIVE AND ARMAMENTS COMMAND (TANK-AUTOMOTIVE AND ARMAMENTS COMMAND) | DIRECTOR OF ACQUISITION CENTER DIRECTOR, INTEGRATED LOGISTICS SUPPORT CENTER DEPUTY TO THE COMMANDER.
TANK-AUTOMOTIVE RESEARCH, DEVELOPMENT AND EENGINEERING CENTER (TANK-AUTOMOTIVE RESEARCH, DEVELOPMENT AND EENGINEERING CENTER) | EXECUTIVE DIRECTOR FOR RESEARCH AND TECHNICAL.
| DIRECTOR.
| DIRECTOR.
| EXECUTIVE DIRECTOR FOR ENGINEERING.
| EXECUTIVE DIRECTOR FOR PRODUCT DEVELOPMENT.
UNITED STATES ARMY ARMAMENT RESEARCH, DEVELOPMENT AND ENGINEERING CENTER (ARMAMENT RESEARCH, DEVELOPMENT AND ENGINEERING CENTER) | TECHNICAL DIRECTOR FOR ARMAMENT.
| ASSISTANT TECHNICAL DIRECTORATE (SYSTEMS CONCEPTS AND TECHNOLOGY).
WARHEADS, ENERGETICS AND COMBAT SUPPORT ARMAMENTS CENTER | DIRECTOR, WARHEADS ENERGETICS AND COMBAT SUPPORT ARMAMENTS CENTER.
FIRE SUPPORT ARMAMENTS CENTERS | SENIOR TECHINCAL EXECUTIVE FOR FIRE SUPPORT.
CLOSE COMBAT ARMAMENTS CENTER | DEPUTY DIRECTOR, CLOSE COMBAT ARMAMENT.
UNITED STATES ARMY SIMULATION, TRAINING AND INSTRUMENTATION COMMAND | DEPUTY TO THE COMMANDER.
UNITED STATES ARMY TEST AND EVALUATION COMMAND, (TEST AND EVALUATION COMMAND) | EXECUTIVE DIRECTOR.
| DIRECTOR OF TEST MANAGEMENT.
| DIRECTOR, JOINT PROGRAM OFFICE FOR TEST AND EVALUATION.
UNITED STATES ARMY MATERIEL SYSTEMS ANALYSIS ACTIVITY | DIRECTOR.
| CHIEF, COMBAT INTEGRATION DIVISION.
HEADQUARTERS, UNITED STATES ARMY, EUROPE | ASSISTANT DEPUTY CHIEF OF STAFF, PERSONNEL (CIVILIAN PERSONNEL).
| ASSISTANT DEPUTY CHIEF OF STAFF ENGINEER FOR ENGINEERING AND HOUSING.
| DEPUTY CHIEF OF STAFF G-8.
| DEPUTY DIRECTOR, LOGISTICS AND SECURITY ASSISTANCE.
UNITED STATES ARMY MILITARY DISTRICT OF WASHINGTON | DIRECTOR OF CEMETERY OPERATIONS.
UNITED STATES SOUTHERN COMMAND | SUSTAINING BASE OPERATIONS ADVISOR.
DEPARTMENT OF THE NAVY:
OFFICE OF THE SECRETARY | CHIEF INFORMATION OFFICER.
OFFICE OF THE UNDER SECRETARY OF THE NAVY | ASSISTANT FOR ADMINISTRATION.
| ASSISTANT FOR ADMINISTRATION.
OFFICE OF THE NAVAL INSPECTOR GENERAL | DEPUTY NAVAL INSPECTOR GENERAL.
| DEPUTY NAVAL INSPECTOR GENERAL.
OFFICE OF THE AUDITOR GENERAL | ASSISTANT AUDITOR GENERAL FOR FINANCIAL MANAGEMENT AND COMPTROLLER AUDITS.
| ASSISTANT AUDITOR GENERAL FOR MANPOWER AND RESERVE.
OFFICE OF THE AUDITOR GENERAL | AFFAIRS AUDITS.
| AUDITOR GENERAL OF THE NAVY.
| DEPUTY AUDITOR GENERAL OF THE NAVY.
| ASSISTANT AUDITOR GENERAL FOR INSTALLATION AND ENVIRONMENT AUDITS.
| ASSISTANT AUDITOR GENERAL FOR RESEARCH, DEVELOPMENT, ACQUISITION AND LOGISTICS AUDITS.
| AUDITOR GENERAL OF THE NAVY.
| DEPUTY AUDITOR GENERAL OF THE NAVY.
OFFICE OF THE ASSISTANT SECRETARY OF NAVY (MANPOWER AND RESEARCH AFFAIRS) | ASSISTANT GENERAL COUNSEL (MANPOWER AND RESERVE AFFAIRS).
| DEPUTY ASSISTANT SECRETARY OF THE NAVY (CIVILIAN HUMAN RESOURCES).
| ASSISTANT GENERAL COUNSEL (MANPOWER AND RESERVE AFFAIRS).
| DEPUTY ASSISTANT SECRETARY OF THE NAVY (CIVILIAN HUMAN RESOURES).
OFFICE OF CIVILIAN HUMAN RESOURCES | DIRECTOR, OFFICE OF CIVILIAN HUMAN RESOURCES.
| DIRECTOR, OFFICE OF CIVILIAN HUMAN RESOURCES.
| DIRECTOR, HUMAN RESOURCE POLICY AND PROGRAM DEPARTMENT.
| DIRECTOR, HUMAN RESOURCE OPERATIONS DEPARTMENT.
OFFICE ASSISTANT SECRETARY OF NAVY (INSTALLATIONS AND ENVIRONMENT) | PROGRAM MANAGER, BASE REALIGNMENT AND CLOSURE MANAGEMENT OFFICE.
| ASSISTANT GENERAL COUNSEL (INSTALLATIONS AND ENVIRONMENT).
OFFICE ASSISTANT SECRETARY OF THE NAVY (RESEARCH, DEVELOPMENT AND ACQUISITION) | DEPUTY CHIEF ENGINEER.
| EXECUTIVE DIRECTOR FOR ACQUISITION AND BUSINESS MANAGEMENT.
| ASSISTANT GENERAL COUNSEL (RESEARCH, DEVELOPMENT AND ACQUISITION).
| DIRECTOR, ACQUISITION CAREER MANAGEMENT.
| EXECUTIVE DIRECTOR, ACQUISITION AND BUSINESS MANAGEMENT.
| DIRECTOR, PROGRAM ANALYSIS AND BUSINESS TRANSFORMATION.
| ASSISTANT GENERAL COUNSEL (RESEARCH, DEVELOPMENT AND ACQUISITION).
| DIRECTOR, PROGRAM ANALYSIS AND BUSINESS TRANSFORMATION.
| EXECUTIVE DIRECTOR, NAVY INTERNATIONAL PROGRAMS OFFICE.
| EXECUTIVE DIRECTOR, NAVY INTERNATIONAL PROGRAMS OFFICE.
| DEPUTY ASSISTANT SECRETARY OF THE NAVY (RESEARCH, DEVELOPMENT, TEST AND EVALUATION).
PROGRAM EXECUTIVE OFFICERS | PROGRAM EXECUTIVE OFFICERS, LITTORAL AND MINE AND WARFARE.
| EXECUTIVE DIRECTOR, COMBATANTS, PROGRAM EXECUTIVE OFFICE SHIPS.
| EXECUTIVE DIRECTOR, PROGRAM EXECUTIVE OFFICE FOR AIRCRAFT CARRIERS.
| EXECUTIVE DIRECTOR FOR PROGRAM ASSESSMENT AND INTEGRATION/DEPUTY PROGRAM EXECUTIVE OFFICER FOR COMMAND, CONTROL, COMMUNICATIONS, COMPUTERS AND INTELLIGENCE AND SPACE.
| DIRECTOR FOR SURFACE SHIP WEAPONS DIRECTORATE.
| DIRECTOR FOR ABOVE WATER SENSORS DIRECTORATE.
| DIRECTOR FOR COMBAT SYSTEMS PROGRAMS.
| CHIEF ENGINEER, PROGRAM EXECUTIVE OFFICE (INTEGRATED WARFARE SYSTEMS).
| DEPUTY PROGRAM EXECUTIVE OFFICER FOR UNMANNED AERIAL VEHICLES.
| DIRECTOR FOR INTEGRATED COMBAT SYSTEMS FOR INTEGRATED WARFARE SYSTEMS.
| EXECUTIVE DIRECTOR, COMBATANTS, PROGRAM EXECUTIVE OFFICERS SHIPS.
| EXECUTIVE DIRECTOR, PROGRAM EXECUTIVE OFFICERS FOR AIRCRAFT CARRIERS.
| DEPUTY PROGRAM EXECUTIVE OFFICER FOR STRIKE WEAPONS.
| TECHNICAL DIRECTOR, PROGRAM EXECUTIVE OFFICER, SUBMARINES.
| EXECUTIVE DIRECTOR, PROGRAM EXECUTIVE OFFICE SUBMARINES.
| DEPUTY PROGRAM EXECUTIVE OFFICER FOR AIR ANTISUBMARINE WARFARE, ASSAULT AND SPECIAL MISSION PROGRAMS.
| DEPUTY PROGRAM EXECUTIVE OFFICER FOR TACTICAL AIR PROGRAMS.
| EXECUTIVE DIRECTOR, PROGRAM EXECUTIVE OFFICER LITTORAL AND MINE WARFARE.
| EXECUTIVE DIRECTOR FOR PROGRAM ASSESSMENT AND INTEGRATION/DEPUTY PROGRAM FOR COMMAND, CONTROL, COMMUNICATIONS, COMPUTERS AND INTELLIGENCE AND SPACE.
| DEPUTY PROGRAM EXECUTIVE OFFICER FOR UNMANNED AERIAL VEHICLES.
| DEPUTY PROGRAM EXECUTIVE OFFICERS FOR STRIKE WEAPONS.
| PROGRAM EXECUTIVE OFFICER FOR INFORMATION TECHNOLOGY/ENTERPRISE ACQUISITION MANAGER FOR INFORMATION TECHNOLOGY.
| EXECUTIVE DIRECTOR, FLEET SUPPORT, PROGRAM EXECUTIVE OFFICE SHIPS.
| PROGRAM EXECUTIVE OFFICER FOR AIR, ANTI-SUBMARINE WARFARE, ASSAULT AND SPECIAL MISSION PROGRAMS DEPUTY PROGRAM EXECUTIVE OFFICERS FOR TACTICAL AIR PROGRAMS.
| EXECUTIVE DIRECTOR, PROGRAM EXECTIVE OFFICER LITTORAL AND MINE WARFARE.
| EXECUTIVE DIRECTOR, SPACE TECHNOLOGY SYSTEMS PROGRAM DIRECTORATE.
| PROGRAM EXECUTIVE OFFICERS FOR INFORMATION.
| EXECUTIVE DIRECTOR, FLEET SUPPORT, PROGRAM EXECUTIVE OFFICERS SHIPS.
| PROGRAM EXECUTIVE OFFICER FOR AIR ANTI-SUBMARINE WARFARE, ASSAULT AND SPECIAL MISSION PROGRAMS.
| DEPUTY PROGRAM EXECUTIVE OFFICERS FOR SPACE SYSTEMS AND EXECUTIVE DIRECTOR, SPACE AND NAVAL WARFARE SYSTEMS COMMAND, SPACE FIELD ACTIVITY.
| EXECUTIVE DIRECTOR, PROGRAM EXECUTIVE OFFICE FOR INTEGRATED WARFARE SYSTEMS.
| PROGRAM EXECUTIVE OFFICER FOR COMMAND, CONTROL, COMMUNICATIONS, COMPUTERS AND INTELLIGENCE AND SPACE PROGRAM MANAGER, NAVY/MARINE CORPS INTRANET.
| EXECUTIVE DIRECTOR, PROGRAM EXECUTIVE OFFICERS FOR INTEGRATED WARFARE SYSTEMS.
| PROGRAM EXECUTIVE OFFICERS FOR COMMAND, CONTROL, COMMUNICATIONS, COMPUTERS AND INTELLIGENCE AND SPACE.
STRATEGIC SYSTEMS PROGRAMS | DIRECTOR, PLANS AND PROGRAMS DIVISION CHIEF ENGINEER.
| ASSISTANT FOR SHIPBOARD SYSTEMS.
| BRANCH HEAD, REENTRY SYSTEMS BRANCH.
| DIRECTOR, PLANS AND PROGRAMS DIVISION.
| TECHNICAL PLANS AND PAYLOADS INTEGRATION OFFICER.
| HEAD, RESOURCES BRANCH (COMPTROLLER) AND DEPUTY DIRECTOR, PLANS AND PROGRAM DIVISION.
| ASSISTANT FOR MISSILE ENGINEERING SYSTEMS.
| CHIEF ENGINEER.
| ASSISTANT FOR SYSTEMS INTEGRATION AND COMPATIBILITY.
OFFICE OF THE ASSISTANT SECRETARY OF NAVY (FINANCIAL MANAGEMENT AND COMPTROLLER) | ASSOCIATE DIRECTOR, BUDGET AND REPORTS/FISCAL MANAGEMENT DIVISION.
| ASSISTANT GENERAL COUNSEL (FINANCIAL MANAGEMENT/COMPTROLLER).
| DIRECTOR, INVESTMENT AND DEVELOPMENT DIVISION.
| DIRECTOR, PROGRAM/BUDGET COORDINATION DIVISION.
| ASSOCIATE DIRECTOR, OFFICE OF BUDGET/FISCAL MANAGEMENT DIVISION.
| ASSISTANT GENERAL COUNSEL (FINANCIAL MANAGEMENT AND COMPTROLLER).
| DIRECTOR, INVESTMENT AND DEVELOPMENT DIVISION.
| DIRECTOR, OFFICE OF FINANCIAL OPERATIONS.
| DIRECTOR, BUDGET POLICY AND PROCEDURES DIVISION.
| DIRECTOR, PROGRAM/BUDGET COORDINATION DIVISION.
| DIRECTOR, NAVAL COST ANALYSIS DIVISION.
| DIRECTOR, OFFICE OF FINANCIAL OPERATIONS.
| DIRECTOR, BUDGET AND POLICY AND PROCEDURES DIVISION.
| DIRECTOR, CIVILIAN RESOURCES AND BUSINESS AFFAIRS DIVISION.
OFFICE OF THE GENERAL COUNSEL | SPECIAL COUNSEL FOR LITIGATION.
NAVAL CRIMINAL INVESTIGATIVE SERVICE | EXECUTIVE ASSISTANT DIRECTOR FOR CRIMINAL INVESTIGATIONS.
| EXECUTIVE ASSISTANT DIRECTOR FOR COUNTERTERRORISM.
| DIRECTOR, NAVAL CRIMINAL INVESTIGATIVE SERVICE.
| EXECUTIVE ASSISTANT DIRECTOR FOR COUNTERINTELLIGENCE.
| EXECUTIVE ASSISTANT DIRECTOR FOR CRIMINAL INVESTIGATIONS.
| EXECUTIVE ASSISTANT DIRECTOR FOR COUNTERTERRORISM.
| DIRECTOR, NAVAL CRIMINAL INVESTIGATIVE SERVICE EXECUTIVE.
| ASSISTANT DIRECTOR FOR COUNTERINTELLIGENCE.
| EXECUTIVE ASSISTANT DIRECTOR FOR ATLANTIC OPERATIONS.
| EXECUTIVE ASSISTANT DIRECTOR FOR PACIFIC OPERATIONS.
| DEPUTY DIRECTOR FOR OPERATIONS, NAVAL CRIMINAL INVESTIGATIVE SERVICE.
| DEPUTY DIRECTOR FOR OPERATIONS, NAVAL CRIMINAL INVESTIGATIVE SERVICE.
CHIEF OF NAVAL OPERATIONS | DIRECTOR, STRATEGIC PLANNING AND ANALYSIS DIVISION.
| ASSISTANT DEPUTY CHIEF OF NAVAL OPERATIONS (LOGISTICS).
| ASSISTANT DEPUTY CHIEF OF NAVAL OPERATION (RESOURCES, WARFARE REQUIREMENTS, AND ASSESSMENTS).
| DEPUTY TO THE DEPUTY CHIEF OF NAVAL OPERATIONS (COMMUNICATIONS AND NETWORKS).
| ASSISTANT DEPUTY CHIEF OF NAVAL OPERATIONS (MANPOWER AND PERSONNEL).
| ASSISTANT DEPUTY CHIEF OF NAVAL OPERATIONS (WARFARE REQUIREMENTS AND PROGRAMS).
| DIRECTOR, SPECIAL PROGRAMS DIVISION.
| DEPUTY DIRECTOR, WARFARE INTEGRATION AND ASSESSMENT DIVISION.
| DEPUTY DIRECTOR FOR NETWORKS INTEGRATION AND TRANSFORMATION/ASSOCIATE DIRECTOR, NAVY INFORMATION OFFICER.
| DEPUTY CHIEF OF NAVAL RESERVE.
| ASSOCIATE DIRECTOR, ASSESSMENT DIVISION.
| TECHNICAL DIRECTOR, OCEANOGRAPHER OF THE NAVY.
| ASSISTANT DEPUTY CHIEF OF NAVAL OPERATIONS (LOGISTICS).
| ASSISTANT DEPUTY CHIEF OF NAVAL OPERATIONS (RESOURCES, WARFARE REQUIREMENTS AND ASSESSMENTS).
| DEPUTY DIRECTOR CHIEF OF NAVAL OPERATIONS (COMMUNICATIONS AND NETWORKS).
| DIRECTOR, SPECIAL PROGRAMS DIVISION.
| DEPUTY DIRECTOR, NAVY STAFF.
| DEPUTY DIRECTOR FOR PROGRAMMING (N80) AND DEPARTMENT OF THE NAVY PROGRAM INFORMATION CENTER.
| ASSOCIATE DIRECTOR, ASSESSMENT DIVISION.
| HEAD, CAMPAIGN ANALYSIS BRANCH.
| DIRECTOR, LOGISTICS PLANNING AND INNOVATION.
| DIRECTOR NAVAL HISTORY/DIRECTOR, NAVAL HISTORICAL CENTER.
| FINANCIAL MANAGER AND CHIEF RESOURCES OFFICER FOR MANPOWER, PERSONNEL, TRAINING AND EDUCATION.
| DIRECTOR, LOGISTICS PLANNING AND INNOVATION.
| DEPUTY DIRECTOR ENVIRONMENTAL PROTECTION SAFETY OCCUPATIONAL HEALTH DIVISION.
| DIRECTOR, STRATEGIC SEALIFT DIVISION.
| DIRECTOR, STRATEGIC SEALIFT DIVISION.
BUREAU OF NAVAL PERSONNEL | FINANCIAL MANAGER AND CHIEF RESOURCES OFFICER FOR MANPOWER, PERSONNEL, TRAINING, AND EDUCATION ENTERPRISE.
| DEPUTY COMMANDER, NAVY PERSONNEL COMMAND.
COMMANDER, NAVY INSTALLATIONS | COUNSEL, COMMANDER NAVY INSTALLATIONS COMMAND.
| DEPUTY REGIONAL COMMANDER (SOUTH).
| BUSINESS MANAGER/CHIEF OPERATING OFFICER.
| COMPTROLLER.
| DEPUTY COMMANDER, NAVY INSTALLATIONS.
| BUSINESS MANAGER/CHIEF OPERATING OFFICER.
| DEPUTY COMMANDER.
BUREAU OF MEDICINE AND SURGERY | DEPUTY COMMANDER FOR FINANCIAL MANAGEMENT AND COMPTROLLER.
| COMPTROLLER/DEPUTY CHIEF OF STAFF FOR RESOURCE MANAGEMENT.
MILITARY SEALIFT COMMAND | DIRECTOR, NAVY FLEET AUXILARY FORCE AND SPECIAL MISSION SHIPS.
| DIRECTOR, STRATEGIC SEALIFT AND PREPOSITIONING COUNSEL.
| COMPTROLLER.
| COUNSEL, MILITARY SEALIFT COMMAND.
| COMPTROLLER.
| EXECUTIVE DIRECTOR.
| EXECUTIVE DIRECTOR.
NAVAL METEOROLOGY AND OCEANOGRAPHY COMMUNICATIONS, STENNIS SPACE CENTER, MISSISSIPPI | TECHNICAL/DEPUTY DIRECTOR.
OFFICE OF COMMANDER, UNITED STATES FLEET FORCES COMMAND/JOINT FORCES COMMAND | CHIEF OF STAFF.
| DIRECTOR, JOINT TRAINING, ANALYSIS, AND SIMULATION CENTER.
| DEPUTY DIRECTOR FLEET MAINTENANCE.
| DEPUTY DIRECTOR, JOINT OPERATIONS AND GLOBAL FORCE MANAGEMENT.
| DIRECTOR, FLEET MANPOWER AND PERSONNEL.
| EXECUTIVE DIRECTOR, JOINT WARFARE ANALYSIS CENTER.
| DIRECTOR, JOINT DEVELOPMENT CONCEPT PATHWAY.
| DIRECTOR, JOINT PROTOTYPE PATHWAY.
| DIRECTOR, JOINT DEPLOYMENT, EMPLOYMENT, AND SUSTAINMENT.
| DEPUTY DIRECTOR, FLEET WARFARE PROGRAMS.
| DEPUTY COMMANDER, NAVAL NETWORK WARFARE COMMAND.
| CHIEF OF STAFF.
| EXECUTIVE DIRECTOR, JOINT WARFIGHTING COMMAND.
| EXECUTIVE DIRECTOR, JOINT FUTURES LAB.
| DIRECTOR, FLEET MANPOWER AND PERSONNEL.
| DIRECTOR, JOINT INTEROPERABILITY AND INTEGRATION/JOINT BATTLE MANAGEMENT COMMAND AND CONTROL.
| EXECUTIVE DIRECTOR, JOINT WARFARE ANALYSIS CENTER.
| DIRECTOR, JOINT DEVELOPMENT CONCEPT PATHWAY, JOINT FUTURES LAB.
| DIRECTOR, JOINT PROTOTYPE PATHWAY.
| DIRECTOR, JOINT DEPLOYMENT, EMPLOYMENT, AND SUSTAINMENT.
| DEPUTY COMMANDER, NAVAL NETWORK WARFARE COMMAND.
| EXECUTIVE DIRECTOR, JOINT FUTURES LAB.
| EXECUTIVE DIRECTOR, JOINT REQUIREMENTS AND INTEGRATION DIRECTORATE.
| DEPUTY DIRECTOR, FLEET READINESS AND TRAINING.
OFFICE OF THE COMMANDER, UNITED STATES PACIFIC COMMAND | SPECIAL ADVISOR TO THE COMMANDER, U.S. PACIFIC COMMAND.
| CHIEF INFORMATION OFFICER.
OFFICE OF THE COMMANDER, UNITED STATES PACIFIC FLEET | DEPUTY DIRECTOR FLEET MAINTENANCE.
| EXECUTIVE DIRECTOR, FLEET COMMAND, CONTROL, COMMUNICATIONS AND COMPUTER SYSTEMS AND COMMAND INFORMATION OFFICER.
| EXECUTIVE DIRECTOR, TOTAL FORCE MANAGEMENT.
| EXECUTIVE DIRECTOR, OPERATIONS, PLANS, AND POLICY.
| DEPUTY FOR FLEET ANTI-SUBMARINE WARFARE COMMAND.
| EXECUTIVE DIRECTOR, WARFARE REQUIREMENTS, PROGRAMMING, FORCE STRUCTURE AND ANALYSIS.
| DEPUTY DIRECTOR, FLEET MAINTENANCE.
| EXECUTIVE DIRECTOR, TOTAL FORCE MANAGEMENT.
| DEPUTY FOR FLEET ANTI-SUBMARINE WARFARE COMMAND.
NAVAL PERSONNEL DEVELOPMENT COMMAND | EXECUTIVE DIRECTOR.
NAVY RECRUITING COMMAND | DEPUTY COMMANDER.
NAVAL AIR SYSTEMS COMMAND HEADQUARTERS | DIRECTOR, ENTERPRISE ANALYSIS AND PLANNING.
| DEPUTY COMMANDER FOR ACQUSITION AND OPERATIONS.
| PRINCIPAL ASSISTANT FOR AIR WARFARE ACQUISITION ANALYSIS AND PLANNING.
| DEPUTY ASSISTANT COMMANDER FOR CONTRACTS.
| COMPTROLLER.
| COUNSEL, NAVAL AIR SYSTEMS COMMAND.
| DIRECTOR, SYSTEMS ENGINEERING DEPARTMENT.
| DIRECTOR, AVIONICS DEPARTMENT.
| DIRECTOR, AIR VEHICLES AND UNMANNED AERIAL VEHICLES.
| DIRECTOR, LOGISTICS MANAGEMENT INTEGRATION
| DIRECTOR, TACTICAL AIRCRAFT AND MISSILES CONTRACTS DEPARTMENT.
| DIRECTOR, ENTERPRISE ANALYSIS, AND PLANNING.
| ASSISTANT COMMANDER FOR CORPORATE OPERATIONS AND TOTAL FORCE READINESS.
| ASSISTANT COMMANDER FOR ACQUISITION PROCESSES AND EXECUTION.
| DIRECTOR, COST ANALYSIS DEPARTMENT.
| DEPUTY ASSISTANT COMMANDER FOR ACQUISITION AND OPERATIONS.
| DEPUTY ASSISTANT COMMANDER, RESEARCH AND ENGINEERING.
| DEPUTY ASSISTANT COMMANDER FOR CONTRACTS.
| COMPTROLLER.
| COUNSEL, NAVAL AIR SYSTEMS COMMAND.
| DIRECTOR, SYSTEMS ENGINEERING DIVISION.
| DIRECTOR INDUSTRIAL OPERATIONS.
| DIRECTOR, AVIONICS DEPARTMENT.
| DIRECTOR, PROPULSION AND POWER.
| DIRECTOR, AIR PLATFORM SYSTEMS.
| DIRECTOR, AIR VEHICLES AND UNMANNED AIR VEHICLES.
| DIRECTOR, INTEGRATED SYSTEMS EVALUATION EXPERIMENTATION AND TEST DEPARTMENT.
| DIRECTOR, AVIATION READINESS AND RESOURCE ANALYSIS.
| DIRECTOR, LOGISTICS MANAGEMENT INTEGRATION.
| DIRECTOR, TACTICAL AIRCRAFT AND MISSILES CONTRACTS DEPARTMENT.
| DEPUTY COMMANDER, NAVAL AIR SYSTEM COMMAND.
| DIRECTOR, STRIKE WEAPONS, UNMANNED AVIATION, NAVAL AIR PROGRAMS CONTRACTS DEPARTMENT.
| DIRECTOR BUDGET FORMULATION JUSTIFICATION EXECUTIVE DIVISION.
| DIRECTOR, AVIATION SYSTEMS/TECHNOLOGY INTEGRATION INNOVATION AND SPECIAL PROGRAMS.
| ASSISTANT COMMANDER FOR CORPORATE OPERATIONS AND TOTAL FORCE READINESS.
| ASSISTANT COMMANDER FOR ACQUISITION PROCESSES AND EXECUTION.
| DEPUTY ASSISTANT COMMANDER FOR RESEARCH AND ENGINEERING.
| EXECUTIVE DIRECTOR, OFFICE OF COUNSEL.
| DIRECTOR NAVAL AVIATION SCIENCE AND TECHNOLOGY OFFICE.
| DIRECTOR, DESIGN INTERFACE AND MAINTAINENCE PLANNING.
| DEPUTY COMMANDER, NAVAL AIR SYSTEMS COMMAND.
| DIRECTOR, AIR ANTI-SUBMARINE WARFARE, ASSAULT AND SPECIAL MISSION PROGRAMS CONTRACTS DEPARTMENT.
| DEPUTY ASSISTANT COMMANDER FOR LOGISTICS AND INDUSTRIAL OPERATIONS.
| COMMAND INFORMATION OFFICER.
| DEPUTY ASSISTANT COMMANDER FOR LOGISTICS AND INDUSTRIAL OPERATIONS.
NAVAL AIR WARFARE CENTER AIRCRAFT DIVISION | DEPUTY ASSISTANT COMMANDER FOR TEST AND EVALUATION/EXECUTIVE DIRECTOR, NAVAL AIR WARFARE CENTER AIRCRAFT DIVISION/DIRECTOR, TEST AND EVALUATION NAWCAD.
| DIRECTOR, AIRCRAFT LAUNCH AND RECOVERY EQUIPMENT AND SUPPORT EQUIPMENT.
| DEPUTY ASSISTANT COMMANDER FOR TEST AND EVALUATION/EXECUTIVE DIRECTOR NAVAL AIR WARFARE CENTER AIRCRAFT DIVISION/DIRECTOR, TEST AND EVALTUATION NAWCAD.
| DIRECTOR, AIRCRAFT LAUNCH AND RECOVERY EQUIPMENT/SUPPORT EQUIPMENT.
| DIRECTOR, FLIGHT TEST ENGINEERING.
| DIECTOR, INTEGRATED STYSTEMS EVALUATION EXPERIMENTATION AND TEST DEPARTMENT.
| DIRECTOR, BATTLESPACE SIMULATION.
NAVAL AIR WARFARE CENTER WEAPONS DIVISION, CHINA LAKE, CALIFORNIA | DIRECTOR, RANGE DEPARTMENT.
| DIRECTOR, ELECTRONIC WARFARE/COMBAT SYSTEMS.
| DIRECTOR, SOFTWARE ENGINEERING.
| DIRECTOR, WEAPONS AND ENERGETICS DEPARTMENT.
| EXECUTIVE DIRECTOR, NAVAL AIR WKFARE CENTER WEAPONS DIVISION/DIRECTOR, RESEARCH/ENGINEERING.
| DIRECTOR, WEAPONS AND ENERGETICS DEPARTMENT.
| EXECUTIVE DIRECTOR, NAVAL AIR WARFARE CENTER WEAPONS DIVISION/DIRECTOR, RESEARCH ENGINEERING.
| DIRECTOR, THREAT/TARGET SYSTEM DEPARARTMENT.
| DIRECTOR, WEAPONS AND ENERGETICS DEPARTMENT.
NAVAL AIR WARFARE CENTER TRAINING SYSTEMS DIVISION | DIRECTOR, HUMAN SYSTEMS DEPARTMENT.
SPACE AND NAVAL WARFARE SYSTEMS COMMAND | COUNSEL, SPACE AND NAVAL WARFARE SYSTEMS COMMAND.
| DEPUTY DIRECTOR, SPACE, INFORMATION WARFARE, COMMAND AND CONTROL.
| DIRECTOR, CONTRACTS.
| COMPTROLLER, BUSINESS RESOURCE MANAGER.
| COUNSEL, SPACE AND NAVAL WARFARE SYSTEMS COMMAND.
| DIRECTOR, CONTRACTS.
| COMPTROLLER, BUSINESS RESOURCES MANAGER.
| DEPUTY CHIEF ENGINEER FOR INTEGRATION AND INTEROPERABILITY.
| DIRECTOR, COMMAND, CONTROL, COMMUNICATIONS, COMPUTERS, INTELLIGENCE, SURVEILLANCE AND RECONNAISSANCE INSTALLATIONS AND LOGISTICS DIRECTORATE.
| DEPUTY COMMANDER.
| DEPUTY CHIEF ENGINEER.
| CHIEF INFORMATION OFFICER.
| DIRECTOR, COMMAND, CONTROL, COMMUNICATION, COMPUTERS, INTELLIGENCE, SURVEILLANCE AND RECONNAISSANCE INSTALLATIONS AND LOGISTICS DIRECTORATE.
| DEPUTY COMMANDER.
| DEPUTY CHIEF ENGINEER.
SPACE AND NAVAL WARFARE SYSTEMS CENTER | HEAD INTELLIGENCE, SURVEILLANCE, AND RECONNAISSANCE DEPARTMENT.
| EXECUTIVE DIRECTOR.
| HEAD NAVIGATION AND APPLIED SCIENCES DEPARTMENT.
| HEAD, COMMAND AND CONTROL DEPARTMENT.
| EXECUTIVE DIRECTOR.
| DIRECTOR, SCIENCE, TECHNOLOGY, AND ENGINEERING.
| HEAD COMMUNICATION AND INFORMATION SYSTEM DEPARTMENT.
SPACE AND NAVAL WARFARE SYSTEMS CENTER, CHARLESTON | EXECUTIVE DIRECTOR.
| EXECUTIVE DIRECTOR.
NAVAL FACILITIES ENGINEERING COMMAND | DIRECTOR, NAVY CRANE CENTER.
| DIRECTOR, SPECIAL VENTURE ACQUISITION.
| COUNSEL NAVAL FACILITIES ENGINEERING COMMAND.
| COMPTROLLER.
| DIRECTOR FOR CONTRACTS SUPPORT.
| CHIEF ENGINEER.
| DIRECTOR OF REAL ESTATE SUPPORT.
| DIRECTOR OF BASE DEVELOPMENT.
| DIRECTOR, NAVY CRANE CENTER.
| COUNSEL, NAVAL FACILITIES ENGINEERING COMMAND.
| DIRECTOR OF CONTRACTS SUPPORT.
| CHIEF ENGINEER.
| DIRECTOR OF REAL ESTATE SUPPORT.
| DIRECTOR OF ENVIRONMENT.
| EXECUTIVE DIRECTOR.
| DIRECTOR OF ENVIRONMENT.
| EXECUTIVE DIRECTOR.
NAVAL SEA SYSTEMS COMMAND | EXECUTIVE DIRECTOR.
| DIRECTOR, TASK FORCE LEAN.
| DIRECTOR, NAVAL INNOVATION LABORATORY.
| NAVAL SEA SYSTEMS COMMAND.
| COUNSEL, NAVAL SEA SYSTEMS COMMAND.
| EXECUTIVE DIRECTOR FOR CONTRACTS.
| DEPUTY COMMANDER/COMPTROLLER.
| DIRECTOR, REACTOR MATERIALS DIVISIONS.
| DEPUTY DIRECTOR, STEAM GENERATOR DESIGN/DEVELOPMENT, PROPULSION PLANT PUMPS.
| HEAD, ADVANCED REACTOR BRANCH.
| DIRECTOR FOR HYDRODYNAMICS.
| DIRECTOR FOR SURFACE SHIP DESIGN AND SYSTEMS ENGINEERING.
| DIRECTOR COST ENGINEERING AND INDUSTRIAL ANALYSIS.
| DIRECTOR, SHIPBUILDING CONTRACTS DIVISION.
| ASSISTANT DEPUTY COMMANDER FOR INDUSTRIAL OPERATIONS.
| DIRECTOR, UNDERSEA SYSTEMS CONTRACTS DIVISION.
| DEPUTY FOR WEAPONS SAFETY.
| DEPUTY DIRECTOR, ADVANCED AIRCRAFT CARRIER SYSTEM DIVISION.
| DEPUTY FOR SCIENCE AND TECHNOLOGY.
| EXECUTIVE DIRECTOR, WARFARE SYSTEMS.
| ENGINEERING/BATTLE FORCE SYSTEMS ENGINEER.
| DEPUTY COMMANDER, CORPORATE OPERATIONS DIRECTORATE.
| EXECUTIVE DIRECTOR.
| COMMAND INFORMATION OFFICER.
| EXECUTIVE DIRECTOR FOR LOGISTICS, MAINTENANCE AND INDUSTRIAL OPERATIONS DIRECTORATE.
| COUNSEL, NAVAL SEA SYSTEMS COMMAND.
| EXECUTIVE DIRECTOR FOR CONTRACTS.
| EXECUTIVE DIRECTOR, UNDERSEA WARFARE DIRECTORATE.
| DEPUTY COMMANDER/COMPTROLLER.
| DIRECTOR FOR AIRCRAFT CARRIER DESIGN AND SYSTEMS ENGINEERING.
| DIRECTOR REACTOR PLANT COMPONENTS AUXILIARY EQUIPMENT DIVISION.
| DEPUTY DIRECTOR FOR ADVANCED SUBMARINE REACTOR SERVICING AND SPENT FUEL MANAGEMENT.
| DIRECTOR SURFACE SHIP SYSTEMS DIVISION.
| DIRECTOR, REACTOR MATERIALS DIVISION.
| DIRECTOR, REACTOR SAFETY AND ANALYSIS DIVISION.
| DIRECTOR, NUCLEAR COMPONENTS DIVISION.
| DIRECTOR FOR SHIP SURVIVABILITY AND STRUCTURAL INTEGRITY.
| DIRECTOR FOR MACHINERY SYSTEMS.
| DIRECTOR FOR SURFACE SHIP DESIGN AND SYSTEMS ENGINEERING.
| DIRECTOR, MATERIALS AND ASSURANCE ENGINEERING OFFICE.
| DIRECTOR, COST ENGINEERING AND INDUSTRIAL ANALYSIS.
| DIRECTOR, SHIPBUILDING CONTRACTS DIVISION.
| ASSISTANT DEPUTY COMMANDER FOR INDUSTRIAL OPERATIONS.
| DIRECTOR FOR SUBMARINE/SUBMERSIBLE DESIGN AND SYSTEMS ENGINEERING.
| DIRECTOR, UNDERSEA SYSTEMS CONTRACRS DIVISION.
| DEPUTY FOR WEAPONS SAFETY.
| PROGRAM MANAGER FOR COMMISSIONED SUBMARINES.
| EXECUTIVE DIRECTOR, WARFARE SYSREMS.
| ENGINEERING/BATTLE FORCE SYSTEMS ENGINEER.
| DEPUTY COMMANDER, CORPORATE OPERATIONS DIRECTORATE.
| EXECUTIVE DIRECTOR FOR LOGISTICS MAINTENANCE AND INDUSTRIAL OPERATIONS DIRECTORATE.
| DIRECTOR, SURFACE SYSTEMS CONTRACTS DIVISION.
| EXECUTIVE DIRECTOR, UNDERSEA WARFARE DIRECTORATE.
| DIRECTOR, OFFICE OF RESOURCE MANAGEMENT.
| DIRECTOR, REACTOR REFUELING DIVISION.
| DEPUTY COUNSEL, NAVAL SEA SYSTEMS COMMAND.
| ASSISTANT DEPUTY COMMANDER, MAINTENANCE, MODERNIZATION, ENVIRONMENT AND SAFETY.
| DIRECTOR, REACTOR PLANT COMPONENTS AND AUXILIARY EQUIPMENT DIVISION.
| DIRECTOR, SURFACE SHIP SYSTEMS DIVISION.
| DEPUTY DIRECTOR, ENVIRONMENTAL HEALTH AND SAFETY.
| DIRECTOR, REACTOR SAFETY AND ANALYSIS DIVISION.
| DIRECTOR FOR SUBMARINE/SUBMERSIBLE DESIGN AND SYSTEMS ENGINEERING.
| EXECUTIVE DIRECTOR, AMPHIBIOUS, AUXIILIARY AND SEALIFT SHIPS, PROGRAM EXECUTTVE OFFICER SHIPS.
| EXECUTIVE DIRECTOR, SHIP DESIGN, INTEGRATION, AND ENGINEERING DIRECTORATE.
| ASSISTANT DEPUTY COMMANDER, FLEET LOGISTICS SUPPORT.
| PROGRAM MANAGER FOR COMMISSIONED SUBMARINES.
| DIRECTOR, FLEET READINESS DIVISION.
| DEPUTY COMMANDER, HUMAN SYSTEMS INTEGRATION DIRECTORATE.
| DIRECTOR, OFFICE OF RESOURCE MANAGEMENT.
| DIRECTOR, REACTOR REFUELING DIVISION.
| EXECUTIVE DIRECTOR, AMPHIBIOUS, AUXILIARY AND SEALIFT SHIPS, PROGRAM EXECUTIVE OFFICERS SHIPS.
| DEPUTY COMMANDER, HUMAN SYSTEMS INTEGRATION DIRECTORATE.
NAVAL SHIPYARDS | NUCLEAR ENGINEERING AND PLANNING MANAGER; PEARL HARBOR NAVAL SHIPYARD.
| NUCLEAR ENGINEERING AND PLANNING MANAGER; PORTSMOUTH NAVAL SHIPYARD.
| NAVAL SHIPYARD NUCLEAR ENGINEERING AND PLANNING.
| MANAGER, NORFOLK NAVAL SHIPYARD.
| NUCLEAR ENGINEERING AND PLANNING MANAGER, PUGET SOUND NAVAL SHIPYARD.
NAVAL WARFARE CENTERS | NAVAL SEA SYSTEMS COMMAND WARFARE CENTERS BUSINESS AND WORK ASSIGNMENT EXECUTIVE.
NAVAL SURFACE WARFARE CENTER | TECHNICAL DIRECTOR.
| TECHNICAL DIRECTOR.
NAVAL UNDERSEA WARFARE CENTER | TECHNICAL DIRECTOR.
| DIRECTOR, UNDERSEA WARFARE.
| TECHNICAL DIRECTOR.
NAVAL SURFACE WARFARE CENTER, CRANE DIVISION | PRODUCT AREA DIRECTOR, SURFACE WARFARE LOGISTICS AND MAINTENANCE.
NAVAL UNDERSEA WARFARE CENTER DIVISION, KEYPORT, WASHINGTON | PRODUCT AREA DIRECTOR, UNDERSEA WARFARE FLEET MATERIAL READINESS.
NAVAL SURFACE WARFARE CENTER, PORT HUENEME DIVISION | PRODUCT AREA DIRECTOR, SURFACE SHIP COMBAT SYSTEMS.
| PRODUCT AREA DIRECTOR, SURFACE SHIP COMBAT SYSTEMS.
NAVAL SURFACE WARFARE CENTER, INDIAN HEAD DIVISION | PRODUCT AREA DIRECTOR, ORDNANCE.
| PRODUCT AREA DIRECTOR, ORDNANCE.
COASTAL SYSTEMS STATION, DAHLGREN DIVISION; PANAMA CITY | PRODUCT AREA DIRECTOR, LITTORAL WARFARE SYSTEMS.
| PRODUCT AREA DIRECTOR, LITTORAL WARFARE SYSTEMS.
NAVAL SURFACE WARFARE CENTER, CARDEROCK DIVISION | PRODUCT AREA DIRECTOR, SHIPS AND SHIP SYSTEMS.
| PRODUCT AREA DIRECTOR, SHIPS AND SHIP SYSTEMS.
| DIRECTOR FOR SHIP SIGNATURES.
| EXECUTIVE DIRECTOR FOR NAVAL SHIP SYSTEMS ENGINEERING STATION/DIRECTOR FOR MACHINERY ENGINEERING.
NAVAL SURFACE WARFARE CENTER, DAHLGREN DIVISION | HEAD, ENGAGEMENT SYSTEMS DEPARTMENT.
| HEAD, COMBAT SYSTEMS DEPARTMENT.
| HEAD, SYSTEMS RESEARCH AND TECHNOLOGY DEPARTMENT.
| PRODUCT AREA DIRECTOR, FORCE LEVEL WARFARE SYSTEMS.
| PRODUCT AREA DIRECTOR, HOMELAND AND FORCE.
| PROTECTION/HEAD JOINT WARFARE APPLICATIONS DEPARTMENT.
| HEAD, WARFARE SYSTEMS DEPARTMENT.
| PRODUCT AREA DIRECTOR, NAVY STRATEGIC WEAPONS SYSTEMS/HEAD STRATEGIC AND STRIKE SYSTEMS DEPARTMENT.
| PRODUCT AREA DIRECTOR, FORCE LEVEL WARFARE SYSTEMS.
NAVAL UNDERSEA WARFARE CENTER DIVISION, NEWPORT, RHODE ISLAND | PRODUCT AREA DIRECTOR, UNDERSEA WARFARE ANALYSIS AND ASSESSMENT.
| PRODUCT AREA DIRECTOR, UNDERSEA WARFARE ANALYSIS AND ASSESSMENT.
| PRODUCT AREA DIRECTOR, UNDERSEA WARFARE WEAPONS AND VEHICLE SYSTEMS.
| HEAD, UNDERSEA WARFARE COMBAT SYSTEMS DEPARTMENT HEAD, TORPEDO SYSTEMS DEPARTMENT.
| PRODUCT AREA DIRECTOR, UNDERSEA WARFARE WEAPONS AND VEHICLE SYSTEMS.
NAVAL SUPPLY SYSTEMS COMMAND HEADQUARTERS | DEPUTY COMMANDER, FINANCIAL MANAGEMENT/COMPTROLLER.
| DIRECTOR, DEFENSE TECHNOLOGY ANALYSIS OFFICE.
| COUNSEL.
| DEPUTY COMMANDER, FINANCIAL MANAGEMENT/COMPTROLLER.
| COUNSEL, NAVAL SUPPLY SYSTEMS COMMAND.
| DEPUTY COMMANDER, CORPORATE OPERATIONS.
| EXECUTIVE DIRECTOR OFFICE OF SPECIAL PROJECTS.
| COMMAND INFORMATION OFFICER.
| SENIOR ACQUISITION LOGISTICIAN/ENTERPRISE RESOURCES.
| PLANNING PROGRAM MANAGER.
| EXECUTIVE DIRECTOR.
| DEPUTY COMMANDER, CORPORATE.
| EXECUTIVE DIRECTOR, OFFICE OF SPECIAL PROJECTS.
| SENIOR ACQUISITION LOGISTICIAN/ENTERPRISE RESOURCE.
| PLANNING PROGRAM MANAGER.
| EXECUTIVE DIRECTOR.
NAVAL INVENTORY CONTROL POINT | VICE COMMANDER.
| VICE COMMANDER, NAVAL INVENTORY CONTROL POINT.
FLEET AND INDUSTRIAL SUPPLY CENTERS | DEPUTY COMMANDER, FLEET AND INDUSTRIAL SUPPLY CENTERS.
| DEPUTY COMMANDER, FLEET AND INDUSTRIAL SUPPLY CENTERS.
UNITED STATES MARINE CORPS HEADQUARTERS OFFICE | DEPUTY DIRECTOR FACILITIES AND SERVICES DIVISION.
| DIRECTOR, PROGRAM ASSESSMENT AND EVALUATION DIVISION.
| DIRECTOR, MANPOWER PLANS AND POLICY DIVISION.
| MARINE CORPS BUSINESS ENTERPRISE DIRECTOR.
| ASSISTANT DEPUTY COMMANDANT FOR INSTALLATIONS AND LOGISTICS (CONTRACTS).
| COUNSEL FOR THE COMMANDANT.
| DEPUTY COUNSEL FOR THE COMMANDANT.
| DEPUTY DIRECTOR, FACILITIES AND SERVICES DIVISION.
| DIRECTOR, MANPOWER PLANS AND POLICY DIVISION.
| ASSISTANT DEPUTY COMMANDANT FOR PLANS, POLICIES AND OPERATIONS (SECURITY).
| ASSISTANT DEPUTY COMMANDANT FOR PROGRAMS AND RESOURCES (RESOURCES) AND DIRECTOR, FISCAL DIVISION.
| ASSISTANT DEPUTY COMMANDANT, INSTALLATIONS AND LOGISTICS.
| ASSISTANT DEPUTY COMMANDANT, INSTALLATIONS AND LOGISTICS (CONTRACTS).
| COUNSEL FOR THE COMMANDANT.
| DEPUTY COUNSEL FOR THE COMMANDANT.
| ASSISTANT DEPUTY COMMANDANT FOR PLANS, POLICIES AND OPERATIONS (SECURITY).
| ASSISTANT DEPUTY COMMANDANT FOR PROGRAMS AND RESOURCES.
| ASSISTANT DEPUTY COMMANDANT FOR PROGRAMS AND RESOURCES (RESOURCES)/DIRECTOR, FISCAL DIVISION.
| ASSISTANT DEPUTY COMMANDANT, INSTALLATIONS AND LOGISTICS.
| ASSISTANT DEPUTY COMMANDANT FOR MANPOWER AND RESERVE AFFAIRS.
| ASSISTANT DEPUTY COMMANDANT FOR PROGRAMS AND RESOURCES.
MARINE CORPS SYSTEMS COMMAND | DEPUTY COMMANDER, COMMAND, CONTROL, COMMUNICATIONS, COMPUTER, INTELLIGENCE, SURVEILLANCE AND RECONNAISSANCE.
| DEPUTY COMMANDER.
| DEPUTY COMMANDER, COMMAND, CONTROL, COMMUNICATIONS, COMPUTER, INTELLIGENCE, SURVEILLANCE AND RECONNAISSANCE.
| DEPUTY FOR FINANCIAL MANAGEMENT.
| DEPUTY COMMANDER.
| DEPUTY FOR FINANCIAL MANAGEMENT.
MARINE CORPS LOGISTICS COMMAND ALBANY, GEORGIA | EXECUTIVE DEPUTY.
| EXECUTIVE DEPUTY.
OFFICE OF NAVAL RESEARCH | DIRECTOR, SHIP STRUCTURES AND SYSTEMS SCIENCE AND TECHNOLOGY DIVISION.
| DIRECTOR, UNDERSEA WEAPONS AND NAVAL MATERIALS.
| SCIENCE AND TECHNOLOGY DIVISION.
| DIRECTOR, EXPEDITIONARY WARFARE OPERATIONS TECHNOLOGY DIVISION.
| DIRECTOR, PHYSICAL SCIENCES SCIENCE AND TECHNOLOGY DIVISION.
| DIRECTOR, EXPEDITIONARY WARFARE OPERATIONS TECHNOLOGY DIVISION.
| HEAD, NAVAL EXPEDITIONARY WARFARE SCIENCE AND TECHNOLOGY DEPARTMENT.
| EXECUTIVE DIRECTOR FOR ACQUISITION MANAGEMENT.
| COMPTROLLER.
| PATENT COUNSEL OF THE NAVY.
| COUNSEL, OFFICE OF NAVAL RESEARCH.
| HEAD, ENGINEERING, MATERIALS AND PHYSICAL SCIENCE AND TECHNOLOGY DEPARTMENT.
| DIRECTOR FOR AEROSPACE SCIENCE RESEARCH DIVISION.
| DIRECTOR, MATHEMATICAL, COMPUTER, AND INFORMATION SCIENCES DIVISION.
| DIRECTOR, OCEAN, ATMOSPHERE AND SPACE SCIENCE AND TECHNOLOGY PROCESSES AND PREDICTION DIVISION.
| DIRECTOR OF SCIENCE AND TECHNOLOGY.
| HEAD, NAVAL EXPEDITIONARY WARFARE SCIENCE AND TECHNOLOGY DEPARTMENT.
| EXECUTIVE DIRECTOR FOR ACQUISITION MANAGEMENT.
| COMPTROLLER.
| PATENT COUNSEL OF THE NAVY.
| DIRECTOR, OCEAN, ATMOSPHERE, AND SPACE SCIENCE AND TECHNOLOGY SENSING AND SYSTEMS DIVISION.
| HEAD, INDUSTRIAL AND CORPORATE PROGRAMS DEPARTMENT.
| COUNSEL, OFFICE OF NAVAL RESEARCH.
| DIRECTOR, LIFE SCIENCES RESEARCH DIVISION.
| HEAD, HUMAN SYSTEMS SCIENCE AND TECHNOLOGY DEPARTMENT.
| HEAD, INFORMATION, ELECTRONICS AND SURVEILLANCE SCIENCE AND TECHNOLOGY DEPARTMENT.
| DIRECTOR, ELECTRONICS, SENSORS, AND NETWORKS RESEARCH DIVISION.
| DIRECTOR, ELECTRONICS DIVISION.
| HEAD, ENGINEERING, MATERIALS AND PHYSICAL SCIENCE AND TECHNOLOGY DEPARTMENT.
| HEAD, OCEAN, ATMOSPHERE AND SPACE SCIENCE AND TECHNOLOGY DEPARTMENT.
| EXECUTIVE DIRECTOR.
| DIRECTOR OF TRANSITION.
| DIRECTOR, MATERIALS SICENCE AND TECHNOLOGY DIVISION.
| HEAD, HUMAN SYSTEMS SCIENCE AND TECHNOLOGY DEPARTMENT.
| HEAD, INFORMATION, ELECTRONICS AND SURVEILLANCE SCIENCE AND TECHNOLOGY DEPARTMENT.
| ASSOCIATE FOR INTEGRATION, OCEAN, ATMOSPHERE AND SPACE SCIENCE AND TECHNOLOGY SENSING AND SYSTEMS DIVISION.
| HEAD, OCEAN, ATMOSPHERE AND SPACE SCIENCE AND TECHNOLOGY DEPARTMENT.
| DIRECTOR OF TRANSITION.
| DIRECTOR, NAVAL FLEET/FORCE TECHNOLOGY INNOVATION OFFICE.
| DIRECTOR, MATERIALS SCIENCE AND TECHNOLOGY DIVISION.
| DIRECTOR OF INNOVATION.
NAVAL RESEARCH LABORATORY | CHIEF SCIENTIST, LABORATORY FOR STRUCTURE OF MATTER.
| DIRECTOR OF RESEARCH.
| ASSOCIATE DIRECTOR OF RESEARCH FOR MATERIAL SCIENCE AND COMPONENT TECHNOLOGY.
| SUPERINTENDENT, CHEMISTRY DIVISION.
| SUPERINTENDENT, OPTICAL SCIENCES DIVISION.
| SUPERINTENDENT, SPACE SCIENCES DIVISION.
| SUPERINTENDENT, RADAR DIVISION.
| SUPERINTENDENT, MATERIALS SCIENCE AND TECHNOLOGY DIVISION.
| SUPERINTENDENT, ACOUSTICS DIVISION.
| SUPERINTENDENT, PLASMA PHYSICS DIVISION.
| SUPERINTENDENT ELECTRONICS TECHNOLOGY DIVISION.
| SUPERINTENDENT, INFORMATION TECHNOLOGY DIVISION.
| SUPERINTENDENT, TACTICAL ELECTRONIC WARFARE DIVISION.
| CHIEF SCIENTIST, LABORATORY FOR COMPUTATIONAL PHYSICS AND FLUID DYNAMICS.
| SUPERINTENDENT, REMOTE SENSING DIVISION.
| ASSOCIATE DIRECTOR OF RESEARCH FOR BUSINESS OPERATIONS.
| CHIEF SCIENTIST AND HEAD, BEAM PHYSICS PROGRAM.
| SUPERINTENDENT, MARINE METEOROLOGY DIVISION.
| MANAGER, JOINT SPACE SYSTEMS TECHNOLOGY PROGRAMS.
| ASSOCIATE DIRECTOR OF RESEARCH FOR OCEAN AND ATMOSPHERIC SCIENCE AND TECHNOLOGY.
| SUPERINTENDENT, CENTER FOR BIO-MOLECULAR SCIENCE AND ENGINEERING.
| DIRECTOR OF RESEARCH.
| ASSOCIATE DIRECTOR OF RESEARCH FOR MATERIAL SCIENCE AND COMPONENT TECHNOLOGY.
| SUPERINTENDENT, CHEMISTRY DIVISION.
| SUPERINTENDENT, OPTICAL SCIENCES DIVISION.
| SUPERINTENDENT, MATERIALS SCIENCE AND TECHNOLOGY DIVISION.
| ASSOCIATE DIRECTOR OF RESEARCH FOR WARFARE SYSTEMS AND SENSORS RESEARCH.
NAVAL RESEARCH LABORATORY | SUPERINTENDENT, ACOUSTICS DIVISION.
| SUPERINTENDENT, SPACE SYSTEM DEVELOPMENT DEPARTMENT.
| SUPERINTENDENT, TACTICAL ELECTRONIC WARFARE DIVISION.
| SUPERINTENDENT, OCEANOGRAPHY DIVISION.
| SUPERINTENDENT, SPACECRAFT ENGINEERING DEPARTMENT.
| ASSOCIATE DIRECTOR OF RESEARCH FOR BUSINESS OPERATIONS.
| ASSOCIATE DIRECTOR OF RESEARCH FOR OCEAN AND ATMOSPHERIC SCIENCE AND TECHNOLOGY.
| DIRECTOR, NAVAL CENTER FOR SPACE TECHNOLOGY.
| ASSOCIATE DIRECTOR OF RESEARCH FOR WARFARE SYSTEMS AND SENSORS RESEARCH.
| SUPERINTENDENT, SPACE SYSTEMS DEVELOPMENT DEPARTMENT.
| SUPERINTENDENT, MARINE GEOSCIENCES DIVISION.
| DIRECTOR, NAVAL CENTER FOR SPACE TECHNOLOGY.
DEFENSE NUCLEAR FACILITIES SAFETY BOARD:
DEFENSE NUCLEAR FACILITIES SAFETY BOARD | TECHNICAL DIRECTOR.
| DEPUTY TECHNICAL DIRECTOR.
| DEPUTY GENERAL COUNSEL.
| DEPUTY GENERAL MANAGER.
| TECHNICAL ADVISOR FOR ENGINEERING STUDIES.
| GROUP LEAD FOR NUCLEAR PROGRAMS AND ANALYSIS.
| GROUP LEAD FOR NUCLEAR WEAPON PROGRAMS.
| GROUP LEAD FOR NUCLEAR MATERIALS PROCESSING AND STABILIZATION.
| GROUP LEAD FOR NUCLEAR FACILITY DESIGN AND INFRASTRUCTURE.
DEPARTMENT OF EDUCATION:
OFFICE OF THE CHIEF FINANCIAL OFFICER | DEPUTY CHIEF FINANCIAL OFFICER.
| DIRECTOR FINANCIAL MANAGEMENT OPERATIONS.
| DIRECTOR, FINANCIAL IMPROVEMENT AND POST AUDIT OPERATIONS.
| DIRECTOR, CONTRACTS AND PURCHASING OPERATIONS.
OFFICE OF THE CHIEF INFORMATION OFFICER | CHIEF INFORMATION OFFICER.
| DEPUTY CHIEF INFORMATION OFFICER FOR INFORMATION MANAGEMENT.
| DEPUTY CHIEF INFORMATION OFFICER FOR INFORMATION ASSURANCES.
OFFICE OF MANAGEMENT | CHAIRPERSON, EDUCATION APPEAL BOARD.
| DIRECTOR, HUMAN RESOURCES SERVICES.
OFFICE OF INSPECTOR GENERAL | COUNSEL TO THE INSPECTOR GENERAL.
| DEPUTY INSPECTOR GENERAL.
| DEPUTY ASSISTANT INSPECTOR GENERAL FOR AUDIT SERVICES.
| ASSISTANT INSPECTOR GENERAL FOR AUDIT SERVICES.
| ASSISTANT INSPECTOR GENERAL FOR INVESTIGATIONS SERVICES.
| ASSISTANT INSPECTOR GENERAL FOR INFORMATION.
| TECHNOLOGY AUDITS AND COMPUTER CRIME INVESTIGATIONS.
OFFICE OF THE GENERAL COUNSEL | ASSISTANT GENERAL COUNSEL FOR BUSINESS AND ADMINISTRATION LAW.
| ASSISTANT GENERAL COUNSEL FOR EDUCTIONAL EQUITY.
| ASSISTANT GENERAL COUNSEL FOR REGULATIONS.
| ASSISTANT GENERAL COUNSEL FOR POSTSECONDARY EDUCATION AND EDUCATION RESEARCH DIVISION.
INSTITUTE OF EDUCATION SCIENCES | DEPUTY COMMISSIONER.
| ASSOCIATE COMMISSIONER FOR ASSESSMENT.
FEDERAL STUDENT AID | CHIEF FINANCIAL OFFICER.
| DIRECTOR, STUDENT AID AWARENESS.
| DEPUTY CHIEF FINANCIAL OFFICER.
DEPARTMENT OF ENERGY:
DEPARTMENT OF ENERGY | ASSOCIATE CHIEF INFORMATION OFFICER FOR OPERATIONS.
NATIONAL NUCLEAR SECURITY ADMINISTRATION | CHIEF OF DEFENSE NUCLEAR COUNTERINTELLIGENCE.
DEPUTY ADMINISTRATOR FOR NAVAL REACTORS | DIRECTOR ADVANCED SUBMARINE SYSTEMS DIVISION.
| DEPUTY DIRECTOR FOR NAVAL REACTORS.
| DIRECTOR REACTOR ENGINEERING DIVISION.
| SENIOR NAVAL REACTORS REPRESENTATIVE.
| DIRECTOR FOR SUBMARINE REFUELINGS.
| CHIEF INFORMATION OFFICER.
| SENIOR NAVAL REACTORS REPRESENTATIVE.
| DIRECTOR REGULATORY AFFAIRS.
| SENIOR NAVAL REACTORS REPRESENTATIVE (PEARL HARBOR).
| DIRECTOR, INSTRUMENTATION AND CONTROL DIVISION.
| PROGRAM MANAGER PROTOTYPE AND MOORED TRAINING SHIP OPERATIONS/INACTIVATION PROGRAMS.
OFFICE OF INFRASTRUCTURE AND ENVIRONMENT | DIRECTOR, OFFICE OF INFRASTRUCTURE AND ENVIRONMENT.
NATIONAL NUCLEAR SECURITY ADMINISTRATION FIELD SITE OFFICES | CHIEF COUNSEL.
| MANAGER, LIVERMORE SITE OFFICE.
| MANAGER, NEVADA SITE OFFICE.
| MANAGER, SANDIA SITE OFFICE.
NATIONAL NUCLEAR SECURITY ADMINISTRATION SERVICE CENTER | DIRECTOR, OFFICE OF FIELD FINANCIAL MANAGEMENT.
OFFICE OF SECURITY | DEPUTY DIRECTOR, OFFICE OF SECURITY AFFAIRS.
OFFICE OF HUMAN CAPITAL MANAGEMENT | DIRECTOR, OFFICE OF HEADQUARTERS AND EXECUTIVE HUMAN RESOURCES.
OFFICE OF MANAGEMENT | DIRECTOR, OFFICE OF ADMINISTRATION.
| DEPUTY DIRECTOR, OFFICE OF MANAGEMENT, BUDGET AND EVALUATION/DEPUTY CHIEF FINANCE OFFICER.
OFFICE OF THE CHIEF FINANCIAL OFFICER | DIRECTOR OFFICE OF BUDGET.
| DIRECTOR, FINANCIAL POLICY.
OFFICE OF ELECTRICITY DELIVERY AND ENERGY RELIABILITY | DIRECTOR, OFFICE OF ENERGY ASSURANCE.
OFFICE OF SAFEGUARDS AND SECURITY EVALUATIONS | DEPUTY DIRECTOR, OFFICE OF INDEPENDENT OVERSIGHT AND PERFORMANCE.
OFFICE OF SECURITY AND SAFETY PERFORMANCE ASSURANCE | DIRECTOR, OFFICE OF SAFEGUARDS AND SECURITY EVALUATIONS.
| DIRECTOR, OFFICE OF HEADQUARTERS SECURITY OPERATIONS.
| DEPUTY DIRECTOR, OFFICE OF HEADQUARTERS SECURITY OPERATIONS.
| DIRECTOR, OFFICE OF SECURITY AND SAFETY PERFORMANCE.
| DIRECTOR, OFFICE OF INDEPENDENT OVERSIGHT AND PERFORMANCE.
| DIRECTOR, OFFICE OF SAFEGUARDS AND SECURITY TRAINING.
ASSISTANT SECRETARY FOR ENERGY EFFICIENCY AND RENEWABLE ENERGY | MANAGER, GOLDEN FIELD OFFICE.
| PROGRAM MANAGER.
| PROGRAM MANAGER.
| DIRECTOR, REGIONAL OFFICE AND DEPLOYMENT OPERATIONS PROGRAM MANAGER.
ASSISTANT SECRETARY FOR ENVIRONMENT, SAFETY AND HEALTH | DIRECTOR OFFICE OF NUCLEAR SAFETY, POLICY AND STANDARDS.
| DIRECTOR OFFICE OF REGULATORY LIAISON.
ENERGY INFORMATION ADMINISTRATION | DIRECTOR, OFFICE OF OIL AND GAS.
| DIRECTOR, ENERGY MARKETS AND CONTINGENCY INFORMATION DIVISION.
| DIRECTOR, NATURAL GAS DIVISION.
| DIRECTOR, PETROLEUM DIVISION.
| DIRECTOR, OFFICE OF INTEGRATION ANALYSIS AND FORECASTING.
| DIRECTOR, ELECTRICAL POWER DIVISION.
| DIRECTOR, COAL AND ELECTRIC POWER DIVISION.
| DIRECTOR, COAL, NUCLEAR AND RENEWABLES DIVISION.
OFFICE OF ENVIRONMENTAL MANAGEMENT | SCIENCE ADVISOR.
| DIRECTOR, OFFICE OF SAFEGUARD AND SECURITY/EMERGENCY MANAGEMENT.
ENVIRONMENTAL MANAGEMENT CONSOLIDATED BUSINESS CENTER | DEPUTY MANAGER.
OFFICE OF SCIENCE | DIRECTOR HIGH ENERGY PHYSICS DIVISION.
| SITE OFFICE MANAGER, FERMI.
| ASSOCIATE DIRECTOR, OFFICE OF RESOURCE MANAGEMENT.
| DIRECTOR, HEALTH EFFECTS AND LIFE SCIENTIST RESEARCH DIVISION.
| DIRECTOR, FINANCIAL MANAGEMENT DIVISION.
| DIRECTOR, FACILITIES DIVISION.
OFFICE OF FOSSIL ENERGY | DIRECTOR, MATERIALS PARTNERSHIPS RESEARCH CENTER.
ALBUQUERQUE OPERATIONS OFFICE | DIRECTOR TRANSPORTATION SAFEGUARDS DIVISION.
| DIRECTOR, WEAPONS PROGRAMS DIVISION.
| ASSISTANT MANAGER FOR MANAGEMENT AND ADMINISTRATION.
| CARLSBAD AREA OFFICE MANAGER.
CHICAGO OPERATIONS OFFICE | ASSISTANT MANAGER, ACQUISITION AND ASSISTANCE.
| DEPUTY MANAGER, CHICAGO OFFICE.
| DIRECTOR, NEW BRUNSWICK LABORATORY.
OHIO FIELD OFFICE | MANAGER OHIO FIELD OFFICE.
| DEPUTY MANAGER, OHIO FIELD OFFICE.
OAKLAND OPERATIONS OFFICE | ASSOCIATE MANAGER FOR SITE MANAGEMENT.
OAK RIDGE OPERATIONS OFFICE | ASSISTANT MANAGER FOR ADMINISTRATION.
| CHIEF FINANCIAL OFFICER.
ROCKY FLATS OFFICE | ASSISTANT MANAGER FOR ADMINISTRATION AND TRANSITION.
OFFICE OF GENERAL COUNSEL | ASSISTANT GENERAL COUNSEL FOR GENERAL LAW.
OFFICE OF HEARINGS AND APPEALS | DEPUTY DIRECTOR FOR LEGAL ANALYSIS.
| DEPUTY DIRECTOR FOR FINANCIAL ANALYSIS.
| DEPUTY DIRECTOR FOR ECONOMIC ANALYSIS.
OFFICE OF INSPECTOR GENERAL | ASSISTANT INSPECTOR GENERAL FOR INVESTIGATIONS.
| COUNSEL TO THE INSPECTOR GENERAL.
| ASSISTANT INSPECTOR GENERAL FOR RESOURCE MANAGEMENT.
| PRINCIPAL DEPUTY INSPECTOR GENERAL.
| DEPUTY INSPECTOR GENERAL FOR INSPECTIONS.
| MANAGER, CAPITAL REGIONAL AUDIT OFFICE.
| ASSISTANT INSPECTOR GENERAL FOR INSPECTIONS.
| PRINCIPAL DEPUTY INSPECTOR GENERAL.
| DEPUTY INSPECTOR GENERAL FOR AUDIT SERVICES.
| DEPUTY ASSISTANT INSPECTOR GENERAL FOR AUDIT SERVICES.
| ASSISTANT INSPECTOR GENERAL FOR AUDIT PLANNING AND ADMINISTRATION.
| DIRECTOR, NATIONAL NUCLEAR SECURITY ADMINISTRATION AUDITS DIVISION.
| DIRECTOR, ENERGY, SCIENCE AND ENVIRONMENTAL AUDITS DIVISION.
| DEPUTY INSPECTOR GENERAL FOR INVESTIGATIONS AND INSPECTIONS.
| ASSISTANT INSPECTOR GENERAL FOR PERFORMANCE AUDITS.
| DIRECTOR, FINANCIAL, TECHNOLOGY AND CORPORATE AUDITS DIVISION.
| DIRECTOR, ENERGY, SCIENCE AND ENVIRONMENTAL AUDITS DIVISION.
| ASSISTANT INSPECTOR GENERAL FOR PERFORMANCE AUDITS.
| ASSISTANT INSPECTOR GENERAL FOR AUDIT PLANNING AND ADMINISTRATION.
| ASSISTANT INSPECTOR GENERAL FOR FINANCIAL, TECHNOLOGY AND CORPORATE AUDITS.
OFFICE OF NUCLEAR ENERGY, SCIENCE AND TECHNOLOGY | ASSOCIATE DIRECTOR FOR NUCLEAR FACILITIES MANAGEMENT.
WESTERN AREA POWER ADMINISTRATION | CHIEF OPERATING OFFICER.
| CHIEF FINANCIAL OFFICER.
ENVIRONMENTAL PROTECTION AGENCY:
OFFICE OF HOMELAND SECURITY | DIRECTOR, OFFICE OF HOMELAND SECURITY.
OFFICE OF EXECUTIVE SUPPORT | DIRECTOR, OFFICE OF EXECUTIVE SUPPORT.
OFFICE OF REGULATORY POLICY AND MANAGEMENT | DIRECTOR, OFFICE OF REGULATORY POLICY AND MANAGEMENT.
OFFICE OF THE CHIEF FINANCIAL OFFICER | ASSOCIATE CHIEF FINANCIAL OFFICER.
| DEPUTY CHIEF FINANCIAL OFFICER.
OFFICE OF PLANNING, ANALYSIS AND ACCOUNTABILITY | DIRECTOR, OFFICE OF PLANNING, ANALYSIS AND ACCOUNTABILITY.
| DEPUTY DIRECTOR, OFFICE OF PLANNING, ANALYSIS AND ACCOUNTABILITY.
OFFICE OF ENTERPRISE TECHNOLOGY AND INNOVATION | DIRECTOR, OFFICE OF ENTERPRISE TECHNOLOGY AND INNOVATION.
| DIRECTOR, OFFICE OF BUDGET.
| DIRECTOR, SYSTEMS PLANNING AND INTEGRATION STAFF.
FINANCIAL MANAGEMENT DIVISION | DIRECTOR, OFFICE OF FINANCIAL MANAGEMENT.
FINANCIAL SERVICES DIVISION | DIRECTOR, OFFICE OF FINANCIAL SERVICES.
OFFICE OF ENVIRONMENTAL INFORMATION | CHIEF TECHNOLOGY OFFICER.
OFFICE OF PLANNING, RESOURCES AND OUTREACH | DIRECTOR, OFFICE OF PLANNING, RESOURCES AND OUTREACH.
OFFICE OF INFORMATION ANALYSIS AND ACCESS | DEPUTY DIRECTOR, OFFICE OF INFORMATION ANALYSIS AND ACCESS.
OFFICE OF TECHNICAL OPERATIONS AND PLANNING | DEPUTY DIRECTOR, OFFICE OF TECHNICAL OPERATIONS AND PLANNING.
| DIRECTOR, OFFICE OF TECHNICAL OPERATIONS AND PLANNING.
NATIONAL TECHNOLOGY SERVICES DIVISION | DIRECTOR, NATIONAL TECHNOLOGY SERVICES DIVISION.
OFFICE OF THE ASSISTANT ADMINISTRATOR FOR ADMINISTRATION AND RESOURCES MANAGEMENT | DEPUTY ASSISTANT ADMINISTRATOR FOR ADMINISTRATION AND RESOURCES MANAGEMENT.
| PRINCIPAL DEPUTY ASSISTANT ADMINISTRATOR FOR ADMINISTRATION AND RESOURCES MANAGEMENT.
| SENIOR POLICY ADVISOR.
OFFICE OF POLICY AND RESOURCE MANAGEMENT | DIRECTOR, OFFICE OF POLICY AND RESOURCE MANAGEMENT.
OFFICE OF ADMINISTRATIVE SERVICES | DIRECTOR, OFFICE OF ADMINISTRATIVE SERVICES.
| DEPUTY DIRECTOR, OFFICE OF ADMINISTRATIVE SERVICES.
| DIRECTOR, FACILITIES MANAGEMENT AND SERVICES DIVISION.
| DIRECTOR, SAFETY, HEALTH AND ENVIRONMENTAL MANAGEMENT DIVISION.
OFFICE OF HUMAN RESOURCES | DIRECTOR, OFFICE OF HUMAN RESOURCES.
| DEPUTY DIRECTOR, OFFICE OF HUMAN RESOURCES.
| DIRECTOR, EXECUTIVE RESOURCES DIVISION.
OFFICE OF ACQUISITION MANAGEMENT | DIRECTOR, SUPERFUND/RESOURCE CONSERVATION AND RECOVERY ACT REGIONAL PROCUREMENT OPERATIONS/DIVISION.
| DIRECTOR, OFFICE OF ACQUISITION MANAGEMENT.
| DEPUTY DIRECTOR, OFFICE OF ACQUISITION MANAGEMENT
OFFICE OF GRANTS AND DEBARMENT | DIRECTOR, GRANTS ADMINISTRATION DIVISION.
| DIRECTOR, OFFICE OF GRANTS AND DEBARMENT.
OFFICE OF ADMINISTRATION AND RESOURCES MANAGEMENT—CINCINNATI, OHIO | DIRECTOR, OFFICE OF ADMINISTRATION AND RESOURCES MANAGEMENT.
OFFICE OF ADMINISTRATION AND RESOURCES MANAGEMENT—RESEARCH TRIANGLE PARK, NORTH CAROLINA | DIRECTOR, OFFICE OF ADMINISTRATION AND RESEARCH MANAGEMENT.
FEDERAL FACILITIES ENFORCEMENT OFFICE | DIRECTOR, FEDERAL FACILITIES ENFORCEMENT OFFICE.
OFFICE OF ENVIRONMENTAL JUSTICE | DIRECTOR, OFFICE OF ENVIRONMENTAL JUSTICE.
OFFICE OF COMPLIANCE | DIRECTOR, OFFICE OF COMPLIANCE.
| DIRECTOR, ENFORCEMENT TARGETING AND DATA DIVISION.
| DIRECTOR, COMPLIANCE ASSESSMENT AND MEDIA PROGRAMS DIVISION.
| DEPUTY DIRECTOR, OFFICE OF COMPLIANCE.
| DIRECTOR, NATIONAL ENFORCEMENT TRAINING INSTITUTE.
OFFICE OF CRIMINAL ENFORCEMENT, FORENSICS AND TRAINING | DIRECTOR, OFFICE OF CRIMINAL ENFORCEMENT, FORENSICS AND TRAINING.
| DIRECTOR, CRIMINAL INVESTIGATION DIVISION.
| DEPUTY DIRECTOR, OFFICE OF CRIMINAL ENFORCEMENT, FORENSICS TRAINING.
| DIRECTOR, NATIONAL ENFORCEMENT INVESTIGATIONS CENTER.
OFFICE OF FEDERAL ACTIVITIES | DIRECTOR, INTERNATIONAL COMPLIANCE ASSURANCE DIVISION.
OFFICE OF CIVIL ENFORCEMENT | DIRECTOR, OFFICE OF CIVIL ENFORCEMENT.
| DEPUTY DIRECTOR, OFFICE OF CIVIL ENFORCEMENT.
| DIRECTOR, AIR ENFORCEMENT DIVISION.
OFFICE OF SITE REMEDIATION ENFORCEMENT | DIRECTOR, OFFICE OF SITE REMEDIATION ENFORCEMENT.
| DEPUTY DIRECTOR, OFFICE OF SITE REMEDIATION ENFORCEMENT.
OFFICE OF WESTERN HEMISPHERE AND BILATERAL AFFAIRS | DIRECTOR, WESTERN HEMISPHERE AND BILATERAL AFFAIRS.
OFFICE OF THE INSPECTOR GENERAL | SENIOR SCIENCE ADVISOR.
| DEPUTY INSPECTOR GENERAL.
OFFICE OF COUNSEL | COUNSEL TO THE INSPECTOR GENERAL.
OFFICE OF AUDIT | ASSISTANT INSPECTOR GENERAL FOR AUDIT.
OFFICE OF INVESTIGATIONS | ASSISTANT INSPECTOR GENERAL FOR INVESTIGATIONS.
OFFICE OF PROGRAM EVALUATION | ASSISTANT INSPECTOR GENERAL FOR PROGRAM EVALUATION.
OFFICE OF HUMAN CAPITAL | ASSISTANT INSPECTOR GENERAL FOR HUMAN CAPITAL.
OFFICE OF MISSION SYSTEMS | ASSISTANT INSPECTOR GENERAL FOR MISSION SYSTEMS.
OFFICE OF PLANNING, ANALYSIS AND RESULTS | ASSISTANT INSPECTOR GENERAL FOR PLANNING, ANALYSIS AND RESULTS.
OFFICE OF CONGRESSIONAL AND PUBLIC LIAISON | ASSISTANT INSPECTOR GENERAL FOR CONGRESSIONAL AND PUBLIC LIAISON.
OFFICE OF GROUND WATER AND DRINKING WATER | DIRECTOR, STANDARDS AND RISK MANAGEMENT DIVISION.
| DIRECTOR, DRINKING WATER PROTECTION DIVISION.
OFFICE OF SCIENCE AND TECHNOLOGY | DIRECTOR, STANDARDS AND HEALTH PROTECTION.
| DIRECTOR, HEALTH AND ECOLOGICAL CRITERIA DIVISION.
| DIRECTOR, ENGINEERING AND ANALYSIS DIVISION.
OFFICE OF WASTE WATER MANAGEMENT | DIRECTOR, MUNICIPAL SUPPORT DIVISION.
| DIRECTOR, WATER PERMITS DIVISION.
OFFICE OF WETLANDS, OCEANS AND WATERSHEDS | DIRECTOR, ASSESSMENT AND WATERSHED PROTECTION DIVISION.
| DIRECTOR, OCEANS AND COASTAL PROTECTION DIVISION.
| DIRECTOR, WETLANDS DIVISION.
OFFICE OF THE ASSISANT ADMINISTRATOR FOR SOLID WASTE AND EMERGENCY RESPONSE | DIRECTOR, LAND REVITALIZATION STAFF.
FEDERAL FACILITIES RESTORATION AND REUSE OFFICE | DIRECTOR, FEDERAL FACILITIES RESTORATION AND REUSE OFFICE.
OFFICE OF EMERGENCY MANAGEMENT | DEPUTY DIRECTOR, OFFICE OF EMERGENCY RESPONSE.
OFFICE OF BROWNFIELDS CLEANUP AND REDEVELOPMENT | DIRECTOR, OFFICE OF BROWNFIELDS CLEANUP AND REDEVELOPMENT.
OFFICE OF SUPERFUND REMEDIATION AND TECHNOLOGY INNOVATION | DIRECTOR, ASSESSMENT AND REMEDIATION DIVISION.
| DIRECTOR, RESOURCES MANAGEMENT DIVISION.
OFFICE OF SOLID WASTE | DIRECTOR, HAZARDOUS WASTE IDENTIFICATION DIVISION.
| DIRECTOR, HAZARDOUS WASTE MINIMIZATION AND MANAGEMENT DIVISION.
| DIRECTOR, ECONOMICS, METHODS AND RISK ANALYSIS DIVISION.
| SENIOR ADVISOR FOR REVITALIZATION AND LABORATORY CAPACITY.
OFFICE OF THE ASSISTANT ADMINISTRATOR FOR AIR AND RADIATION | SENIOR ADVISOR.
| DIRECTOR, OFFICE OF POLICY ANALYSIS AND REVIEW.
| SENIOR POLICY ADVISOR (AGRICULTURE).
OFFICE OF AIR QUALITY PLANNING AND STANDARDS | DIRECTOR, EMISSION STANDARDS DIVISION.
| DIRECTOR, AIR QUALITY POLICY DIVISION.
| DIRECTOR, HEALTH AND ENVIRONMENTAL IMPACTS DIVISION.
| DIRECTOR, SECTOR POLICIES AND PROGRAMS DIVISION.
| DIRECTOR, AIR QUALITY STRATEGIES AND STANDARDS DIVISION.
| DIRECTOR, EMISSIONS MONITORING AND ANALYSIS DIVISION.
| DIRECTOR, INFORMATION TRANSFER AND PROGRAM INTEGRATION DIVISION.
| DEPUTY DIRECTOR, OFFICE OF AIR QUALITY PLANNING AND STANDARDS.
OFFICE OF TRANSPORTATION AND AIR QUALITY | DIRECTOR, ADVANCED TECHNOLOGY DIVISION.
| DIRECTOR, TRANSPORTATION AND REGIONAL PROGRAMS DIVISION.
| DIRECTOR, ASSESSMENT AND STANDARDS DIVISION.
| DIRECTOR, CERTIFICATION AND COMPLIANCE DIVISION.
OFFICE OF RADIATION AND INDOOR AIR | DIRECTOR, INDOOR ENVIRONMENTS DIVISION.
| DEPUTY DIRECTOR, OFFICE OF RADIATION AND INDOOR AIR.
| DIRECTOR, RADIATION PROTECTION DIVISION.
OFFICE OF ATMOSPHERIC PROGRAMS | DIRECTOR, CLEAN AIR MARKETS DIVISION.
| DIRECTOR, ATMOSPHERIC POLLUTION PREVENTION DIVISION.
OFFICE OF THE ASSISTANT ADMINISTRATOR FOR PREVENTION PESTICIDES AND TOXICS SUBSTANCES | SPECIAL ASSISTANT TO THE ASSISTANT ADMINISTRATOR.
OFFICE OF PROGRAM MANAGEMENT OPERATIONS | ASSOCIATE ASSISTANT ADMINISTRATOR (MANAGEMENT).
OFFICE OF PESTICIDE PROGRAMS | DIRECTOR, REGISTRATION DIVISION.
| DIRECTOR, BIOLOGICAL AND ECONOMIC ANALYSIS DIVISION.
| DIRECTOR, SPECIAL REVIEW AND REREGISTRATION DIVISION.
| DIRECTOR, ENVIRONMENTAL FATE AND EFFECTS DIVISION.
| DIRECTOR, HEALTH EFFECTS DIVISION.
| DIRECTOR, ANTIMICROBIALS DIVISION.
| DIRECTOR, FIELD AND EXTERNAL AFFAIRS DIVISION.
| DIRECTOR, INFORMATION RESOURCES AND SERVICES DIVISION.
| DIRECTOR, BIOPESTICIDES AND POLLUTION PREVENTION DIVISION.
| DEPUTY DIRECTOR, OFFICE OF PESTICIDES PROGRAMS (MANAGEMENT).
OFFICE OF POLLUTION PREVENTION AND TOXICS | DIRECTOR, ECONOMICS EXPOSURE AND TECHNOLOGY DIVISION.
| DIRECTOR, CHEMICAL CONTROL DIVISION.
| DIRECTOR, INFORMATION MANAGEMENT DIVISION.
| DIRECTOR, POLLUTION PREVENTION DIVISION.
| DIRECTOR, NATIONAL PROGRAM CHEMICALS DIVISION.
| DIRECTOR, RISK ASSESSMENT DIVISION.
| DIRECTOR, ENVIRONMENTAL ASSISTANCE DIVISION.
OFFICE OF SCIENCE COORDINATION AND POLICY | DIRECTOR, OFFICE OF SCIENCE COORDINATION AND POLICY.
OFFICE OF THE ASSISTANT ADMINISTRATOR FOR RESEARCH AND DEVELOPMENT | DIRECTOR FOR SUSTAINABLE DEVELOPMENT.
OFFICE OF THE SCIENCE ADVISOR | CHIEF SCIENTIST TO THE SCIENCE ADVISOR.
NATIONAL HOMELAND SECURITY RESEARCH CENTER | DIRECTOR, NATIONAL HOMELAND SECURITY RESEARCH CENTER.
OFFICE OF RESOURCES MANAGEMENT AND ADMINISTRATION | DIRECTOR, OFFICE OF RESOURCES MANAGEMENT AND ADMINISTRATION.
OFFICE OF SCIENCE POLICY | DIRECTOR, OFFICE OF SCIENCE POLICY.
NATIONAL HEALTH AND ENVIRONMENTAL EFFECTS RESEARCH LABORATORY | DIRECTOR, NATIONAL HEALTH AND ENVIRONMENTAL EFFECTS RESEARCH LABORATORY.
| ASSOCIATE DIRECTOR FOR HEALTH.
| ASSOCIATE DIRECTOR FOR ECOLOGY.
| DEPUTY DIRECTOR FOR MANAGEMENT.
ATLANTIC ECOLOGY DIVISION | DIRECTOR, ATLANTIC ECOLOGY DIVISION.
WESTERN ECOLOGY DIVISION | DIRECTOR, WESTERN ECOLOGY DIVISION CORVALLIS.
GULF ECOLOGY DIVISION | DIRECTOR, GULF ECOLOGY DIVISION.
MID-CONTINENT ECOLOGY DIVISION | DIRECTOR, MID-CONTINENT ECOLOGY DIVISION.
EXPERIMENTAL TOXICOLOGY DIVISION | DIRECTOR, EXPERIMENTAL TOXICOLOGY DIVISION.
HUMAN STUDIES DIVISION | DIRECTOR, HUMAN STUDIES DIVISION.
NATIONAL EXPOSURE RESEARCH LABORATORY—NERL | DIRECTOR, NATIONAL EXPOSURE RESEARCH LABORATORY—RESEARCH TRIANGLE PARK.
| DEPUTY DIRECTOR FOR MANAGEMENT (NATIONAL EXPOSURE RESEARCH LABORTORY)—RESEARCH TRIANGEL PARK.
| DIRECTOR, MICROBIOLOGICAL AND CHEMICAL EXPOSURE ASSESSMENT RESEARCH DIVISION.
ENVIRONMENTAL SCIENCES DIVISION | DIRECTOR ENVIRONMENTAL SCIENCES DIVISION.
ECOSYSTEMS RESEARCH DIVISION | DIRECTOR ECOSYSTEMS RESEARCH DIVISION ATHENS.
HUMAN EXPOSURE AND ATMOSPHERIC SCIENCES DIVISION | DIRECTOR, HUMAN EXPOSURE AND ATMOSPHERIC SCIENCE DIVISION.
NATIONAL RISK MANAGEMENT RESEARCH LABORATORY—NRMRL | DIRECTOR, NATIONAL RISK MANAGEMENT RESEARCH LABORATORY.
| DEPUTY DIRECTOR FOR MANAGEMENT.
AIR POLLUTION PREVENTION AND CONTROL DIVISION | DIRECTOR, AIR POLLUTION PREVENTION AND CONTROL DIVISION.
GROUND WATER ECOSYTEMS RESTORATION DIVISION | DIRECTOR, GROUND WATER ECOSYTEMS RESTORATION DIVISION.
WATER SUPPLY AND WATER RESOURCES DIVISION | DIRECTOR, WATER SUPPLY AND WATER RESOURCES DIVISION.
NATIONAL CENTER FOR ENVIRONMENTAL ASSESSMENT | DIRECTOR NATIONAL CENTER FOR ENVIRONMENTAL ASSESSMENT.
| ASSOCIATE DIRECTOR FOR ECOLOGY (NATIONAL CENTER FOR ENVIRONMENTAL ASSESSMENT).
| DEPUTY DIRECTOR FOR MANAGEMENT.
NATIONAL CENTER FOR ENVIRONMENTAL ASSESSMENT—WASHINGTON, DC | DIRECTOR, NATIONAL CENTER FOR ENVIRONMENTAL ASSESSMENT.
NATIONAL CENTER FOR ENVIRONMENTAL ASSESSMENT—RESEARCH TRIANGLE PARK, NORTH CAROLINA | DIRECTOR NATIONAL CENTER ENVIRONMENTAL ASSESSMENT.
NATIONAL CENTER FOR ENVIRONMENTAL ASSESSMENT—CINCINNATI, OHIO | DIRECTOR, NATIONAL CENTER FOR ENVIRONMENTAL ASSESSMENT.
NATIONAL CENTER FOR ENVIRONMENTAL RESEARCH | DEPUTY DIRECTOR FOR MANAGEMENT.
| DIRECTOR, ENVIRONMENTAL ENGINEER RESEARCH DIVISION.
| DIRECTOR, NATIONAL CENTER FOR ENVIRONMENTAL RESEARCH.
| DIRECTOR, ENVIRONMENTAL SCIENCES RESEARCH DIVISION.
REGION 1—BOSTON, MASSACHUSETTS | DIRECTOR, OFFICE OF ECOSYSTEM PROTECTION.
| DIRECTOR, OFFICE OF SITE REMEDIATION RESTORATION.
| DIRECTOR, OFFICE OF ADMINISTRATION AND RESOURCES MANAGEMENT.
| DIRECTOR, OFFICE OF ENVIRONMENTAL STEWARDSHIP.
OFFICE OF REGIONAL COUNSEL | REGIONAL COUNSEL.
REGION 2—NEW YORK, NEW YORK | ASSISTANT REGIONAL ADMINISTRATOR FOR POLICY AND MANAGEMENT.
| DIRECTOR, OFFICE OF EMERGENCY AND REMEDIAL RESPONSE.
| DIRECTOR, ENVIRONMENTAL PLANNING AND PROTECTION DIVISION.
| DIRECTOR, ENVIRONMENTAL SCIENCE AND ASSESSMENT DIVISION.
| DIRECTOR, CARIBBEAN ENVIRONMENTAL PROTECTION DIVISION.
| DIRECTOR, ENFORCEMENT AND COMPLIANCE ASSISTANCE DIVISION.
| SENIOR ADVISOR.
OFFICE OF REGIONAL COUNSEL | REGIONAL COUNSEL.
REGION 3—PHILADELPHIA, PENNSYLVANIA | DIRECTOR, WATER PROTECTION DIVISION.
| DIRECTOR, ENVIRONMENTAL ASSESSMENT AND INNOVATION DIVISION.
| ASSISTANT REGIONAL ADMINISTRATOR FOR POLICY AND MANAGEMENT.
| DIRECTOR, CHESAPEAKE BAY PROGRAM OFFICE.
| DIRECTOR, AIR PROTECTION DIVISION.
| DIRECTOR, HAZARDOUS SITE CLEANUP DIVISION.
| DIRECTOR, WASTE AND CHEMICAL MANAGEMENT DIVISION.
| DIRECTOR, ENVIRONMENTAL ASSESSMENT AND INNOVATION DIVISION.
OFFICE OF REGIONAL COUNSEL | REGIONAL COUNSEL.
REGION 4—ATLANTA, GEORGIA | DIRECTOR, WATER MANAGEMENT DIVISION.
| ASSISTANT REGIONAL ADMINISTRATOR FOR POLICY AND MANAGEMENT.
| DIRECTOR, WASTE MANAGEMENT DIVISION.
| DIRECTOR, SCIENCE AND ECOSYSTEM SUPPORT DIVISION.
| DIRECTOR, AIR, PESTICIDES AND TOXICS MANAGEMENT DIVISION.
OFFICE OF REGIONAL COUNSEL | REGIONAL COUNSEL.
REGION 5—CHICAGO, ILLINOIS | DIRECTOR, AIR AND RADIATION DIVISION.
| DIRECTOR, WATER DIVISION.
| DIRECTOR, WASTE, PESTICIDES AND TOXICS DIVISION.
| DIRECTOR, GREAT LAKES NATIONAL PROGRAM OFFICE.
| DIRECTOR, SUPERFUND DIVISION.
| ASSISTANT REGIONAL ADMINISTRATOR FOR RESOURCES MANAGEMENT.
OFFICE OF REGIONAL COUNSEL | REGIONAL COUNSEL.
REGION 6—DALLAS, TEXAS | ASSISTANT REGIONAL ADMINISTRATOR FOR MANAGEMENT.
| DIRECTOR, COMPLIANCE ASSURANCE AND ENFORCEMENT DIVISION.
| DIRECTOR, SUPERFUND DIVISION.
| DIRECTOR, WATER QUALITY PROTECTION DIVISION.
| DIRECTOR, MULTIMEDIA PLANNING AND PERMITTING DIVISION.
OFFICE OF REGIONAL COUNSEL | REGIONAL COUNSEL.
REGION 7—KANSAS CITY, KANSAS | ASSISTANT REGIONAL ADMINISTRATOR FOR POLICY AND MANAGEMENT.
| DIRECTOR, SUPERFUND DIVISION.
| DIRECTOR, AIR, RESOURCES CONVERSATION AND RECOVERY ACT AND TOXICS DIVISION.
| DIRECTOR, WATER WETLANDS AND PESTICIDES DIVISON.
| DIRECTOR, ENVIRONMENTAL SERVICES DIVISION.
OFFICE OF REGIONAL COUNSEL | REGIONAL COUNSEL.
REGION 8—DENVER, COLORADO | ASSISTANT REGIONAL ADMINISTRATOR FOR ECOSYSTEMS PROTECTION AND REMEDIATION.
| ASSISTANT REGIONAL ADMINISTRATOR FOR OFFICE OF PARTNERSHIPS AND REGULATORY ASSISTANCE.
| ASSISTANT REGIONAL ADMINISTRATOR FOR TECHNICAL AND MANAGEMENT SERVICES.
OFFICE OF REGIONAL COUNSEL | REGIONAL COUNSEL.
REGION 9—SAN FRANCISCO, CALIFORNIA | DIRECTOR, WATER MANAGEMENT DIVISION.
| DIRECTOR, AIR DIVISION.
| ASSISTANT REGIONAL ADMINISTRATOR FOR POLICY AND MANAGEMENT.
| DIRECTOR, OFFICE OF PLANNING AND PUBLIC AFFAIRS.
| DIRECTOR, SUPERFUND DIVISION.
| DIRECTOR, CROSS MEDIA DIVISION.
| REGIONAL CHIEF INFORMATION OFFICER (SENIOR ADVISOR).
| DIRECTOR, WASTE MANAGEMENT DIVISION.
OFFICE OF REGIONAL COUNSEL | REGIONAL COUNSEL.
REGION 10—SEATTLE, WASHINGTON | ASSISTANT REGIONAL ADMINISTRATOR FOR MANAGEMENT PROGRAMS.
| DIRECTOR, OFFICE OF WATER.
| DIRECTOR, OFFICE OF ECOSYSTEMS AND COMMUNITIES.
| DIRECTOR, OFFICE OF ENVIRONMENTAL CLEANUP.
| DIRECTOR, OFFICE OF COMPLIANCE.
| DIRECTOR, OFFICE OF AIR, WASTE AND TOXICS.
OFFICE OF REGIONAL COUNSEL | REGIONAL COUNSEL.
EQUAL EMPLOYMENT OPPORTUNITY COMMISSION:
OFFICE OF THE INSPECTOR GENERAL | INSPECTOR GENERAL.
OFFICE OF FIELD PROGRAMS | DISTRICT DIRECTOR—(BALTIMORE).
| DISTRICT DIRECTOR—(NEW YORK).
| DISTRICT DIRECTOR—(ATLANTA).
| DISTRICT DIRECTOR—(HOUSTON).
| DISTRICT DIRECTOR—(DETROIT).
| DISTRICT DIRECTOR—(SAN FRANCISCO).
| DISTRICT DIRECTOR—(DALLAS).
| DISTRICT DIRECTOR—(CHICAGO).
| DISTRICT DIRECTOR—(ST LOUIS).
| DISTRICT DIRECTOR—(MIAMI).
| DISTRICT DIRECTOR—(INDIANAPOLIS).
| DISTRICT DIRECTOR—(MEMPHIS).
| DISTRICT DIRECTOR—(LOS ANGELES).
| DISTRICT DIRECTOR—(DENVER).
| DISTRICT DIRECTOR—(BIRMINGHAM).
| DISTRICT DIRECTOR—(NEW ORLEANS).
| DISTRICT DIRECTOR—(PHOENIX).
| DISTRICT DIRECTOR—(SAN ANTONIO).
| DISTRICT DIRECTOR—(CHARLOTTE).
| NATIONAL MEDIATION EXECUTIVE ADVISOR.
| DISTRICT DIRECTOR—(CLEVELAND).
| DISTRICT DIRECTOR—(PHILADELPHIA).
| DISTRICT DIRECTOR—(MILWAUKEE).
| PROGRAM MANAGER.
FIELD MANAGEMENT PROGRAMS | DIRECTOR FIELD MANAGEMENT PROGRAMS.
FIELD COORDINATION PROGRAMS | DIRECTOR, FIELD COORDINATION PROGRAMS.
FEDERAL COMMUNICATIONS COMMISSION:
OFFICE OF INSPECTOR GENERAL | INSPECTOR GENERAL.
OFFICE OF ENGINEERING AND TECHNOLOGY | ASSOCIATE OFFICE CHIEF.
FEDERAL ENERGY REGULATORY COMMISSION:
OFFICE OF ENERGY PROJECTS | DIRECTOR DIVISION OF DAM SAFETY AND INSPECTIONS.
OFFICE OF MARKET OVERSIGHT AND INVESTIGATIONS | DIRECTOR, FINANCIAL AUDITS.
| DIRECTOR, OPERATIONAL AUDITS.
| CHIEF ACCOUNTANT.
| DIRECTOR, FINANCIAL AUDITS.
| CHIEF ACCOUNTANT AND DIRECTOR, DIVISION OF AUDITS AND ACCOUNTING.
OFFICE OF ENFORCEMENT | CHIEF ACCOUNTANT AND DIRECTOR, DIVISION OF FINANCIAL REGULATIONS.
| CHIEF, REGULATORY ACCOUNTING BRANCH.
FEDERAL LABOR RELATIONS AUTHORITY:
OFFICE OF THE CHAIRMAN. | SOLICITOR.
| DIRECTOR, HUMAN RESOURCES, POLICY AND PERFORMANCE MANAGEMENT.
| CHIEF COUNSEL.
| SENIOR ADVISOR.
OFFICE OF MEMBER | CHIEF COUNSEL.
OFFICE OF MEMBER | CHIEF COUNSEL.
FEDERAL SERVICE IMPASSES PANEL | EXECUTIVE DIRECTOR, FEDERAL SERVICE IMPASSES PANEL.
OFFICE OF THE EXECUTIVE DIRECTOR | EXECUTIVE DIRECTOR.
OFFICE OF THE GENERAL COUNSEL | DEPUTY GENERAL COUNSEL.
REGIONAL OFFICES | REGIONAL DIRECTOR—WASHINGTON, D.C.
| REGIONAL DIRECTOR—BOSTON.
| REGIONAL DIRECTOR—ATLANTA.
| REGIONAL DIRECTOR—DALLAS.
| REGIONAL DIRECTOR—SAN FRANCISCO.
FEDERAL MARITIME COMMISSION:
OFFICE OF THE SECRETARY | SECRETARY.
OFFICE OF THE GENERAL COUNSEL | DEPUTY GENERAL COUNSEL FOR REPORTS OPINIONS AND DECISIONS.
BUREAU OF CERTIFICATION AND LICENSING | DIRECTOR, BUREAU OF CERTIFICATION AND LICENSING.
BUREAU OF TRADE ANALYSIS | DIRECTOR, BUREAU OF TRADE ANALYSIS.
BUREAU OF ENFORCEMENT | DEPUTY DIRECTOR BUREAU OF ENFORCEMENT.
| DIRECTOR BUREAU OF ENFORCEMENT.
OFFICE OF ADMINISTRATION | DIRECTOR OF ADMINISTRATION.
FEDERAL MEDIATION AND CONCILIATION SERVICE:
OFFICE OF THE DIRECTOR | CHIEF OF STAFF.
| NATIONAL REPRESENTATIVE.
FEDERAL RETIREMENT THRIFT INVESTMENT BOARD:
FEDERAL RETIREMENT THRIFT INVESTMENT BOARD | DIRECTOR OF INVESTMENTS.
| DIRECTOR OF CONTRACTS AND ADMINISTRATION.
| CHIEF INFORMATION OFFICER.
| DIRECTOR OF ACCOUNTING.
| ASSOCIATE DIRECTOR OF PUBLICATIONS.
| ASSOCIATE GENERAL COUNSEL.
| DEPUTY DIRECTOR OF EXTERNAL AFFAIRS.
| DEPUTY DIRECTOR OF BENEFITS AND INVESTMENTS.
| CHIEF FINANCIAL OFFICER.
| DEPUTY DIRECTOR OF AUTOMATED SYSTEMS.
| DIRECTOR OF PARTICIPANT SERVICES.
| CHIEF INVESTMENT OFFICER.
FEDERAL TRADE COMMISSION:
OFFICE OF THE INSPECTOR GENERAL | INSPECTOR GENERAL.
OFFICE OF THE GENERAL COUNSEL | DEPUTY GENERAL COUNSEL FOR POLICY STUDIES.
OFFICE OF EXECUTIVE DIRECTOR | CHIEF INFORMATION OFFICER.
| DEPUTY EXECUTIVE DIRECTOR.
BUREAU OF CONSUMER PROTECTION | ASSOCIATE DIRECTOR FOR INTERNATIONAL DIVISION OF CONSUMER PROTECTION.
GENERAL SERVICES ADMINISTRATION:
OFFICE OF CITIZEN SERVICES AND COMMUNICATIONS | DIRECTOR FEDERAL CITIZEN INFORMATION CENTER.
OFFICE OF THE CHIEF HUMAN CAPITAL OFFICER | CHIEF HUMAN CAPITAL OFFICER.
| CHIEF INFORMATION OFFICER.
| DIRECTOR OF HUMAN RESOURCES SERVICES.
| DEPUTY CHIEF INFORMATION OFFICER.
| DIRECTOR OF HUMAN CAPITAL MANAGEMENT.
OFFICE OF GOVERNMENTWIDE POLICY | DEPUTY ASSOCIATE ADMINISTRATOR FOR ACQUISITION POLICY.
| DEPUTY ASSOCIATE ADMINISTRATOR FOR REAL PROPERTY.
| DIRECTOR OF INTERGOVERMENTAL SOLUTIONS.
| DEPUTY ASSOCIATE ADMINISTRATOR FOR TRANSPORTATION AND PERSONAL PROPERTY.
| DEPUTY ASSOCIATE ADMINISTRATOR FOR ELECTRONIC GOVERNMENT AND TECHNOLOGY.
OFFICE OF THE CHIEF ACQUISITION OFFICER | DEPUTY CHIEF ACQUISITION OFFICER.
| DIRECTOR OF ACQUISITION SYSTEMS.
OFFICE OF INSPECTOR GENERAL | ASSISTANT INSPECTOR GENERAL FOR AUDITING.
| DEPUTY INSPECTOR GENERAL.
| DEPUTY ASSISTANT INSPECTOR GENERAL FOR AUDITING.
| COUNSEL TO THE INSPECTOR GENERAL.
| ASSISTANT INSPECTOR GENERAL FOR INVESTIGATIONS.
| DEPUTY ASSISTANT INSPECTOR GENERAL FOR INVESTIGATIONS.
OFFICE OF THE CHIEF FINANCIAL OFFICER | DEPUTY CHIEF FINANCIAL OFFICER FOR FINANCIAL POLICY AND OPERATIONS.
| DIRECTOR OF BUDGET.
| CHIEF FINANCIAL OFFICER.
| DIRECTOR OF FINANCIAL MANAGEMENT SYSTEMS.
| EXECUTIVE DIRECTOR, JOINT FINANCIAL MANAGEMENT IMPROVEMENT PROGRAM.
PUBLIC BUILDINGS SERVICE | ASSISTANT COMMISSIONER FOR FEDERAL PROTECTIVE SERVICE.
| ASSISTANT COMMISSIONER FOR PORTFOLIO MANAGEMENT.
| DEPUTY ASSISTANT COMMISSIONER FOR REAL PROPERTY DISPOSAL.
| ASSISTANT COMMISSIONER FOR BUSINESS PERFORMANCE.
| CHIEF FINANCIAL OFFICER.
| DIRECTOR OF REALTY SERVICES.
| DEPUTY ASSISTANT COMMISSIONER FOR REAL ESTATE PORTFOLIO MANAGEMENT.
| ASSISTANT COMMISSIONER FOR REAL PROPERTY ASSET MANAGEMENT.
| ASSISTANT COMMISSIONER FOR APPLIED SCIENCE.
| ASSISTANT COMMISSIONER FOR NATIONAL CUSTOMER SERVICES MANAGEMENT.
| ASSISTANT COMMISSIONER FOR ORGANIZATIONAL RESOURCES.
| ASSISTANT COMMISSIONER FOR CAPITAL CONSTRUCTION PROGRAM MANAGEMENT.
FEDERAL TECHNOLOGY SERVICE | ASSISTANT COMMISSIONER FOR SERVICE DEVELOPMENT.
| ASSISTANT COMMISSIONER FOR SERVICE DELIVERY.
| ASSISTANT COMMISSIONER FOR INFORMATION TECHNOLOGY INTEGRATION.
| ASSISTANT COMMISSIONER FOR REGIONAL SERVICES.
| ASSISTANT COMMISSIONER FOR ACQUISITION.
| ASSISTANT COMMISSIONER FOR INFORMATION SECURITY.
| ASSISTANT COMMISSIONER FOR CUSTOMER RELATIONSHIP.
| MANAGEMENT AND SALES.
| DEPUTY ASSISTANT COMMISSIONER FOR INFORMATION.
| TECHNOLOGY INTEGRATION, FEDERAL TECHNOLOGY SERVICE.
| PROGRAM EXECUTIVE FOR E-AUTHENTICATION.
OFFICE OF THE CHIEF INFORMATION OFFICER | DIRECTOR OF INFRASTRUCTURE OPERATIONS.
| DIRECTOR OF ENTERPRISE INFORMATION TECHNOLOGY.
| INVESTMENT PORTFOLIO AND POLICY.
FEDERAL ACQUISITION SERVICE | ASSISTANT COMMISSIONER FOR INTEGRATED TECHNOLOGY SERVICES.
| CONTROLLER.
| ASSISTANT COMMISSIONER FOR ACQUISITION MANAGEMENT.
| ASSISTANT COMMISSIONER FOR ASSISTED ACQUISITION SERVICES.
| ASSISTANT COMMISSIONER FOR GENERAL SUPPLIES AND SERVICES.
| ASSISTANT COMMISSIONER FOR TRAVEL, MOTOR VEHICLE AND CARD SERVICES.
| ASSISTANT COMMISSIONER FOR CUSTOMER ACCOUNTS AND RESEARCH.
| CHIEF INFORMATION OFFICER.
FEDERAL SUPPLY SERVICE | ASSISTANT COMMISSIONER FOR COMMERCIAL ACQUISITION.
| ASSISTANT COMMISSIONER FOR TRANSPORTATION AND PROPERTY MANAGEMENT.
| ASSISTANT COMMISSIONER FOR BUSINESS MANAGEMENT AND MARKETING.
| DEPUTY ASSISTANT COMMISSIONER FOR ACQUISITION.
| FEDERAL SUPPLY SERVICE CHIEF INFORMATION OFFICER.
| ASSISTANT COMMISSIONER FOR VEHICLE ACQUISTION AND LEASING SERVICES.
| ASSISTANT COMMISSIONER FOR GLOBAL SUPPLY.
| ASSISTANT COMMISSIONER FOR ENTERPRISE PLANNING.
NEW ENGLAND REGION | ASSISTANT REGIONAL ADMINISTRATOR FOR PUBLIC BUILDING SERVICE.
NORTHEAST AND CARIBBEAN REGION | ASSISTANT REGIONAL ADMINISTRATOR FOR PUBLIC BUILDINGS SERVICE.
| ASSISTANT REGIONAL ADMINISTRATOR FOR FEDERAL SUPPLY SERVICE.
MID-ATLANTIC REGION | ASSISTANT REGIONAL ADMINISTRATOR FOR PUBLIC BUILDINGS SERVICE.
| ASSISTANT REGIONAL ADMINISTRATOR FEDERAL SUPPLY SERVICE.
| REGIONAL COUNSEL.
NATIONAL CAPITAL REGION | ASSISTANT REGIONAL ADMINISTRATOR, PUBLIC BUILDINGS SERVICE, NATIONAL CAPITAL REGION.
| PROJECT EXECUTIVE FOR REAL ESTATE DEVELOPMENT.
| ASSISTANT REGIONAL ADMINISTRATOR FOR PUBLIC BUILDINGS SERVICE.
SOUTHEAST SUNBELT REGION | ASSISTANT REGIONAL ADMINISTRATOR FOR FEDEERAL TECHNOLOGY SERVICE.
| ASSISTANT REGIONAL ADMINISTRATOR FOR FEDERAL SUPPLY AND SERVICES.
| DEPUTY ASSISTANT REGIONAL ADMINISTRATOR FOR REAL ESTATE DESIGN, CONSTRUCTION AND DEVELOPMENT.
GREAT LAKES REGION | ASSISTANT REGIONAL ADMINISTRATOR FOR PUBLIC BUILDINGS SERVICE.
THE HEARTLAND REGION | ASSISTANT REGIONAL ADMINISTRATOR FOR PUBLIC BUILDINGS SERVICE.
| ASSISTANT REGIONAL ADMINISTRATOR FOR FEDERAL TECHNOLOGY SERVICE, REGION—6.
GREATER SOUTHWEST REGION | ASSISTANT REGIONAL ADMINISTRATOR FOR PUBLIC BUILDINGS SERVICE.
| ASSISTANT REGIONAL ADMINISTRATOR FOR FEDERAL TECHNICAL SERVICE.
| ASSISTANT REGIONAL ADMINISTRATOR FOR FEDERAL SUPPLY SERVICE.
ROCKY MOUNTAIN REGION | ASSISTANT REGIONAL ADMINISTRATOR FOR PUBLIC BUILDINGS SERVICE.
PACIFIC RIM REGION | ASSISTANT REGIONAL ADMINISTRATOR FOR PUBLIC BUILDINGS SERVICES.
| ASSISTANT REGIONAL ADMINISTRATOR FOR FEDERAL SUPPLY SERVICE.
| SENIOR ADVISOR.
NORTHWEST/ARCTIC REGION | ASSISTANT REGIONAL ADMINISTRATOR, PUBLIC BUILDING SERVICES REGION 10.
DEPARTMENT OF HEALTH AND HUMAN SERVICES:
OFFICE OF THE ASSISTANT SECRETARY FOR ADMINISTRATION AND MANAGEMENT | PROJECT MANAGER.
| DIRECTOR, ATLANTA HUMAN RESOURCES CENTER.
OFFICE OF THE DEPUTY ASSISTANT SECRETARY FOR BUDGET | DIRECTOR DIVISION OF INTEGRITY AND ORGAN REVIEW.
OFFICE OF THE DEPUTY ASSISTANT SECRETARY FOR FINANCE | DEPUTY ASSISTANT SECRETARY, FINANCE.
| DIRECTOR, OFFICE OF FINANCIAL POLICY.
OFFICE OF THE ASSISTANT SECRETARY FOR PLANNING AND EVALUATION | DEPUTY TO THE DEPUTY ASSISTANT SECRETARY FOR PLANNING AND EVALUATION (HEALTH SERVICES POLICY).
OFFICE OF THE ASSISTANT SECRETARY FOR PUBLIC HEALTH AND SCIENCE | DIRECTOR, OFFICE OF HUMAN IMMUNODEFICIENCY VIRUS AND ACQUIRED IMMUNODEFICIENCY VIRUS POLICY.
| DIRECTOR, OFFICE OF RESEARCH INTEGRITY.
ASSOCIATE GENERAL COUNSEL DIVISIONS | ASSOCIATE GENERAL COUNSEL, GENERAL LAW DIVISION.
| DEPUTY ASSOCIATE GENERAL COUNSEL FOR CLAIMS AND EMPLOYMENT LAW.
| DEPUTY ASSOCIATE GENERAL COUNSEL, BUSINESS AND ADMINISTRATIVE LAW DIVISION.
OFFICE OF THE INSPECTOR GENERAL | PRINCIPAL DEPUTY INSPECTOR GENERAL.
| DEPUTY INSPECTOR GENERAL FOR MANAGEMENT AND POLICY.
| DEPUTY INSPECTOR GENERAL FOR LEGAL AFFAIRS.
OFFICE OF THE DEPUTY INSPECTOR GENERAL FOR INVESTIGATIONS | DEPUTY INSPECTOR GENERAL FOR INVESTIGATIONS.
| ASSISTANT INSPECTOR GENERAL FOR INVESTIGATIVE OPERATIONS.
| ASSISTANT INSPECTOR GENERAL FOR CIVIL AND ADMINISTRATIVE REMEDIES.
| ASSISTANT INSPECTOR GENERAL FOR INVESTIGATIVE OVERSIGHT AND SUPPORT.
| DEPUTY INSPECTOR GENERAL FOR ENFORCEMENT AND COMPLIANCE.
OFFICE OF THE DEPUTY INSPECTOR GENERAL FOR AUDIT SERVICES | DEPUTY INSPECTOR GENERAL FOR AUDIT SERVICES. ASSISTANT INSPECTOR GENERAL FOR ADMINISTRATION OF CARE/FINANCING AND AGING AUDITS.
| ASSISTANT INSPECTOR GENERAL FOR MEDICARE AND MEDICAID SERVICE AUDITS.
| ASSISTANT INSPECTOR GENERAL FOR FINANCIAL MANAGEMENT AND REGIONAL OPERATIONS.
| ASSISTANT INSPECTOR GENERAL FOR GRANTS AND INTERNAL ACTIVITIES.
| ASSISTANT INSPECTOR GENERAL FOR AUDIT MANAGEMENT AND POLICY.
OFFICE OF THE DEPUTY INSPECTOR GENERAL FOR EVALUATION AND INSPECTIONS | DEPUTY INSPECTOR GENERAL FOR EVALUATION AND INSPECTIONS.
PROGRAM SUPPORT CENTER | DEPUTY DIRECTOR OF OPERATIONS.
| DEPUTY ASSISTANT SECRETARY FOR PROGRAM SUPPORT.
OFFICE OF FINANCIAL MANAGEMENT SERVICE | DIRECTOR, FINANCIAL MANAGEMENT SERVICE.
OFFICE OF PROGRAM SUPPORT | DIRECTOR OFFICE OF FINANCIAL MANAGEMENT.
OFFICE OF THE ACTUARY | DIRECTOR, OFFICE OF THE ACTUARY (CHIEF ACTUARY).
| DIRECTOR, OFFICE OF MEDICARE AND MEDICAID COST ESTIMATES.
CENTER FOR BENEFICIARY CHOICES | DIRECTOR, MEDICARE DRUG BENEFIT GROUP.
CENTER FOR MEDICARE MANAGEMENT | DIRECTOR, MEDICARE CONTRACTOR MANAGEMENT GROUP.
CENTER FOR MEDICAID AND STATE OPERATIONS | DIRECTOR, MEDICAID INTEGRITY GROUP.
OFFICE OF ACQUISITIONS AND GRANTS MANAGEMENT | DIRECTOR, OFFICE OF ACQUISITIONS AND GRANTS.
OFFICE OF INFORMATION SERVICES | DIRECTOR, OFFICE OF INFORMATION SERVICES (CHIEF INFORMATION OFFICER).
| DEPUTY DIRECTOR, OFFICE OF INFORMATION SERVICES.
| DEPUTY DIRECTOR (TECHNOLOGY).
OFFICE OF FINANCIAL MANAGEMENT | DIRECTOR OFFICE OF FINANCIAL MANAGEMENT.
| DIRECTOR PROGRAM INTEGRITY GROUP.
| DEPUTY DIRECTOR OFFICE OF FINANCIAL MANAGEMENT.
| DIRECTOR, FINANCIAL SERVICES GROUP.
| DIRECTOR, ACCOUNTING MANAGEMENT GROUP.
OFFICE OF POLICY, PLANNING, AND BUDGET | ASSOCIATE ADMINISTRATOR FOR POLICY AND PROGRAMS COORDINATOR.
CENTER FOR MENTAL HEALTH SERVICES | DIRECTOR CENTER FOR MENTAL HEALTH SERVICES.
| DIRECTOR DIVISION OF STATE AND COMMUNITY SYSTEMS DEVELOPMENT.
CENTERS FOR DISEASE CONTROL AND PREVENTION | DIRECTOR, FINANCIAL MANAGEMENT OFFICE.
| Did not find title for this position.
| CHIEF FINANCIAL OFFICER.
| DIRECTOR, PROCUREMENT AND GRANTS OFFICE.
| DIRECTOR, INFORMATION TECHNOLOGY SERVICES OFFICE.
| CHIEF MANAGEMENT OFFICER, OFFICE OF TERRORISM.
| PREPAREDNESS AND EMERGENCY RESPONSE.
| CHIEF MANAGEMENT OFFICER, INFORMATION RESOURCES MANAGEMENT OFFICE.
CENTERS FOR DISEASE CONTROL AND PREVENTION | CHIEF MANAGEMENT OFFICER, OFFICE OF THE DIRECTOR.
| CHIEF POLICY OFFICER.
NATIONAL INSTITUTE FOR OCCUPATIONAL SAFETY AND HEALTH | DEPUTY DIRECTOR FOR MANAGEMENT.
NATIONAL CENTER FOR CHRONIC DISEASE PREVENTION AND HEALTH PROMOTION | DIRECTOR, OFFICE ON SMOKING AND HEALTH.
| DIRECTOR, DIVISION OF ADULT AND COMMUNITY HEALTH.
COORDINATING CENTER FOR HEALTH INFORMATION AND SERVICE | CHIEF MANAGEMENT OFFICER, COORDINATING CENTER FOR HEALTH INFORMATION AND SERVICES.
OFFICE OF GLOBAL HEALTH | CHIEF MANAGEMENT OFFICER, OFFICE OF GLOBAL HEALTH.
COORDINATING CENTER FOR INFECTIOUS DISEASES | CHIEF MANAGEMENT OFFICER, COORDINATING CENTER FOR INFECTIOUS DISEASES.
OFFICE OF WORKFORCE AND CAREER DEVELOPMENT | CHIEF MANAGEMENT OFFICER, OFFICE OF WORKFORCE AND CAREER DEVELOPMENT.
COORDINATING CENTER FOR HEALTH PROMOTION | CHIEF MANAGEMENT OFFICER, COORDINATING CENTER FOR HEALTH PROMOTION.
COORDINATING CENTER FOR ENVIRONMENTAL HEALTH, INJURY PREVENTION, AND OCCUPATIONAL HEALTH | CHIEF MANAGEMENT OFFICER, COORDINATING CENTER FOR ENVIRONMENTAL HEALTH, INJURY PREVENTION, AND OCCUPATIONAL HEALTH.
OFFICE OF CHIEF COUNSEL | DEPUTY CHIEF COUNSEL FOR PROGRAM REVIEW.
| ASSOCIATE DEPUTY CHIEF COUNSEL FOR DRUGS AND BIOLOGICS.
| ASSOCIATE DEPUTY CHIEF CNSEL FOR DEVICES, FOODS AND VETERINARY MEDICINE.
OFFICE OF MANAGEMENT | DIRECTOR, OFFICE OF FINANCIAL MANAGEMENT.
| DIRECTOR, OFFICE OF ACQUISITIONS AND GRANTS SERVICES.
OFFICE OF REGULATORY AFFAIRS | ASSOCIATE COMMISSIONER FOR REGULATORY AFFAIRS.
| DEPUTY ASSOCIATE COMMISSIONER FOR REGULATORY AFFAIRS.
| REGIONAL FOOD AND DRUG DIRECTOR, NORTHEAST REGION.
| REGIONAL FOOD AND DRUG DIRECTOR, SOUTHEAST REGION.
| REGIONAL FOOD AND DRUG DIRECTOR, SOUTHWEST REGION.
| DIRECTOR OFFICE OF CRIMINAL INVESTIGATIONS.
| REGIONAL FOOD AND DRUG DIRECTOR, CENTRAL REGION.
| DISTRICT FOOD AND DRUG DIRECTOR, NEW YORK DISTRICT.
| ASSOCIATE DIRECTOR INVESTIGATIONS.
| DEPUTY DIRECTOR FOR INVESTIGATIONS.
| DISTRICT FOOD AND DRUG DIRECTOR, LOS ANGELES DISTRICT.
| ASSOCIATE DIRECTOR INVESTIGATIONS.
CENTER FOR BIOLOGICS EVALUATION AND RESEARCH | DIRECTOR, OFFICE OF COMPLIANCE AND BIOLOGICS QUALITY.
| ASSOCIATE DIRECTOR FOR COMPLIANCE AND BIOLOGIC QUALITY.
CENTER FOR DRUG EVALUATION AND RESEARCH | DIRECTOR, OFFICE OF MANAGEMENT.
| DIRECTOR, DIVISION OF MEDICAL IMAGING SURGICAL AND DENTAL PRODUCTS.
| DIRECTOR, OFFICE OF GENERIC DRUGS.
| DIRECTOR, OFFICE OF EPIDEMIOLOGY AND BIOSTATISTICS.
| DIRECTOR, OFFICE OF COMPLIANCE.
| SENIOR ADVISOR FOR POLICY.
| DIRECTOR, OFFICE OF NEW DRUG QUALITY ASSESSMENT.
CENTER FOR DEVICES AND RADIOLOGICAL HEALTH | DIRECTOR, OFFICE OF DEVICE EVALUATION.
| DIRECTOR OFFICE OF COMPLIANCE.
| DIRECTOR, OFFICE OF SCIENCE AND TECHNOLOGY.
| DIRECTOR OFFICE OF SYSTEM AND MANAGEMENT.
CENTER FOR FOOD SAFETY AND APPLIED NUTRITION | DIRECTOR, OFFICE OF SEAFOOD.
| DIRECTOR OFFICE OF PREMARKET APPROVAL.
| DIRECTOR OFFICE OF FIELD PROGRAMS.
| DIRECTOR, OFFICE OF PLANT AND DAIRY FOODS AND BEVERAGES.
| DIRECTOR, OFFICE OF REGULATIONS AND POLICY.
CENTER FOR VETERINARY MEDICINE | DIRECTOR, OFFICE OF SCIENCE.
| DIRECTOR, OFFICE OF SURVEILLANCE AND COMPLIANCE.
SPECIAL PROGRAMS BUREAU | ASSOCIATE ADMINISTRATOR, SPECIAL PROGRAMS BUREAU.
HIV/AIDS BUREAU | DIRECTOR, OFFICE OF SCIENCE AND EPIDEMIOLOGY.
NATIONAL INSTITUTES OF HEALTH | ASSOCIATE DIRECTOR FOR MANAGEMENT.
OFFICE OF THE DIRECTOR | DIRECTOR, OFFICE OF FINANCIAL MANAGEMENT.
| DIRECTOR, OFFICE OF CONTRACTS MANAGEMENT.
| ASSOCIATE DIRECTOR FOR EXTRAMURAL AFFAIRS.
| ASSOCIATE DIRECTOR FOR DISEASE PREVENTION.
| DIRECTOR, OFFIC EOF MEDICAL APPLICATIONS OF RESEARCH.
| ASSOCIATE DIRECTOR FOR ADMINISTRATION.
| DIRECTOR, OFFICE OF POLICY FOR EXTRAMURAL RESEARCH ADMINISTRATION.
| SENIOR ADVISOR FOR POLICY.
| DIRECTOR, OFFICE OF REPORTS AND ANALYSIS.
| SCIENTIFIC ADVISOR FOR CAPACITY DEVELOPMENT.
| DIRECTOR, OFFICE OF RESEARCH FACILITIES DEVELOPMENT AND OPERATIONS.
NATIONAL HEART, LUNG AND BLOOD INSTITUTE | DIRECTOR, DIVISION OF HEART AND VASCULAR DISEASES.
| DIRECTOR, DIVISION OF LUNG DISEASES.
| DIRECTOR, DIVISION OF BLOOD DISEASES AND RESOURCES.
| DIRECTOR, DIVISION OF EXTRAMURAL AFFAIRS.
| ASSOCIATE DIRECTOR FOR INTERNATIONAL PROGRAMS.
| DIRECTOR OFFICE OF BIOSTATICS RESEARCH.
| DEPUTY DIRECTOR DIVISION OF HEART VASCULAR DISEASES.
| DEPUTY DIRECTOR DIVISION OF EPIDEMIOLOGY AND CLINICAL APPLICATION.
| DIRECTOR, EPIDEMIOLOGY AND BIOMETRY PROGRAM.
| DIRECTOR, NATIONAL CENTER FOR SLEEP DISORDERS.
INTRAMURAL RESEARCH | CHIEF LABORATORY OF BIOCHEMICAL GENETICS.
| CHIEF LABORATORY OF BIOCHEMISTRY.
| CHIEF LABORATORY OF BIOPHYSICAL CHEMISTRY.
| CHIEF MACROMOLECULES SECTION.
| CHIEF, INTERMEDIARY METABOLISM AND BIOENERGETICS SECTION.
| CHIEF, LABORATORY OF KIDNEY AND ELECTROLYTE METABOLISM.
| CHIEF LABORATORY OF CARDIAC ENERGETICS.
| CHIEF, METABOLIC REGULATION SECTION.
NATIONAL CANCER INSTITUTE | ASSOCIATE DIRECTOR FOR INTRAMURAL MANAGEMENT.
| ASSOCIATE DIRECTOR FOR EXTRAMURAL MANAGEMENT.
| ASSOCIATE DIRECTOR, CANCER DIAGNOSIS PROGRAM.
| ASSOCIATE DIRECTOR FOR BUDGET AND FINANCIAL MANAGEMENT.
| DEPUTY DIRECTOR FOR MANAGEMENT.
| ASSOCIATE DIRECTOR, REFERRAL REVIEW AND PROGRAM COORDINATION.
| DEPUTY DIRECTOR FOR ADMINISTRATIVE OPERATIONS.
DIVISION OF CANCER BIOLOGY, DIAGNOSIS AND CENTERS | CHIEF, MICROBIAL GENETICS AND BIOCHEMISTRY SECTION, LABORATORY OF BIOCHEMISTRY.
| CHIEF, LABORATORY OF BIOCHEMEMISTRY INTRAMURAL RESEARCH PROGRAM.
| ASSOCIATE DIRECTOR, EXTRAMURAL RESEARCH PROGRAM.
| DEPUTY DIRECTOR, DIVISION OF CANCER BIOLOGY DIAGNOSIS AND CENTERS.
| CHIEF DERMATOLOGY BRANCH, INTRAMURAL RESEARCH PROGRAM.
| CHIEF, CELL MEDIATED IMMUNITY SECTION.
| CHIEF, LABORATORY OF TUMOR AND BIOLOGICIAL IMMUNOLOGY, INTRAMURAL RESEARCH PROGRAMS.
| DIRECTOR, DIVISION OF CANCER BIOLOGY DIAGNOSIS AND CENTERS.
| ASSOCIATE DIRECTOR, CENTERS TRAINING AND RESOURCES PROGRAM.
DIVISION OF CANCER ETIOLOGY | CHIEF LABORATORY OF BIOLOGY.
| CHIEF LABORATORY OF MOLECULAR CARCINOGENESIS.
| CHIEF LABORATORY OF EXPERIMENTAL PATHOLOGY.
| DIRECTOR, DIVISION OF CANCER ETIOLOGY.
DIVISION OF CANCER PREVENTION AND CONTROL | DEPUTY DIRECTOR, DIVISION OF CANCER PREVENTION AND CONTROL.
| ASSOCIATE DIRECTOR, SURVEILLANCE RESEARCH PROGRAM.
| ASSOCIATE DIRECTOR, EARLY DEVELOPMENT AND CONCOLOGY PROGRAM.
DIVISION OF EXTRAMURAL ACTIVITIES | DIRECTOR, DIVISION OF EXTRAMURAL ACTIVITIES.
| DEPUTY DIRECTOR, DIVISION OF EXTRAMURAL ACTIVITIES.
DIVISION OF CANCER TREATMENT | CHIEF-RADIATION CONCOLOGY BRANCH.
| ASSOCIATE DIRECTOR, CANCER THERAPY EVALUATION PROGRAM.
NATIONAL INSTITUTE OF DIABETES AND DIGESTIVE AND KIDNEY DISEASES | DIRECTOR, DIVISION KIDNEY UROLOGIC AND HEMATLOGIC DISEASES.
| DIRECTOR DIVISION OF EXTRAMURAL ACTIVITIES.
| ASSOCIATE DIRECTOR FOR MANAGEMENT.
| CHIEF, LABORATORY OF MOLECULAR AND CELLULAR BIOLOGY.
| DEPUTY DIRECTOR FOR MANAGEMENT AND OPERATIONS.
INTRAMURAL RESEARCH | CHIEF SECTION ON BIOCHEMICAL MECHANISMS.
| CHIEF SECTION ON METABOLIC ENZYMES.
| CHIEF SECTION ON PHYSICAL CHEMISTRY.
| CHIEF, SECTION ON MOLECULAR STRUCTURE.
| CHIEF THEORETICAL BIOPHYSICS SECTION.
| CHIEF, LABORATORY OF BIO-ORGANIC CHEMISTRY.
| CHIEF OXIDATION MECHANISMS SECTION LABORATORY OF BIOORGANIC BIOCHEMISTRY.
| CHIEF LABORATORY OF BIOCHEMISTRY AND METABOLISM.
| CLINICAL DIRECTOR AND CHIEF, KIDNEY DISEASE SECTION.
| CHIEF, SECTION ON MOLECULAR BIOPHYSICS.
| CHIEF, SECTION CARBOHYDRATES LABORATORY OF CHEMISTRY/NATIONAL INSTITUTE OF DIABETES AND DIGESTIVE AND KIDNEY DISEASES.
| CHIEF, LABORATORY OF NEUROSCIENCE, NATIONAL INSTITUTE OF DIABETES AND DIGESTIVE AND KIDNEY DISEASES.
| CHIEF, LABORATORY OF MEDICINAL CHEMISTRY.
| CHIEF, MORPHOGENESIS SECTION.
NATIONAL INSTITUTE OF ARTHRITIS AND MUSCULOSKELETAL AND SKIN DISEASES | DIRECTOR, EXTRAMURAL PROGRAM.
| DEPUTY DIRECTOR.
| ASSOCIATE DIRECTOR FOR MANAGEMENT AND OPERATIONS.
NATIONAL LIBRARY OF MEDICINE | DEPUTY DIRECTOR, NATIONAL LIBRARY OF MEDICINE.
| DEPUTY DIRECTOR FOR RESEARCH AND EDUCATION.
| ASSOCIATE DIRECTOR FOR LIBARY OPERATIONS.
| ASSOCIATE DIRECTOR FOR EXTRAMURAL PROGRAMS.
| DIRECTOR, LISTER HILL NATIONAL CENTER FOR BIOMEDICAL COMMUNITY.
| DEPUTY DIRECTOR LISTER HILL NATIONAL CENTER FOR BIOMEDICAL COMMISSIONERS.
| DIRECTOR, INFORMATION SYSTEMS.
| DIRECTOR NATIONAL CENTER FOR BIOTECHNOLOGY INFORMATION.
| ASSOCIATE DIRECTOR FOR HEALTH AND INFORMATION PROGRAMS DEVELOPMENT.
| ASSOCIATE DIRECTOR FOR ADMINISTRATIVE MANAGEMENT.
NATIONAL INSTITUTES OF ALLERGY AND INFECTIOUS DISEASES | DIRECTOR, DIVISION OF ALLERGY/IMMUNOLOGY/TRANSPLANTATION.
| CHIEF, LABORATORY OF PARASITIC DISEASES.
| DIRECTOR, DIVISION OF MICROBIOLOGY/INFECTIOUS DISEASES.
| CHIEF, LABORATORY OF IMMUNOGENETICS.
| DIRECTOR, DIVISON OF EXTRAMURAL ACTIVITIES.
| CHIEF, LABORATORY OF MICROBIAL STRUCTURE AND FUNCTION.
| CHIEF LABORATORY OF MOLECULAR MICROBIOLOGY.
| DIRECTOR, DIVISION ACQUIRED IMMUNIDEFICIENCY SYNDROME.
| CHIEF, BIOLOGICAL RESOURCES BRANCH.
| HEAD, LYMPHOCYTE BIOLOGY SECTION.
| CHIEF, LABORATORY OF INFECTIOUS DISEASES.
| DEPUTY DIRECTOR DIVISION OF ACQUIRED IMMUNODEFICIENCY.
| HEAD EPIDEMIOLOGY SECTION.
| CHIEF, LABORATORY OF MALARIA RESEARCH.
| DIRECTOR DIVISION OF INTRAMURAL RESEARCH.
| DEPUTY CHIEF LABORATORY OF IMMUNOLOGY AND HEAD LYMPHOCYTE BIOLOGY SECTION.
NATIONAL INSTITUTE ON AGING | SCIENTIFIC DIRECTOR GERONTOLOGY RESEARCH CENTER.
| CLINICAL DIRECTOR AND CHIEF CLINICAL PHYSIOLOGY BRANCH.
| DIRECTOR OF BEHAVIORAL AND SOCIAL RESEARCH PROGRAM.
| ASSOCIATE DIRECTOR BIOLOGY OF AGING PROGRAM.
| DIRECTOR OF OFFICE OF EXTRAMURAL AFFAIRS.
| ASSOCIATE DIRECTOR, EPIDEMIOLOGY, DEMOGRAPHY, AND BIOMETRY PROGRAM.
| ASSOCIATE DIRECTOR, OFFICE OF PLANNING, ANALYSIS AND INTERNATIONAL ACTIVITIES.
| DIRECTOR OF NEUROSCIENCE AND NEUROPSYCHOLGY OF AGING PROGRAM.
| DIRECTOR OF MANAGEMENT.
NATIONAL INSTITUTES OF CHILD HEALTH AND HUMAN DEVELOPMENT | CHIEF, LABORATORY OF MOLECULAR GENETICS.
| CHIEF, ENDOCRINOLOGY AND REPRODUCTION RESEARCH BRANCH.
| DIRECTOR CENTER FOR RESEARCH FOR MOTHERS AND CHILDREN.
| DIRECTOR CENTER FOR POPULATION RESEARCH.
| CHIEF, SECTION ON GROWTH FACTORS.
| ASSOCIATE DIRECTOR FOR PREVENTION RESEARCH.
| CHIEF LABORATORY OF MAMALIAN GENES AND DEVELOPMENT.
| CHIEF, SECTION ON MOLECULAR ENDOCRINOLOGY.
| CHIEF SECTION NEUROENDOCRINOLOGY.
| CHIEF SECTION ON MICROBIAL GENETICS.
| CHIEF, LABORATORY OF COMPARATIVE ETHOLOGY.
| ASSOCIATE DIRECTOR FOR ADMINISTRATION.
| DIRECTOR, NATIONAL CENTER FOR MEDICAL REHABILITATION RESEARCH.
NATIONAL INSTITUTE OF DENTAL AND CRANIOFACIAL RESEARCH | CHIEF, LABORATORY OF IMMUNOLOGY.
| DIRECTOR, EXTRAMURAL PROGRAM.
| ASSOCIATE DIRECTOR FOR INTERNATIONAL HEALTH.
| ASSOCIATE DIRECTOR FOR MANAGEMENT.
| ASSOCIATE DIRECTOR FOR PROGRAM DEVELOPMENT.
NATIONAL INSTITUTES OF ENVIRONMENTAL HEALTH SCIENCES | CHIEF LABORATORY OF PULMONARY PATHOBIOLOGY.
| HEAD MUTAGENESIS SECTION.
| HEAD MAMMALIAN MUTAGENESIS SECTION.
| SENIOR SCIENTIFIC ADVISOR.
| ASSOCIATE DIRECTOR FOR MANAGEMENT.
| CHIEF LABORATORY OF MOLECULAR CARCINOGENESIS.
| DIRECTOR NATIONAL INSTITUTE OF ENVIRONMENTAL HEALTH SCIENCE.
| DIRECTOR ENVIRONMENTAL TOXICOLOGY PROGRAM.
NATIONAL INSTITUTES OF GENERAL MEDICAL SCIENCES | DIRECTOR GENETICS PROGRAM.
| ASSOCIATE DIRECTOR FOR EXTRAMURAL ACTIVITIES.
| DIRECTOR, DIVISION OF PHARAMCOLOGY, PHYSIOLOGY, AND BIOLOGICAL CHEMISTRY.
| DIRECTOR BIOPHYSICS PHYSIOLOGICAL SCIENCES PROGRAM BRANCH.
| DEPUTY DIRECTOR NATIONAL INSTITUTE OF GENERAL MEDICAL SCIENCES.
| DIRECTOR, MINORITY OPPORTUNITIES IN RESEARCH PROGRAM BRANCH.
| ASSOCIATE DIRECTOR FOR ADMINISTRATION AND OPERATIONS.
NATIONAL INSTITUTES OF NEUROLOGICAL DISORDERS AND STROKE | DIRECTOR, DIVISION OF FUNDAMENTAL NEUROSCIENCES.
| ASSOCIATE DIRECTOR FOR ADMINISTRATION.
| DIRECTOR, BASIC NEUROSCIENTIST.
| PROGRAM/CHIEF/LABORATORY OF NEUROCHEMIST.
| CHIEF, LABORATORY OF MOLECULAR AND CELLULAR NEUROBIOLOGY.
INTRAMURAL RESEARCH | CHIEF LABORATORY OF CENTRAL NERVOUS SYSTEM STUDIES.
| CHIEF, DEVELOPMENT AND METABOLIC NEUROLOGY BRANCH.
| DEPUTY CHIEF, LABORATORY OF CENTRAL NERVOUS SYSTEM STUDIES.
| CHIEF, NEUROIMAGING BRANCH.
| CHIEF, LABORTORY OF NUEROBIOLOGY.
| CHIEF, LABORATORY OF NEURA CONTROL.
| CHIEF BRAIN STRUCTURAL PLATICITY SECTION.
| CHIEF STROKE BRANCH.
NATIONAL EYE INSTITUTE | CHIEF LABORATORY OF RETINAL CELL AND MOLECULAR BIOLOGY.
| CHIEF, LABORATORY OF MOLECULAR AND DEVELOPMENT BIOLOGY.
| CHIEF, LABORATORY OF SENSORIMOTOR RESEARCH.
NATIONAL INSTITUTES ON DEAFNESS AND OTHER COMMUNICATION DISORDERS | DIRECTOR, DIVISION OF HUMAN COMMUNICATION.
| CHIEF LABORATORY OF CELLULAR BIOLOGY.
| ASSOCIATE DIRECTOR FOR ADMINISTRATION.
| DIRECTOR, DIVISION OF EXTRAMURAL RESEARCH.
NATIONAL INSTITUTES OF HEALTH CLINICAL CENTER | ASSOCIATE DIRECTOR FOR PLANNING.
| ASSOCIATE CHIEF, POSITRON EMISSION TOMOGRAPHY AND RADIOCHEMISTRY.
| DEPUTY DIRECTOR FOR MANAGEMENT AND OPERATIONS.
| CHIEF FINANCIAL OFFICER.
| CHIEF OPERATING OFFICER.
CENTER FOR INFORMATION TECHNOLOGY | CHIEF, COMPUTER CENTER BRANCH.
| DEPUTY DIRECTOR.
| ASSOCIATE DIRECTOR OFFICE OF COMPUTING RESOURCES SERVICES.
| SENIOR ADVISOR TO DIRECTOR, CENTER FOR INFORMATION TECHNOLOGY.
JOHN E. FOGARTY INTERNATIONAL CENTER | DEPUTY DIRECTOR FOGARTY INTERNATIONAL CENTER.
| ASSOCIATE DIRECTOR FOR INTERNATIONAL ADVANCED STUDIES.
NATIONAL CENTER FOR RESEARCH RESOURCES | DIRECTOR, NATIONAL CENTER FOR RESEARCH RESOURCES.
| DIRECTOR, GENERAL CLINICAL RESEARCH CENTER FOR RESEARCH RESOURCES.
| DEPUTY DIRECTOR, NATIONAL CENTER FOR RESEARCH RESOURCES.
| ASSOCIATE DIRECTOR FOR BIOMEDICAL TECHNOLOGY.
| ASSOCIATE DIRECTOR FOR COMPARATIVE MEDICINE.
| ASSOCIATE DIRECTOR FOR RESEARCH INFRASTRUCTURE.
CENTER FOR SCIENTIFIC REVIEW | ASSOCIATE DIRECTOR FOR REFERRAL AND REVIEW.
| ASSOCIATE DIRECTOR FOR STATISTICS AND ANALYSIS.
| DIRECTOR, DIVISION OF MOLECULAR AND CELLULAR MECHANISMS.
| DIRECTOR, DIVISION OF PHYSIOLOGICAL SYSTEMS.
| DIRECTOR, DIVISION OF CLINICAL AND POPULATION-BASED STUDIES.
| DIRECTOR, DIVISION OF BIOLOGIC BASIS OF DISEASE.
NATIONAL INSTITUTE OF NURSING RESEARCH | DIRECTOR NATIONAL CENTER FOR NURSING RESEARCH.
| DEPUTY DIRECTOR/DIRECTOR, DIVISION OF EXTRAMURAL ACTIVITIES.
NATIONAL HUMAN GENOME RESEARCH INSTITUTE | DEPUTY DIRECTOR.
| DIRECTOR DIVISION OF INTRAMURAL RESEARCH NATIONAL.
| CENTER HUMAN GENOME RESEARCH.
| CHIEF DIAGNOSIS DEVELOPMENT BRANCH NATIONAL CENTER.
| HUMAN GENOME RESEARCH INSTITUTE.
| CHIEF, LABORATORY OF GENETIC DISEASE RESEARCH.
| NATIONAL CENTER FOR HUMAN GENOME RESEARCH INSTITUTE.
NATIONAL INSTITUTE ON DRUG ABUSE | ASSOCIATE DIRECTOR FOR MANAGEMENT.
| ASSOCIATE DIRECTOR FOR MANAGEMENT AND OPERATIONS.
| DIRECTOR, OFFICE OF EXTRAMURAL PROGRAM REVIEW.
| DIRECTOR DIVISION OF CLINICAL RESEARCH.
| DIRECTOR, MEDICATIONS DEVELOPMENT DIVISION.
| CHIEF, NEUROSCIENCE RESEARCH BRANCH.
| ASSOCIATE DIRECTOR FOR CLINCIAL NEUROSCIENCE AND MEDICAL AFFAIRS, DIVISION OF TREATMENT RESEARCH AND DEVELOPMENT.
| SENIOR ADVISOR AND COUNSELOR FOR SPECIAL INITIATIVES.
NATIONAL INSTITUTE OF MENTAL HEALTH | DEPUTY DIRECTOR, NATIONAL INSTITUTE OF MENTAL HEALTH.
| ASSOCIATE DIRECTOR FOR SPECIAL POPULATIONS.
| ASSOCIATE DIRECTOR FOR PREVENTION.
| EXECUTIVE OFFICER, NATIONAL INSTITUTE OF MENTAL HEALTH.
| DIRECTOR, OFFICE OF LEGISLATIVE ANALYSIS AND COORDINATOR.
| DIRECTOR, DIVISION OF NEUROSCIENCE AND BEHAVIORAL SCIENTIST.
| CHIEF, NEUROPSYCHIATRY BRANCH.
| CHIEF, CHILD PSYCHIATRY BRANCH.
| CHIEF, BIOLOGICAL PSYCHIATRY BRANCH.
| CHIEF, LABORATORY OF CLINICAL SCIENCE.
| CHIEF, SECTION ON HISTOPHARMACOLOGY.
| DIRECTOR, OFFICE ON ACQUIRED IMMUNODEFICIENCY SYNDROME.
| CHIEF, SECTION ON CLINICAL AND EXPERIMENTAL NEUROPSYCHOLOGY.
| DIRECTOR, DIVISION OF MENTAL DISORDERS, BEHAVIORAL.
| RESEARCH AND ACQUIRED IMMUNODEFICIENCY SYNDROME.
| DIRECTOR, DIVISION OF SERVICES AND INTERVENTION RESEARCH.
| CHIEF, SECTION ON COGNITIVE NEUROSCIENCE.
NATIONAL INSTITUTE ON ALCOHOL ABUSE AND ALCOHOLISM | DIRECTOR, DIVISION OF BASIC RESEARCH.
| ASSOCIATE DIRECTOR FOR ADMINISTRATION.
AGENCY FOR HEALTHCARE RESEARCH AND QUALITY | EXECUTIVE OFFICER.
DEPARTMENT OF HOMELAND SECURITY:
OFFICE OF OPERATIONS COORDINATION | SENIOR DEPARTMENT OF HOMELAND SECURITY ADVISOR TO THE COMMANDER, U.S. NORTHERN COMMAND/NORTH AMERICAN AEROSPACE DEFENSE COMMAND.
OFFICE OF THE ASSISTANT SECRETARY FOR PUBLIC AFFAIRS | DIRECTOR OF INTERNAL COMMUNICATIONS.
OFFICE OF ASSISTANT SECRETARY FOR LEGISLATIVE AFFAIRS | DEPUTY ASSISTANT SECRETARY FOR LEGISLATIVE AFFAIRS (HOUSE).
OFFICE OF THE GENERAL COUNSEL | DEPUTY ASSOCIATE GENERAL COUNSEL FOR GENERAL LAW.
| DESIGNATED AGENCY ETHICS OFFICIAL.
OFFICE OF CIVIL RIGHTS AND CIVIL LIBERTIES | DIRECTOR, EQUAL EMPLOYMENT OPPORTUNITY PROGRAM.
DOMESTIC NUCLEAR DETECTION OFFICE | CHIEF OF STAFF.
| ASSISTANT DIRECTOR, OFFICE OF ASSESSMENTS.
| ASSISTANT DIRECTOR, OFFICE OF SYSTEMS DEVELOPMENT AND ACQUISITION.
| ASSISTANT DIRECTOR, OFFICE OF NATIONAL TECHNICAL NUCLEAR FORENSICS.
| ASSISTANT DIRECTOR, OFFICE OF TRANSFORMATIONAL RESEARCH AND DEVELOPMENT.
| ASSISTANT DIRECTOR, OFFICE OF TRANSFORMATIONAL RESEARCH AND DEVELOPMENT.
| DEPUTY DIRECTOR.
OFFICE OF SCREENING COORDINATION—POLICY | ASSOCIATE DIRECTOR, VETTING.
U.S. CITIZENSHIP AND IMMIGRATION SERVICES | CHIEF FINANCIAL OFFICER.
| DIRECTOR, SERVICE CENTER, LINCOLN, NEBRASKA.
| DIRECTOR, SERVICE CENTER, LAGUNA NIGUEL, CALIFORNIA.
| DIRECTOR, SERVICE CENTER, DALLAS, TEXAS.
| DIRECTOR, SERVICE CENTER, SAINT ALBANS, VERMONT.
| REGIONAL DIRECTOR (DALLAS, TEXAS).
| REGIONAL DIRECTOR (LAGUNA NIGUEL, CALIFORNIA).
| REGIONAL DIRECTOR (BURLINGTON, VERMONT).
| DIRECTOR, OFFICE OF REFUGEE AFFAIRS.
| DIRECTOR, SERVICE CENTER, DALLAS, TX.
| CHIEF INFORMATION OFFICER.
| DIRECTOR, OFFICE OF FRAUD DETECTION AND NATIONAL SECURITY.
| DIRECTOR, OFFICE OF ADMINISTRATION.
| DIRECTOR, NATIONAL BENEFITS CENTER.
| DISTRICT DIRECTOR, MIAMI, FLORIDA.
| DISTRICT DIRECTOR, LOS ANGELES CALIFORNIA.
| DISTRICT DIRECTOR, SAN FRANCISCO CALIFORNIA.
| REGIONAL DIRECTOR, SOUTHEAST REGION.
| SENIOR MANAGEMENT COUNSEL.
| DEPUTY DIRECTOR, POLICY AND PLANNING.
| DIRECTOR, ASYLUM.
| DEPUTY GENERAL COUNSEL.
| DISTRICT DIRECTOR, NEW YORK DISTRICT.
| DIRECTOR OF DOMESTIC OPERATIONS.
| CHIEF, SERVICE CENTER OPERATIONS.
| DIRECTOR, INTERNATIONAL OPERATIONS.
| DIRECTOR, OFFICE OF FIELD OPERATIONS.
| DIRECTOR, NATIONAL SECURITY AND RECORDS VERIFICATION.
| DIRECTOR, OFFICE OF INFORMATION AND CUSTOMER SERVICE.
UNITED STATES SECRET SERVICE | DEPUTY ASSISTANT DIRECTOR, OFFICE OF INVESTIGATIONS.
| DEPUTY ASSISTANT DIRECTOR, OFFICE OF PROTECTIVE OPERATIONS.
| DEPUTY SPECIAL AGENT IN CHARGE, PRESIDENTIAL PROTECTIVE DIVISION.
| DEPUTY ASSISTANT DIRECTOR, WORKFORCE AND DIVERSITY PROGRAMS.
| DIRECTOR OF THE SECRET SERVICE.
| DEPUTY DIRECTOR.
| ASSISTANT DIRECTOR, INVESTIGATIONS.
| ASSISTANT DIRECTOR, PROTECTIVE OPERATIONS.
| ASSISTANT DIRECTOR, PROTECTIVE RESEARCH.
| ASSISTANT DIRECTOR, OFFICE OF ADMINISTRATION.
| ASSISTANT DIRECTOR, INSPECTION.
| DEPUTY ASSISTANT DIRECTOR, PROTECTIVE OPERATIONS.
| SPECIAL AGENT IN CHARGE—PRESIDENTIAL PROTECTIVE DIVISION.
| SPECIAL AGENT IN CHARGE—NEW YORK FIELD OFFICE.
| SPECIAL AGENT IN CHARGE, CHICAGO FIELD OFFICE.
| SPECIAL AGENT IN CHARGE—LOS ANGELES FIELD OFFICE.
| SPECIAL AGENT IN CHARGE, INTELLIGENCE DIVISION.
| SPECIAL AGENT IN CHARGE, SPECIAL OPERATIONS DIVISION.
| ASSISTANT DIRECTOR—HUMAN RESOURCES AND TRAINING.
| ASSISTANT DIRECTOR—GOVERNMENT AND PUBLIC AFFAIRS.
| SPECIAL AGENT IN CHARGE—VICE PRESIDENTIAL PROTECTIVE DIVISION.
| SPECIAL AGENT IN CHARGE—TECHNICAL SECURITY DIVISION.
| SPECIAL AGENT IN CHARGE—PHILADELPHIA FIELD OFFICE.
| CHIEF COUNSEL.
| CHIEF FINANCIAL OFFICER.
| SPECIAL AGENT IN CHARGE—SAN FRANCISCO FIELD OFFICE.
| SPECIAL AGENT IN CHARGE—DALLAS FIELD OFFICE.
| DEPUTY CHIEF COUNSEL.
| SPECIAL AGENT IN CHARGE (DIGNITARY PROTECTIVE DIVISION).
| DEPUTY ASSISTANT DIRECTOR—ADMINISTRATION.
| SPECIAL AGENT IN CHARGE—WASHINGTON FIELD OFFICE.
| DEPUTY SPECIAL AGENT IN CHARGE—PRESIDENTIAL PROTECTIVE DIVISION.
| DEPUTY ASSISTANT DIRECTOR—HUMAN RESOURCES AND TRAINING.
| DEPUTY ASSISTANT DIRECTOR—INVESTIGATIONS.
| SPECIAL AGENT IN CHARGE—HOUSTON FIELD OFFICE.
| DEPUTY ASSISTANT DIRECTOR—ROWLEY TRAINING CENTER.
| DEPUTY ASSISTANT DIRECTOR—OFFICE OF INVESTIGATIONS.
| DEPUTY ASSISTANT DIRECTOR—TECHNOLOGY (CHIEF TECHNOLOGY OFFICER)/PROTECTIVE RESEARCH.
| SPECIAL AGENT IN CHARGE—MIAMI FIELD OFFICE.
| DEPUTY ASSISTANT DIRECTOR, PROTECTIVE RESEARCH.
| CHIEF INFORMATION OFFICER.
| DEPUTY SPECIAL AGENT IN CHARGE—VICE PRESIDENTIAL PROTECTIVE DIVISION.
| SPECIAL AGENT IN CHARGE—ATLANTA FIELD OFFICE.
| SPECIAL AGENT IN CHARGE—HONOLULU FIELD OFFICE.
| DEPUTY ASSISTANT DIRECTOR, POLICY.
| DEVELOPMENT/HOMELAND SECURITY.
UNITED STATES COAST GUARD | DEPUTY CHIEF FINANCIAL OFFICER.
| DEPUTY PROGRAM EXECUTIVE OFFICER (INTEGRATED DEEPWATER SYSTEMS).
OFFICE OF THE INSPECTOR GENERAL | ASSISTANT INSPECTOR GENERAL, AUDITS.
| ASSISTANT INSPECTOR GENERAL, COUNSEL.
| ASSISTANT INSPECTOR GENERAL, INVESTIGATIONS.
| ASSISTANT INSPECTOR GENERAL FOR INFORMATION TECHNOLOGY.
| ASSISTANT INSPECTOR GENERAL FOR INSPECTIONS AND SPECIAL REVIEWS.
| DEPUTY ASSISTANT INSPECTOR GENERAL FOR AUDITS.
| DEPUTY INSPECTOR GENERAL FOR DISASTER ASSISTANCE OVERSIGHT.
| DEPUTY ASSISTANT INSPECTOR GENERAL FOR AUDITS.
| ASSISTANT INSPECTOR GENERAL, ADMINISTRATIVE SERVICES.
| DEPUTY INSPECTOR GENERAL.
| DEPUTY ASSISTANT INSPECTOR GENERAL, INVESTIGATIONS.
UNDER SECRETARY FOR PREPAREDNESS | DIRECTOR, ADMINISTRATION.
OFFICE OF GRANTS AND TRAINING—PREPAREDNESS | DIRECTOR, OFFICE OF DOMESTIC PREPARENESS.
| DIRECTOR, PREPAREDNESS PROGRAMS DIVISION.
| DIRECTOR, EXERCISE AND TRAINING DIVISION.
OFFICE OF THE CHIEF MEDICAL OFFICER—PREPAREDNESS | DEPUTY CHIEF MEDICAL OFFICER.
ASSISTANT SECRETARY FOR INFRASTRUCTURE PROTECTION—PREPAREDNESS | DIRECTOR, INFRASTRUCTURE PARTNERSHIPS DIVISION.
| DIRECTOR, HOMELAND INFRASTRUCTURE THREAT AND RISK ANALYSIS.
| DIRECTOR, CHEMICAL AND NUCLEAR PREPAREDNESS AND PROTECTION DIVISION.
| SPECIAL ASSISTANT, CYBER AND TELECOMMUNICATIONS.
ASSISTANT SECRETARY FOR CYBER AND TELECOMMUNICATIONS—PREPAREDNESS | CHIEF OF STAFF, CYBER SECURITY AND TELECOMMUNICATIONS.
ASSISTANT SECRETARY FOR INTELLIGENCE AND ANALYSIS—IA | CHIEF OF STAFF.
PLANS AND INTEGRATION—IA | DIRECTOR, PLANS AND INTEGRATION.
DIRECTOR, HOMELAND THREAT ANALYSIS—IA | DEPUTY DIRECTOR, HOMELAND INFRASTRUCTURE THREAT AND RISK ASSESSMENT CENTER.
OFFICE OF U.S.—VISIT PROGRAM | DEPUTY DIRECTOR, U.S.—VISIT PROGRAM.
| DIRECTOR, MISSION OPERATIONS MANAGEMENT.
U.S. IMMIGRATION AND CUSTOMS ENFORCEMENT | SPECIAL AGENT IN CHARGE, PHOENIX.
| SPECIAL AGENT IN CHARGE, EL PASO.
| SPECIAL AGENT IN CHARGE (MIAMI).
| DEPUTY ASSISTANT DIRECTOR (NATIONAL SECURITY INVESTIGATIONS).
| SPECIAL AGENT IN CHARGE (NEW YORK).
| ASSISTANT DIRECTOR, OFFICE OF INVESTIGATION.
| DEPUTY ASSISTANT DIRECTOR, INVESTIGATIONS SERVICES.
| DEPUTY ASSISTANT SECRETARY FOR IMMIGRATION AND CUSTOMS ENFORCEMENT.
| DEPUTY ASSISTANT DIRECTOR, SMUGGLING AND PUBLIC SAFETY INVESTIGATIONS.
| ASSISTANT DIRECTOR FOR MANAGEMENT, DETENTION AND REMOVAL OPERATIONS.
| DIRECTOR, FINANCIAL MANAGEMENT.
| SPECIAL AGENT IN CHARGE, ATLANTA.
| DIRECTOR, OFFICE OF PROCUREMENT.
| SPECIAL AGENT IN CHARGE, WASHINGTON, DC.
| DEPUTY ASSISTANT DIRECTOR, MISSION SUPPORT.
| DIRECTOR, OFFICE OF BUDGET AND PROGRAM PERFORMANCE.
| CHIEF INFORMATION OFFICER.
| DIRECTOR, OFFICE OF TRAINING AND CAREER DEVELOPMENT.
U.S. IMMIGRATION AND CUSTOMS ENFORCEMENT | EXECUTIVE DIRECTOR, NATIONAL INCIDENT RESPONSE UNIT.
| DEPUTY ASSISTANT DIRECTOR, INTERNATIONAL AFFAIRS.
| DEPUTY CHIEF FINANCIAL OFFICER.
| ASSISTANT DIRECTOR FOR OPERATIONS, DETENTION, AND REMOVAL OPERATIONS.
| DIRECTOR, FEDERAL PROTECTIVE SERVICE.
| SPECIAL AGENT IN CHARGE, LOS ANGELES.
| DIRECTOR, OFFICE OF PROFESSIONAL RESPONSIBILITY.
| REGIONAL SPECIAL AGENT IN CHARGE, EL PASO.
| SPECIAL AGENT IN CHARGE (SEATTLE).
| SPECIAL AGENT IN CHARGE, NEW ORLEANS.
| DEPUTY ASSISTANT DIRECTOR, FINANCE AND TRADE INVESTIGATIONS.
| SPECIAL AGENT IN CHARGE, SAN JUAN.
| SPECIAL AGENT IN CHARGE, HOUSTON.
| SPECIAL AGENT IN CHARGE, CHICAGO.
| SPECIAL AGENT IN CHARGE, SAN DIEGO.
| SPECIAL AGENT IN CHARGE, SAN ANTONIO.
| SPECIAL AGENT IN CHARGE, TAMPA.
| CHIEF FINANCIAL OFFICER.
| DEPUTY ASSISTANT DIRECTOR, MISSION SUPPORT.
| SPECIAL AGENT IN CHARGE, SAN FRANCISCO.
| CHIEF LAW ENFORCEMENT SUPPORT CENTER.
| EXECUTIVE DIRECTOR, BORDER SECURITY INITIATIVES.
| DIRECTOR, OFFICE OF INVESTIGATIONS.
| DIRECTOR, DETENTION AND REMOVAL OPERATIONS.
| DIRECTOR, FIELD LEGAL OPERATIONS.
| SENIOR MANAGEMENT COUNSEL.
| DEPUTY PRINCIPAL LEGAL ADVISOR.
| ASSISTANT DIRECTOR FOR INTERNATIONAL AFFAIRS.
| DIRECTOR, INTELLIGENCE.
U.S. CUSTOMS AND BORDER PROTECTION | PORT DIRECTOR, JFK AIRPORT.
| EXECUTIVE DIRECTOR, FIELD AND RESOURCE MANAGEMENT.
| DEPUTY CHIEF COUNSEL.
| DIRECTOR, FIELD OPERATIONS (DETROIT).
| DIRECTOR, FIELD OPERATIONS (SEATTLE).
| DIRECTOR, FIELD OPERATIONS (BUFFALO).
| DIRECTOR, FIELD OPERATIONS (TUCSON).
| DIRECTOR, FIELD OPERATIONS (BOSTON).
| PORT DIRECTOR, LOS ANGELES INTERNATIONAL AIRPORT.
| EXECUTIVE DIRECTOR, AGRICULTURE INSPECTION POLICY AND PROGRAMS.
| EXECUTIVE DIRECTOR, CONTAINER SECURITY INITIATIVE.
| EXECUTIVE DIRECTOR, NATIONAL TARGETING CENTER.
| DIRECTOR, FIELD OPERATIONS (ATLANTA).
| CHIEF PATROL AGENT (TUCSON).
| PORT DIRECTOR, LOS ANGELES/LONG BEACH SEAPORT.
| DIRECTOR, FIELD OPERATIONS, SAN FRANCISCO PORT DIRECTOR (EL PASO).
| EXECUTIVE DIRECTOR, TECHNOLOGY OPERATIONS.
| EXECUTIVE DIRECTOR, MISSION SUPPORT.
| CHIEF, SOUTHWEST BORDER DIVISION.
| CHIEF PATROL AGENT (DEL RIO).
| CHIEF PATROL AGENT (YUMA).
| EXECUTIVE DIRECTOR, ADMISSIBILITY REQUIREMENTS AND MITGRATION CONTROL.
| CHIEF PATROL AGENT, MCALLEN.
| DEPUTY ASSISTANT COMMISSIONER, OFFICE OF INTERNATIONAL AFFAIRS.
| CHIEF PATROL AGENT, YUMA, ARIZONA.
| EXECUTIVE DIRECTOR, CARGO SYSTEMS PROGRAMS OFFICE.
| ASSISTANT COMMISSIONER, FINANCE.
| DIRECTOR, SECURE BORDERS INITIATIVE.
| ASSISTANT COMMISSIONER, MANAGEMENT INSPECTIONS AND INTEGRITY ASSISTANCE.
| ASSOCIATE CHIEF COUNSEL—ADMINISTRATION.
| ASSOCIATE CHIEF COUNSEL—SOUTHEAST.
| ASSOCIATE CHIEF COUNSEL, CHICAGO.
| ASSOCIATE CHIEF COUNSEL—NEW YORK.
| DIRECTOR, REGULATORY AUDIT.
| ASSOCIATE CHIEF COUNSEL—ENFORCEMENT.
| ASSOCIATE CHIEF COUNSEL—TRADE AND FINANCE.
| ASSOCIATE CHIEF COUNSEL—SOUTHWEST.
| DEPUTY ASSISTANT COMMISSIONER, HUMAN RESOURCES MANAGEMENT.
| DEPUTY ASSISTANT COMMISSIONER, CUSTOMS AND BORDER PROTECTION AIR AND MARINE.
| EXECUTIVE DIRECTOR, ASSET ACQUISITION MANAGEMENT.
| DIRECTOR, LABOR AND EMPLOYEE RELATIONS.
| DIRECTOR, INTERNATIONAL TRADE COMPLIANCE.
| DIRECTOR, FIELD OPERATIONS (NEW YORK) AREA DIRECTOR, NEWARK.
| ASSISTANT COMMISSIONER, FIELD OPERATIONS.
| ASSISTANT COMMISSIONER, REGULATIONS AND RULINGS.
| ASSOCIATE CHIEF COUNSEL—LOS ANGELES.
| ASSISTANT COMMISSIONER, INFORMATION AND TECHNOLOGY.
| EXECUTIVE DIRECTOR, ANTI-TERRORISM.
| CHIEF PROCUREMENT OFFICER.
| EXECUTIVE DIRECTOR, LABORATORIES AND SCIENTIFIC SERVICES.
| EXECUTIVE DIRECTOR, TRADES COMPLIANCE AND FACILITATION.
| DEPUTY ASSISTANT COMMISSIONER, FIELD OPERATIONS.
| DIRECTOR, PASSENGER PROGRAMS.
| DIRECTOR, FIELD OPERATIONS (HOUSTON).
| DEPUTY CHIEF, BORDER PATROL.
| DIRECTOR, FIELD OPERATIONS (MIAMI).
| EXECUTIVE DIRECTOR, FOREIGN OPERATIONS.
| DIRECTOR, FIELD OPERATIONS (SAN DIEGO).
| EXECUTIVE DIRECTOR, BUDGET.
| DIRECTOR, FIELD OPERATIONS (CHICAGO).
| PORT DIRECTOR, SAN YSIDRO.
| DIRECTOR, FIELD OPERATIONS (LOS ANGELES).
| EXECUTIVE DIRECTOR, CARGO AND CONVEYANCE SECURITY.
| EXECUTIVE DIRECTOR, ADMISSIBILITY REQUIREMENTS AND MIGRATION CONTROL.
| DIRECTOR, FIELD OPERATIONS (LAREDO).
| ASSISTANT COMMISSIONER, STRATEGIC TRADE.
| ASSISTANT COMMISSIONER, HUMAN RESOURCES.
| PORT DIRECTOR, MIAMI INTERNATIONAL AIRPORT.
| ASSISTANT COMMISSIONER, TRAINING AND DEVELOPMENT.
| ASSISTANT COMMISSIONER, CUSTOMS AND BORDER PROTECTION AIR AND MARINE.
| CHIEF PATROL AGENT—LAREDO SECTOR.
| CHIEF, BORDER PATROL.
| DIRECTOR, FIELD OPERATIONS, EL PASO.
| CHIEF PATROL AGENT (SAN DIEGO).
| CHIEF PATROL AGENT (EL PASO).
| CHIEF PATROL AGENT (EL CENTRO).
| DEPUTY ASSISTANT COMMISSIONER, INFORMATION AND TECHNOLOGY.
| DEPUTY CHIEF FINANCIAL OFFICER.
FEDERAL LAW ENFORCEMENT TRAINING CENTER | ASSISTANT DIRECTOR, CHIEF INFORMATION OFFICER.
| ASSISTANT DIRECTOR, TRAINING INNOVATION AND.
| MANAGEMENT DIRECTORATE.
| DEPUTY DIRECTOR, FEDERAL LAW ENFORCEMENT TRAINING CENTER.
| DIRECTOR, FEDERAL LAW ENFORCEMENT TRAINING CENTER.
| SENIOR ASSISTANT DIRECTOR, WASHINGTON OPERATIONS.
| ASSISTANT DIRECTOR, TRAINING.
| ASSISTANT DIRECTOR, ADMINISTRATION.
| ASSISTANT DIRECTOR, FIELD TRAINING.
FEDERAL EMERGENCY MANAGEMENT AGENCY | DIRECTOR OF MANAGEMENT/CHIEF ACQUISITION OFFICER.
| DEPUTY DIRECTOR FOR INSURANCE.
| CHIEF FINANCIAL OFFICER.
| DEPUTY DIRECTOR FOR KATRINA/RITA PROCUREMENT.
| DEPUTY CHIEF FINANCIAL OFFICER.
| DEPUTY DIRECTOR, MITIGRATION DIVISION.
| PROCUREMENT EXECUTIVE.
OFFICE FOR INFORMATION ANALYSIS | DIRECTOR, INFORMATION ANALYSIS, REQUIREMENTS DIVISION.
OFFICE FOR INFRASTRUCTURE PROTECTION | CHIEF, TECHNOLOGY AND STANDARDS.
OFFICE OF THE CHIEF FINANCIAL OFFICER | DIRECTOR, OFFICE OF BUDGET.
| DIRECTOR, PROGRAM ANALYSIS AND EVALUATION.
| DIRECTOR, FINANCIAL MANAGEMENT.
| DIRECTOR, RESOURCE MANAGEMENT TRANSFORMATION OFFICE.
| DEPUTY DIRECTOR, FINANCIAL MANAGEMENT.
OFFICE OF PROCUREMENT | DIRECTOR, OFFICE OF PROCUREMENT OPERATIONS.
OFFICE OF THE CHIEF HUMAN CAPITAL OFFICER | DEPUTY CHIEF HUMAN CAPITAL OFFICER.
| DIRECTOR, HUMAN CAPITAL SERVICES AND ACCOUNTABILITY.
| DIRECTOR, HUMAN CAPITAL POLICY AND INNOVATION.
| DIRECTOR, WORKFORCE RELATIONS AND PERFORMANCE CULTURE.
OFFICE OF THE CHIEF INFORMATION OFFICER | DIRECTOR, INFORMATION SECURITY.
| DEPUTY DIRECTOR, INFRASTRUCTURE OPERATIONS.
| DEPUTY DIRECTOR, INFRASTRUCTURE OPERATIONS.
OFFICE OF ADMINISTRATION | DEPUTY, CHIEF ADMINISTRATIVE SERVICES OFFICER.
| DIRECTOR, HEADQUARTERS ADMINISTRATIVE SERVICES CENTER.
OFFICE OF THE UNDER SECRETARY FOR SCIENCE AND TECHNOLOGY | SCIENCE AND TECHNOLOGY CHIEF FINANCIAL OFFICER.
OFFICE OF THE DIRECTOR FOR RESEARCH AND DEVELOPMENT | DEPUTY DIRECTOR, OFFICE OF RESEARCH AND DEVELOPMENT.
OFFICE OF THE DIRECTOR FOR SYSTEMS ENGINEERING AND DEVELOPMENT | DIRECTOR, OFFICE OF INTEROPERABILITY AND COMPATIBILITY.
DEPARTMENT OF HOUSING AND URBAN DEVELOPMENT:
OFFICE OF THE SECRETARY | DIRECTOR, OFFICE OF HEARINGS AND APPEALS.
OFFICE OF THE GENERAL COUNSEL | DIRECTOR, DEPARTMENTAL ENFORCEMENT CENTER.
| ASSOCIATE GENERAL COUNSEL FOR PROGRAM ENFORCEMENT.
| DEPUTY DIRECTOR, OPERATIONS AND COMPLIANCE.
| SENIOR COUNSEL (APPEALS, ODEEO ADVICE AND SPECIAL PROJECTS).
OFFICE OF THE INSPECTOR GENERAL | ASSISTANT INSPECTOR GENERAL FOR INVESTIGATIONS.
| ASSISTANT INSPECTOR GENERAL FOR AUDIT.
| DEPUTY INSPECTOR GENERAL.
| ASSISTANT INSPECTOR GENERAL FOR MANAGEMENT AND POLICY.
| DEPUTY ASSISTANT INSPECTOR FOR INVESTIGATION.
| DEPUTY ASSISTANT INSPECTOR GENERAL FOR AUDIT.
| COUNSEL TO THE INSPECTOR GENERAL.
| DEPUTY ASSISTANT INSPECTOR GENERAL FOR MANAGEMENT AND POLICY.
| CRIMINAL INVESTIGATOR (DIRECTOR, INSPECTIONS AND EVALUATIONS).
| DEPUTY ASSISTANT INSPECTOR GENERAL FOR AUDIT (DISASTER RELIEF).
OFFICE OF THE CHIEF FINANCIAL OFFICER | ASSISTANT CHIEF FINANCIAL OFFICER FOR BUDGET.
OFFICE OF THE CHIEF FINANCIAL OFFICER | DEPUTY CHIEF FINANCIAL OFFICER.
| ASSISTANT CHIEF FINANCIAL OFFICER FOR FINANCIAL MANAGEMENT.
| ASSISTANT CHIEF FINANCIAL OFFICER FOR ACCOUNTING.
ASSISTANT SECRETARY FOR ADMINISTRATION | DIRECTOR, GRANTS MANAGEMENT CENTER.
| DEPUTY CHIEF PROCUREMENT OFFICER.
| DEPUTY CHIEF TECHNOLOGY OFFICER FOR INFORMATION TECHNOLOGY OPERATIONS.
ASSISTANT SECRETARY FOR HOUSING | HOUSING/FEDERAL HOUSING ADMINISTRATION COMPTROLLER.
| DIRECTOR, OFFICE OF ASSET MANAGEMENT.
| DIRECTOR, OFFICE OF PROGRAM SYSTEMS MANAGEMENT.
| DEPUTY ASSISTANT SECRETARY FOR FINANCE AND BUDGET.
ASSISTANT SECRETARY FOR FAIR HOUSING AND EQUAL OPPORTUNITY | DIRECTOR, OFFICE OF ENFORCEMENT.
OFFICE OF DEPARTMENTAL EQUAL EMPLOYMENT OPPORTUNITY | DIRECTOR, OFFICE OF DEPARTMENTAL EQUAL EMPLOYMENT OPPORTUNITY.
ASSISTANT SECRETARY FOR COMMUNITY PLANNING AND DEVELOPMENT | DIRECTOR, OFFICE OF COMMUNITY VIABILITY.
| DEPUTY ASSISTANT SECRETARY FOR SPECIAL NEEDS PROGRAMS.
GOVERNMENT NATIONAL MORTGAGE ASSOCIATION | SENIOR VICE PRESIDENT OFFICE OF CAPITAL MARKETS AND POLICY.
| SENIOR VICE PRESIDENT, OFFICE OF FINANCE.
| SENIOR VICE PRESIDENT, OFFICE OF MANAGEMENT OPERATIONS.
| SENIOR VICE PRESIDENT, OFFICE OF PROGRAM OPERATIONS.
| SENIOR VICE PRESIDENT, OFFICE OF MORTGAGE-BACKED SECURITIES.
ASSISTANT SECRETARY FOR PUBLIC AND INDIAN HOUSING | GENERAL DEPUTY ASSISTANT SECRETARY FOR PUBLIC AND INDIAN HOUSING.
| DEPUTY ASSISTANT SECRETARY FOR THE REAL ESTATE ASSESSMENT CENTER.
| DIRECTOR, ADMINISTRATIVE OPERATIONS.
| DIRECTOR, OFFICE OF HOUSING VOUCHER PROGRAMS.
DEPARTMENT OF THE INTERIOR:
OFFICE OF THE INSPECTOR GENERAL | ASSISTANT INSPECTOR GENERAL FOR AUDITING.
| ASSISTANT INSPECTOR GENERAL FOR INVESTIGATIONS.
| ASSISTANT INSPECTOR GENERAL FOR ADMINISTRATIVE SERVICES AND INFORMATION MANAGEMENT.
| DEPUTY ASSISTANT INSPECTOR GENERAL FOR INVESTIGATIONS.
| DEPUTY ASSISTANT INSPECTOR GENERAL FOR ADMINISTRATIVE.
| SERVICES AND INFORMATION MANAGEMENT.
| CHIEF INFORMATION OFFICER.
| DEPUTY ASSISTANT INSPECTOR GENERAL FOR AUDITS.
OFFICE OF THE SOLICITOR | DEPUTY ASSOCIATE SOLICITOR, GENERAL LAW.
| DEPUTY ASSOCIATE SOLICTOR, DIVISION OF PARKS AND WILDLIFE.
| DEPUTY ASSOCIATE SOLICITOR-MINERAL RESOURCES.
| ASSOCIATE SOLICITOR FOR ADMINSTRATION.
| DEPUTY ASSOCIATE SOLICITOR, DIVISION OF LAND AND WATER RESOURCES.
| DESIGNATED AGENCY ETHICS OFFICIAL.
ASSISTANT SECRETARY—POLICY, MANAGEMENT AND BUDGET | ASSISTANT DIRECTOR FOR ECONOMICS.
| MANAGER, SCIENCE AND ENGINEERING.
| DEPUTY ASSISTANT SECRETARY—LAW ENFORCEMENT AND SECURITY.
| ASSOCIATE DIRECTOR FOR FINANCIAL REPORTING AND SYSTEMS.
| ASSOCIATE DIRECTOR FOR FINANCIAL POLICY AND OPERATIONS.
ASSISTANT SECRETARY—POLICY, MANAGEMENT AND BUDGET | DEPUTY CHIEF HUMAN CAPITAL OFFICER.
| DEPUTY ASSISTANT SECRETARY—BUSINESS MANAGEMENT AND WILDLAND FIRE.
| DIRECTOR, OFFICE OF FINANCIAL MANAGEMENT AND DEPUTY.
| CHIEF FINANCIAL OFFICER.
| CHIEF DIVISION OF BUDGET AND PROGRAM REVIEW.
| DIRECTOR, OFFICE OF LAW ENFORCEMENT AND SECURITY.
NATIONAL PARK SERVICE | FINANCIAL ADVISOR (COMPTROLLER).
| PARK MANAGER.
FIELD OFFICES | PARK MANAGER-YOSEMITE (SUPERINTENDENT).
| PARK MANAGER EVERGLADES.
| PARK MANAGER (SUPERINTENDENT).
| PARK MANAGER.
| SUPERINTENDENT (PARK MANAGER), EVERGLADES NATIONAL PARK.
UNITED STATES FISH AND WILDLIFE SERVICE | EXECUTIVE DIRECTOR—REGIONAL ECOSYSTEM OFFICE.
ASSISTANT SECRETARY—WATER AND SCIENCE | DEPUTY ASSISTANT SECRETARY—WATER AND SCIENCE.
FIELD OFFICES | DIRECTOR, TECHNICAL SERVICES CENTER.
| DIRECTOR, MANAGEMENT SERVICES OFFICE.
DIRECTORS OFFICE | ASSOCIATE DIRECTOR FOR GEOGRAPHIC INFORMATION.
| DEPUTY DIRECTOR, UNITED STATES GEOLOGICAL SURVEY.
| REGIONAL DIRECTOR, EASTERN REGION.
| REGIONAL DIRECTOR, WESTERN REGION.
DIRECTORS OFFICE | SENIOR LIAISON FOR INTERAGENCY PROGRAMS.
| ASSOCIATE DIRECTOR FOR ADMINISTRATIVE POLICY AND SERVICES.
| DEPUTY CHIEF, OFFICE OF ADMINISTRATIVE POLICY AND SERVICES (FINANCIAL MANAGEMENT).
| ASSOCIATE DIRECTOR FOR HUMAN CAPITAL.
| CHIEF, OFFICE OF BUDGET AND PERFORMANCE.
NATIONAL MAPPING DIVISION | ASSOCIATE DIRECTOR FOR GEOGRAPHY.
| CHIEF SCIENTIST FOR GEOGRAPHY.
FIELD OFFICES | REGIONAL GEOGRAPHER, EASTERN REGION.
| REGIONAL GEOGRAPHER, WESTERN REGION.
WATER RESOURCES DIVISION | ASSOCIATE DIRECTOR FOR WATER.
| CHIEF SCIENTIST FOR HYDROLOGY.
FIELD OFFICES | REGIONAL HYDROLOGIST CENTRAL REGION.
| REGIONAL HYDROLOGIST SOUTHEASTERN REGION.
| REGIONAL HYDROLOGIST, NORTHEASTERN REGION.
| REGIONAL HYDROLOGIST, WESTERN REGION.
GEOLOGIC DIVISION | ASSOCIATE DIRECTOR FOR GEOLOGY.
| REGIONAL GEOLOGIST WESTERN REGION.
| REGIONAL GEOLOGIST, EASTERN REGION.
| CHIEF SCIENTIST FOR GEOLOGY.
BIOLOGICAL RESOURCES DIVISION | ASSOCIATE CHIEF BIOLOGIST FOR INFORMATION.
FIELD OFFICES | REGIONAL CHIEF BIOLOGIST, EASTERN REGION.
| REGIONAL BIOLOGIST, WESTERN REGION.
FIELD OFFICES | REGIONAL DIRECTOR.
| REGIONAL DIRECTOR.
MINERALS MANAGEMENT SERVICE | ASSOCIATE DIRECTOR FOR POLICY AND MANAGEMENT IMPROVEMENT.
| CHIEF, OFFSHORE ENGINEERING AND OPERATIONS DIVISION.
FIELD OFFICES | REGIONAL DIRECTOR, GULF OF MEXICO OUTER CONTINENTAL SHELF REGION.
| PROGRAM DIRECTOR FOR ONSHORE COMPLIANCE AND ASSET MANAGEMENT.
| PROGRAM DIRECTOR FOR ROYALTY-N-KIND.
| REGIONAL DIRECTOR, ALASKA OUTER CONTINENTAL SHELF REGION.
| DEPUTY ASSOCIATE DIRECTOR FOR MINERALS REVENUE MANAGEMENT.
| PROGRAM DIRECTOR FOR COMPLIANCE AND ASSET MANAGEMENT.
BUREAU OF INDIAN AFFAIRS | DEPUTY DIRECTOR, FIELD OPERATIONS.
| DEPUTY DIRECTOR, OFFICE OF INDIAN EDUCATION PROGRAMS.
OFFICE OF HEARINGS AND APPEALS | DIRECTOR, OFFICE OF HEARINGS AND APPEALS.
DEPARTMENT OF JUSTICE:
OFFICE OF THE LEGAL COUNSEL | SPECIAL COUNSEL.
| SPECIAL COUNSEL.
OFFICE OF THE INSPECTOR GENERAL | ASSISTANT INSPECTOR GENERAL, EVALUATION AND INSPECTIONS DIVISION.
| ASSISTANT INSPECTOR GENERAL FOR AUDIT.
| ASSISTANT INSPECTOR GENERAL FOR INVESTIGATION.
| ASSISTANT INSPECTOR GENERAL FOR MANAGEMENT AND PLANNING.
| DEPUTY INSPECTOR GENERAL.
| GENERAL COUNSEL.
| DIRECTOR, OFFICE OF OVERSIGHT AND REVIEW.
OFFICE OF PROFESSIONAL RESPONSIBILITY | COUNSEL ON PROFESSIONAL RESPONSIBILITY.
| DEPUTY COUNSEL ON PROFESSIONAL RESPONSIBILITY.
JUSTICE MANAGEMENT DIVISION | ASSISTANT ATTORNEY GENERAL FOR ADMINISTRATION.
| DEPUTY ASSISTANT ATTORNEY GENERAL, POLICY, MANAGEMENT, AND PLANNING.
| DIRECTOR, HUMAN RESOURCES.
| DIRECTOR, SECURITY AND EMERGENCY PLANNING STAFF.
| DIRECTOR FINANCE STAFF.
| DEPUTY ASSISTANT ATTORNEY GENERAL.
| DEPUTY ASSISTANT ATTORNEY GENERAL FOR HUMAN RESOURCES AND ADMINISTRATION.
| DIRECTOR LIBRARY STAFF.
| DIRECTOR, FACILITIES AND ADMINISTRATIVE SERVICES STAFF.
| DIRECTOR, OFFICE OF ATTORNEY PERSONNEL MANAGEMENT.
| DIRECTOR TELECOMMUNICATIONS SERVICES STAFF.
| INFORMATION TECHNOLOGY PROJECT MANAGER.
| INFORMATION TECHNOLOGY SECURITY PROJECT MANAGER.
| CHIEF OF STAFF.
| DIRECTOR, OPERATIONS SERVICES STAFF.
| DIRECTOR, INFORMATION TECHNOLOGY POLICY AND PLANNING STAFF.
| DIRECTOR MANAGEMENT AND PLANNING STAFF.
JUSTICE MANAGEMENT DIVISION | DIRECTOR, BUDGET STAFF.
| DIRECTOR, DEBT COLLECTION MANAGEMENT STAFF.
| CHIEF INFORMATION OFFICER.
| DIRECTOR PROCUREMENT SERVICES STAFF.
| GENERAL COUNSEL.
| DIRECTOR, EQUAL EMPLOYMENT OPPORTUNITY STAFF.
| DEPUTY DIRECTOR, BUDGET STAFF.
| DEPUTY DIRECTOR (PROGRAMS AND PERFORMANCE), BUDGET STAFF.
| CHIEF, TECHNOLOGY OFFICER.
| DEPUTY DIRECTOR (AUDITING).
| DEPUTY DIRECTOR, PERSONNEL STAFF.
PROFESSIONAL RESPONSIBILITY ADVISORY OFFICE | DIRECTOR, PROFESSIONAL RESPONSPONSIBILITY ADVSIORY OFFICE.
OFFICE OF FEDERAL DETENTION TRUSTEE | FEDERAL DETENTION TRUSTEE.
FEDERAL BUREAU OF PRISONS | ASSISTANT DIRECTOR FOR ADMINISTRATION.
| ASSISTANT DIRECTOR CORRECTIONAL PROGRAMS DIVISION.
| GENERAL COUNSEL.
| REGIONAL DIRECTOR, NORTHEAST REGION.
| REGIONAL DIRECTOR, SOUTHEAST REGION.
| REGIONAL DIRECTOR, NORTH CENTRAL REGION.
| REGIONAL DIRECTOR, WESTERN REGION.
| REGIONAL DIRECTOR, SOUTH CENTRAL REGION.
| WARDEN, UNITED STATES PENITENTIARY, ATLANTA, GEORGIA.
| WARDEN LEAVENWORTH KANSAS.
| WARDEN, UNITED STATES PENITENTIARY, LEWISBURG, PENNSYLVANIA.
| WARDEN, LOMPOC, CALIFORNIA.
| WARDEN SPRINGFIELD MISSOURI.
| WARDEN, LEXINGTON KENTUCKY.
FEDERAL BUREAU OF PRISONS | WARDEN, UNITED STATES PENITENTIARY, MARION ILLINOIS.
| ASSOCIATE COMMISSIONER, FEDERAL PRISONS INDUSTRIES, UNICORE.
| WARDEN TERRE HAUTE, INDIANA.
| WARDEN BUTNER NORTH CAROLINA.
| WARDEN, FEDERAL MEDICAL CENTER, FORT WORTH TEXAS.
| WARDEN MARIANNA FLORIDA.
| ASSISTANT DIRECTOR FOR HUMAN RESOURCES MANAGEMENT.
| SENIOR DEPUTY ASSISTANT DIRECTOR, CORRECTIONAL PROGRAMS DIVISION.
| WARDEN, FEDERAL CORRECTIONAL INSTITUTION, PHOENIX, ARIZONA.
| CORRECTIONAL INSTITUTION ADMINISTRATOR (WARDEN,.
| FEDERAL MEDICAL CENTER, ROCHESTER, MINNESOTA).
| REGIONAL DIRECTOR MIDDLE ATLANTIC DIVISION.
| WARDEN FEDERAL CORRECTIONAL INSTITUTION.
| ASSISTANT DIRECTOR, INFORMATION, POLICY, AND PUBLIC AFFAIRS DIVISION.
| WARDEN, FEDERAL CORRECTIONAL INSTITUTION, TALLADEGA, ALABAMA.
| WARDEN, FEDERAL CORRECTIONAL INSTITUTION, FORT DIX, NEW JERSEY.
| WARDEN, FEDERAL CORRECTIONAL COMPLEX, FLOREN, COLORADO.
| WARDEN, UNITED STATES PENITENTIARY, ADMINISTRATIVE.
| DETENTION FACILITY, FLORENCE, COLORADO.
| WARDEN, FEDERAL CORRECTIONAL COMPLEX, OAKDALE, LOUISIANA.
| WARDEN, FEDERAL MEDICAL CENTER, CARSWELL, TEXAS.
| WARDEN, FEDERAL CORRECTIONAL COMPLEX, ALLENWOOD, PENNSYLVANIA.
| WARDEN, FEDERAL TRANSFER CENTER, OKLAHOMA CITY, OKLAHOMA.
| SENIOR DEPUTY ASSISTANT DIRECTOR (ADMINISTRATION).
| CORRECTIONAL INSTITUTION ADMINISTRATOR (WARDEN).
| FEDERAL CORRECTIONAL INSTITUTE/EL RENO, OKLAHOMA.
| WARDEN, FEDERAL DETENTION CENTER, MIAMI, FLORIDA.
| WARDEN, FEDERAL CORRECTIONAL INSTITUTION, FAIRTON, NEW JERSEY.
| CORRECTIONAL PROGRAM OFFICER/SENIOR DEPUTY REGIONAL DIRECTOR.
| CORRECTIONAL PROGRAM OFFICER/SENIOR DEPUTY ASSISTANT DIRECTOR PROGRAM REVIEW DIVISION.
| WARDEN, FEDERAL CORRECTIONAL INSTITUTION, EDGEFIELD, SOUTH CAROLINA.
| CORRECTIONAL INSTITUTION ADMINISTRATOR (WARDEN, FEDERAL MEDICAL CENTER, FEDERAL TRANSFER CENTER, MASSACHUSETTS).
| CORRECTIONAL INSTITUTION ADMINISTRATOR.
| CORRECTIONAL INSTITUTION ADMINISTRATOR (WARDEN, UNITED STATES PENTENTIARY, BEAUMONT, TEXAS).
| ASSISTANT DIRECTOR, HEALTH SERVICES DIVISION.
| DEPUTY ASSISTANT DIRECTOR FOR ADMINISTRATION.
| WARDEN, METROPOLITAN DETENTION CENTER, BROOKLYN, NEW YORK.
| WARDEN, UNITED STATES PENITENTIARY, POLLOCK, LOUISIANA.
| WARDEN, FEDERAL CORRECTIONAL INSTITUTION, MEDIUM, BEAUMONT, TEXAS.
| WARDEN, FEDERAL CORRECTIONAL INSTITUTION, BECKLEY, WEST VIRGINIA.
| WARDEN, FEDERAL CORRECTIONAL INSTITUTION, JESUP, GEORGIA.
| CORRECTIONAL INSTITUTION ADMINISTRATOR (WARDEN).
| WARDEN, METROPOLITAN CORRECTIONAL CENTER, NEW YORK, NEW YORK.
| WARDEN, UNITED STATES PENITENTIARY, ATWATER, CALIFORNIA.
| WARDEN, FEDERAL CORRECTIONAL COMPLEX, UNITED STATES.
| PENITENTIARY/LOW CORRECTIONAL FACILITY, COLEMAN, FLORIDA.
| WARDEN, UNITED STATES PENITENTIARY, LEE, VIRGINIA.
| SENIOR COUNSEL.
| WARDEN, FEDERAL CORRECTION INSTITUTION, PETERSBURG, VIRGINIA.
| WARDEN, UNITED STATES PENITENTIARY, BIG SANDY, KENTUCKY.
| CORRECTIONAL INSTITUTION ADMINISTRATOR (WARDEN, UNITED STATES PENITENTIARY VICTORVILLE, CALIFORNIA).
| CORRECTIONAL INSTITUTION ADMINISTRATOR (WARDEN, UNITED STATES PENITENTIARY, MCCREARY, KENTUCKY).
| WARDEN, UNITED STATES PRISON, HAZELTON, WEST VIRIGINA.
| WARDEN, FEDERAL CORRECTIONAL COMPLES, YAZOO CITY, MISSISSIPPI.
| WARDEN, UNITED STATES PENITENTIARY, WAYMART PENNSYLVANIA.
| WARDEN, FEDERAL CORRECTIONAL INSTITUTION, BUTNER, NORTH CAROLINA.
| WARDEN, FEDERAL CORRECTIONAL COMPLEX, U.S. PENTENTIARY AND MEDIUM FACILITY, COLEMAN, FLORIDA.
| WARDEN, UNITED STATES PENITENTIARY, TUCSON.
| WARDEN, FEDERAL CORRECTIONAL INSTITUTION, CUMBERLAND, MARYLAND.
| WARDEN, FEDERAL CORRECTIONAL INSTITUTION, ESTILL, SOUTH CAROLINA.
| WARDEN, FEDERAL CORRECTIONAL INSTITUTION, GREENVILLE, ILLINIOIS.
| WARDEN, FEDERAL CORRECTIONAL INSTITUTION, MCKEAN, PENNSYLVANIA.
| WARDEN, FEDERAL CORRECTIONAL INSTITUTION, OXFORD, WISCONSIN.
| WARDEN, FEDERAL CORRECTIONAL INSTITUTION, PEKIN, ILLINOIS.
| WARDEN, FEDERAL CORRECTIONAL INSTITUTION, SCHUYLKILL, PENNSYLVANIA.
| WARDEN, FEDERAL CORRECTIONAL INSTITUTION, THREE RIVERS, TEXAS.
| WARDEN, METROPOLITAN DETENTION CENTER, GUAYNABO, PUERTO RICO.
| WARDEN, FEDERAL CORRECTIONAL INSTITUTION, MEMPHIS, TENNESSEE.
| WARDEN, FEDERAL CORRECTIONAL INSTITUTION, SHERIDAN, OREGON.
| WARDEN, FEDERAL CORRECTIONAL INSTITUTION, GILMER, WEST VIRGINIA.
| WARDEN, FEDERAL CORRECTIONAL INSTITUTION, MANCHESTER, KENTUCKY.
| WARDEN, FEDERAL CORRECTIONAL INSTITUTION, BENNETTSVILLE, SOUTH CAROLINA.
OFFICE OF INTELLIGENCE POLICY AND REVIEW | DEPUTY COUNSEL FOR INTELLIGENCE LAW.
EXECUTIVE OFFICE FOR IMMIGRATION REVIEW | CHIEF IMMIGRATION JUDGE.
| CHAIRMAN, BOARD OF IMIGRATION APPEALS.
| GENERAL COUNSEL.
| ASSOCIATE DIRECTOR.
| CHIEF ADMINISTRATOR HEARING OFFICER.
CRIMINAL DIVISION | SENIOR COUNSEL TO THE ASSISTANT ATTORNEY GENERAL.
| DIRECTOR, ORGANIZED CRIME DRUG ENFORCEMENT TASK FORCES.
| CHIEF PUBLIC INTEGRITY SECTION.
| DEPUTY CHIEF, FRAUD SECTION.
| CHIEF, ASSET FORFEITURE AND MONEY LAUNDERING SECTION.
| PRINCIPAL DEPUTY CHIEF PUBLIC INTEGRITY SECTION.
| SENIOR APPELLATE COUNSEL.
| EXECUTIVE OFFICER.
| DEPUTY CHIEF TERRORISM AND VIOLENT CRIME, COUNTERTERRORISM SECTION.
| DEPUTY CHIEF, COMPUTER CRIME AND INTELLECTUAL PROPERTY SECTION.
| CHIEF OF INTERNATIONAL TRAINING AND DEVELOPMENT PROGRAMS.
| SENIOR COUNSEL TO THE ASSISTANT ATTORNEY GENERAL.
| PRINCIPAL DEPUTY FOR ENFORCEMENT OPERATIONS, NARCOTIC AND DANGEROUS DRUG SECTION.
| DIRECTOR, OFFICE OF OVERSEAS PROSECUTORIAL.
| DEVELOPMENT, ASSISTANCE, AND TRAINING.
NATIONAL SECURITY DIVISION | DEPUTY ASSISTANT ATTORNEY GENERAL, FOREIGN.
| INTELLIGENCE SURVEILLANCE ACT OPERATIONS AND INTELLIGENCE OVERSIGHT.
EXECUTIVE OFFICE FOR UNITED STATES ATTORNEYS | DIRECTOR, OFFICE OF ADMINISTRATION AND REVIEW.
| DEPUTY DIRECTOR FOR OPERATIONS.
| DIRECTOR, OFFICE OF LEGAL EDUCATION.
| DEPUTY DIRECTOR, FINANCIAL MANAGEMENT STAFF.
UNITED STATES MARSHALS SERVICE | ASSISTANT DIRECTOR FOR OPERATIONS SUPPORT.
| ASSISTANT DIRECTOR FOR HUMAN RESOURCES.
| ASSISTANT DIRECTOR FOR PRISONER SERVICES.
| ASSISTANT DIRECTOR FOR BUSINESS SERVICES.
| ASSISTANT DIRECTOR FOR MANAGEMENT AND BUDGET.
| ASSISTANT DIRECTOR FOR EXECUTIVE SERVICE.
| ASSISTANT DIRECTOR FOR JUDICAL SECURITY.
| ASSISTANT DIRECTOR FOR TRAINING.
| ASSISTANT DIRECTOR, JUSTICE PRISONER AND ALIEN TRANSPORTATION SYSTEM.
| ASSISTANT DIRECTOR, FOR INVESTIGATIVE SERVICES.
| ASSISTANT DIRECTOR FOR INFORMATION TECHNOLOGY.
OFFICE OF THE ALCOHOL, TOBACCO, FIREARMS AND EXPLOSIVES | DEPUTY DIRECTOR.
| ASSISTANT DIRECTOR (FIELD OPERATIONS).
| DEPUTY ASSISTANT DIRECTOR (CRIMINAL ENFORCEMENT FIELD.
| OPERATIONS—CENTRAL).
| ASSISTANT DIRECTOR (ENFORCEMENT PROGRAMS AND SERVICES).
| DEPUTY ASSISTANT DIRECTOR (ENFORCEMENT PROGRAMS AND SERVICES)).
| ASSISTANT DIRECTOR (OFFICE OF PROFESSIONAL.
| RESPONSIBILITY AND SECURITY OPERATIONS).
| DEPUTY ASSISANT DIRECTOR (SCIENCE AND TECHNOLOGY).
| ASSISTANT DIRECTOR (SCIENCE AND TECHNOLOGY)/CHIEF INFORMATION OFFICER.
| DIRECTOR, LABORATORY SERVICES.
| ASSOCIATE CHIEF COUNSEL (ADMINISTRATION AND ETHICS).
| DEPUTY ASSISTANT DIRECTOR (FIELD OPERATIONS—WEST).
| DIVISION DIRECTOR/SPECIAL-AGENT-IN-CHARGE, LOS ANGELES.
| DIVISION DIRECTOR/SPECIAL-AGENT-IN-CHARGE, NEW YORK.
| DIVISION DIRECTOR/SPECIAL-AGENT-IN-CHARGE, WASHINGTON.
| DIVISION DIRECTOR/SPECIAL-AGENT-IN-CHARGE, HOUSTON FIELD DIVISION.
| DEPUTY ASSISTANT DIRECTOR (OFFICE OF PROFESSIONAL RESPONSIBILITY AND SECURITY OPERATIONS).
| DEPUTY ASSISTANT DIRECTOR (INDUSTRY OPERATIONS).
| DIVISION DIRECTOR, SPECIAL AGENT IN CHARGE, NASHVILLE FIELD DIVISION.
| SPECIAL AGENT IN CHARGE, DALLAS FIELD DIVISION.
| ASSISTANT DIRECTOR (PUBLIC AND GOVERNMENTAL AFFAIRS).
| DEPUTY ASSISTANT DIRECTOR (STRATEGIC INTELLIGENCE AND INFORMATION).
| ASSISTANT DIRECTOR (STRATEGIC INTELLIGENCE AND INFORMATION).
| DEPUTY ASSISTANT DIRECTOR (POLICY AND GOVERNMENTAL AFFAIRS).
| SPECIAL AGENT IN CHARGE, ATLANTA FIELD DIVISION.
| SPECIAL AGENT IN CHARGE, BOSTON FIELD DIVISION.
| SPECIAL AGENT IN CHARGE, CHICAGO FIELD DIVISION.
| SPECIAL AGENT IN CHARGE, KANSAS CITY FIELD DIVISION.
| SPECIAL AGENT IN CHARGE, PHILADELPHIA FIELD DIVISION.
| SPECIAL AGENT IN CHARGE, PHOENIX FIELD DIVISION.
| SPECIAL AGENT IN CHARGE, SAN FRANCISCO FIELD DIVISION.
| SPECIAL AGENT IN CHARGE, MIAMI FIELD OFFICE.
| SPECIAL AGENT IN CHARGE, CHARLOTTE FIELD DIVISION.
| SPECIAL AGENT IN CHARGE, DETROIT FIELD DIVISION.
| SPECIAL AGENT IN CHARGE, LOUISVILLE FIELD DIVISION.
| SPECIAL AGENT IN CHARGE, SEATTLE FIELD DIVISION.
| SPECIAL AGENT IN CHARGE, TAMPA FIELD DIVISION.
| SPECIAL AGENT IN CHARGE, SAINT PAUL FIELD DIVISION.
| SPECIAL AGENT IN CHARGE.
| SPECIAL AGENT IN CHARGE, COLUMBUS, FIELD OFFICE.
| SPECIAL AGENT IN CHARGE, BALTIMORE FIELD.
ANTITRUST DIVISION | DIRECTOR, ECONOMIC ENFORCEMENT.
| EXECUTIVE OFFICER.
| CHIEF, TELECOMMUNICATIONS AND MEDIA SECTION.
CIVIL DIVISION | SPECIAL LITIGATION COUNSEL (FOREIGN LITIGATION).
| SPECIAL LITIGATION COUNSEL.
| SPECIAL LITIGATION COUNSEL, COMMERCIAL LITIGATION BRANCH.
| DEPUTY BRANCH DIRECTOR/COMMERCIAL LITIGATION.
| DEPUTY BRANCH DIRECTOR.
| DIRECTOR OF MANAGEMENT PROGRAMS.
| DEPUTY BRANCH DIRECTOR.
| DEPUTY BRANCH DIRECTOR CIVIL FRAUDS.
| DEPUTY BRANCH DIRECTOR.
| DIRECTOR OFFICE OF CONSUMER LITIGATION.
| APPELLATE LITIGATION COUNSEL.
| DEPUTY BRANCH DIRECTOR.
| DEPUTY DIRECTOR, APPELLATE STAFF.
| DEPUTY DIRECTOR (OPERATIONS), OFFICE OF IMMIGRATION LITIGATION.
ENVIRONMENT AND NATURAL RESOURCES DIVISION | SENIOR LITIGATION COUNSEL ATTORNEY-EXAMINER.
| DEPUTY CHIEF, ENVIRONMENTAL ENFORCEMENT SECTION.
| EXECUTIVE OFFICER.
| DEPUTY CHIEF, ENVIRONMENTAL ENFORCEMENT SECTION.
| DEPUTY SECTION CHIEF, ENVIRONMENTAL DEFENSE SECTION.
TAX DIVISION | SPECIAL LITIGATION COUNSEL.
| SENIOR LITIGATION COUNSEL.
| CHIEF CIVIL TRIAL SECTION SOUTHWESTERN REGION.
| EXECUTIVE OFFICER.
CIVIL RIGHTS DIVISION | EXECUTIVE OFFICER.
OFFICE OF JUSTICE PROGRAMS | DIRECTOR, OFFICE OF ADMINISTRATION.
| CHIEF FINANCIAL OFFICER.
| BUDGET OFFICER.
| CHIEF FINANCIAL OFFICER.
| DEPUTY CHIEF FINANCIAL OFFICER.
OFFICE OF JUVENILE JUSTICE AND DELINQUENCY PREVENTION | SPECIAL ADVISOR.
NATIONAL INSTITUTE OF JUSTICE | ASSISTANT DIRECTOR.
DEPARTMENT OF LABOR:
OFFICE OF THE INSPECTOR GENERAL | DEPUTY INSPECTOR GENERAL.
| ASSISTANT INSPECTOR GENERAL FOR INVESTIGATIONS.
| ASSISTANT INSPECTOR GENERAL FOR AUDIT.
| COUNSEL TO THE INSPECTOR GENERAL.
| ASSISTANT INSPECTOR GENERAL FOR MANAGEMENT AND POLICY.
| DEPUTY ASSISTANT INSPECTOR GENERAL FOR AUDIT.
| DEPUTY ASSISTANT INSPECTOR GENERAL FOR LABOR RACKETEERING.
OFFICE OF PUBLIC AFFAIRS | DIRECTOR, DIVISION OF ENTERPRISE COMMUNICATIONS.
OFFICE OF THE ASSISTANT SECRETARY FOR POLICY | DIRECTOR, OFFICE OF REGULATORY AND PROGRAMMATIC POLICY.
OFFICE OF THE SOLICITOR | ASSOCIATE SOLICITOR FOR LABOR-MANAGEMENT LAWS.
| ASSOCIATE SOLICITOR FOR PLAN BENEFITS SECURITY.
| REGIONAL SOLICITOR CHICAGO.
| ASSOCIATE SOLICITOR FOR CIVIL RIGHTS.
| ASSOCIATE SOLICITOR FOR OCCUPATIONAL SAFETY AND HEALTH.
| ASSOCIATE SOLICITOR FOR MINE SAFETY AND HEALTH.
| ASSOCIATE SOLICITOR FOR FAIR LABOR STANDARDS.
| REGIONAL SOLICITOR ATLANTA.
| ASSOCIATE SOLICITOR FOR FEDERAL EMPLOYEES' AND ENERGY WORKERS' COMPENSATION.
| REGIONAL SOLICITOR BOSTON.
| REGIONAL SOLICITOR NEW YORK.
| REGIONAL SOLICITOR PHILADELPHIA.
| REGIONAL SOLICITOR DALLAS.
| REGIONAL SOLICITOR KANSAS CITY.
| REGIONAL SOLICITOR SAN FRANCISCO.
| DEPUTY SOLICITOR (REGIONAL OPERATIONS).
| ASSOCIATE SOLICITOR FOR SPECIAL APPEL AND SUPREME COURT LITIGATION.
| ASSOCIATE SOLICITOR FOR BLACK LUNG BENEFITS.
| DEPUTY SOLICITOR (NATIONAL OPERATIONS).
| ASSOCIATE SOLICITOR FOR MANAGEMENT AND ADMINISTRATIVE LEGAL SERVICES.
| ASSOCIATE SOLICITOR FOR CIVIL RIGHTS AND LABOR MANAGEMENT.
| ASSOCIATE SOLICITOR FOR LEGAL COUNSEL.
| ASSOCIATE DEPUTY SOLICITOR FOR LEGAL POLICY.
| ASSOCIATE SOLICITOR FOR BLACK LUNG AND LONGSHORE LEGAL SERVICES.
OFFICE OF CHIEF FINANCIAL OFFICER | DEPUTY CHIEF FINANCIAL OFFICER.
| ASSOCIATE DEPUTY CHIEF FINANCIAL OFFICER.
| ASSOCIATE DEPUTY CHEIF FINANCIAL OFFICER FOR FINANCIAL SYSTEMS.
OFFICE OF THE ASSISTANT SECRETARY FOR ADMINISTRATION AND MANAGEMENT | DIRECTOR, NATIONAL CAPITAL SERVICE CENTER.
| DEPUTY DIRECTOR, INFORMATION TECHNOLOGY CENTER.
| DIRECTOR OFFICE OF BUDGET.
| DIRECTOR BUSINESS OPERATIONS CENTER.
| DIRECTOR OF CIVIL RIGHTS.
| DEPUTY ASSISTANT SECRETARY FOR BUDGET AND PERFORMANCE PLANNING.
| DEPUTY ASSISTANT SECRETARY FOR OPERATIONS.
| DIRECTOR, PROGRAM PLANNING AND RESULTS CENTER.
| DEPUTY ASSISTANT SECRETARY FOR SECURITY AND EMERGENCY MANAGEMENT.
EMPLOYMENT STANDARDS ADMINISTRATION | DIRECTOR OFFICE OF MANAGEMENT, ADMINISTRATION AND PLANNING.
WAGE AND HOUR DIVISION | DEPUTY WAGE AND HOUR ADMINISTRATOR (OPERATIONS).
OFFICE OF WORKERS COMPENSATION PROGRAMS | DIRECTOR FOR FEDERAL EMPLOYEES' COMPENSATION.
| DIRECTOR COAL MINE WORKERS' COMPENSATION.
| DIRECTOR, ENERGY EMPLOYEES' OCCUPATIONAL ILLNESS COMPENATION.
| DIRECTOR, OFFICE OF ENFORCEMENT AND INTERNATIONAL UNION AUDITS.
OFFICE OF LABOR—MANAGEMENT STANDARDS | DEPUTY DIRECTOR, OFFICE OF LABOR MANAGEMENT STANDARDS.
| DIRECTOR, OFFICE OF POLICY, REPORTS AND DISCLOSURE.
EMPLOYEE BENEFITS SECURITY ADMINISTRATION | DIRECTOR OF REGULATIONS AND INTERPRETATIONS.
| DEPUTY ASSISTANT SECRETARY FOR PROGRAM OPERATIONS.
| DIRECTOR OF EXEMPTION DETERMINATIONS.
| SENIOR POLICY ADVISOR.
| REGIONAL DIRECTOR—BOSTON.
| REGIONAL DIRECTOR—ATLANTA.
| REGIONAL DIRECTOR—NEW YORK.
| REGIONAL DIRECTOR—KANSAS CITY.
| REGIONAL DIRECTOR—SAN FRANCISCO.
| DIRECTOR OF ENFORCEMENT.
| DIRECTOR OF HEALTH PLAN STANDARDS COMPLIANCE AND ASSISTANCE.
| DIRECTOR OF PARTICIPANT ASSISTANCE AND COMMUNICATIONS.
| DIRECTOR OF INFORMATION MANAGEMENT.
| CHIEF ACCOUNTANT.
BUREAU OF LABOR STATISTICS | ASSOCIATE COMMISSIONER FOR FIELD OPERATIONS.
| ASSOCIATE COMMISSIONER FOR ADMINISTRATION.
| ASSOCIATE COMMISSIONER FOR PRICES AND LIVING CONDITIONS.
| ASSOCIATE COMMISSIONER PRODUCTIVITY AND TECHNOLOGY.
| DEPUTY COMMISSIONER.
| ASSOCIATE COMMISSIONER/SURVEY METHODS RESEARCH.
| ASSOCIATE COMMISSIONER FOR EMPLOYMENT AND UNEMPLOYMENT STATISTICS.
| ASSISTANT COMMISSIONER FOR FEDERAL/STATE COOPERATIVE STATISTICS PROGRAMS.
| DIRECTOR OF SURVEY PROCESSING.
| DIRECTOR OF TECHNOLOGY AND COMPUTING SERVICES.
| ASSISTANT COMMISSIONER FOR CURRENT EMPLOYMENT ANALYSIS.
| ASSOCIATE COMMISSIONER FOR TECHNOLOGY AND SURVEY PROCESSING.
| ASSISTANT COMMISSIONER FOR COMPENSATION LEVELS AND TRENDS.
BUREAU OF LABOR STATISTICS | ASSISTANT COMMISSIONER FOR SAFETY, HEALTH AND WORKING CONDITIONS.
| ASSOCIATE COMMISSIONER COMPENSATION AND WORKING CONDITIONS.
| ASSISTANT COMMISSIONER FOR INTERNATIONAL PRICES.
| ASSOCIATE COMMISSIONER FOR PUBLICATIONS AND SPECIAL STUDIES.
| ASSISTANT COMMISSIONER FOR INDUSTRIAL PRICES AND PRICE INDEXES.
| ASSISTANT COMMISSIONER FOR OCCUPATIONAL STATISTICS AND EMPLOYMENT PROJECTIONS.
| ASSISTANT COMMISSIONER FOR CONSUMER PRICES AND PRICES INDEXES.
| ASSISTANT COMMISSIONER FOR OCCUPATIONAL STATISTICS AND EMPLOYMENT PROJECTIONS.
EMPLOYMENT AND TRAINING ADMINISTRATION | ADMINISTRATOR, OFFICE OF FINANCIAL AND ADMINISTRATIVE MANAGEMENT.
| ADMINISTRATOR, OFFICE OF PERFORMANCE AND TECHNOLOGY.
| DIRECTOR, BASE RELOCATION AND CLOSURE ACTIVITIES.
OCCUPATIONAL SAFETY AND HEALTH ADMINISTRATION | DIRECTOR, DIRECTORATE OF SCIENCE, TECHNOLOGY AND MEDICINE.
| DIRECTOR, DIRECTORATE OF COOPERATIVE AND STATE PROGRAMS.
| DIRECTOR, ADMINISTRATIVE PROGRAMS.
| DIRECTOR, DIRECTORATE OF EVALUATION AND ANALYSIS.
| DIRECTOR, DIRECTORATE OF STANDARDS AND GUIDANCE.
MINE SAFETY AND HEALTH ADMINISTRATION | DIRECTOR OF ADMINISTRATION AND MANAGEMENT.
| DIRECTOR OF TECHNICAL SUPPORT.
| DIRECTOR OF PROGRAM EVALUATION AND INFORMATION RESOURCES.
VETERANS EMPLOYMENT AND TRAINING SERVICE | DIRECTOR OF OPERATIONS AND PROGRAMS.
| DEPUTY ASSISTANT SECRETARY FOR OPERATIONS AND MANAGEMENT.
| DIRECTOR, DEPARTMENT OF LABOR HOMELESS ASSISTANCE PROGRAM.
OFFICE OF DISABILITY EMPLOYMENT POLICY | DIRECTOR, OFFICE OF OPERATIONS.
MERIT SYSTEMS PROTECTION BOARD:
OFFICE OF THE CLERK OF THE BOARD | CLERK OF THE BOARD.
OFFICE OF FINANCIAL AND ADMINISTRATIVE MANAGEMENT | DIRECTOR, FINANCIAL AND ADMINISTRATIVE MANAGEMENT.
OFFICE OF POLICY AND EVALUATION | DIRECTOR, OFFICE OF POLICY AND EVALUATION.
OFFICE OF INFORMATION RESOURCES MANAGEMENT | DIRECTOR, INFORMATION RESOURCES MANAGEMENT.
OFFICE OF REGIONAL OPERATIONS | DIRECTOR, OFFICE OF REGIONAL OPERATIONS.
ATLANTA REGIONAL OFFICE | REGIONAL DIRECTOR, ATLANTA.
CENTRAL REGION, CHICAGO REGIONAL OFFICE | REGIONAL DIRECTOR, CHICAGO.
NORTHEAST REGION, PHILADELPHIA REGIONAL OFFICE | REGIONAL DIRECTOR, PHILADELPHIA.
WESTERN REGION, SAN FRANCISCO REGIONAL OFFICE | REGIONAL DIRECTOR, SAN FRANCISCO.
WASHINGTON, DC REGION, WASHINGTON REGIONAL OFFICE | REGIONAL DIRECTOR, WASHINGTON, D.C.
DALLAS REGIONAL OFFICE | REGIONAL DIRECTOR, DALLAS.
NATIONAL AERONAUTICS AND SPACE ADMINISTRATION:
NATIONAL AERONAUTICS AND SPACE ADMINISTRATION | SPECIAL ASSISTANT TO THE ADMINISTRATOR.
| CHIEF, SMALL SATELLITE PROGRAMS OFFICE.
| DIRECTOR, EXPLORATION TECHNOLOGY DIRECTORATE.
OFFICE OF THE ADMINISTRATOR | SENIOR ADVISOR TO THE DEPUTY ADMINISTRATOR.
| PROGRAM DIRECTOR, INTEGRATED FINANCIAL MANAGEMENT PROGRAM.
OFFICE OF PROGRAM AND INSTITUTIONAL INTEGRATION | DIRECTOR OF PROGRAM AND INSTITUTIONAL INTEGRATION OFFICE.
| DEPUTY DIRECTOR OF THE OFFICE OF PROGRAM AND INSTITUTIONAL INTEGRATION.
OFFICE OF PROGRAM ANALYSIS AND EVALUATION | DEPUTY ASSOCIATE ADMININSTRATOR.
| SENIOR ADVISOR FOR HUMAN CAPITAL AND INSTITUTIONAL MANAGEMENT.
| SENIOR ADVISOR FOR FINANCIAL RESOURCES MANAGEMENT.
| DEPUTY CHIEF SCIENTIST.
| DIRECTOR, INDEPENDENT PROGRAM ASSESSMENT OFFICE.
| DIRECTOR, AGENCY STUDY TEAMS.
| DEPUTY DIRECTOR, STRATEGIC INVESTMENTS DIVISION.
| DIRECTOR, STRATEGIC INVESTMENT DIVISION.
| DIRECTOR, COST ANALYSIS DIVISION.
| DIRECTOR, COST ANALYSIS DIVISION.
OFFICE OF THE CHIEF INFORMATION OFFICER | DEPUTY CHIEF INFORMATION OFFICER.
OFFICE OF THE CHIEF FINANCIAL OFFICER/COMPTROLLER | DIRECTOR, FINANCIAL MANAGEMENT DIVISION.
| DIRECTOR, RESOURCES ANALYSIS DIVISION.
| DIRECTOR, POLICY AND BUSINESS INTEGRATION.
| DEPUTY CHIEF FINANCIAL OFFICER.
| DIRECTOR, CENTER FISCAL OPERATIONS.
| DIRECTOR, RESOURCE PLANNING DIVSION.
| DIRECTOR, QUALITY ASSURANCE.
| DEPUTY DIRECTOR FOR BUDGET.
| SENIOR ADVISOR TO THE DEPUTY CHIEF FINANCIAL OFFICER.
| DIRECTOR, FINANCIAL MANAGEMENT.
| DIRECTOR, QUALITY ASSURANCE.
| DIRECTOR, STRATEGIC MANAGEMENT AND PLANNING.
| DEPUTY CHIEF FINANCIAL OFFICER FOR RESOURCES (COMPTROLLER).
OFFICE OF HEADQUARTERS OPERATIONS | DIRECTOR, HUMAN RESOURCE MANGEMENT DIVISION.
| DEPUTY DIRECTOR FOR OPERATIONS.
OFFICE OF HUMAN CAPITAL MANAGEMENT | ASSISTANT ADMINISTRATOR FOR HUMAN CAPITAL MANAGEMENT.
| DIRECTOR, PERSONNEL DIVISION.
| ASSISTANT ADIMINISTRATOR FOR HUMAN CAPITAL MANAGEMENT.
| DIRECTOR, WORKFORCE STATEGY DIVISION.
| DIRECTOR, WORKFORCE SYSTEMS AND ACCOUNTABILITY DIVISION.
| DEPUTY ASSISTANT ADMINISTRATOR FOR HUMAN CAPITAL MANAGEMENT.
| DIRECTOR, WORKFORCE MANAGEMENT AND DEVELOPMENT DIVISION.
| DIRECTOR, TRAINING AND DEVELOPMENT DIVISION.
OFFICE OF PROCUREMENT | ASSISTANT ADMINISTRATOR FOR PROCUREMENT.
| DIRECTOR, PROGRAM OPERATIONS DIVISION.
| DIRECTOR, CONTRACT MANAGEMENT DIVISION.
| DIRECTOR ANALYSIS DIVISION.
OFFICE OF EXTERNAL RELATIONS | MANAGER, INTERNATIONAL TECHNOLOGY TRANSFER POLICY.
| DIRECTOR, SPACE SCIENCE AND AERONAUTICS DIVISION.
| DIRECTOR, SPACE OPERATIONS DIVISION.
| NATIONAL AERONAUTICS AND SPACE ADMINISTRATION SPAIN REPRESENTATIVE.
OFFICE OF INSTITUTIONS AND MANAGEMENT | DIRECTOR, FACILITIES ENGINEERING DIVISION.
| DIRECTOR, HEADQUARTERS INFORMATION, TECHNOLOGY AND COMMUNICATINOS DIVISION.
| SPECIAL ASSISTANT.
| DIRECTOR, SHARED CAPABILITY ASSET PROGRAM.
| DIRECTOR, PROGRAM OPERATIONS DIVISION.
| DIRECTOR, ANALYSIS DIVISION.
| ASSISTANT ADMININSTRATOR. SMALL/DISADVANTAGED BUSINESS UTILIZATION.
| DIRECTOR ENVIRONMENTAL MANAGEMENT DIVISION.
| DIRECTOR, LOGISTICS MANAGEMENT OFFICE.
NASA SHARED SERVICES CENTER | DEPUTY DIRECTOR, NATIONAL AERONAUTICS AND SPACE ADMINISTRATION SHARED SERVICES CENTER.
| EXECUTIVE DIRECTOR OF NATIONAL AERONAUTICS AND SPACE ADMINISTRATION SHARED SERVICE CENTER.
OFFICE OF SMALL AND DISADVANTAGED BUSINESS UTILIZATION | ASSISTANT ADMINISTRATOR FOR SMALL AND DISADVANTAGED BUSINESS UTILIZATION.
OFFICE OF LEGISLATIVE AFFAIRS | DEPUTY COMPTROLLER FOR APPROPRIATIONS.
OFFICE OF LEGISLATIVE AFFAIRS | DEPUTY ASSOCIATE ADMINISTRATOR FOR LEGISLATIVE AFFAIRS.
SPACE OPERATION MISSION DIRECTORATE | DEPUTY ASSOCIATE ADMINISTRATOR FOR INTERAGENCY ENTERPRISE.
| DIRECTOR, INTERNATIONAL SPACE STATION AND SPACE SHUTTLE PROGRAM RESOURCE.
| DEPUTY ASSISTANT ADMINSTRATOR FOR PROGRAM INTEGRATION.
| ASSISTANT ASSOCIATE ADMININSTRATOR FOR SPACE SHUTTLE PROGRAM.
| DIRECTOR, FUNDAMENTAL AERONAUTICS.
| ASSISTANT ASSOCIATE ADMINISTRATOR FOR LAUNCH SERVICES.
| DEPUTY DIRECTOR FOR PLANNING AND BUSINESS MANAGEMENT.
| ASSISTANT ASSOCIATE ADMINISTATOR FOR POLICY AND PLANS.
| ASSISTANT ASSOCIATE ADMINISTRATOR FOR INTERNATIONAL SPACE STATION.
| ASSISTANT ASSOCIATE ADMINISTRATOR FOR SPACE SHUTTLE PROGRAM.
| ASSISTANT ASSOCIATE ADMINISTRATOR FOR LAUNCH SERVICES.
JOHNSON SPACE CENTER | CHIEF FINANCIAL OFFICER.
| DIRECTOR OF HUMAN RESOURCES.
| DIRECTOR OF TECHNICAL TRANSFER AND COMMERCIALIZATION.
| CHIEF INFORMATION OFFICER.
| DEPUTY CHIEF INFORMATION OFFICER.
| ASSOCIATE DIRECTOR (TECHNICAL).
| ASSOCIATE DIRECTOR (MANAGEMENT).
| ASSISTANT DIRECTOR FOR UNIVERSITY RESEARCH AND AFFAIRS.
| MANAGER LAUNCH INTEGRATION (KENNEDY SPACE CENTER).
| DIRECTOR, EXTERNAL RELATIONS.
| MANAGER FOR INTERNATIONAL OPERATIONS.
| CHIEF ENGINEER.
| ASSISTANT DIRECTOR FOR SPACE FLIGHT AWARENESS.
| DIRECTOR, ASTROMATERIALS RESEARCH AND EXPLORATION SCIENCE.
| ASSOCIATE DIRECTOR (SPACE DEVELOPMENT AND COMMERCE).
| MANAGER, EXPLORATION PROGRAMS OFFICE.
| CHIEF OF STAFF, INTERNATIONAL SPACE STATION.
| MANAGER, ADVANCED PLANNING.
| DEPUTY CHIEF ENGINEER.
| MANAGER, CONSTELLATION PROGRAM.
| DIRECTOR, OPERATION INTEGRATION, CONSTELLATION PROGRAM.
| MANAGER, CREW EXPLORATION VEHICLE OFFICE, CONSTELLATION PROGRAM.
| DIRECTOR, TEST AND VERIFICATION, CONSTELLATION PROGRAM.
| MANAGER, ADVANCED PROJECTS OFFICE, CONSTELLATION PROGRAM.
| DIRECTOR, SYSTEMS ENGINEERING AND INTEGRATION, CONSTELLATION.
| DIRECTOR, PROGRAM PLANNING AND CONTROL, CONSTELLATION.
| DEPUTY DIRECTOR, PROGRAM PLANNING AND CONTROL, CONSTELLATION.
| ASSOCIATE PROGRAM MANAGER, INTERNATIONAL SPACE STATION.
| DEPUTY MANAGER, CONSTELLATION OFFICE.
| DEPUTY MANAGER, ORBITER PROJECT OFFICE.
| CHIEF KNOWLEDGE OFFICER.
| MANAGER FOR TECHNOLOGY INTEGRATION, CONSTELLATION.
SPACE STATION PROGRAM OFFICE | MANAGER, VEHICLE OFFICE.
| TECHNICAL ASSISTANT TO THE MANAGER, SPACE STATION PROGRAM.
| DEPUTY PROGRAM MANAGER FOR TECHNICAL DEVELOPMENT.
| MANAGER, RESEARCH PROGRAMS.
| TECHNICAL ASSISTANT FOR EXTERNAL REVIEWS.
| MANAGER, PROGRAM PLANNING AND CONTROL OFFICE, INTERNATIONAL SPACE STATION.
| MANAGER, INTERNATIONAL SPACE STATION PROGRAM.
| DEPUTY MANAGER, INTERNATIONAL SPACE STATION PROGRAM.
| MANAGER, AVIONICS AND SOFTWARE OFFICE.
| MANAGER, PROGRAM INTEGRATION OFFICE.
| MANAGER, MISSION INTEGRATION AND OPERATIONS OFFICE.
| MANAGER, EXTERNAL RELATIONS OFFICE, INTERNATIONAL SPACE STATION.
| MANAGER, INTERNATIONAL SPACE STATION PAYLOADS OFFICE.
| ASSOCIATE MANAGER, INTERNATIONAL SPACE STATION.
| EXTERNAL INTEGRATION OFFICE.
SPACE SHUTTLE PROGRAM OFFICE | DEPUTY SPACE SHUTTLE PROGRAM MANAGER FOR KENNEDY SPACE CENTER.
| ASSISTANT MANAGER SPACE SHUTTLE PROGRAM.
| MANAGER FOR SPACE SHUTTLE PROGRAM DEVELOPMENT.
| MANAGER, SPACE SHUTTLE PROGRAM INTEGRATION.
| SPACE OPERATIONS COMMERCIALIZATION MANAGER.
| MANAGER, SPACE SHUTTLE FLIGHT OPERATIONS AND INTEGRATION.
| DEPUTY MANAGER, SPACE SHUTTLE PROGRAM.
| MANAGER, ORBITER PROJECT OFFICE.
| MANAGER, SPACE SHUTTLE BUSINESS OFFICE.
| MANAGER, SPACE SHUTTLE SYSTEMS ENGINEERING AND INTEGRATION OFFICE.
| MANAGER, SPACE SHUTTLE MANAGEMENT INTEGRATION AND PLANNING OFFICE.
MISSION OPERATIONS | DIRECTOR, MISSION OPERATIONS.
| DEPUTY DIRECTOR, MISSION OPERATIONS.
| ASSISTANT DIRECTOR FOR OPERATIONS.
| CHIEF ENGINEER, MISSION OPERATIONS DIRECTORATE.
| CHIEF FLIGHT DIRECTOR OFFICE.
| CHIEF, ADVANCED OPERATIONS AND DEVELOPMENT DIVISION.
| CHIEF, SYSTEMS DIVISION, MISSION OPERATIONS.
MISSION OPERATIONS | DIRECTORATE.
FLIGHT CREW OPERATIONS | CHIEF, AIRCRAFT OPERATIONS DIVISION.
| DEPUTY DIRECTOR, FLIGHT CREW OPERATIONS.
| CHIEF ASTRONAUT OFFICE.
ENGINEERING | CHIEF, CREW AND THERMAL SYSTEMS DIVISION.
| DEPUTY DIRECTOR, ENGINEERING.
| CHIEF, AUTOMATION, ROBOTICS AND SIMULATION DIVISION.
| DIRECTOR, ENGINEERING.
| CHIEF ENGINEER SPACE STATION PROGRAM.
| CHIEF AVIONIC SYSTEMS DIVISION.
| ASSISTANT TO THE DIRECTOR, ENGINEERING.
| DEPUTY CHIEF, AVIONIC SYSTEMS DIVISION.
| CHIEF, AEROSCIENCE AND FLIGHT MECHANICS DIVISION.
| MANAGER, ADVANCED DEVELOPMENT OFFICE.
| ASSISTANT MANAGER, ADVANCED DEVELOPMENT OFFICE.
| DEPUTY MANAGER FOR EXPLORATION.
| CHIEF ENERGY SYSTEMS DIVISION.
| DEPUTY DIRECTOR OF ENGINEERING FOR FLIGHT.
| ASSISTANT TO THE DIRECTOR.
| CHIEF, STRUCTURAL ENGINEERING DIVISION.
| SENIOR SYSTEM ENGINEER.
SPACE AND LIFE SCIENCES | CHIEF, MEDICAL SCIENCES DIVISION.
| ASSISTANT DIRECTOR FOR ENGINEERING.
| ASSISTANT DIRECTOR FOR SPACE SCIENCE.
| DEPUTY DIRECTOR, REQUIREMENTS, PLANNING, AND INTEGRATION.
| DEPUTY DIRECTOR, SPACE AND LIFE SCIENCES.
| ASSISTANT DIRECTOR FOR FLIGHT PROGRAMS.
| ASSISTANT DIRECTOR FOR SPACE MEDICINE.
SPACE AND LIFE SCIENCES | ASSISTANT DIRECTOR, SPACE AND LIFE SCIENCES.
| ASSOCIATE DIRECTOR, TECHNICAL.
| DEPUTY ASSOCIATE DIRECTOR, BIOLOGICAL SCIENCES AND APPLICATIONS.
| MANAGER OF OPERATIONS AND INTEGRATION.
INFORMATION RESOURCES | DEPUTY DIRECTOR, INFORMATION SYSTEMS.
| ASSISTANT TO THE DIRECTOR.
| DIRECTOR, INFORMATION RESOURCES.
OFFICE OF PROCUREMENT | SPECIAL ASSISTANT TO THE DIRECTOR.
| ASSISTANT DIRECTOR BUSINESS MANAGEMENT.
| DEPUTY DIRECTOR, OFFICE OF PROCUREMENT.
CENTER OPERATIONS | DIRECTOR CENTER OPERATIONS.
| DEPUTY DIRECTOR, CENTER OPERATIONS.
SAFETY AND MISSION ASSURANCE | DIRECTOR, SAFETY AND MISSION ASSURANCE.
| ASSOCIATE DIRECTOR FOR TECHNICAL, SAFETY AND MISSION ASSURANCE.
| DEPUTY DIRECTOR, SAFETY AND MISSION ASSURANCE.
WHITE SANDS TEST FACILITY | MANAGER, NATIONAL AERONAUTICS AND SPACE.
| ADMINISTRATION WHITE SANDS TEST FACILITY.
EVA PROJECT OFFICE | MANAGER EVA PROJECT OFFICE.
KENNEDY SPACE CENTER | DIRECTOR, JOHN F KENNEDY SPACE CENTER.
| ASSOCIATE DIRECTOR, JOHN F KENNEDY SPACE CENTER.
| CHIEF FINANCIAL OFFICER.
| SPECIAL ASSISTANT TO THE DIRECTOR.
| DEPUTY DIRECTOR, INTERNATIONAL SPACE STATION AND SPACECRAFT PROCESSING DIRECTORATE.
| DIRECTOR, CONSTELLATION PROJECT OFFICE.
| DEPUTY DIRECTOR, CONSTELLATION PROJECT OFFICE.
| DIRECTOR, CENTER OPERATIONS.
| CHIEF MEDICAL OFFICER.
| DIRECTOR, ADVANCED PLANNING.
| DEPUTY DIRECTOR, MANAGEMENT, ENGINEERING DEVELOPMENT.
| DEPUTY DIRECTOR, TECHNICAL, ENGINEERING DEVELOPMENT.
| DIRECTOR, ENGINEERING DEVELOPMENT.
| DIRECTOR, LAUNCH VEHICLE PROCESSING DIRECTORATE.
| DEPUTY DIRECTOR, LAUNCH VEHICLE PROCESSING.
| DIRECTORATE.
| DIRECTOR, INTERNATIONAL SPACE STATION AND SPACECRAFT.
| PROCESSING DIRECTORATE.
| DIRECTOR, DESIGN AND DEVELOPMENT SYSTEMS ENGINEERING.
| OFFICE, ENGINEERING DIRECTORATE.
| DEPUTY DIRECTOR, CENTER OPERATIONS.
| DIRECTOR, ENGINEERING DIRECTORATE.
CAPE CANAVERAL SPACEPORT MANAGEMENT | EXECUTIVE DIRECTOR, CAPE CANAVERAL SPACEPORT.
| MANAGEMENT OFFICE.
PROCUREMENT | DIRECTOR, PROCUREMENT OFFICE.
HUMAN RESOURCES | DIRECTOR, HUMAN RESOURCES OFFICE.
INDEPENDENT TECHNICAL AUTHORITY AND SYSTEMS MANAGEMENT | DIRECTOR, INDEPENDENT TECHNICAL AUTHORITY AND SYSTEMS MANAGEMENT.
INFORMATION TECHNOLOGY AND COMMUNICATIONS SERVICES | DIRECTOR, INFORMATION TECHNOLOGY AND COMMUNICATIONS SERVICES.
SHUTTLE PROCESSING | DIRECTOR OF SHUTTLE PROCESSING.
| DEPUTY DIRECTOR, SHUTTLE PROCESSING.
SAFETY AND MISSION ASSURANCE | DIRECTOR, SAFETY AND MISSION ASSURANCE.
| DEPUTY DIRECTOR OF SAFETY AND MISSION ASSURANCE.
| ASSOCIATE DIRECTOR FOR AGENCY OCCUPATIONAL HEALTH PROGRAM.
| ASSOCIATE DIRECTOR FOR SAFETY AND MISSION ASSURANCE.
| DIRECTOR FOR SAFETY AND MISSION ASSURANCE.
SPACEPORT ENGINEERING AND TECHNOLOGY | DEPUTY DIRECTOR OF SPACEPORT ENGINEERING AND TECHNOLOGY.
| ASSOCIATE DIRECTOR FOR ADVANCED SPACE TRANSPORTATION SUPPORT.
| ASSOCIATE DIRECTOR FOR SPACEPORT TECHNOLOGY PROJECTS.
SPACEPORT SERVICES | DIRECTOR, CENTER OPERATIONS.
| ASSOCIATE DIRECTOR, CENTER OPERATIONS AND CHIEF MEDICAL OFFICER.
| ASSISTANT DIRECTOR, CENTER OPERATIONS.
INTERNATIONAL SPACE STATION AND PAYLOAD PROCESSING | DIRECTOR, INTERNATIONAL SPACE STATION/PAYLOAD PROCESSING.
KENNEDY SPACE CENTER EXPLORATION OFFICE | DIRECTOR, KENNEDY SPACE CENTER EXPLORATION OFFICE.
EXTERNAL RELATIONS | DIRECTOR, EXTERNAL RELATIONS.
| DEPUTY DIRECTOR, EXTERNAL RELATIONS AND BUSINESS DEVELOPMENT.
| ASSISTANT DIRECTOR, EXTERNAL RELATIONS.
| ASSOCIATE DIRECTOR, EXTERNAL RELATIONS AND BUSINESS DEVELOPMENT (WASHINGTON, DC).
| ASSOCIATE DIRECTOR, EXTERNAL RELATIONS AND BUSINESS.
| DEVELOPMENT AND SENIOR PUBLIC COMMUNICATIONS OFFICER.
LAUNCH SERVICES PROGRAM | MANAGER, LAUNCH SERVICES PROGRAM.
| DEPUTY MANAGER, LAUNCH SERVICES PROGRAM.
| DIRECTOR, EXPENDABLE LAUNCH VEHICLE LAUNCH SERVICES.
MARSHALL SPACE FLIGHT CENTER | ASSOCIATE DIRECTOR.
| BUSINESS INTEGRATION EXECUTIVE.
| ASSISTANT FOR PROJECT MANAGEMENT AND DEVELOPMENT.
| ASSISTANT DIRECTOR FOR SAFETY AND ENGINEERING.
| SPECIAL ASSISTANT TO THE DIRECTOR FOR SPECIAL PROJECTS.
ENGINEERING DIRECTORATE | MANAGER, MATERIALS, PROCESSES, AND MANUFACTURING DEPARTMENT.
| ASSISTANT TO THE DIRECTOR, ENGINEERING.
| SHUTTLE PROPULSION CHIEF ENGINEER.
| MANAGER, MISSION OPERATIONS LABORATORY.
| SPACE SYSTEMS CHIEF ENGINEER.
| DEPUTY DIRECTOR, ENGINEERING DIRECTORATE.
| DEPUTY DIRECTOR, ENGINEERING DIRECTORATE.
| MANAGER, TEST LABORATORY.
| DEPUTY MANAGER, TEST LABORATORY.
| MANAGER, MATERIALS AND PROCESSES LABORATORY.
| MANAGER, PROPULSION SYSTEMS DEPARTMENT.
| MANAGER, INSTRUMENT AND PAYLOAD SYSTEMS DEVELOPMENT DEPARTMENT.
| DEPUTY MANAGER, INSTRUMENT AND PAYLOAD SYSTEMS.
| DEVELOPMENT DEPARTMENT.
| DEPUTY MANAGER, PROPULSION SYSTEMS DEPARTMENT.
SPACECRAFT AND VEHICLE SYSTEMS DEPARTMENT | MANAGER, SPACECRAFT AND VEHICLE SYSTEMS DEPARTMENT.
| DEPUTY MANAGER, SPACECRAFT AND VEHICLE SYSTEMS DEPARTMENT.
OFFICE OF THE CHIEF FINANCIAL OFFICER | CHIEF FINANCIAL OFFICER.
| INTERGRATED FINANCIAL MANAGEMENT PROGRAM.
| ADMINISTRATIVE SYSTEMS IMPLEMENTATION MANAGER.
| DEPUTY CHIEF FINANCIAL OFFICER.
OFFICE OF CENTER OPERATIONS | DIRECTOR, OFFICE OF CENTER OPERATIONS.
| DEPUTY DIRECTOR, OFFICE OF CENTER OPERATIONS.
| INTERGRATED FINANCIAL MANAGEMENT PROGRAM COMPETENCY CENTER MANAGER.
| SPECIAL ASSISTANT TO THE DIRECTOR, OFFICE OF CENTER OPERATIONS.
OFFICE OF PROCUREMENT | DIRECTOR, OFFICE OF PROCUREMENT.
| DEPUTY DIRECTOR, OFFICE OF PROCUREMENT.
SHUTTLE PROPULSION OFFICE | MANAGER, EXTERNAL TANK PROJECT.
| MANAGER SOLID ROCKET BOOSTER PROJECT.
| MANAGER, SPACE SHUTTLE MAIN ENGINE PROJECT, SHUTTLE PROPULSION OFFICE.
| MANAGER, REUSABLE SOLID ROCKET MOTOR PROJECT.
| DEPUTY MANAGER, SHUTTLE PROPULSION OFFICE.
| MANAGER, SHUTTLE PROPULSION OFFICE.
| MANAGER, PROPULSION SYSTEMS INTEGRATION PROJECT.
| CHIEF OPERATING OFFICER, MICHOUD ASSEMBLY FACILITY.
SAFETY AND MISSION ASSURANCE DIRECTORATE | DIRECTOR, SAFETY AND MISSION ASSURANCE OFFICE.
| DEPUTY DIRECTOR, SAFETY AND MISSION ASSURANCE OFFICE.
| DEPUTY DIRECTOR FOR PROJECT ASSURANCE.
| ASSOCIATE DIRECTOR FOR TECHNICAL READINESS.
SCIENCE AND MISSION SYSTEMS OFFICE | DEPUTY DIRECTOR, PLANETARY SCIENCE DIVISION.
| DIRECTOR, PLANETARY SCIENCE DIVISION.
| CHIEF OPERATING OFFICER, NATIONAL SPACE SCIENCE AND TECHNOLOGY CENTER.
| MANAGER, PROPULSION RESEARCH CENTER.
| MANAGER, EXPLORATION SCIENCE AND TECHNOLOGY DIVISION.
| DEPUTY DIRECTOR, SCIENCE AND TECHNOLOGY DIRECTORATE.
| DIRECTOR, SCIENCE AND TECHNOLOGY DIRECTORATE.
| MANAGER, SCIENCE AND MISSION SYSTEMS OFFICE.
| CHIEF SCIENTIST (AEROSPACE TECHNOLOGY, SCIENCE PROGRAM MANAGEMENT).
SPACE SYSTEMS PROGRAMS/PROJECTS OFFICE | DEPUTY MANAGER, SPACE SYSTEMS PROGRAMS/PROJECTS OFFICE.
| MANAGER, SPACE SYSTEMS PROGRAMS/PROJECTS OFFICE.
| MANAGER, DISCOVERY AND NEW FRONTIERS PROGRAM.
SPACE TRANSPORTATION PROGRAM/PROJECTS OFFICE | MANAGER, SYSTEMS ENGINEERING AND INTEGRATION OFFICE.
| MANAGER, SPACE TRANSPORTATION PROGRAMS/PROJECTS OFFICE.
| DEPUTY MANAGER, SPACE TRANSPORTATION.
| PROGRAMS/PROJECTS OFFICE.
OFFICE OF STRATEGIC ANALYSIS AND COMMUNICATIONS | MANAGER.
EXPLORATION LAUNCH OFFICE | DEPUTY MANAGER, EXPLORATION LAUNCH OFFICE.
| MANAGER, VEHICLE INTEGRATION OFFICE.
| MANAGER, UPPER STAGE OFFICE.
| MANAGER, UPPER STAGE ENGINE OFFICE.
| MANAGER, FIRST STAGE OFFICE.
OFFICE OF CHIEF INFORMATION OFFICER | CHIEF INFORMATION OFFICER.
| DEPUTY DIRECTOR, OFFICE OF THE CHIEF INFORMATION OFFICER.
OFFICE OF HUMAN CAPITAL | DIRECTOR.
| DEPUTY DIRECTOR.
| SPECIAL ASSISTANT TO DIRECTOR.
STENNIS SPACE CENTER | DIRECTOR, CENTER OPERATIONS DIRECTORATE.
| DIRECTOR, APPLIED SCIENCES DIRECTORATE.
| DIRECTOR, BUSINESS MANAGEMENT DIRECTORATE.
| DEPUTY DIRECTOR, STENNIS SPACE CENTER.
| ASSOCIATE DIRECTOR.
| SPECIAL ASSISTANT TO THE DIRECTOR.
| DIRECTOR, ENGINEERING AND SCIENCE DIRECTORATE.
| MANAGER, ROCKET PROPULSION TEST PROGRAM OFFICE.
| DIRECTOR, PROJECTS DIRECTORATE.
| DEPUTY DIRECTOR, ENGINEERING AND SCIENCE DIRECTORATE.
OFFICE OF PUBLIC AFFAIRS | DIRECTOR OF PROGRAM OPERATIONS.
| DIRECTOR MEDIA SERVICES DIVISION.
OFFICE OF SAFETY AND MISSION ASSURANCE | DEPUTY ASSOCIATE ADMINISTRATOR FOR SAFETY AND MISSION ASSURANCE.
| DIRECTOR, MISSION SUPPORT DIVISION.
| DIRECTOR, SAFETY AND ASSURANCE REQUIREMENTS DIVISION.
| DIRECTOR, REVIEW AND ASSESSMENT DIVISION.
AERONAUTICS RESEARCH MISSION DIRECTORATE | DIRECTOR, RESOURCES MANAGEMENT OFFICE.
| DIRECTOR, AIRSPACE SYSTEMS PROGRAM OFFICE.
| DIRECTOR, AVIATION SAFETY PROGRAM OFFICE.
| SENIOR ENGINEER.
| ASSISTANT ASSOCIATE ADMINISTRATOR (ENTERPRISE OPERATIONS).
| DIRECTOR STRATEGY COMMUNICATIONS AND PROGRAM INTEGRATION.
| DIRECTOR, AERONAUTICS TECHNOLOGY DIVISION.
AMES RESEARCH CENTER | ASSOCIATE DIRECTOR FOR SPACE PROGRAMS AND PROJECTS.
| ASSISTANT TO THE DIRECTOR FOR AVIATION SAFETY.
| DEPUTY DIRECTOR FOR RESEARCH.
| DEPUTY DIRECTOR AMES RESEARCH CENTER.
| DIRECTOR, OFFICE OF SAFETY, ENVIRONMENT AND MISSION ASSURANCE.
| ASSISTANT TO THE DIRECTOR.
| CHIEF, COMPUTATIONAL SCIENCES DIVISION.
| ASSOCIATE DIRECTOR FOR ASTROBIOLOGY AND SPACE PROGRAMS.
| CHIEF COUNSEL.
| ASSOCIATE DIRECTOR FOR SYSTEMS MANAGEMENT AND PLANNING.
| SPECIAL ASSISTANT TO THE DIRECTOR.
| CHIEF FINANCIAL OFFICER.
| DEPUTY DIRECTOR OF PROJECT MANAGEMENT AND ENGINEERING.
| ASSOCIATE DIRECTOR FOR INSTITUTIONAL MANAGEMENT.
| DIRECTOR, PROJECT MANAGEMENT AND ENGINEERING.
AEROSPACE | DEPUTY DIRECTOR FLIGHT PROJECTS OFFICE.
| CHIEF, SPACE TECHNOLOGY DIVISION.
| CHIEF, AVIATION SYSTEMS DIVISION.
| CHIEF, ARMY/NATIONAL AERONAUTICS AND SPACE.
| ADMINISTRATION ROTORCRAFT DIVISION.
| DEPUTY DIRECTOR OF AERONAUTICS.
AEROPHYSICS | CHIEF, NATIONAL AERONAUTICS AND SPACE ADMINISTRATION SYSTEMS DIVISION.
ASTROBIOLOGY AND SPACE RESEARCH | DIRECTOR OF ASTROBIOLOGY AND SPACE RESEARCH.
| CHIEF, LIFE SCIENCES DIVISION.
| CHIEF, SPACE SCIENCE AND ASTROBIOLOGY DIVISION.
| DEPUTY DIRECTOR OF ASTROBIOLOGY AND SPACE RESEARCH.
| DIRECTOR OF SCIENCE.
CENTER OPERATIONS | DIRECTOR OF CENTER OPERATIONS.
| DEPUTY DIRECTOR, CENTER OPERATIONS.
RESEARCH AND DEVELOPMENT SERVICES | CHIEF SYSTEMS ENGINEERING DIVISION.
| CHIEF, WIND TUNNEL OPERATIONS DIVISION.
INFORMATION SCIENCES AND TECHNOLOGY | CHIEF, HUMAN FACTORS RESEARCH AND TECHNOLOGY DIVISION.
DRYDEN FLIGHT RESEARCH CENTER | AEROSPACE ENGINEER (CHIEF ENGINEER).
| DIRECTOR RESEARCH SYSTEMS DIRECTORATE.
| CHIEF FINANCIAL OFFICER (FINANCIAL MANGER).
| DIRECTOR FLIGHT OPS DIRECTORATE.
| DIRECTOR FOR SAFETY AND MISSION ASSURANCE.
| ASSOCOATE DIRECTOR FOR OPERATIONS.
| DEPUTY ASSOCIATE DIRECTOR FOR OPERATIONS.
| ASSOCIATE DIRECTOR FOR PROGRAMS.
| DEPUTY ASSOCIATE DIRECTOR FOR PROGRAMS.
| CHIEF COUNSEL.
| CHIEF INFORMATION OFFICER.
| DIRECTOR, AEROSPACE PROJECT DIRECTORATE.
| DEPUTY, DIRECTOR, AEROSPACE PROJECTS.
LANGLEY RESEARCH CENTER | ASSOCIATE DIRECTOR OF OPERATIONS.
| CHIEF OF STAFF.
| DEPUTY ASSOCIATE DIRECTOR OF OPERATIONS FOR INTEGRATED MANAGEMENT.
| CHIEF FINANCIAL OFFICER.
| DIRECTOR, OFFICE OF STRATEGIC COMMUNICATIONS AND EDUCATION.
| DIRECTOR, STRATEGIC PARTNERSHIP, PLANNING, AND MANAGEMENT OFFICE.
| DIRECTOR, SYSTEMS ENGINEERING DIRECTORATE.
| DEPUTY DIRECTOR, SYSTEMS ENGINEERING DIRECTORATE.
| DIRECTOR, RESEARCH AND TECHNOLOGY DIRECTORATE.
| DEPUTY DIRECTOR, RESEARCH AND TECHNOLOGY DIRECTORATE.
| DIRECTOR, CENTER OPERATIONS DIRECTORATE.
| DIRECTOR, AERONAUTICS RESEARCH DIRECTORATE.
| DIRECTOR, EXPLORATION SYSTEMS AND SPACE OPERATIONS.
| TECHNOLOGY DIRECTORATE.
| DIRECTOR, SCIENCE DIRECTORATE.
| DIRECTOR, SYSTEMS ANALYSIS AND ADVANCED CONCEPTS DIRECTORATE.
| DIRECTOR, INNOVATION INSTITUTE.
| DIRECTOR, FLIGHT RESEARCH SERVICES DIRECTORATE.
| DIRECTOR, FLIGHT PROJECTS OFFICE.
| DEPUTY DIRECTOR SYSTEMS ANALYSIS AND CONCEPTS DIRECTORATE.
| ASSOCIATE DIRECTOR FOR AERODYNAMICS,.
| AEROTHERMODYNAMICS, AND ACOUSTICS.
| ASSOCIATE DIRECTOR FOR STRUCTURES AND MATERIALS.
| ASSOCIATE DIRECTOR FOR AIRBORNE SYSTEMS.
| ASSOCIATE DIRECTOR FOR TRANSFORMATION PROJECTS.
| ASSOCIATE DIRECTOR FOR FLIGHT PROJECTS.
| DEPUTY DIRECTOR, STRATEGIC PARTNERSHIP, PLANNING, AND MANAGEMENT OFFICE.
| DIRECTOR, SAFETY AND MISSION ASSURANCE OFFICE.
| DIRECTOR, OFFICE OF PROCUREMENT.
| MANAGER, SYSTEMS ENGINEERING OFFICE.
| SPECIAL ASSISTANT TO THE DIRECTOR.
| DIRECTOR, NATIONAL AERONAUTICS AND SPACE.
| ADMINISTRATION ENGINEERING AND SAFETY CENTER.
| DEPUTY DIRECTOR, NATIONAL AERONAUTICS AND SPACE.
| ADMINISTRATION ENGINEERING AND SAFETY CENTER.
| MANAGER, MANAGEMENT AND TECHNICAL SUPPORT OFFICE.
| DEPUTY DIRECTOR FOR SAFETY.
| DIRECTOR, OFFICE OF HUMAN RESOURCES.
| SPECIAL ASSISTANT TO THE DIRECTOR, INNOVATION INSTITUTE.
| DIRECTOR, EXPLORATION AND FLIGHT PROJECTS DIRECTORATE.
| DEPUTY DIRECTOR, EXPLORATION AND FLIGHT PROJECTS DIRECTORATE.
| DIRECTOR, EXPLORATION TECHNOLOGY DEVELOPMENT PROGRAM OFFICE.
| DEPUTY DIRECTOR FOR FLIGHT SYSTEMS.
| DEPUTY DIRECTOR, RESEARCH AND TECHNOLOGY PROGRAM IMPLEMENTATION.
| DEPUTY DIRECTOR, RESEARCH AND TECHNOLOGY TEST OPERATIONS.
| CHIEF INFORMATION OFFICER.
| DEPUTY DIRECTOR FOR ADVANCED PROJECTS.
| DEPUTY DIRECTOR, SAFETY AND MISSION ASSURANCE OFFICE.
| DIRECTOR, AVIATION SAFETY AND SECURITY PROGRAM OFFICE.
| DIRECTOR, AERODYNAMICS, AEROTHERMODYNAMIC, AND.
| AEROPROPULSION FACILITY GROUP.
| DIRECTOR NATIONAL INSTITUTE OF AEROSPACE MANAGEMENT OFFICE.
GLENN RESEARCH CENTER | DIRECTOR OF CENTER OPERATIONS.
| DEPUTY DIRECTOR OF ENGINERING AND TECHNICAL SERVICES.
| DEPUTY DIRECTOR OF PROGRAMS AND PROJECTS.
| ASSOCIATE DIRECTOR FOR EXPLORATION SYSTEMS.
| ASSOCIATE DIRECTOR FOR AERONAUTICS.
| ASSOCIATE DIRECTOR FOR SCIENCE.
| ASSOCIATE DIRECTOR FOR PARTNERSHIPS.
| CHIEF AERONAUTICS DIVISION.
| CHIEF EXPLORATION SYSTEMS DIVISION.
| CHIEF, MATERIALS AND STRUCTURES DIVISION.
| PLUM BROOK STATION MANAGER.
| CHIEF FINANCIAL OFFICER.
| ASSISTANT DEPUTY DIRECTOR FOR POLICY.
| DIRECTOR, SYSTEMS MANAGEMENT OFFICE.
RESEARCH AND TECHNOLOGY | CHIEF, TURBOMACHINERY AND PROPULSION SYSTEM DIVISION.
| CHIEF, POWER AND ON-BOARD PROPULSION TECHNICAL DIVISION.
ENGINEERING AND TECHNICAL SERVICES | CHIEF, COMPUTER SERVICES DIVISION.
| DIRECTOR OF ENGINEERING.
| CHIEF, SYSTEMS ENGINEERING DIVISION.
EXTERNAL PROGRAMS | DIRECTOR, EXTERNAL PROGRAMS.
MISSION SAFETY AND ASSURANCE | DIRECTOR, OFFICE OF SAFETY, ENVIRONMENTAL AND MISSION ASSURANCE.
SCIENCE MISSION DIRECTORATE | ASSISTANT ASSOCIATE ADMINISTRATOR FOR TECHNOLOGY.
| MARS EXPLORATION PROGRAM DIRECTOR.
| DEPUTY DIRECTOR, EARTH SCIENCE.
| DEPUTY ASSOCIATE ADMINISTRATOR FOR TECHNOLOGY.
| DIRECTOR, HELIPHYSICS DIVISION.
| DEPUTY ASSOCIATE ADMINISTRATOR FOR SPACE DEVELOPMENT.
| DIRECTOR, ADMINISTRATION AND RESOURCE MANAGEMENT DIVISION.
| ASSOCIATE DIRECTOR, SUN-EARTH CONNECTION DIVISION.
| DIRECTOR, APPLICATIONS DIVISION.
| ASSOCIATE DIRECTOR, SOLAR SYSTEM EXPLORATION DIVISION.
| DIRECTOR, UNIVERSE DIVISION.
| SPECIAL ASSISTANT TO DEPUTY ASSOCIATE ADMINISTRATOR.
| DEPUTY, DIRECTOR, ASTROPHYSICS DIVISION.
| DIRECTOR RESEARCH DIVISION.
| DEPUTY ASSOCIATE ADMINISTRATOR FOR PROGRAMS.
| DEPUTY ASSOCIATE ADMINISTRATOR (PROGRAMS).
| DIRECTOR, POLICY AND BUSINESS MANAGEMENT OFFICE.
SOLAR SYSTEM EXPLORATION | DIRECTOR, MISSION AND PAYLOAD DEVELOPMENT DIVISION.
SPACE PHYSICS | SENIOR SCIENTIST PROGRAM EXECUTIVE FOR REVIEW AND EVALUATION.
TECHNOLOGY AND INFORMATION SYSTEMS | SENIOR SCIENTIST PROGRAM EXECUTIVE FOR INFORMATION SYSTEMS.
OFFICE OF INSPECTOR GENERAL | ASSISTANT INSPECTOR GENERAL FOR AUDITS.
| ASSISTANT INSPECTOR GENERAL FOR INVESTIGATION.
| COUNSEL TO THE INSPECTOR GENERAL.
| DIRECTOR, TECHNICAL SERVICES OFFICE.
| DIRECTOR, COMPUTER AND TECHNOLOGY CRIMES OFFICE.
| DEPUTY ASSISTANT INSPECTOR GENERAL FOR AUDITS.
| ASSISTANT INSPECTOR GENERAL FOR MANAGEMENT AND PLANNING.
OFFICE OF EARTH SCIENCE | DEPUTY ASSOCIATE ADMINISTRATOR ADVANCED PLANNING.
GODDARD SPACE FLIGHT CENTER | DIRECTOR OF UNIVERSITY PROGRAMS.
| CHIEF, NATAIONAL AERONAUTICS AND SPACE ADMINISTRATION.
| SPACE OPERATIONS MANAGEMENT OFFICE MISSION SERVICES OFFICES.
| ASSOCIATE DIRECTOR/PROGRAM MANAGER FOR EXPLORERS.
| DEPUTY ASSOCIATE DIRECTOR FOR HUBBLE SPACE TELESCOPE (HUBBLE SPACE TELESCOPE) DEVELOPMENT.
| DEPUTY DIRECTOR FOR SYSTEMS MANAGEMENT.
| SPECIAL ASSISTANT TO THE DIRECTOR.
| ASSISTANT FOR PROGRAM INTEGRATION.
| ASSISTANT TO THE DEPUTY ASSOCIATE DIRECTOR FOR HST DEVELOPMENT PROJECT.
| SENIOR ADVISOR.
| ASSISTANT TO THE DEPUTY ASSOCIATE DIRECTOR FOR EXPLORATION AND OPERATIONAL FLIGHT SYSTEMS.
| DEPUTY ASSOCIATE DIRECTOR FOR EARTH SCIENCE DIVISION.
| DEPUTY DIRECTOR, EXPLORATION OF THE UNIVERSE DIVISION.
HUMAN RESOURCES | DIRECTOR OF HUMAN RESOURCES.
COMPTROLLER | CHIEF FINANCIAL OFFICER/COMPTROLLER.
MANAGEMENT OPERATIONS | DEPUTY DIRECTOR OF MANAGEMENT OPERATIONS.
| ASSOCIATE DIRECTOR FOR ACQUISITION.
FLIGHT ASSURANCE | DIRECTOR OF SYSTEMS SAFETY AND MISSION ASSURANCE.
| DEPUTY DIRECTOR OF FLIGHT ASSURANCE.
FLIGHT PROJECTS | DEPUTY DIRECTOR OF FLIGHT PROJECTS.
| DEPUTY ASSOCIATE DIRECTOR FOR HUBBLE SPACE TELESCOPE OPERATIONS PROJECT.
| PROJECT MANAGER, EARTH OBSERVING SYSTEMS MORNING CROSSING (DESCENDING) MISSION PROJECT.
| DEPUTY ASSOCIATE DIRECTOR FOR EARTH SCIENCE OPERATIONAL PROJECTS.
| DIRECTOR OF FLIGHT PROJECTS.
| TRACKING AND DATA RELAY SATELLITE PROJECT MANAGER.
| ASSOCIATE DIRECTOR FOR EARTH SCIENTIST DATA AND INFORMATION SYSTEM.
| PROJECT MANAGER, EARTH OBSERVING SYSTEM—AFTERNOON.
| CROSSING (ASCENDING) MISSION PROJECT FLIGHT PROJ DIRECT.
| DEPUTY DIRECTOR FLIGHT PROJECTS FOR PLAN AND BUSINESS MANAGEMENT.
| PROJECT MANAGER, POLAR OPERATIONAL ENVIRONMENTAL SATELLITE PROGRAM.
| ASSOCIATE DIRECTOR FOR JAMES WEBB SPACE TELESCOPE PROJECT.
| DEPUTY ASSOCIATE DIRECTOR FOR EARTH OBSERVING SYSTEM—GODDARD DEVELOPMENT.
| ASSOCIATE DIRECTOR FOR ASTROPHYSICS DIVISION.
| ASSOCIATE DIRECTOR/PROGRAM MANAGER FOR THE EARTH EXPLORERS PROGRAM OFFICE.
| ASSOCIATE DIRECTOR FOR HELIOPHYSICS DIVISION.
| ASSOCIATE DIRECTOR FOR EXPLORERS AND PLANETARY DIVISIONS.
| SUN EARTH CONNECTION DEPUTY PROGRAM MANAGER.
| DEPUTY ASSOCIATE DIRECTOR FOR EARTH SCIENCE DATA SYSTEMS.
| DEPUTY ASSOCIATE DIRECTOR FOR EXPLORATION AND OPERATIONAL SYSTEMS.
| ASSOCIATE DIRECTOR FOR EXPLORATION, OPERATIONS,.
| COMMUNICATIONS AND NAVIGATION SYSTEMS DIVISION.
| DEPUTY ASSOCIATE DIRECTOR FOR COMMUNICATIONS AND NAVIGATION.
| ASSOCIATE DIRECTOR FOR EARTH SCIENCE DIVISION.
APPLIED ENGINEERING AND TECHNOLOGY DIRECTORATE | DEPUTY ASSOCIATE DIRECTOR OF FLIGHT PROJECT CORNET AND MISSION SERVICE PROJECT.
| ASSOCIATE DIRECTOR OF FLIGHT PROJECT FOR NETWORK AND MISSION SERVICE PROJECT.
| CHIEF, MECHANICAL SYSTEM CENTER.
| DEPUTY DIRECTOR OF APPLIED ENGINEERING AND TECHNOLOGY.
| CHIEF INFORMATION SYSTEMS CENTER.
| CHIEF, ELECTRICAL SYSTEMS CENTER.
| DEPUTY DIRECTOR OF APPLIED ENGINEERING AND TECHNOLOGY.
| FOR PLANNING AND DEVELOPMENT.
| CHIEF, INSTRUMENT SYSTEMS AND TECHNOLOGY DIVISION.
| CHIEF, MISSION ENGINEERING AND SYSTEMS ANALYSIS DIVISION.
SYSTEMS, TECHNOLOGY AND ADVANCED CONCEPTS | DEPUTY DIRECTOR OF SYSTEMS, TECHNOLOGY AND ADVANCED CONCEPTS.
SPACE SCIENCES | CHIEF, LABORATORY FOR ASTRONOMY AND SOLAR PHYSICS.
| CHIEF, LABORATORY FOR EXTRATERRESTRIAL PHYSICS.
| DIRECTOR OF SCIENCES AND EXPLORATION.
| CHIEF, GODDARD INSTITUTE FOR SPACE STUDIES.
| CHIEF LABORATORY FOR HIGH ENERGY ASTROPHYSICS.
| DEPUTY DIRECTOR OF SPACE SCIENCES.
| DEPUTY DIRECTOR EXPLORATION OF THE UNIVERSE DIVISION.
| DEPUTY DIRECTOR, SOLAR SYSTEM EXPLORATION DIVISION.
ENGINEERING | CHIEF ENGINEER.
| ASSOCIATE DIRECTOR OF FLIGHT PROJECTS.
| CHIEF, SYSTEMS ENGINEERING DIVISION.
| SPECIAL ASSISTANT TO DIRECTOR OF ENGINEERING (SPACE TECHNOLOGY COMMUNICATIONS).
SUBORBITAL PROJECTS AND OPERATIONS | SPECIAL ASSISTANT FOR EDUCATION.
EARTH SCIENCES | CHIEF LABORATORY FOR HYDROSPHERIC PROCESSES.
| ASSISTANT DIRECTOR OF EARTH SCIENTIST FOR PROJECTS ENGINEERING.
| CHIEF, LABORATORY FOR ATMOSPHERES.
| DEPUTY DIRECTOR FOR EARTH SCIENCES.
| DIRECTOR FOR EARTH SCIENCES.
| CHIEF LABORATORY FOR TERRESTRIAL PHYSICS.
| ASSISTANT DIRECTOR OF MISSION TO PLANET EARTH PROGRAM FOR GLOBE.
| CHIEF, EARTH AND SPACE DATA COMPUTING DIVISION.
| GLOBE PROGRAM MANAGER.
OFFICE OF SECURITY MANAGEMENT AND SAFEGUARDS | DEPUTY ASSISTANT ADMINISTRATOR FOR SECURITY AND PROGRAM PROTECTION.
OFFICE OF CHIEF EDUCATION OFFICER | ASSOCIATE ADMINISTRATOR FOR EDUCATION.
| DIRECTOR ELEMENTARY AND SECONDARY EDUCATION DIVSION.
| DEPUTY CHIEF EDUCATION OFFICER.
| ASSISTANT ASSOCIATE ADMINISTRATOR FOR EDUCATION.
| SENIOR POLICY ADVISOR.
OFFICE OF THE CHIEF ENGINEER | EXPLORATION SYSTEMS MISSION DIRECTORATE CHIEF ENGINEER.
| DEPUTY CHIEF ENGINEER, ADVANCED PLANNING, INTERGRATION, AND ENGINEERING SUPPORT.
| DEPUTY CHIEF ENGINEER, PROGRAM AND PROJECT MANAGEMENT POLICY AND SUPPORT.
OFFICE OF SECURITY MANAGEMENT AND SAFEGUARDS | ASSISTANT ADMINISTRATOR FOR SECURITY MANAGEMENT.
| DEPUTY ASSISTANT ADMINISTRATOR FOR SECURITY MANAGEMENT AND SAFEGUARDS.
OFFICE OF EXPLORATION SYSTEMS | MANAGER, ADVANCED SPACE TECHNOLGY PROGRAM.
| MANAGER, STRATEGIC PLANNING.
| DEPUTY ASSOCIATE ADMINISTRATOR FOR EXPLORATION SYSTEMS.
| ASSISTANT ASSOCIATE ADMININSTRATOR, STRATEGIC INTEGRATION AND MANAGMENT.
| DIRECTOR, ADVANCED CAPABILIITES DIVISION.
| ASSISTANT ASSOCIATE ADMINISTRATOR FOR ADMINSTRATION.
| DIRECTOR, MISSION INTEGRATION DIVISION.
| SPECIAL ASSISTANT.
| DIRECTOR BUSINESS OPERATIONS DIVISION.
NATIONAL ARCHIVES AND RECORDS ADMINISTRATION:
ARCHIVIST OF UNITED STATES AND DEPUTY ARCHIVIST OF THE UNITED STATES/CHIEF OF STAFF | DEPUTY ARCHIVIST OF THE UNITED STATES.
OFFICE OF THE INSPECTOR GENERAL | INSPECTOR GENERAL.
OFFICE OF ADMINISTRATIVE SERVICES | ASSISTANT ARCHIVIST FOR ADMINISTRATION.
OFFICE OF THE FEDERAL REGISTER | DIRECTOR OF THE FEDERAL REGISTER.
OFFICE OF REGIONAL RECORDS SERVICES | ASSISTANT ARCHIVIST FOR REGIONAL RECORDS SERVICES.
OFFICE OF HUMAN RESOURCES AND INFORMATION SERVICES | ASSISTANT ARCHIVIST FOR INFORMATION SERVICES.
OFFICE OF RECORDS SERVICES—WASHINGTON, DC | ASSISTANT ARCHIVIST FOR RECORDS SERVICES.
OFFICE OF PRESIDENTIAL LIBRARIES | ASSISTANT ARCHIVIST FOR PRESIDENTIAL LIBRARIES.
NATIONAL CAPITAL PLANNING COMMISSION:
NATIONAL CAPITAL PLANNING COMMISSION STAFF | EXECUTIVE DIRECTOR.
| GENERAL COUNSEL.
| CHIEF OPERATING OFFICER.
| DEPUTY EXECUTIVE DIRECTOR.
NATIONAL ENDOWMENT FOR THE ARTS:
NATIONAL ENDOWMENT FOR THE ARTS | DEPUTY CHAIRMAN FOR MANAGEMENT AND BUDGET.
| DEPUTY CHAIRMAN FOR GUIDELINES AND PANEL OPERATIONS.
| CHIEF INFORMATION OFFICER.
NATIONAL ENDOWMENT FOR THE HUMANITIES:
NATIONAL ENDOWMENT FOR THE HUMANITIES | ASSISTANT CHAIRMAN FOR PLANNING AND OPERATIONS.
NATIONAL LABOR RELATIONS BOARD:
NATIONAL LABOR RELATIONS BOARD | DEPUTY ASSOCIATE GENERAL COUNSEL, DIVISION OF ENFORCEMENT LITIGATION.
OFFICE OF THE BOARD MEMBERS | EXECUTIVE SECRETARY.
| DEPUTY EXECUTIVE SECRETARY.
| INSPECTOR GENERAL.
| CHIEF INFORMATION OFFICER.
DIVISION OF ENFORCEMENT LITIGATION | DEPUTY ASSOCIATE GENERAL COUNSEL, APPELLATE COURT BRANCH.
| DIRECTOR, OFFICE OF APPEALS.
DIVISION OF ADVICE | ASSOCIATE GENERAL COUNSEL, DIVISION OF ADVICE.
| DEPUTY ASSOCIATE GENERAL COUNSEL, DIVISION OF ADVICE.
DIVISION OF ADMINISTRATION | DIRECTOR, DIVISION OF ADMINISTRATION.
| DEPUTY DIRECTOR, DIVISION OF ADMINISTRATION.
DIVISION OF OPERATIONS MANAGEMENT | ASSOCIATE GENERAL COUNSEL, DIVISION OF OPERATION—MANAGEMENT.
| DEPUTY ASSOCIATE GENERAL COUNSEL, DIVISION OF OPERATIONS—MANAGEMENT.
| ASSISTANT GENERAL COUNSEL.
| ASSISTANT GENERAL COUNSEL.
| ASSISTANT GENERAL COUNSEL.
| ASSISTANT GENERAL COUNSEL.
| ASSISTANT GENERAL COUNSEL.
| ASSISTANT TO GENERAL COUNSEL.
REGIONAL OFFICES | REGIONAL DIRECTOR, REGION 1, BOSTON, MASSACHUSETTS.
| REGIONAL DIRECTOR REGION 2, NEW YORK.
| REGIONAL DIRECTOR, REGION 3, BUFFALO, NEW YORK.
| REGIONAL DIRECTOR, REGION 4, PHILADELPHIA, PENNSYLVANIA.
| REGIONAL DIRECTOR, REGION 5, BALTIMORE, MARYLAND.
| REGIONAL DIRECTOR, REGION 6, PITTSBURGH, PENNSYLVANIA.
| REGIONAL DIRECTOR, REGION 7, DETROIT, MICHIGAN.
| REGIONAL DIRECTOR, REGION 8, CLEVELAND, OHIO.
| REGIONAL DIRECTOR, REGION 9, CINCINNATI, OHIO.
| REGIONAL DIRECTOR, REGION 10, ATLANTA, GEORGIA.
| REGIONAL DIRECTOR, REGION 11, WINSTON SALEM, NORTH CAROLINA.
| REGIONAL DIRECTOR, REGION 12, TAMPA, FLORIDA.
| REGIONAL DIRECTOR, REGION 13, CHICAGO, ILLINOIS.
| REGIONAL DIRECTOR, REGION 14, SAINT LOUIS, MISSOURI.
| REGIONAL DIRECTOR, REGION 15, NEW ORLEANS, LOUISIANA.
| REGIONAL DIRECTOR, REGION 16, FORT WORTH, TEXAS.
| REGIONAL DIRECTOR, REGION 17, KANSAS CITY, KANSAS.
| REGIONAL DIRECTOR, REGION 18, MINNEAPOLIS, MINNESOTA.
| REGIONAL DIRECTOR, REGION 19, SEATTLE, WASHINGTON.
| REGIONAL DIRECTOR, REGION 20, SAN FRANCISCO, CALIFORNIA.
| REGIONAL DIRECTOR, REGION 21, LOS ANGELES, CALIFORNIA.
| REGIONAL DIRECTOR, REGION 22, NEWARK, NEW JERSEY.
| REGIONAL DIRECTOR, REGION 24, HATO REY, PUERTO RICO.
| REGIONAL DIRECTOR, REGION 25, INDIANAPOLIS, INDIANA.
| REGIONAL DIRECTOR, REGION 26, MEMPHIS, TENNESSEE.
| REGIONAL DIRECTOR, REGION 27, DENVER, COLORADO.
| REGIONAL DIRECTOR, REGION 28, PHOENIX, ARIZONA.
| REGIONAL DIRECTOR, REGION 29, BROOKLYN, NEW YORK.
| REGIONAL DIRECTOR, REGION 30, MILWAUKEE, WISCONSIN.
| REGIONAL DIRECTOR, REGION 32, OAKLAND, CALFORNIA.
| REGIONAL DIRECTOR, REGION 33, PEORIA, ILLINOIS.
| REGIONAL DIRECTOR, REGION 31, LOS ANGELES, CALIFORNIA.
| REGIONAL DIRECTOR, REGION 34, HARTFORD, CONNECTICUT.
NATIONAL SCIENCE FOUNDATION:
OFFICE OF THE DIRECTOR | SENIOR ADVISOR.
| SENIOR STAFF ASSOCIATE.
| SENIOR ADVISOR.
| SENIOR ADVISOR.
OFFICE OF INTEGRATIVE ACTIVITIES | SENIOR SCIENTIST.
| SENIOR ADVISOR.
OFFICE OF THE GENERAL COUNSEL | DEPUTY GENERAL COUNSEL.
OFFICE OF POLAR PROGRAMS | HEAD POLAR RESEARCH SUPPORT SECTION.
ANTARCTIC INFRASTRUCTURE AND LOGISTICS DIVISION | DIVISION DIRECTOR, ANTARCTIC INFRASTRUCTURE AND LOGISTICS.
OFFICE OF INTERNATIONAL SCIENCE AND ENGINEERING | DEPUTY DIVISION DIRECTOR.
| SENIOR STAFF ASSOCIATE.
| SENIOR ADVISOR.
OFFICE OF THE INSPECTOR GENERAL | INSPECTOR GENERAL.
| DEPUTY INSPECTOR GENERAL.
| ASSOCIATE INSPECTOR GENERAL FOR AUDIT.
| ASSOCIATE INSPECTOR GENERAL FOR INVESTIGATIONS.
NATIONAL SCIENCE BOARD | SENIOR POLICY OFFICER.
DIVISION OF ATMOSPHERIC SCIENCES | HEAD, UPPER ATMOSPHERE SECTION.
DIVISION OF OCEAN SCIENCES | HEAD, OCEANS SECTION.
| SENIOR SCIENTIST/SECTION HEAD.
DIRECTORATE FOR ENGINEERING | SENIOR ADVISOR.
| SENIOR ADVISOR.
DIVISION OF ENGINEERING EDUCATION AND CENTERS | DEPUTY DIVISION DIRECTOR (EDUCATION).
| SENIOR STAFF ASSOCIATE.
DIVISION OF CIVIL, MECHANICAL, AND MAUFACTURING INNOVATION | SENIOR ADVISOR, TECHNOLOGY INTEGRATION.
| SENIOR ADVISOR.
| DEPUTY DIVISION DIRECTOR.
DIVISION OF INDUSTRIAL INNOVATION AND PARTNERSHIPS | SENIOR ADVISOR.
DIVISION OF CHEMICAL, BIOENGINEERING, ENVIRONMENTAL, AND TRANSPORT SYSTEMS | SENIOR ADVISOR.
| DEPUTY DIVISION DIRECTOR.
DIVISION OF CHEMICAL AND TRANSPORT SYSTEMS | DEPUTY DIVISION DIRECTOR.
DIRECTORATE FOR BIOLOGICAL SCIENCES | DEPUTY ASSISTANT DIRECTOR.
| EXECUTIVE OFFICER.
DIVISION OF ENVIRONMENTAL BIOLOGY | DEPUTY DIVISION DIRECTOR.
DIVISION OF INTEGRATIVE BIOLOGY AND NEUROSCIENCES | DEPUTY DIVISION DIRECTOR.
DIRECTORATE FOR MATHEMATICAL AND PHYSICAL SCIENCES | EXECUTIVE OFFICER.
| SENIOR SCIENCE ASSOCIATE.
| SENIOR ADVISOR.
DIVISION OF PHYSICS | EXECUTIVE OFFICER.
DIVISION OF MATHEMATICAL SCIENCES | EXECUTIVE OFFICER.
DIVISION OF MATERIALS RESEARCH | EXECUTIVE OFFICER.
DIRECTORATE FOR EDUCATION AND HUMAN RESOURCES | DEPUTY ASSISTANT DIRECTOR FOR INTEGRATIVE ACTIVITIES.
DIVISION OF RESEARCH, EVALUATION AND COMMUNICATION | SENIOR ADVISOR FOR RESEARCH.
DIRECTORATE FOR SOCIAL, BEHAVIORAL AND ECONOMIC SCIENCES | DEPUTY ASSISTANT DIRECTOR.
DIRECTORATE FOR COMPUTER AND INFORMATION SCIENCE AND ENGINEERING | EXECUTIVE OFFICER.
| DEPUTY ASSISTANT DIRECTOR.
| SENIOR STAFF ASSOCIATE.
OFFICE OF BUDGET, FINANCE AND AWARD MANAGEMENT | DIRECTOR, BUDGET, FINANCE AND AWARD AND CHIEF FINANCIAL OFFICER.
| DEPUTY DIRECTOR—MANAGEMENT, OPERATIONS AND POLICY.
| DEPUTY DIRECTOR-PLANNING, COORDINDATION AND ANALYSIS.
| SENIOR ADVISOR.
BUDGET DIVISION | DIVISION DIRECTOR.
| DEPUTY DIRECTOR.
DIVISION OF FINANCIAL MANAGEMENT | DIVISION DIRECTOR AND DEPUTY CHIEF FINANCIAL OFFICER.
| DEPUTY DIVISION DIRECTOR, DIVISION OF FINANCIAL MANAGEMENT.
DIVISION OF GRANTS AND AGREEMENTS | DIVISION DIRECTOR.
DIVISION OF ACQUISITION AND COOPERATIVE SUPPORT | DIVISION DIRECTOR.
DIVISION OF INSTITUTIONAL AND AWARD SUPPORT | DIVISION DIRECTOR.
OFFICE OF INFORMATION AND RESOURCE MANAGEMENT | DIRECTOR.
| DEPUTY DIRECTOR.
| SENIOR STAFF ASSOCIATE.
DIVISION OF INFORMATION SYSTEMS | DEPUTY DIVISION DIRECTOR.
DIVISION OF HUMAN RESOURCE MANAGEMENT | DIVISION DIRECTOR.
| DEPUTY DIVISION DIRECTOR.
DIVISION OF ADMINISTRATIVE SERVICES | DIVISION DIRECTOR.
| DEPUTY DIVISION DIRECTOR.
NATIONAL TRANSPORTATION SAFETY BOARD:
OFFICE OF THE MANAGING DIRECTOR | MANAGING DIRECTOR.
| ASSOCIATE MANAGING DIRECTOR FOR QUALITY ASSURANCE.
OFFICE OF ADMINSTRATION | DIRECTOR, OFFICE OF ADMINISTRATION.
| DIRECTOR BUREAU OF ACCIDENT INVESTIGATION.
OFFICE OF AVIATION SAFETY | DEPUTY DIRECTOR, TECHNOLOGY AND INVESTMENT OPERATIONS.
| DEPUTY DIRECTOR, REGIONAL OPERATIONS.
OFFICE OF RESEARCH AND ENGINEERING | DIRECTOR OFFICE OF RESEARCH AND ENGINEERING.
| DEPUTY DIRECTOR OFFICE OF RESEARCH AND ENGINEERING.
OFFICE OF CHIEF FINANCIAL OFFICER | CHIEF FINANCIAL OFFICER.
OFFICE OF SAFETY RECOMMENDATIONS AND ACCOMPLISHMENTS | DIRECTOR OFFICE OF SAFETY RECOMMENDATIONS AND ACCOMPLISHMENTS.
OFFICE OF RAILROAD, PIPELINE AND HAZARDOUS MATERIALS INVESTIGATIONS | DIRECTOR, OFFICE OF RAILROAD, PIPELINE AND HAZARDOUS MATERIALS INVESTIGATIONS.
NATIONAL TRANSPORTATION SAFETY BOARD ACADEMY | DIRECTOR, NATIONAL TRANSPORTATION SAFETY BOARD ACADEMY.
| PRESIDENT AND ACADEMIC DEAN.
NUCLEAR REGULATORY COMMISSION:
ADVISORY COMMITTEE ON REACTOR SAFEGUARDS/ADVISORY COMMITTEE ON NUCLEAR WASTE | DEPUTY EXECUTIVE DIRECTOR.
OFFICE OF THE CHIEF FINANCIAL OFFICER | DIRECTOR, DIVISION OF PLANNING, BUDGET AND ANALYSIS.
| DIRECTOR, DIVISON OF FINANCIAL SERVICES.
| DEPUTY CHIEF FINANICAL OFFICER.
| DIRECTOR, DIVISION OF FINANCIAL MANAGEMENT.
OFFICE OF THE INSPECTOR GENERAL | ASSISTANT INSPECTOR GENERAL FOR AUDITS.
| DEPUTY INSPECTOR GENERAL.
| ASSISTANT INSPECTOR GENERAL FOR INVESTIGATIONS.
OFFICE OF THE GENERAL COUNSEL | DIRECTOR, COMMISSION ADJUDICATORY TECHNICAL SUPPORT PROGRAM.
ASSOCIATE GENERAL COUNSEL FOR LICENSING AND REGULATION | DEPUTY ASSISTANT GENERAL COUNSEL FOR RULEMAKING AND FUEL CYCLE.
ASSOCIATE GENERAL COUNSEL FOR HEARINGS, ENFORCEMENT AND ADMINISTRATION | DEPUTY ASSISTANT GENERAL COUNSEL FOR ADMINISTRATION.
| ASSISTANT GENERAL COUNSEL FOR OPERATING REACTORS AND HIGH LEVEL WASTE REPOSITORY PROGRAMS.
OFFICE OF COMMISSION APPELLATE ADJUDICATION | DIRECTOR, OFFICE OF COMMISSION APPELLATE ADJUDICATION.
OFFICE OF EXECUTIVE DIRECTOR FOR OPERATIONS | DIRECTOR OF NUCLEAR SECURITY PROJECTS.
OFFICE OF INFORMATION SERVICES | DIRECTOR, INFRASTRUCTURE AND COMPUTER OPERATIONS DIVISION.
| DIRECTOR, BUSINESS PROCESS IMPROVEMENT AND APPLICATIONS DIVISION.
| DIRECTOR, INFORMATION AND RECORDS SERVICES DIVISION.
| DIRECTOR, HIGH-LEVEL WASTE BUSINESS AND PROGRAM INTEGRATION STAFF.
| DIRECTOR, PROGRAM MANAGEMENT, POLICY DEVELOPMENT AND ANALYSIS STAFF.
| DEPUTY DIRECTOR, OFFICE OF INFORMATION SERVICES.
OFFICE OF ADMINISTRATION | DIRECTOR, DIVISION OF CONTRACTS.
| DIRECTOR, DIVISION OF ADMINISTRATIVE SERVICES.
| DIRECTOR, DIVISION OF FACILITIES AND SECURITY.
| DEPUTY DIRECTOR, OFFICE OF ADMINISTRATION.
OFFICE OF NUCLEAR SECURITY AND INCIDENT RESPONSE | DEPUTY DIRECTOR, OFFICE OF NUCLEAR SECURITY AND INCIDENT RESPONSE.
| DIRECTOR, PROGRAM MANAGEMENT, POLICY DEVELOPMENT, AND ANALYSIS STAFF SPECIAL ASSISTANT.
| DEPUTY DIRECTOR, OFFICE OF NUCLEAR SECURITY AND INCIDENT RESPONSE.
DIVISION OF SECURITY POLICY | DIRECTOR, DIVISION OF SECURITY POLICY.
| DEPUTY DIRECTOR, DIVISION OF SECURITY POLICY.
| PROJECT DIRECTOR, NUCLEAR SECURITY POLICY.
| PROJECT DIRECTOR, NUCLEAR SECURITY OPERATIONS.
| DEPUTY DIRECTOR FOR MATERIAL SECURITY.
| DEPUTY DIRECTOR FOR REACTOR SECURITY AND RULEMAKING.
DIVISION OF PREPAREDNESS AND RESPONSE | DEPUTY DIRECTOR FOR INCIDENT RESPONSE.
| DEPUTY DIRECTOR, INCIDENT RESPONSE DIRECTORATE.
| DIRECTOR, DIVISION OF PREPAREDNESS AND RESPONSE.
| DEPUTY DIRECTOR FOR EMERGENCY PREPAREDNESS.
DIVISION OF SECURITY OPERATIONS | DIRECTOR, DIVISION OF SECURITY OPERATIONS.
| DEPUTY DIRECTOR FOR SECURITY OVERSIGHT.
| DEPUTY DIRECTOR FOR SECURITY PROGRAMS.
OFFICE OF INVESTIGATIONS | DEPUTY DIRECTOR, OFFICE OF INVESTIGATIONS.
OFFICE OF SMALL BUSINESS AND CIVIL RIGHTS | DIRECTOR, OFFICE OF SMALL BUSINESS AND CIVIL RIGHTS.
OFFICE OF NEW REACTORS | ASSISTANT TO THE DIRECTOR FOR TRANSITION MANAGEMENT.
OFFICE OF NUCLEAR REACTOR REGULATION | DEPUTY DIRECTOR, PROGRAM MANAGEMENT, POLICY DEVELOPMENT AND PLANNING STAFF/BUSINESS PROCESS INTEGRATOR FOR NEW REACTORS.
| DIRECTOR, PROGRAM MANAGEMENT, POLICY DEVELOPMENT AND PLANNING STAFF.
ASSOCIATE DIRECTOR FOR ENGINEERING AND SAFETY SYSTEMS | ASSOCIATE DIRECTOR FOR ENGINEERING AND SAFETY SYSTEMS.
DIVISION OF SAFETY SYSTEMS | DIRECTOR, DIVISION OF SAFETY SYSTEMS.
| DEPUTY DIRECTOR, DIVISION OF SAFETY SYSTEMS.
| DEPUTY DIRECTOR, DIVISION OF SAFETY SYSTEMS.
DIVISION OF COMPONENT INTEGRITY | DIRECTOR, DIVISION OF COMPONENT INTEGRITY.
| DEPUTY DIRECTOR, DIVISION OF COMPONENT INTEGRITY.
DIVISION OF ENGINEERING | DEPUTY DIRECTOR, DIVISION OF ENGINEERING.
| DIRECTOR, DIVISION OF ENGINEERING.
| DEPUTY DIRECTOR, DIVISION OF ENGINEERING.
| DEPUTY DIRECTOR, DIVISION OF ENGINEERING.
ASSOCIATE DIRECTOR FOR OPERATING REACTOR OVERSIGHT AND LICENSING | ASSOCIATE DIRECTOR FOR OPERATING REACTOR OVERSIGHT AND LICENSING.
DIVISION OF LICENSE RENEWAL | DIRECTOR, DIVISION OF LICENSE RENEWAL.
| DEPUTY DIRECTOR, DIVISION OF LICENSE RENEWAL.
DIVISION OF OPERATING REACTOR LICENSING | DIRECTOR, DIVISION OF OPERATING REACTOR LICENSING.
| DEPUTY DIRECTOR, DIVISION OF OPERATING REACTOR LICENSING.
| DEPUTY DIRECTOR, DIVISION OF OPERATING REACTOR LICENSING.
DIVISION OF INSPECTION AND REGIONAL SUPPORT | DIRECTOR, DIVISION OF INSPECTION AND REGIONAL SUPPORT.
| DEPUTY DIRECTOR, DIVISION OF INSPECTION AND REGIONAL SUPPORT.
| DEPUTY DIRECTOR, DIVISION OF INSPECTION AND REGIONAL SUPPORT.
ASSOCIATE DIRECTOR FOR RISK ASSESSMENT AND NEW PROJECTS | ASSOCIATE DIRECTOR FOR RISK ASSESSMENT AND NEW PROJECTS.
DIVISION OF NEW REACTOR LICENSING | DIRECTOR, DIVISION OF NEW REACTOR LICENSING.
| DEPUTY DIRECTOR, DIVISION OF NEW REACTOR LICENSING.
| DEPUTY DIRECTOR, DIVISION OF NEW REACTOR LICENSING.
DIVISION OF RISK ASSESSMENT | DIRECTOR, DIVISION OF RISK ASSESSMENT.
| DEPUTY DIRECTOR, DIVISION OF RISK ASSESSMENT.
| DEPUTY DIRECTOR, DIVISION OF RISK ASSESSMENT.
DIVISION OF POLICY AND RULEMAKING | DIRECTOR, DIVISION OF POLICY AND RULEMAKING.
| DEPUTY DIRECTOR, DIVISION OF POLICY AND RULEMAKING.
| DEPUTY DIRECTOR, DIVISION OF POLICY AND RULEMAKING.
OFFICE OF NUCLEAR MATERIAL SAFETY AND SAFEGUARDS | DIRECTOR, PROGRAM PLANNING, BUDGETING, AND PROGRAM ANALYSIS STAFF.
DIVISION OF FUEL CYCLE SAFETY AND SAFEGUARDS | CHIEF SPECIAL PROJECTS BRANCH.
| CHIEF, SAFETY AND SAFEGUARDS SUPPORT BRANCH.
| CHIEF, FUEL CYCLE FACILITIES BRANCH.
DIVISION OF INDUSTRIAL AND MEDICAL NUCLEAR SAFETY | CHIEF, RULEMAKING AND GUIDANCE BRANCH.
| CHIEF, MATERIALS SAFETY AND INSPECTION BRANCH.
DIVISION OF WASTE MANAGEMENT AND ENVIRONMENTAL PROTECTION | CHIEF, ENVIRONMENTAL AND PERFORMANCE ASSESSMENT BRANCH.
| DEPUTY DIRECTOR, DECOMMISSIONING DIRECTORATE.
| DEPUTY DIRECTOR, ENVIRONMENTAL PROTECTION AND PERFORMANCE ASSESSMENT DIRECTORATE.
DIVISION OF HIGH LEVEL WASTE REPOSITORY SAFETY | DEPUTY DIRECTOR, LICENSING AND INSPECTION DIRECTORATE.
| DEPUTY DIRECTOR, TECHNICAL REVIEW DIRECTORATE.
| DEPUTY DIRECTOR, TECHNICAL REVIEW DIRECTORATE.
SPENT FUEL PROJECT OFFICE | DEPUTY DIRECTOR, LICENSING AND INSPECTION DIRECTORATE.
| DEPUTY DIRECTOR, TECHNICAL REVIEW DIRECTORATE.
OFFICE OF FEDERAL AND STATE MATERIALS AND ENVIRONMENTAL MANAGEMENT PROGRAMS | DEPUTY DIRECTOR, OFFICE OF FEDERAL AND STATE MATERIALS AND ENVIRONMENTAL MANAGEMENT PROGRAMS.
| DIRECTOR, PROGRAM PLANNING, BUDGETING, AND PROGRAM ANALYSIS STAFF.
DIVISION OF MATERIALS SAFETY AND STATE AGREEMENTS | DIRECTOR, DIVISION OF MATERIALS SAFETY AND STATE AGREEMENTS.
| DEPUTY DIRECTOR, DIVISION OF MATERIALS SAFEETY AND STATE AGREEMENTS.
DIVISION OF INTERGOVERNMENTAL LIAISON AND RULEMAKING | DIRECTOR, DIVISION OF INTERGOVERNMENTAL LIAISON AND RULEMAKING.
| DEPUTY DIRECTOR, DIVISION OF INTERGOVERNMENTAL LIAISON AND RULEMAKING.
DIVISION OF WASTE MANAGEMENT AND ENVIRONMENTAL PROTECTION | DIRECTOR, DIVISION OF WASTE MANAGEMENT AND ENVIRONMENTAL PROTECTION.
| DEPUTY DIRECTOR, DECOMMISSIONING AND URANIUM RECOVERY LICENSING DIRECTORATE.
| DEPUTY DIRECTOR, ENVIRONMENTAL PROTECTION AND PERFORMANCE ASSESSMENT DIRECTORATE.
OFFICE OF NUCLEAR REGULATORY RESEARCH | DIRECTOR, PROGRAM MANAGEMENT, POLICY DEVELOPMENT AND ANALYSIS STAFF.
DIVISION OF ENGINEERING TECHNOLOGY | CHIEF, GENERIC SAFETY ISSUES BRANCH.
| CHIEF, ELECTRICAL, MECHANICAL AND MATERIALS ENGINEERING BRANCH.
| CHIEF, STRUCTURAL AND GEOLOGICAL ENGINEERING BRANCH.
| CHIEF, MATERIALS ENGINEERING BRANCH.
| CHIEF, ENGINEERING RESEARCH APPLICATIONS BRANCH.
DIVISION OF SYSTEMS ANALYSIS AND REGULATORY EFFECTIVENESS | CHIEF, ADVANCED REACTORS AND REGULATORY EFFECTIVENESS BRANCH.
| CHIEF, SAFETY MARGINS AND SYSTEMS ANALYSIS BRANCH.
| CHIEF, RADIATION PROTECTION, ENVIRONMENTAL RISK AND WASTE MANAGEMENT BRANCH.
| DEPUTY DIRECTOR, DIVISION OF SYSTEMS ANALYSIS AND REGULATORY EFFECTIVENESS.
DIVISION OF RISK ANALYSIS AND APPLICATION | CHIEF, OPERATING EXPERIENCE RISK ANALYSIS BRANCH.
| CHIEF, PROBABILISTIC RISK ANALYSIS BRANCH.
| DEPUTY DIRECTOR, DIVISION OF RISK ANALYSIS AND APPLICATIONS.
DIVISION OF FUEL, ENGINEERING AND RADIOLOGICAL RESEARCH | DIRECTOR, DIVISION OF FUEL, ENGINEERING AND RADIOLOGICAL RESEARCH.
| ASSISTANT DIRECTOR, DIVISION OF FUEL, ENGINEERING AND RADIOLOGICAL RESEARCH.
DEPUTY DIRECTOR FOR MATERIALS ENGINEERING | DEPUTY DIRECTOR FOR MATERIALS ENGINEERING.
DEPUTY DIRECTOR FOR ENGINEERING RESEARCH APPLICATIONS | DEPUTY DIRECTOR FOR ENGINEERING RESEARCH APPLICATIONS.
DEPUTY DIRECTOR FOR RADIATION PROTECTION, ENVIRONMENTAL RISK AND WASTE MANAGEMENT | DEPUTY DIRECTOR FOR RADIATION PROTECTION, ENVIRONMENTAL RISK AND WASTE MANAGEMENT.
DIVISION OF RISK ASSESSMENT AND SPECIAL PROJECTS | DIRECTOR, DIVISION OF RISK ASSESSMENT AND SPECIAL PROJECTS.
| ASSISTANT DIRECTOR, DIVISION OF RISK ASSESSMENT AND SPECIAL PROJECTS.
| ASSISTANT DIRECTOR, DIVISION OF RISK ASSESSMENT AND SPECIAL PROJECTS.
DEPUTY DIRECTOR FOR NEW REACTORS AND COMPUTATIONAL ANALYSIS | DEPUTY DIRECTOR FOR NEW REACTORS AND COMPUTATIONAL ANALYSIS.
DEPUTY DIRECTOR FOR PROBABILISTIC RISK AND APPLICATIONS | DEPUTY DIRECTOR FOR PROBABILISTIC RISK AND APPLICATIONS.
DEPUTY DIRECTOR FOR OPERATING EXPERIENCE AND RISK ANALYSIS | DEPUTY DIRECTOR FOR OPERATIING EXPERIENCE AND ANALYSIS.
REGION I | DEPUTY REGIONAL ADMINISTRATOR.
| DIRECTOR, DIVISION OF NUCLEAR MATERIALS SAFETY.
| DEPUTY DIRECTOR, DIVISION OF REACTOR SAFETY.
| DIRECTOR DIVISION OF REACTOR SAFETY.
| DIRECTOR, DIVISION OF REACTOR PROJECTS.
| DEPUTY DIRECTOR, DIVISION OF REACTOR PROJECTS.
| DEPUTY DIRECTOR, DIV OF RADIATION SAFETY AND SAFEGUARDS.
| DEPUTY DIRECTOR, DIVISION OF REACTOR PROJECTS.
REGION II | DEPUTY REGIONAL ADMINISTRATOR FOR OPERATIONS.
| DIRECTOR, DIVISION OF FUEL FACILITY INSPECTION.
| DEPUTY DIRECTOR, DIVISION OF REACTOR PROJECTS.
| DIRECTOR, DIVISION OF REACTOR PROJECTS.
| DEPUTY DIRECTOR, DIVISION OF REACTOR SAFETY.
| DIRECTOR, DIVISION OF REACTOR SAFETY.
| DEPUTY REGIONAL ADMINISTRATOR FOR CONSTRUCTION.
REGION III | DIRECTOR, DIVISION OF REACTOR SAFETY.
| DIRECTOR, DIVISION OF REACTOR PROJECTS.
| DEPUTY REGIONAL ADMINISTRATOR.
| DIRECTOR, DIVISION OF NUCLEAR MATERIALS SAFETY.
| DEPUTY DIRECTOR, DIVISION OF NUCLEAR MATERIALS SAFETY.
| DEPUTY DIRECTOR, DIVISION OF REACTOR PROJECTS.
| DEPUTY DIRECTOR, DIVISION OF REACTOR SAFETY.
REGION IV | DEPUTY REGIONAL ADMINISTRATOR.
| DIRECTOR DIVISION OF REACTOR PROJECTS.
| DIRECTOR, DIVISION OF NUCLEAR MATERIALS SAFETY.
| DIRECTOR, DIVISION OF REACTOR SAFETY.
| DEPUTY DIRECTOR, DIVISION OF REACTOR SAFETY.
| DEPUTY DIRECTOR, DIVISION OF REACTOR PROJECTS.
OFFICE OF GOVERNMENT ETHICS:
OFFICE OF GOVERNMENT ETHICS | DEPUTY GENERAL COUNSEL.
| DEPUTY DIRECTOR FOR ADMINISTRATION AND INFORMATION MANAGEMENT.
| DEPUTY DIRECTOR, FOR GOVERNMENT RELATIONS AND SPECIAL PROJECTS.
| DEPUTY DIRECTOR FOR AGENCY PROGRAMS.
OFFICE OF MANAGEMENT AND BUDGET:
OFFICE OF THE DIRECTOR | DEPUTY ASSISTANT DIRECTOR FOR MANAGEMENT.
| DEPUTY ASSOCIATE DIRECTOR FOR ECONOMIC POLICY.
| SENIOR ADVISOR TO THE DEPUTY DIRECTOR FOR MANAGEMENT.
| DEPUTY ASSISTANT DIRECTOR FOR ADMINISTRATION.
LEGISLATIVE REFERENCE DIVISION | ASSISTANT DIRECTOR LEGISLATIVE REFERENCE.
| CHIEF, ECONOMICS, SCIENCE AND GOVERNMENT BRANCH.
| CHIEF, RESOURCES-DEFENSE-INTERNATIONAL BRANCH.
| CHIEF, LABOR, WELFARE, PERSONNEL BRANCH.
OFFICE OF FEDERAL PROCUREMENT POLICY | ASSOCIATE ADMINISTRATOR FOR PROCUREMENT LAW AND LEGISLATION.
| ASSOCIATE ADMINISTRATOR FOR ACQUISITION IMPLEMENTATION.
| ASSOCIATE ADMINISTRATOR (ACQUISITION POLICY).
| ASSOCIATE ADMINISTRATOR FOR COMPETITIVE SOURCING.
GENERAL COUNSEL | ASSOCIATE GENERAL COUNSEL FOR BUDGET.
OFFICE OF INFORMATION AND REGULATORY AFFAIRS | CHIEF, INFORMATION POLICY AND TECHNOLOGY BRANCH.
| CHIEF STATISTICAL POLICY BRANCH.
| SENIOR ADVISOR.
| SENIOR ADVISOR.
| CHIEF, NATURAL RESOURCES, ENERGY AND AGRICULTURE BRANCH.
| CHIEF, HEALTH, TRANSPORTATION AND GENERAL GOVERNMENT.
OFFICE OF E-GOVERNMENT AND INFORMATION TECHNOLOGY | CHIEF ARCHITECT.
OFFICE OF FEDERAL FINANCIAL MANAGEMENT | CHIEF, FINANCIAL STANDARDS AND GRANTS BRANCH.
| CHIEF FEDERAL FINANCIAL SYSTEMS BRANCH.
| SENIOR ADVISOR TO THE DIRECTOR.
| CHIEF, FINANCIAL INTEGRITY AND ANALYSIS BRANCH.
BUDGET REVIEW | DEPUTY ASSISTANT DIRECTOR FOR BUDGET REVIEW AND CONCEPTS.
| DEPUTY CHIEF BUDGET ANALYSIS BRANCH.
| CHIEF BUDGET ANALYSIS BRANCH.
| ASSISTANT DIRECTOR FOR BUDGET REVIEW.
| DEPUTY ASSISTANT DIRECTOR FOR BUDGET ANALYSIS AND SYSTEMS.
| CHIEF, BUDGET CONCEPTS BRANCH.
| CHIEF, BUDGET SYSTEMS BRANCH.
| CHIEF, BUDGET REVIEW BRANCH.
| DEPUTY CHIEF, BUDGET REVIEW BRANCH.
INTERNATIONAL AFFAIRS DIVISION | CHIEF, STATE/UNITED STATES INTERNATIONAL AFFAIRS BRANCH.
| CHIEF, ECONOMIC AFFAIRS BRANCH.
| DEPUTY ASSOCIATE DIRECTOR FOR INTERNATIONAL AFFAIRS.
NATIONAL SECURITY DIVISION | CHIEF, COMMAND, CONTROL, COMMUNICATIONS, AND INTELLIGENCE BRANCH.
| CHIEF, FORCE STRUCTURE AND INVESTMENT BRANCH.
| CHIEF VETERAN AFFAIRS BRANCH.
| DEPUTY ASSOCIATE DIRECTOR FOR NATIONAL SECURITY.
| CHIEF OPERATIONS AND SUPPORT BRANCH.
HUMAN RESOURCE PROGRAMS | CHIEF, LABOR BRANCH.
| CHIEF, EDUCATION BRANCH.
| DEPUTY ASSOCIATE DIRECTOR FOR EDUCATION, INCOME MAINTAINENCE AND LABOR.
| CHIEF, INCOME MAINTENANCE BRANCH.
| CHIEF, PERSONNEL POLICY BRANCH.
| SENIOR ADVISOR.
| DEPUTY ASSOCIATE DIRECTOR, EDUCATION AND HUMAN RESOURCES DIVISION.
HEALTH DIVISION | DEPUTY ASSOCIATE DIRECTOR FOR HEALTH.
| CHIEF HEALTH AND FINANCING BRANCH.
| CHIEF, HEALTH AND HUMAN SERVICES BRANCH.
| CHIEF, PUBLIC HEALTH BRANCH.
TRANSPORTATION, HOMELAND, JUSTICE AND SERVICES DIVISION | CHIEF TRANSPORTATION BRANCH.
| DEPUTY ASSOCIATE DIRECTOR, TRANSPORTATION, HOMELAND, JUSTICE AND SERVICES.
| CHIEF, TRANSPORTATION/GENERAL SERVICES ADMINISTRATION BRANCH.
| CHIEF, JUSTICE BRANCH.
| CHIEF, HOMELAND SECURITY.
HOUSING, TREASURY AND COMMERCE DIVISION | CHIEF, COMMERCE BRANCH.
| DEPUTY ASSOCIATE DIRECTOR FOR HOUSING, TREASURY AND COMMERCE.
| CHIEF, TREASURY BRANCH.
| CHIEF, HOUSING BRANCH.
NATURAL RESOURCE PROGRAMS | SENIOR ADVISOR.
NATURAL RESOURCES DIVISION | DEPUTY ASSOCIATE DIRECTOR FOR NATURAL RESOURCES.
| CHIEF, AGRICULTURAL BRANCH.
| CHIEF, ENVIRONMENT BRANCH.
| CHIEF INTERIOR BRANCH.
ENERGY, SCIENCE AND WATER DIVISION | CHIEF, WATER AND POWER BRANCH.
| CHIEF SCIENCE AND SPACE PROGRAMS BRANCH.
| CHIEF, ENERGY BRANCH.
| DEPUTY ASSOCIATE DIRECTOR FOR ENERGY AND SCIENCE DIVISION.
OFFICE OF NATIONAL DRUG CONTROL POLICY:
NATIONAL YOUTH ANTI-DRUG MEDIA CAMPAIGN | ASSOCIATE DIRECTOR FOR NATIONAL YOUTH ANTI-DRUG MEDIA CAMPAIGN.
OFFICE OF SUPPLY REDUCTION | ASSISTANT DEPUTY DIRECTOR OF SUPPLY REDUCTION.
OFFICE OF PERSONNEL MANAGEMENT:
OFFICE OF THE INSPECTOR GENERAL | DEPUTY INSPECTOR GENERAL.
| ASSISTANT INSPECTOR GENERAL FOR AUDITS.
| ASSISTANT INSPECTOR GENERAL FOR INVESTIGATIONS.
| DEPUTY ASSISTANT INSPECTOR GENERAL FOR AUDITS.
| ASSISTANT INSPECTOR GENERAL FOR POLICY, RESOURCES MANAGEMENT, AND OVERSIGHT.
CENTER FOR RETIREMENT AND INSURANCE SERVICES | ASSISTANT DIRECTOR FOR RETIREMENT AND INSURANCE SERVICES SUPPORT SERVICES.
| ASSISTANT DIRECTOR FOR RETIREMENT SERVICES PROGRAMS.
FEDERAL INVESTIGATIVE SERVICES DIVISION | DEPUTY ASSOCIATE DIRECTOR FOR INVESTIGATIVE PROGRAM OPERATIONS.
CENTER FOR MERIT SYSTEM ACCOUNTABILITY | DEPUTY ASSOCIATE DIRECTOR FOR MERIT SYSTEM ACCOUNTABILITY.
OFFICE OF THE CHIEF FINANCIAL OFFICER | ASSOCIATE DIRECTOR FOR MANAGEMENT AND CHIEF FINANCIAL OFFICER.
| CHIEF FINANCIAL OFFICER.
CENTER FOR FINANCIAL SERVICES | ASSISTANT CHIEF FINANCIAL OFFICER.
| DEPUTY CHIEF FINANCIAL OFFICER FOR FINANCIAL SERVICES.
CENTER FOR WORKFORCE PLANNING AND POLICY ANALYSIS | DEPUTY ASSOCIATE DIRECTOR FOR WORKFORCE PLANNING AND POLICY ANALYSIS/CHIEF ACTUARY.
CENTER FOR WORKFORCE RELATIONS AND ACCOUNTABILITY POLICY | DEPUTY ASSOCIATE DIRECTOR FOR WORKFORCE RELATIONS AND ACCOUNTABILITY POLICY.
CENTER FOR CONTRACTING, FACILITIES, AND ADMINISTRATIVE SERVICES | DEPUTY ASSOCIATE DIRECTOR FOR CONTRACTING, FACILITIES, AND ADMINISTRATIVE SERVICES.
CENTER FOR INFORMATION SERVICES AND CHIEF INFORMATION OFFICER | DEPUTY ASSOCIATE DIRECTOR AND CHIEF INFORMATION OFFICER.
CENTER FOR SECURITY AND EMERGENCY ACTIONS | DEPUTY ASSOCIATE DIRECTOR FOR SECURITY AND EMERGENCY ACTIONS.
OFFICE OF SPECIAL COUNSEL:
HEADQUARTERS, OFFICE OF SPECIAL COUNSEL | ASSOCIATE SPECIAL COUNSEL FOR INVESTIGATION AND PROSECUTION.
| ASSOCIATE SPECIAL COUNSEL FOR INVESTIGATION AND PROSECUTION.
| ASSOCIATE SPECIAL COUNSEL FOR INVESTIGATION AND PROSECUTION.
| SENIOR ASSOCIATE SPECIAL COUNSEL FOR INVESTIGATION AND PROSECUTION.
| DIRECTOR OF MANAGEMENT AND BUDGET.
| ASSOCIATE SPECIAL COUNSEL PLANNING AND OVERSIGHT.
| ASSOCIATE SPECIAL COUNSEL FOR LEGAL COUNSEL AND POLICY.
OFFICE OF THE UNITED STATES TRADE REPRESENTATIVE:
OFFICE OF THE UNITED STATES TRADE REPRESENTATIVE | ASSISTANT U.S. TRADE REPRESENTATIVE FOR LABOR.
RAILROAD RETIREMENT BOARD:
BOARD STAFF | CHIEF OF TECHNOLOGY SERVICE.
| DIRECTOR OF HEARINGS AND APPEALS.
| CHIEF ACTUARY.
| DIRECTOR OF FIELD SERVICE.
| DIRECTOR OF ADMINISTRATION.
| DEPUTY GENERAL COUNSEL.
| ASSISTANT INSPECTOR GENERAL FOR INVESTIGATIONS.
| CHIEF FINANCIAL OFFICER.
| ASSISTANT INSPECTOR GENERAL FOR AUDIT.
| DIRECTOR OF TAXATION.
| GENERAL COUNSEL.
| DIRECTOR OF PROGRAMS.
| CHIEF INFORMATION OFFICER.
| DIRECTOR OF OPERATIONS.
| DIRECTOR OF POLICY AND SYSTEMS.
| DIRECTOR OF FISCAL OPERATIONS.
SELECTIVE SERVICE SYSTEM:
OFFICE OF THE DIRECTOR | ASSOCIATE DIRECTOR FOR MOBILIZATION.
SMALL BUSINESS ADMINISTRATION:
OFFICE OF THE INSPECTOR GENERAL | ASSISTANT INSPECTOR GENERAL FOR AUDITING.
| ASSISTANT INSPECTOR GENERAL FOR INVESTIGATIONS.
| COUNSEL TO THE INSPECTOR GENERAL.
| ASSISTANT INSPECTOR GENERAL FOR MANAGEMENT AND POLICY.
| DEPUTY INSPECTOR GENERAL.
OFFICE OF THE GENERAL COUNSEL | ASSOCIATE GENERAL COUNSEL FOR GENERAL LAW.
| ASSOCIATE GENERAL COUNSEL LITIGATION.
| ASSOCIATE GENERAL COUNSEL FOR PROCUREMENT LAW.
| ASSOCIATE GENERAL COUNSEL FOR FINANCIAL LAW AND LENDER OVERSIGHT.
OFFICE OF FIELD OPERATIONS | DISTRICT DIRECTOR.
| DISTRICT DIRECTOR.
| DISTRICT DIRECTOR.
| DISTRICT DIRECTOR.
| DISTRICT DIRECTOR.
| DISTRICT DIRECTOR.
| DISTRICT DIRECTOR.
| DISTRICT DIRECTOR.
OFFICE OF EQUAL EMPLOYMENT OPPORTUNITY AND CIVIL RIGHTS COMPLIANCE | ASSISTANT ADMINISTRATOR FOR EQUAL EMPLOYMENT OPPORTUNITY AND CIVIL RIGHTS COMPLIANCE.
OFFICE OF HEARINGS AND APPEALS | ASSISTANT ADMINISTRATOR FOR HEARINGS AND APPEALS.
OFFICE OF THE CHIEF FINANCIAL OFFICER | DEPUTY CHIEF FINANCIAL OFFICER.
| CHIEF FINANCIAL OFFICER.
OFFICE OF CAPITAL ACCESS | DEPUTY TO THE ASSOCIATE DEPUTY ADMINISTRATOR FOR CAPITAL ACCESS.
OFFICE OF FINANCIAL ASSISTANCE | ASSOCIATE ADMINISTRATOR FOR FINANCIAL ASSISTANCE.
| DEPUTY ASSOCIATE ADMINISTRATOR FOR FINANCIAL ASSISTANCE.
| ASSISTANT ADMINISTRATOR FOR PORTFOLIO MANAGEMENT.
OFFICE OF SURETY GUARANTEES | ASSOCIATE ADMINISTRATOR FOR SURETY GUARANTEES.
OFFICE OF ENTREPRENEURIAL DEVELOPMENT | DEPUTY TO THE ASSOCIATE DEPUTY ADMINISTRATOR FOR ENTREPRENEURIAL DEVELOPMENT.
OFFICE OF HUMAN CAPITAL MANAGEMENT | CHIEF HUMAN CAPITAL OFFICER.
OFFICE OF GOVERNMENT CONTRACTING AND BUSINESS DEVELOPMENT | ASSOCIATE ADMINISTRATOR FOR BUSINESS DEVELOPMENT.
OFFICE OF BUSINESS DEVELOPMENT | ASSOCIATE ADMINISTRATOR FOR BUSINESS DEVELOPMENT.
OFFICE OF POLICY, PLANNING AND LIAISON | ASSOCIATE ADMINISTRATOR FOR PROCUREMENT POLICY AND LIAISON.
SOCIAL SECURITY ADMINISTRATION:
OFFICE OF THE CHIEF INFORMATION OFFICER | DIRECTOR, OFFICE OF INFORMATION TECHNOLOGY SYSTEMS REVIEW.
| DEPUTY CHIEF INFORMATION OFFICER.
OFFICE OF THE CHIEF STRATEGIC OFFICER | CHIEF STRATEGIC OFFICER.
OFFICE OF QUALITY PERFORMANCE | CHIEF QUALITY OFFICER.
| DEPUTY CHIEF QUALITY OFFICER.
OFFICE OF QUALITY CONTROL | ASSOCIATE COMMISSIONER FOR QUALITY ASSURANCE AND PERFORMANCE ASSESSMENT.
OFFICE OF DISABILITY ADJUDICATION AND REVIEW | DEPUTY COMMISSIONER FOR DISABILITY ADJUDICATION AND REVIEW.
| ASSISTANT DEPUTY COMMISSIONER FOR DISABILITY ADJUDICATION AND REVIEW.
OFFICE OF FEDERAL REVIEWING OFFICIAL | CHIEF FEDERAL REVIEWING OFFICIAL.
OFFICE OF THE INSPECTOR GENERAL | DEPUTY INSPECTOR GENERAL.
| COUNSEL TO THE INSPECTOR GENERAL.
OFFICE OF INVESTIGATIONS | ASSISTANT INSPECTOR GENERAL FOR INVESTIGATIONS.
| DEPUTY ASSISTANT INSPECTOR GENERAL FOR INVESTIGATIONS (FIELD OPERATIONS).
| DEPUTY ASSISTANT INSPECTOR GENERAL FOR INVESTIGATIONS (NATIONAL INVESTIGATIVE OPERATIONS).
OFFICE OF AUDITS | ASSISTANT INSPECTOR GENERAL FOR AUDITS.
| DEPUTY ASSISTANT INSPECTOR GENERAL FOR AUDITS.
OFFICE OF EXECUTIVE OPERATIONS | ASSISTANT INSPECTOR GENERAL FOR EXECUTIVE OPERATIONS.
OFFICE OF HEARINGS AND APPEALS | ASSOCIATE COMMISSIONER FOR HEARING AND APPEALS.
| DEPUTY ASSOCIATE COMMISSIONER FOR HEARINGS AND APPEALS (FIELD OPERATIONS).
| EXECUTIVE DIRECTOR, OFFICE OF APPELLATE OPERATIONS.
OFFICE OF THE CHIEF ACTUARY | CHIEF ACTUARY.
| DEPUTY CHIEF ACTUARY (LONG-RANGE).
| DEPUTY CHIEF ACTUARY (SHORT-RANGE).
OFFICE OF DISABILITY DETERMINATIONS | ASSOCIATE COMMISSIONER FOR DISABILITY DETERMINATIONS.
OFFICE OF PERSONNEL | ASSOCIATE COMMISSIONER.
| DEPUTY ASSOCIATE COMMISSIONER FOR PERSONNEL.
OFFICE OF CIVIL RIGHTS AND EQUAL OPPORTUNITY | ASSOCIATE COMMISSIONER FOR CIVIL RIGHTS AND EQUAL OPPORTUNITY.
OFFICE OF LABOR-MANAGEMENT AND EMPLOYEE RELATIONS | ASSOCIATE COMMISSIONER FOR LABOR-MANAGEMENT AND EMPLOYEE RELATIONS.
| DEPUTY ASSOCIATE COMMISSIONER FOR LABOR-MANAGEMENT AND EMPLOYEE RELATIONS.
OFFICE OF BUDGET, FINANCE AND MANAGEMENT | ASSISTANT DEPUTY COMMISSIONER FOR FINANCE, ASSESSMENT AND MANAGEMENT.
OFFICE OF FINANCIAL POLICY AND OPERATIONS | ASSOCIATE COMMISSIONER, OFFICE OF FINANCE POLICY AND OPERATIONS.
| DEPUTY ASSOCIATE COMMISSIONER FINANCIAL POLICY AND OPERATIONS.
OFFICE OF QUALITY ASSURANCE AND PERFORMANCE ASSESSMENT | DEPUTY ASSOCIATE COMMISSIONER FOR QUALITY ASSURANCE AND PERFORMANCE ASSESSMENT.
OFFICE OF BUDGET | ASSOCIATE COMMISSIONER FOR BUDGET.
| DEPUTY ASSOCIATE COMMISSIONER FOR BUDGET.
OFFICE OF ACQUISITION AND GRANTS | ASSOCIATE COMMISSIONER FOR ACQUISITION AND GRANTS.
OFFICE OF TELECOMMUNICATIONS AND SYSTEMS OPERATIONS | ASSOCIATE COMMISSIONER FOR TELECOMMUNICATIONS AND SYSTEMS OPERATIONS.
| DEPUTY ASSOCIATE COMMISSIONER FOR TELECOMMUNICATIONS AND SYSTEMS OPERATIONS (SYSTEMS OPERATIONS).
| DEPUTY ASSOCIATE COMMISSIONER FOR TELECOMMUNICATIONS AND SYSTEMS OPERATIONS (TELECOMMUNICATIONS).
OFFICE OF GENERAL LAW | ASSOCIATE GENERAL COUNSEL FOR GENERAL LAW.
OFFICE OF PUBLIC DISCLOSURE | EXECUTIVE DIRECTOR FOR PUBLIC DISCLOSURE.
DEPARTMENT OF STATE:
OFFICE OF THE INSPECTOR GENERAL | ASSISTANT INSPECTOR GENERAL FOR AUDITS.
| ASSISTANT INSPECTOR GENERAL FOR INVESTIGATIONS.
| COUNSEL TO THE INSPECTOR GENERAL.
| DEPUTY ASSISTANT INSPECTOR GENERAL FOR AUDITS.
| DEPUTY ASSISTANT INSPECTOR GENERAL FOR INSPECTIONS.
| DEPUTY INSPECTOR GENERAL.
| ASSISTANT INSPECTOR GENERAL FOR SECURITY OVERSIGHT.
| SENIOR INSPECTOR—THEMATIC REVIEW.
| ASSISTANT INSPECTOR GENERAL FOR AUDITS.
BUREAU OF INTELLIGENCE AND RESEARCH | EXECUTIVE DIRECTOR.
BUREAU OF ADMINISTRATION | DIRECTOR, OFFICE OF ACQUISITIONS.
BUREAU OF HUMAN RESOURCES | HUMAN RESOURCES OFFICER.
| PRINCIPAL DEPUTY ASSISTANT SECRETARY.
BUREAU OF INTERNATIONAL SECURITY AND NONPROLIFERATION | OFFICE DIRECTOR.
| OFFICE DIRECTOR.
| DEPUTY ASSISTANT SECRETARY.
| DIRECTOR, OFFICE OF STRATEGIC NEGOTIATIONS AND IMPLEMENTAITON.
TRADE AND DEVELOPMENT AGENCY:
OFFICE OF THE DIRECTOR | ASSISTANT DIRECTOR FOR POLICY AND PROGRAMS.
DEPARTMENT OF TRANSPORTATION:
OFFICE OF INTELLIGENCE, SECURITY AND EMERGENCY RESPONSE | Did not find title for this position.
OFFICE OF ENVIRONMENT, ENERGY AND SAFETY | DIRECTOR.
ASSISTANT SECRETARY FOR BUDGET AND PROGRAMS | DEPUTY CHIEF FINANCIAL OFFICER.
ASSISTANT SECRETARY FOR ADMINISTRATION | ASSISTANT SECRETARY FOR ADMINISTRATION.
OFFICE OF THE SENIOR PROCUREMENT EXECUTIVE | SENIOR PROCUREMENT EXECUTIVE.
OFFICE OF INSPECTOR GENERAL | DEPUTY INSPECTOR GENERAL.
| ASSISTANT INSPECTOR GENERAL FOR LEGAL, LEGISLATIVE AND EXTERNAL AFFAIRS.
| SENIOR ECONOMIST.
PRINCIPAL ASSISTANT INSPECTOR GENERAL FOR AUDITING AND EVALUATION | PRINCIPAL ASSISTANT INSPECTOR GENERAL FOR AUDITING AND EVALUATION.
ASSISTANT INSPECTOR GENERAL FOR FINANCIAL AND INFORMATION TECHNOLOGY AUDITS | ASSISTANT INSPECTOR GENERAL FOR FINANCIAL AND INFORMATION TECHNOLOGY AUDITS.
| DIRECTOR FOR INFORMATION TECHNOLOGY AND COMPUTER SECURITY.
| DEPUTY ASSISTANT INSPECTOR GENERAL FOR FINANCIAL MANAGEMENT AUDITS.
ASSISTANT INSPECTOR GENERAL FOR AVIATION, DEPARTMENT-WIDE AND SPECIAL PROGRAM AUDITS | ASSISTANT INSPECTOR GENERAL FOR AVIATION, DEPARTMENT-WIDE AND SPECIAL PROGRAM AUDITS.
| DEPUTY ASSISTANT INSPECTOR GENERAL FOR AVIATION, DEPARTMENT-WIDE AND SPECIAL PROGRAM AUDITS.
ASSISTANT INSPECTOR GENERAL FOR INVESTIGATIONS | ASSISTANT INSPECTOR GENERAL FOR INVESTIGATIONS.
| DEPUTY ASSISTANT INSPECTOR GENERAL FOR INVESTIGATIONS.
ASSISTANT INSPECTOR GENERAL FOR SURFACE AND MARITIME PROGRAMS | DEPUTY ASSISTANT INSPECTOR GENERAL FOR SURFACE AND MARITIME PROGRAMS.
| ASSISTANT INSPECTOR GENERAL FOR TRANSIT, RAIL SAFETY AND MARITIME PROGRAMS.
ASSISTANT INSPECTOR GENERAL FOR COMPETITION AND ECONOMIC ANALYSIS | ASSISTANT INSPECTOR GENERAL FOR COMPETITION AND ECONOMIC ANALYSIS.
ASSOCIATE ADMINISTRATOR FOR ADMINISTRATION AND FINANCE | DIRECTOR, OFFICE OF FINANCIAL MANAGEMENT/DEPUTY CHIEF FINANCIAL OFFICER.
ASSOCIATE ADMINISTRATOR FOR SAFETY | ASSOCIATE ADMINISTRATOR FOR SAFETY.
OFFICE OF SAFETY ASSURANCE AND COMPLIANCE | DIRECTOR, OFFICE OF SAFETY ASSURANCE AND COMPLIANCE.
ASSOCIATE ADMINISTRATOR FOR SHIP ANALYSIS AND CARGO PREFERENCE | ASSOCIATE ADMINISTRATOR FOR SHIP ANALYSIS AND CARGO PREFERENCE.
ASSOCIATE ADMINISTRATOR FOR SHIPBUILDING | DIRECTOR, OFFICE OF SHIPBUILDING AND MARINE TECHNOLOGY.
ADMINISTRATOR | EXECUTIVE DIRECTOR.
OFFICE OF REAL ESTATE SERVICES | DIRECTOR, OFFICE OF REAL ESTATE SERVICES.
SAFETY | ASSOCIATE ADMINISTRATOR FOR SAFETY.
OFFICE OF BUDGET AND FINANCE | DIRECTOR, OFFICE OF BUDGET AND FINANCE.
| DEPUTY CHIEF FINANCIAL OFFICER AND CHIEF BUDGET OFFICER.
OFFICE OF ACQUISITION MANAGEMENT | DIRECTOR, OFFICE OF ACQUISITION MANAGEMENT.
OFFICE OF SAFETY RESEARCH AND DEVELOPMENT | DIRECTOR, OFFICE OF SAFETY RESEARCH, DEVELOPMENT AND TECHNOLOGY.
ADMINISTRATOR | ASSISTANT ADMINISTRATOR/CHIEF SAFETY OFFICER.
OFFICE OF BUS AND TRUCK STANDARDS AND OPERATIONS | DIRECTOR, OFFICE OF BUS AND TRUCK STANDARDS AND OPERATIONS.
OFFICE OF ENFORCEMENT AND COMPLIANCE | DIRECTOR, OFFICE OF ENFORCEMENT AND COMPLIANCE.
ASSOCIATE ADMINISTRATOR FOR ENFORCEMENT | ASSOCIATE ADMINISTRATOR FOR ENFORCEMENT.
| DIRECTOR, OFFICE OF DEFECTS INVESTIGATION.
| DIRECTOR, OFFICE OF VEHICLE SAFETY COMPLIANCE.
PROCEEDINGS | DEPUTY DIRECTOR—LEGAL ANALYSIS.
ECONOMIC ENVIRONMENTAL ANALYSIS AND ADMINISTRATION | DIRECTOR OF ECONOMIC, ENVIRONMENTAL ANALYSIS AND ADMINISTRATION.
OFFICE OF CHIEF SAFETY OFFICER | ASSISTANT ADMINISTRATOR AND CHIEF SAFETY OFFICER.
OFFICE OF PIPELINE SAFETY | ASSOCIATE ADMINISTRATOR FOR PIPELINE SAFETY.
DEPARTMENT OF THE TREASURY:
FISCAL ASSISTANT SECRETARY | FISCAL ASSISTANT SECRETARY.
| DEPUTY ASSISTANT SECRETARY FOR FISCAL OPERATIONS AND POLICY.
| DEPUTY ASSISTANT SECRETARY (ACCOUNTING POLICY).
FINANCIAL MANAGEMENT SERVICE | DIRECTOR, REGIONAL FINANCIAL CENTER (SAN FRANCISCO).
| DIRECTOR, REGIONAL FINANCIAL CENTER (AUSTIN).
| DIRECTOR, PLATFORM SERVICES DIRECTORATE.
| ASSISTANT COMMISSIONER, GOVERNMENTWIDE ACCOUNTING.
| DIRECTOR, REGIONAL FINANCIAL CENTER (KANSAS CITY).
| COMMISSIONER, FINANCIAL MANAGEMENT SERVICE.
| ASSISTANT COMMISSIONER, INFORMATION RESOURCES.
| ASSISTANT COMMISSIONER, FEDERAL FINANCE.
| DEPUTY COMMISSIONER, FINANCIAL MANAGEMENT SERVICE.
| DIRECTOR, REVENUE COLLECTION GROUP.
| DIRECTOR, BIRMINGHAM DEBT MANAGEMENT OPERATIONS CENTER.
| DIRECTOR, INFORMATION SERVICES DIRECTORATE.
| ASSISTANT COMMISSIONER, REGIONAL OPERATIONS.
| ASSISTANT COMMISSIONER, MANAGEMENT (CHIEF FINANCIAL OFFICER).
| DIRECTOR, SYSTEMS MANAGEMENT DIRECTORATE.
| ASSISTANT COMMISSIONER (AGENCY SERVICES).
| DIRECTOR, CASH MANAGEMENT ENTERPRISE ARCHITECTURE.
| ASSISTANT COMMISSIONER, FINANCIAL OPERATIONS.
| DEPUTY ASSISTANT COMMISSIONER, GOVERNMENTWIDE ACCOUNTING.
| ASSISTANT COMMISSIONER, GOVERNMENTWIDE ACCOUNTING OPERATIONS.
| DEPUTY CHIEF INFORMATION OFFICER.
| ASSISTANT COMMISSIONER, DEBT MANAGEMENT SERVICES.
BUREAU OF THE PUBLIC DEBT | COMMISSIONER OF THE PUBLIC DEBT.
| DEPUTY COMMISSIONER OF THE PUBLIC DEBT.
| ASSISTANT COMMISSIONER (FINANCING).
| EXECUTIVE DIRECTOR (ADMINISTRATIVE RESOURCE CENTER).
| EXECUTIVE DIRECTOR, GOVERNMENT SECURITIES REGULATIONS.
| ASSISTANT COMMISSIONER, OFFICE OF SECURITIES OPERATIONS.
| ASSISTANT COMMISSIONER, OFFICE OF INVESTOR SERVICES.
| ASSISTANT COMMISSIONER (OFFICE OF INFORMATION TECHNOLOGY).
| DEPUTY EXECUTIVE DIRECTOR (ADMINISTRATIVE RESOURCE CENTER).
| SENIOR ADVISOR TO THE COMMISSIONER AND DEPUTY COMMISSIONER.
| ASSISTANT COMMISSIONER (OFFICE OF MANAGEMENT SERVICES).
| EXECUTIVE DIRECTOR (INVESTOR EDUCATION AND COMMUNICATION STAFF).
| ASSISTANT COMMISSIONER (PUBLIC DEBT ACCOUNTING).
| DEPUTY ASSISTANT COMMISSIONER (FINANCING).
ASSISTANT SECRETARY (TERRORIST FINANCING) | DIRECTOR, EXECUTIVE OFFICE FOR ASSET FORFEITURE.
FINANCIAL CRIMES ENFORCEMENT NETWORK | DIRECTOR, FINANCIAL CRIMES ENFORCEMENT NETWORK.
| ASSOCIATE DIRECTOR, REGULATORY POLICY AND PROGRAMS DIVISION.
| CHIEF COUNSEL, FINANCIAL CRIMES ENFORCEMENT NETWORK.
| DEPUTY DIRECTOR, ADMINISTRATION.
| ASSOCIATE DIRECTOR, CLIENT LIAISON AND SERVICES.
| ASSOCIATE DIRECTOR, ANALYSIS AND LIAISON DIVISION.
| EXECUTIVE ADVISOR FOR EXTERNAL PROGRAM INTEGRATION.
| ASSOCIATE DIRECTOR, INFORMATION AND TECHNOLOGY.
| DIVISION/CHIEF INFORMATION OFFICER.
ASSISTANT SECRETARY (INTELLIGENCE AND ANALYSIS) | DEPUTY ASSISTANT SECRETARY FOR SECURITY.
OFFICE OF THE INSPECTOR GENERAL | DEPUTY ASSISTANT INSPECTOR GENERAL FOR AUDIT (FINANCIAL MANAGEMENT).
| COUNSEL TO THE INSPECTOR GENERAL.
| DEPUTY ASSISTANT INSPECTOR GENERAL FOR INVESTIGATIONS.
| ASSISTANT INSPECTOR GENERAL FOR MANAGEMENT SERVICES.
| ASSISTANT INSPECTOR GENERAL FOR AUDIT.
| DEPUTY ASSISTANT INSPECTOR GENERAL FOR AUDIT (PROGRAM AUDITS).
| ASSISTANT INSPECTOR GENERAL FOR INVESTIGATIONS.
INSPECTOR GENERAL FOR TAX ADMINISTRATION | DEPUTY ASSISTANT INSPECTOR GENERAL FOR INVESTIGATIONS.
| ASSISTANT INSPECTOR GENERAL FOR MANAGEMENT SERVICES.
| DEPUTY INSPECTOR GENERAL FOR INVESTIGATIONS.
| ASSISTANT INSPECTOR GENERAL FOR AUDIT (HEADQUARTERS OPERATIONS).
| COUNSEL TO THE TREASURY INSPECTOR GENERAL FOR TAX ADMINISTRATION.
| ASSISTANT INSPECTOR GENERAL FOR AUDIT (WAGE AND INVESTMENT).
| ASSISTANT INSPECTOR GENERAL FOR AUDIT (SMALL BUSINESS AND CORPORATE ENTITIES).
| ASSISTANT INSPECTOR GENERAL FOR AUDIT (INFORMATION SYSTEMS PROGRAMS).
| DEPUTY INSPECTOR GENERAL FOR AUDIT.
| ASSISTANT INSPECTOR GENERAL FOR INFORMATION TECHNOLOGY.
| ASSISTANT INSPECTOR GENERAL FOR INVESTIGATION (INVESTIGATIVE SUPPORT).
| ASSISTANT INSPECTOR GENERAL FOR INVESTIGATIONS (FIELD OPERATIONS).
ASSISTANT SECRETARY (TAX POLICY) | DIRECTOR, ECONOMIC MODELING AND COMPUTER APPLICATIONS.
ALCOHOL AND TOBACCO TAX AND TRADE BUREAU | DEPUTY ADMINISTRATOR, ALCOHOL AND TOBACCO TAX AND TRADE BUREAU.
| ASSISTANT ADMINISTRATOR, HEADQUARTER OPERATIONS.
| ASSISTANT ADMINISTRATOR, MANAGEMENT/CHIEF FINANCIAL OFFICER.
ASSISTANT SECRETARY (MANAGEMENT) | DEPUTY ASSISTANT SECRETARY FOR HEADQUARTERS.
| OPERATIONS AND SENIOR PROCUREMENT EXECUTIVE.
| DEPUTY CHIEF FINANCIAL OFFICER.
| DIRECTOR, OFFICE OF PROCUREMENT.
INTERNAL REVENUE SERVICE | CHIEF, EQUAL EMPLOYMENT OPPORTUNITY AND DIVERSITY.
| DIRECTOR, TECHNICAL CONTRACT MANAGEMENT DIVISION.
| ASSISTANT TO THE COMMISSIONER.
| DIRECTOR OF RESEARCH.
| DIRECTOR, COMPLIANCE.
| DIRECTOR OF COMPLIANCE, ATLANTA—WAGE AND INVESTMENT.
| DEPUTY DIRECTOR, GENERAL APPEALS.
| AREA DIRECTOR, STAKEHOLDER, PARTNERSHIP, EDUCATION AND COMMUNICATION.
| COMPLIANCE SERVICES FIELD DIRECTOR.
| DIRECTOR, LEADERSHIP AND ORGANIZATIONAL DEVELOPMENT—NATIONAL HEADQUARTERS.
| DEPUTY CHIEF FINANCIAL OFFICER (FINANCE).
| SPECIAL AGENT IN CHARGE, NEW YORK.
| SPECIAL AGENT IN CHARGE, CHICAGO.
| DEPUTY DIRECTOR, PERSONNEL SERVICES.
| DIRECTOR, CENTRALIZED WORKLOAD SELECTION AND DELIVERY—SMALL BUSINESS AND SELF-EMPLOYED.
| DIRECTOR, COMPLIANCE LOS ANGELES AREA OFFICE—SMALL BUSINESS AND SELF-EMPLOYED.
| DIRECTOR, COMPLIANCE NEW YORK AREA OFFICE—SMALL BUSINESS AND SELF-EMPLOYED.
| DIRECTOR, HUMAN RESOURCES—SMALL BUSINESS AND SELF-EMPLOYED.
| DIRECTOR, FILING AND PAYMENT COMPLIANCE—SMALL BUSINESS AND SELF-EMPLOYED.
| DIRECTOR, BUSINESS SYSTEMS PLANNING.
| ACCOUNTS MANAGEMENT FIELD DIRECTOR, ATLANTA, WAGE AND INVESTMENT.
| AREA DIRECTOR, FIELD ASSISTANCE (SAN FRANCISCO)—WAGE AND INVESTMENT.
| TRANSITION EXECUTIVE FOR STRATEGY, CRIMINAL INVESTIGATION.
| PROJECT DIRECTOR.
| DIRECTOR, COMPETITIVE SOURCING.
| DIRECTOR, COMMUNICATIONS—SMALL BUSINESS AND SELF-EMPLOYED.
| DIRECTOR, ORGANIZATIONAL PERFORMANCE.
| DIRECTOR, INFORMATION TECHNOLOGY SECURITY.
| COMMISSIONER, TAX EXEMPT AND GOVERNMENT ENTITIES DIVISION.
| DIRECTOR, EXEMPT ORGANIZATIONS EXAMINATIONS.
| DIRECTOR, FACILITIES OPERATIONS—AGENCYWIDE SHARED SERVICES.
| DIRECTOR, CUSTOMER SUPPORT—AGENCYWIDE SHARED SERVICES.
| DIRECTOR, COMPLIANCE AREA, LAGUNA NIGUEL—SMALL BUSINESS AND SELF-EMPLOYED.
| DIRECTOR, RETAILERS, FOOD, PHARMACEUTICALS, AND HEALTH CARE.
| DIRECTOR, TAXPAYER EDUCATION AREA, BROOKLYN—SMALL.
| BUSINESS AND SELF-EMPLOYED.
| DIRECTOR, COMPLIANCE AREA.
| DIRECTOR, LEGISLATIVE AFFAIRS DIVISION.
| DIRECTOR, ELECTRONIC TAX ADMINISTRATION—WAGE AND INVESTMENT.
| SUBMISSION PROCESSING FIELD DIRECTOR, MEMPHIS.
| DIRECTOR, GOVERNMENT ENTITIES.
| DIRECTOR, FIELD ASSISTANCE AREA (GREENSBORO) WAGE AND INVESTMENT.
| DIRECTOR, TAXPAYER EDUCATION AREA, NASHVILLE—SMALL BUSINESS AND SELF-EMPLOYED.
| COMPLIANCE SERVICE FIELD DIRECTOR, AUSTIN—WAGE AND INVESTMENT.
| DIVISION INFORMATION OFFICER—SMALL BUSINESS AND SELF-EMPLOYED.
| SPECIAL AGENT IN CHARGE, LOS ANGELES.
| DIRECTOR, FIELD ASSISTANCE AREA (PHOENIX)—WAGE AND INVESTMENT.
| DEPUTY DIRECTOR, STRATEGIC HUMAN RESOURCES.
| DEPUTY DIRECTOR, INTERNATIONAL.
| PRIVACY ADVOCATE.
| NATIONAL DIRECTOR OF APPEALS.
| DIRECTOR, APPEALS—LARGE AND MID-SIZE BUSINESS.
| AREA DIRECTOR, WESTERN.
| DIRECTOR OF INVESTIGATIONS, CENTRAL AREA OF OPERATIONS.
| PROJECT MANAGER.
| DEPUTY CHIEF FINANCIAL OFFICER.
| CHIEF COMMUNICATIONS AND LIAISON.
| DIRECTOR OF FIELD OPERATIONS.
| DIRECTOR, TECHNICAL SERVICES, APPEALS.
| DIRECTOR, TAX ADMINISTRATION MODERNIZATION.
| DIRECTOR, COMPLIANCE CAMPUS OPERATIONS.
| ACCOUNTS MANAGEMENT FIELD DIRECTOR, FRESNO—WAGE AND INVESTMENT.
| PROJECT DIRECTOR (EXECUTIVE INSTRUCTOR).
| PROJECT DIRECTOR, WAGE AND INVESTMENT.
| CHIEF FINANCIAL OFFICER, INTERNAL REVENUE SERVICE.
| DIRECTOR, STRATEGIC PLANNING—WAGE AND INVESTMENT.
| SPECIAL AGENT IN CHARGE.
| SPECIAL AGENT IN CHARGE.
| DIRECTOR, WORKFORCE RELATIONS.
| DIRECTOR, REPORTING COMPLIANCE.
| DIRECTOR OF FINANCE—SMALL BUSINESS AND SELF-EMPLOYED.
| ASSISTANT DEPUTY DIRECTOR COMPLIANCE FIELD OPERATIONS.
| DIRECTOR, STRATEGY, RESEARCH, AND PROGRAM PLANNING—LARGE AND MID-SIZE BUSINESS.
| PROJECT DIRECTOR.
| DIRECTOR, EXAMINATION AREA.
| DIRECTOR, FILING AND PAYMENT COMPLIANCE.
| DIRECTOR, COLLECTION POLICY.
| DEPUTY ASSOCIATE COMMISSIONER (BUSINESS INTEGRATION).
| PRIVACY ADVOCATE.
| DIRECTOR, CUSTOMER APPLICATIONS DEVELOPMENT.
| MANAGEMENT DIVISION.
| DIRECTOR, COMMUNICATIONS, LIAISON AND DISCLOSURE.
| DIRECTOR, CAPITAL PLANNING AND INVESTMENT.
| DIRECTOR, PROGRAM CONTROL AND PROCESS MANAGEMENT.
| DIRECTOR, COMPLIANCE AREA, BALTIMORE—SMALL BUSINESS AND SELF-EMPLOYED.
| DIRECTOR, STAKEHOLDER, PARTNERSHIP, EDUCATION AND COMMUNICATION—WAGE AND INVESTMENT.
| DIRECTOR, EMPLOYEE PLANS.
| DIRECTOR, EMPLOYEE SUPPORT SERVICES.
| ASSOCIATE CHIEF FINANCIAL OFFICER FOR REVENUE AND FINANCIAL MANAGEMENT.
| DEPUTY DIRECTOR, PROCUREMENT.
| DIRECTOR, ELECTRONIC CRIMES PROGRAM OFFICE.
| PROJECT DIRECTOR, TECHNOLOGY OPERATIONS AND INVESTIGATIVE SERVICES.
| DIRECTOR, EXAMINATION OPERATIONS SUPPORT.
| DEPUTY NATIONAL TAXPAYER ADVOCATE.
| DIRECTOR, LEARNING AND EDUCATION.
| CHIEF, CRIMINAL INVESTIGATION.
| DIRECTOR, SYSTEMS ENGINEERING AND INTEGRATION.
| DEPUTY COMMISSIONER, OPERATIONS SUPPORT.
| DIRECTOR, STATISTICS.
| AREA DIRECTOR, STAKEHOLDER, PARTNERSHIP, EDUCATION, AND COMMUNICATION, HARTFORD—WAGE AND INVESTMENT.
| DEPUTY CHIEF, INFORMATION TECHNOLOGY SERVICES.
| DIRECTOR, NETWORK ENTERPRISE ARCHITECTURE AND ENGINEERING.
| DIRECTOR, FIELD ASSISTANCE—WAGE AND INVESTMENT.
| DIRECTOR, SUBMISSION PROCESSING (CINCINNATI)—WAGE AND INVESTMENT.
| AREA DIRECTOR, STAKEHOLDER, PARTNERSHIP, EDUCATION AND COMMUNICATION—WAGE AND INVESTMENT.
| ACCOUNTS MANAGEMENT FIELD DIRECTOR, CINCINNATI.
| ACCOUNTS MANAGEMENT FIEDL DIRECTOR—ODGEN.
| ACCOUNTS MANAGEMENT FIELD DIRECTOR, AUSTIN—WAGE AND INVESTMENT.
| COMMISSIONER, LARGE AND MID-SIZED BUSINESS DIVISION.
| PROJECT DIRECTOR.
| AREA DIRECTOR, STAKEHOLDER PARTNERSHIP EDUCATION AND COMMUNICATION.
| DIRECTOR, CUSTOMER RELATIONSHIP AND INTEGRATION.
| COMPLIANCE SERVICES FIELD DIRECTOR.
| DIRECTOR, JOINT OPERATIONS CENTER.
| COMPLIANCE SERVICE FIELD DIRECTOR.
| DIRECTOR, FIELD OPERATIONS.
| DIRECTOR, COMPLIANCE AREA, CHICAGO—SMALL BUSINESS AND SELF-EMPLOYED.
| DIRECTOR, MEDIA AND PUBLICATIONS PUBLISHING DIVISION.
| DEPUTY CHIEF, CRIMINAL INVESTIGATION.
| DEPUTY DIRECTOR, FIELD SPECIALISTS—LARGE AND MID-SIZE BUSINESS.
| SUBMISSION PROCESSING FIELD DIRECTOR—FRESNO, CALIFORNIA.
| DEPUTY DIRECTOR, ACCOUNTS MANAGEMENT.
| DIRECTOR, COMPLIANCE AREA, OAKLAND—SMALL BUSINESS AND SELF-EMPLOYED.
| DIRECTOR, FIELD OPERATIONS WEST, APPEALS.
| DEPUTY DIRECTOR, END USER EQUIPMENT AND SERVICES.
| DIRECTOR, OPERATIONS POLICY AND SUPPORT—CRIMINAL INVESTIGATIONS.
| DIRECTOR, TENNESSEE COMPUTING CENTER.
| DIRECTOR OF FIELD OPERATIONS (PACIFIC AREA)—CRIMINAL INVESTIGATIONS.
| DIRECTOR, REFUND CRIMES.
| ASSOCIATE DIRECTOR, FACILITIES OPERATIONS.
| DIRECTOR, NATURAL RESOURCES INDUSTRY GROUP.
| DIRECTOR, COMPLIANCE AREA, PHILADELPHIA—SMALL BUSINESS AND SELF-EMPLOYED.
| DIRECTOR, FIELD OPERATIONS, COMMUNICATIONS, TECHNOLOGY AND MEDIA—LARGE AND MID-SIZE BUSINESS.
| DEPUTY DIRECTOR, COMPLIANCE SERVICES—SMALL BUSINESS.
| DIRECTOR, FIELD OPERATIONS (NATURAL RESOURCES), HOUSTON.
| DIRECTOR OF FIELD OPERATIONS (MIDSTATES AREA)—CRIMINAL INVESTIGATION.
| DIRECTOR, COMMISSIONER'S OFFICE OF EMPLOYEE ISSUES AND PROFESSIONAL CONDUCT.
| PROJECT DIRECTOR.
| DIRECTOR, PROGRAM ANALYSIS CUSTOMER ACCOUNT SERVICES—WAGE AND INVESTMENT.
| DEPUTY ASSOCIATE CHIEF INFORMATION OFFICER FOR PROGRAM MANAGEMENT.
| DIRECTOR, OFFICE OF PROGRAM EVALUATION AND RISK ANALYSIS.
| DIRECTOR, STAKEHOLDER, PARTNERSHIP, EDUCATION AND COMMUNICATIONS (SPECIALIST).
| DEPUTY ASSOCIATE CHIEF INFORMATION OFFICER, MANAGEMENT PROCESSES.
| DIRECTOR, OFFICE OF PRIVACY.
| DIRECTOR, FRAUD/BANK SECRECY ACT.
| PROJECT DIRECTOR.
| DEPUTY CHIEF HUMAN CAPITAL OFFICER.
| DIRECTOR, SPECIALTY PROGRAMS.
| DIRECTOR, COLLECTION.
| DIRECTOR, EXAMINATION POLICY.
| DIRECTOR, WORKFORCE RELATIONS.
| DIRECTOR, FIELD ASSISTANCE AREA.
| ACCOUNTS MANAGEMENT FIELD DIRECTOR.
| PROJECT DIRECTOR.
| PROJECT DIRECTOR.
| PROJECT DIRECTOR, NATIONAL RESEARCH STUDY PROJECT.
| DEPUTY COMMISSIONER, SERVICES AND ENFORCEMENT.
| DIRECTOR, COMMUNICATIONS.
| DEPUTY DIRECTOR, PREFILING AND TECHNICAL GUIDANCE.
| DIRECTOR, REFUND CRIMES.
| DIRECTOR, TAXPAYER EDUCATION AREA, DENVER—SMALL.
| BUSINESS AND SELF-EMPLOYED.
| DIRECTOR, LEADERSHIP AND EDUCATION.
| CHIEF, CRIMINAL INVESTIGATION.
| ASSOCIATE CHIEF FINANCIAL OFFICER FOR CORPORATE PLANNING AND INTERNAL CONTROL.
| DIRECTOR, NATIONAL PUBLIC LIAISON.
| ASSOCIATE CHIEF INFORMATION OFFICER FOR MANAGEMENT AND FINANCE.
| DIRECTOR, DATA MANAGEMENT MODERNIZATION.
| PROJECT DIRECTOR.
| DIRECTOR, FIELD OPERATIONS, SPECIAL—WAGE AND INVESTMENT.
| DIRECTOR CUSTOMER ACCOUNT SERVICES—SMALL BUSINESS AND SELF-EMPLOYED.
| DIRECTOR OF FIELD OPERATIONS—CRIMINAL INVESTIGATION, NORTH ATLANTIC.
| ACCOUNTS MANAGEMENT FIELD DIRECTOR.
| ACCOUNTS MANAGEMENT FIELD DIRECTOR.
| SUBMISSION PROCESSING FIELD DIRECTOR.
| DIRECTOR, INFRASTRUCTURE MODERNIZATION PROJECT OFFICE.
| DIRECTOR, FILING AND CAMPUS COMPLIANCE.
| DIRECTOR OF FIELD OPERATIONS.
| DIRECTOR, ADVISORY, INSOLVENCY AND QUALITY.
| DIRECTOR, FIELD ASSISTANCE AREA, SAINT LOUIS—WAGES AND INVESTMENTS.
| DIRECTOR, FIELD OPERATIONS.
| DIRECTOR, CASE MANAGEMENT—SMALL BUSINESS AND SELF-EMPLOYED.
| DIRECTOR, COLLECTION AREA.
| DIRECTOR, REPORTING COMPLIANCE.
| ACCOUNTS MANAGEMENT FIELD DIRECTOR.
| ACCOUNTS MANAGEMENT FIELD DIRECTOR—ANDOVER.
| PROJECT DIRECTOR, BUSINESS REQUIREMENTS.
| DIRECTOR, STRATEGY, RESEARCH AND PROGRAM PLANNING.
| DIRECTOR, NEW CUSTOMER DEVELOPMENT.
| SUBMISSION PROCESSING FIELD DIRECTOR.
| DIRECTOR, EMPLOYEE PLANS EXAMINATION.
| CHIEF, AGENCY-WIDE SHARED SERVICES.
| SUBMISSION PROCESSING FIELD DIRECTOR—PHILADELPHIA.
| DIRECTOR, COMPETITIVE SOURCING.
| PROJECT DIRECTOR.
| DIRECTOR, FIELD OPERATIONS—RETAILERS, FOOD.
| PHARMACEUTICALS, HEALTHCARE.
| DIRECTOR, CRIMINAL INVESTIGATION TECHNOLOGY.
| OPERATIONS AND INVESTIGATIVE SERVICES.
| DIRECTOR, FIELD OPERATIONS.
| DIRECTOR, BUSINESS SYSTEMS PLANNING—LARGE AND MID-SIZE BUSINESS.
| CHIEF, AGENCYWIDE SHARED SERVICES.
| PROJECT DIRECTOR.
| DIRECTOR, COMMUNICATION, ASSISTANCE, RESEARCH AND EDUCATION.
| DIRECTOR, COMPLIANCE AREA, NASHVILLE—SMALL BUSINESS AND SELF-EMPLOYED.
| SUBMISSION PROCESSING FIELD DIRECTOR—BROOKHAVEN.
| DIRECTOR, OPERATIONS POLICY AND SUPPORT.
| ACCOUNTS MANAGEMENT FIELD DIRECTOR, KANSAS CITY—WAGE AND INVESTMENT.
| DIRECTOR, TAX EXEMPT BONDS.
| DIRECTOR, EXAMINATION AREA.
| DIRECTOR, HUMAN RESOURCES—WAGE AND INVESTMENT.
| DIRECTOR, STRATEGY AND FINANCE—WAGE AND INVESTMENT.
| DIRECTOR, COLLECTION AREA.
| DEPUTY DIVISION COMMISSIONER, TAX EXEMPT AND GOVERNMENT ENTITIES.
| DIRECTOR, EXEMPT ORGANIZATIONS.
| DEPUTY DIRECTOR, SUBMISSION PROCESSING.
| AREA DIRECTOR, FIELD ASSISTANCE.
| DIRECTOR OF FIELD OPERATIONS.
| ASSOCIATE CHIEF INFORMATION OFFICER, BUSINESS SYSTEMS DEVELOPMENT.
| DIRECTOR, INTERNAL MANAGEMENT MODERNIZATION.
| PROJECT DIRECTOR.
| DEPUTY DIRECTOR, COMPLIANCE—SMALL BUSINESS AND SELF-EMPLOYED.
| DEPUTY CHIEF, APPEALS.
| DIRECTOR, CENTERS OF EXCELLENCE.
| PROJECT DIRECTOR, CUSTOMER ACCOUNT DATA ENGINE PROJECT.
| DEPUTY COMMISSIONER, LARGE AND MID-SIZE BUSINESS, INTERNATIONAL.
| DIRECTOR, OPERATIONAL READINESS.
| DIRECTOR, TECHNICAL SERVICES.
| PROJECT DIRECTOR, COLLECTION.
| PROJECT DIRECTOR, COLLECTION.
| DIRECTOR, CLIENT SERVICES DIVISION.
| DIRECTOR, STRATEGY AND FINANCE.
| ACCOUNTS MANAGEMENT FIELD DIRECTOR.
| DIRECTOR, OFFICE OF PROFESSIONAL RESPONSIBILITY.
| CHIEF, COMMUNICATIONS AND LIAISON.
| DIRECTOR, RESEARCH, ANALYSIS AND STATISTICS OF INCOME.
| DIRECTOR, OFFICE OF TAX ADMINISTRATION.
| SUBMISSION PROCESSING FIELD DIRECTOR, OGDEN—SMALL BUSINESS AND SELF-EMPLOYED.
| DIRECTOR, ENTERPRISE COMPUTING CENTERS.
| DIRECTOR, CAMPUS COLLECTION COMPLIANCE.
| CHIEF, SECURITY SERVICES.
| AREA DIRECTOR OF INFORMATION TECHNOLOGY.
| DIRECTOR, ACCOUNTS MANAGEMENT, WAGE AND INVESTMENT.
| DIRECTOR, FILING SYSTEMS DIVISION.
| DIRECTOR, FIELD OPERATIONS—RETAILS, FOOD.
| PHARMACEUTICALS AND HEALTHCARE.
| DEPUTY DIRECTOR, COMPLIANCE POLICY.
| DIRECTOR, COLLECTION BUSINESS REENGINEERING.
| DIRECTOR, COLLECTION AREA.
| DIRECTOR, FIELD OPERATIONS—HEAVY MANUFACTURING AND TRANSPORTATION.
| PROJECT DIRECTOR—SMALL BUSINESS AND SELF-EMPLOYED.
| COMPLIANCE SERVICE FIELD DIRECTOR—PHILADELPHIA.
| DIRECTOR, COMPLIANCE AREA, BALTIMORE—SMALL BUSINESS AND SELF-EMPLOYED.
| CHIEF OF STAFF, INTERNAL REVENUE SERVICE.
| DEPUTY DIRECTOR, OFFICE OF PROFESSIONAL RESPONSIBILITY.
| DIRECTOR, MANAGEMENT AND SUPPORT.
| SUBMISSION PROCESSING FIELD DIRECTOR.
| DIRECTOR, PRODUCT ASSURANCE.
| DIRECTOR, CAMPUS REPORTING COMPLIANCE.
| DIRECTOR, FIELD ASSISTANCE AREA.
| DIRECTOR, FIELD OPERATIONS, EAST, APPEALS.
| DIRECTOR, FILING AND PAYMENT COMPLIANCE.
| SUBMISSION PROCESSING FIELD DIRECTOR—ATLANTA.
| MODERNIZATION EXECUTIVE.
| SUBMISSION PROCESSING FIELD DIRECTOR—AUSTIN.
| DIRECTOR, MISSION ASSURANCE.
| DIRECTOR, CHANGE MANAGEMENT AND RELEASE MANAGEMENT.
| PROJECT DIRECTOR (BUSINESS REQUIREMENTS).
| DIRECTOR, HEAVY MANUFACTURING, TRANSPORTATION AND CONSTRUCTION INDUSTRY.
| DIRECTOR, OPERATIONAL READINESS.
| DIRECTOR, FILING SYSTEMS.
| DIRECTOR, STRATEGIC PLANNING AND PROGRAM MANAGEMENT.
| DEPUTY ASSOCIATE COMMISSIONER, SYSTEMS INTEGRATION.
| PROJECT DIRECTOR.
| DIRECTOR, COMPLIANCE AREA.
| PROJECT MANAGER.
| AREA DIRECTOR, STAKEHOLDER, PARTNERSHIP, EDUCATION, AND COMMUNICATION, DALLAS—WAGE AND INVESTMENT.
| ACCOUNTS MANAGEMENT FIELDD DIRECTOR.
| DEPUTY COMMISSIONER, SMALL BUSINESS/SELF-EMPLOYED.
| PROJECT DIRECTOR, EMPLOYEE TAX COMPLIANCE.
| DIRECTOR, PRODUCT ASSURANCE.
| CHIEF, MANAGEMENT AND FINANCE—LARGE AND MID-SIZE BUSINESS.
| CHIEF HUMAN CAPITAL OFFICER, INTERNAL REVENUE SERVICE.
| DIRECTOR, SAFETY AND SECURITY.
| COMPLIANCE SERVICE FIELD DIRECTOR.
| COMPLIANCE SERVICE FIELD DIRECTOR.
| DEPUTY DIRECTOR, BUSINESS SYSTEMS DEVELOPMENT DIVISION.
| DIRECTOR, PERSONNEL POLICY.
| DIRECTOR, FIELD SPECIALISTS—LARGE AND MID SIZE BUSINESS.
| DIRECTOR, CUSTOMER ACCOUNT MANAGER.
| DIRECTOR, REAL ESTATE AND FACILITIES MANAGEMENT.
| DIRECTOR, FIELD OPERATIONS (FINANCIAL SERVICES), LAGUNA NIGUEL.
| DEPUTY DIRECTOR, ENTERPRISE OPERATIONS SERVICES.
| DIRECTOR OF FIELD OPERATIONS, NEW YORK—LARGE AND MID SIZE BUSINESS.
| DIRECTOR, EXEMPT ORGANIZATIONS, RULINGS AND AGREEMENTS.
| COMMISSIONER, SMALL BUSINESS AND SELF-EMPLOYED.
| PROJECT DIRECTOR—APPEALS.
| DIRECTOR, PROCUREMENT.
| CHIEF, INFORMATION TECHNOLOGY SERVICES.
| DIRECTOR, PROFESSIONAL RESPONSIBILITY.
| PROJECT DIRECTOR.
| COMPLIANCE SERVICE FIELD DIRECTOR.
| DIRECTOR, SECURITY POLICY, SUPPORT AND OVERSIGHT.
| ASSOCIATE CHIEF FINANCIAL OFFICER FOR INTERNAL.
| FINANCIAL MANAGEMENT—NATIONAL HEADQUARTERS.
| DIRECTOR, TAXPAYER EDUCATION AND COMMUNICATION AREA, ST LOUIS—SMALL BUSINESS AND SELF-EMPLOYED.
| DIRECTOR, CUSTOMER APPLICATIONS DEVELOPMENT.
| PROJECT DIRECTOR.
| DIRECTOR, RESEARCH.
| DIRECTOR, EARNED INCOME AND HEALTH COVERAGE TAX CREDITS.
| DIRECTOR, COMPLIANCE AREA—DENVER, SMALL BUSINESS AND SELF-EMPLOYED.
| DIRECTOR, EXAMINATION AREA.
| DIRECTOR, COMPLIANCE AREA, DALLAS—SMALL BUSINESS AND SELF-EMPLOYED.
| DIRECTOR, PERSONNEL SERVICES.
| DIRECTOR, PRE-FILING AND TECHNICAL GUIDANCE.
| COMPLIANCE SERVICE, FIELD DIRECTOR—ATLANTA.
| DIRECTOR, PROJECT SERVICES.
| DIRECTOR, INFORMATION TECHNOLOGY, SECURITY PROGRAM.
| PROJECT DIRECTOR.
| COMMISSIONER, WAGE AND INVESTMENT.
| DIRECTOR, STRATEGIC SERVICES.
| PROJECT DIRECTOR.
| SENIOR COUNSELOR TO THE COMMISSIONER (TAX ADMINSTRATION, PRACTICE AND PROFESSIONAL RESPONSIBILITY).
| ASSISTANT DEPUTY COMMISSIONER FOR SERVICES AND ENFORCEMENT.
| DIRECTOR, BUSINESS SYSTEMS MODERNIZATION ACQUISITION.
| DIRECTOR, COMPLIANCE AREA.
| DIRECTOR, COMMUNICATIONS, TECHNOLOGY AND MEDIA INDUSTRY—LARGE AND MID SIZE BUSINESS.
| CHIEF, MISSION ASSURANCE AND SECURITY SERVICES.
| EXECUTIVE DIRECTOR, SYSTEMIC ADVOCACY—NATIONAL TAXPAYER ADVOCATE.
| DIVISION INFORMATION OFFICER—LARGE AND MID SIZE BUSINESS.
| DEPUTY DIRECTOR, ENTERPRISE OPERATIONS SERVICES.
| DIRECTOR, FIELD OPERATIONS.
| DIRECTOR, FIELD OPERATIONS—NATURAL RESOURCES AND CONSTRUCTION.
| COMPLIANCE SERVICE FIELD DIRECTOR, ANDOVER—WAGE AND INVESTMENT.
| DIRECTOR, DETROIT COMPUTING CENTER.
| SUBMISSION PROCESSING FIELD DIRECTOR.
| DIRECTOR, SPECIAL PROGRAMS AND OVERSIGHT.
| DIRECTOR, COMPLIANCE CAMPUS OPERATIONS.
| DIRECTOR, COLLECTION AREA.
| DEPUTY DIRECTOR, OPERATION STANDARDS.
| AREA DIRECTOR, FIELD ASSISTANCE.
| DIRECTOR, MEDIA AND PUBLICATIONS.
| DIRECTOR, TEST ASSURANCE AND DOCUMENTATION.
| DEPUTY DIRECTOR, FIELD ASSISTANCE.
| DIRECTOR, STRATEGY, PROGRAM MANAGEMENT AND PERSONNEL SECURITY.
| DIRECTOR, PLANNING AND ANALYSIS.
| DIRECTOR, OPERATIONAL READINESS.
| DIRECTOR, MEDIA AND PUBLICATIONS DISTRIBUTION DIVISION.
| DIRECTOR, INTERNAL MANAGEMENT.
| DEPUTY DIVISION COMMISSIONER.
| DIRECTOR, CUSTOMER ACCOUNT SERVICES—WAGE AND INVESTMENT.
| DIRECTOR, ABUSIVE TRANSACTIONS.
| DIRECTOR, COLLECTION AREA.
| COMPLIANCE SERVICE FIELD DIRECTOR—KANSAS CITY.
| DIRECTOR, TECHNICAL SERVICES.
| DIRECTOR, FIELD OPERATIONS.
| ACCOUNTS MANAGEMENT FIELD DIRECTOR.
| DIRECTOR, FIELD OPERATIONS.
| DEPUTY ASSOCIATE CHIEF INFORMATION OFFICER, BUSINESS.
| SYSTEMS DEVELOPMENT.
| DIRECTOR, TECHNICAL SYSTEMS SOFTWARE.
| DEPUTY DIRECTOR, SUBMISSION PROCESSING, CINCINNATI—.
| SMALL BUSINESS AND SELF-EMPLOYED.
| DIRECTOR, COMPLIANCE CAMPUS OPERATIONS.
| PROJECT DIRECTOR.
| DIRECTOR, COMPLIANCE CAMPUS OPERATIONS.
| CHIEF INFORMATION OFFICER.
| DIRECTOR, PORTFOLIO MANAGEMENT.
| DIRECTOR, EMPLOYEE PLAN DETERMINATION LETTER REDESIGN.
| DEPUTY CHIEF, AGENCYWIDE SHARED SERVICES.
| DEPUTY DIRECTOR, PROCUREMENT.
| DIRECTOR, WORKFORCE RETENTION AND TRANSITION.
| PROJECT DIRECTOR.
| DIRECTOR, TAXPAYER EDUCATION AREA—LOS ANGELES.
| DIRECTOR, ENTERPRISE OPERATIONS SERVICES.
| DEPUTY DIRECTOR, FIELD SPECIALISTS.
| ACCOUNTS MANAGEMENT FIELD DIRECTOR.
| DIRECTOR, STRATEGY, CRIMINAL INVESTIGATIONS.
| ASSOCIATE CHIEF INFORMATION OFFICER FOR INFORMATION TECHNOLOGY SERVICES.
| DIRECTOR, FIELD OPERATIONS—FINANCIAL SERVICES.
| DIRECTOR, COMPLIANCE, DETROIT—SMALL BUSINESS AND SELF-EMPLOYED.
| DIRECTOR, COMPLIANCE AREA.
| AREA DIRECTOR, STAKEHOLDER, PARTNERSHIP, EDUCATION AND COMMUNICATIONS—NEW ORLEANS.
| DIRECTOR, REGULATORY COMPLIANCE.
| DIRECTOR, TAXPAYER EDUCATION AREA, CHICAGO—SMALL BUSINESS AND SELF-EMPLOYED.
| PROJECT DIRECTOR (SMALL BUSINESS AND SELF-EMPLOYED).
| TRANSITION EXECUTIVE).
| DIRECTOR, CONTACT CENTER SUPPORT DIVISION.
| DIRECTOR, EXAMINATION AREA.
| AREA DIRECTOR, INFORMATION TECHNOLOGY.
| DIRECTOR, EXAMINATION AREA.
| DIRECTOR, PERSONNEL FIELD SERVICES.
| DIRECTOR, INDIVIDUAL MASTER FILE.
| DIRECTOR, EQUAL EMPLOYMENT OPPORTUNITY AND DIVERSITY.
| DEPUTY DIRECTOR, ELECTRONIC TAX ADMINISTRATION.
| DIRECTOR, COMPLIANCE SYSTEMS DIVISION.
| PROJECT DIRECTOR.
| ASSISTANT DEPUTY COMMISSIONER FOR OPERATIONS SUPPORT.
| INFORMATION TECHNOLOGY MANAGER, POLICY AND PLANNING.
| DIRECTOR, INTERNET DEVELOPMENT SERVICES.
| DIRECTOR, EXAMINATION AREA.
| DIRECTOR, INTERNAL MANAGEMENT SYSTEMS DEVELOPMENT DIVISION.
| DIRECTOR, CORPORATE DATA AND SYSTEMS MANAGEMENT DIVISION.
| DEPUTY DIRECTOR, SUBMISSION PROCESSING.
| DIRECTOR, TAXPAYER EDUCATION AND COMMUNICATION—SMALL BUSINESS AND SELF-EMPLOYED.
| DIRECTOR, CORRESPONDENCE PRODUCTION SERVICES.
| SUBMISSION PROCESSING FIELD DIRECTOR—ANDOVER.
| DIRECTOR, BURDEN REDUCTION AND COMPLIANCE STRATEGIES.
| DIRECTOR, OPERATIONAL ASSURANCE.
| DIRECTOR, COMPLIANCE AREA.
| FIELD DIRECTOR, ACCOUNTS MANAGEMENT, WAGE AND INVESTMENT.
| DEPUTY DIRECTOR, ACCOUNTS MANAGEMENT.
| DEPUTY ASSOCIATE CHIEF INFORMATION OFFICER,.
| APPLICATIONS DEVELOPMENT.
| DIRECTOR, EXAMINATION PLANNING AND DELIVERY.
| DIRECTOR, JOINT OPERATIONS CENTER.
| DIRECTOR, DEVELOPMENT SERVICES.
| PROJECT DIRECTOR.
| ACCOUNTS MANAGEMENT FIELD DIRECTOR, FRESNO.
| DIRECTOR, EMPLOYEE PLANS, RULINGS, AND AGREEMENTS.
| DIRECTOR, FINANCIAL MANAGEMENT SERVICES.
| DIRECTOR, INTERNET DEVELOPMENT SERVICES.
| PROJECT DIRECTOR.
| DIRECTOR, PERFORMANCE, QUALITY AND INNOVATION—LARGE AND MID-SIZE BUSINESS.
| PROJECT DIRECTOR.
| DIRECTOR, STRATEGY AND FINANCE, APPEALS.
| DIRECTOR, COLLECTION AREA.
| DIRECTOR, EXAMINATION AREA.
| SENIOR ADVISOR, INFORMATION SYSTEMS CURRENT PROCESSING ENVIRONMENT SECURITY.
| AREA DIRECTOR, SOUTHEAST.
| DIRECTOR, TAXPAYER EDUCATION AND COMMUNICATION FIELD OPERATIONS.
| PROJECT DIRECTOR.
| DEPUTY CHIEF, MISSION ASSURANCE AND SECURITY SERVICES.
| ASSISTANT TO DIRECTOR, REAL ESTATE AND FACILITIES MANAGEMENT.
| PROJECT DIRECTOR, OFFICE OF PROFESSIONAL RESPONSIBILITY.
| DIRECTOR, BUSINESS SYSTEMS PLANNING.
| DIRECTOR, SUBMISSION PROCESSING.
| DIRECTOR, CORPORATE DATA.
| DIRECTOR OF FIELD OPERATIONS (SOUTHEAST AREA)—CRIMINAL INVESTIGATION.
| DIRECTOR, MANAGEMENT SERVICES.
| PROJECT DIRECTOR.
| PROJECT DIRECTOR.
| INDUSTRY DIRECTOR—FINANCIAL SERVICES—LARGE AND MID-SIZE BUSINESS.
| DIRECTOR, E-FILE SYSTEMS.
| BUSINESS MODERNIZATION EXECUTIVE.
| DIRECTOR, FIELD OPERATIONS.
| DIRECTOR, COLLECTION AREA.
| DIRECTOR, EMERGENCY MANAGEMENT PROGRAMS.
| DIRECTOR, FINANCIAL MANAGEMENT SERVICES.
| DIRECTOR, ENTERPRISE OPERATIONS SERVICES.
| DEPUTY DIRECTOR, TAXPAYER EDUCATION AND COMMUNICATION.
| ASSOCIATE CHIEF FINANCIAL OFFICER FOR CORPORATE STRATEGY.
| ACCOUNTS MANAGEMENT FIELD DIRECTOR.
| DIRECTOR, STAKEHOLDER LIAISON FIELD.
| SUBMISSION PROCESSING FIELD DIRECTOR.
| PROJECT DIRECTOR.
| DEPUTY DIRECTOR, OFFICE OF PROFESSIONAL RESPONSIBILITY.
| SPECIAL AGENT IN CHARGE.
| DIRECTOR, EMERGENCY MANAGEMENT AND PHYSICAL SECURITY.
| DIRECTOR, TAX FORMS AND PUBLICATIONS.
| DIRECTOR, COMPLIANCE SERVICES CAMPUS OPERATIONS.
| DIRECTOR, RESEARCH.
| ACCOUNTS MANAGEMENT FIELD DIRECTOR.
| SUBMISSION PROCESSING FIELD DIRECTOR.
| DIRECTOR, STRATEGY, RESEARCH AND PERFORMANCE MANAGEMENT.
| DIRECTOR, COMPLIANCE CAMPUS OPERATIONS.
| DIRECTOR, BUSINESS SYSTEMS PLANNING.
| DIRECTOR, STRATEGY AND RESOURCE MANAGEMENT.
| ACCOUNTS MANAGEMENT FIELD DIRECTOR.
| ASSOCIATE CHIEF FINANCIAL OFFICER FOR CORPORATE PERFORMANCE BUDGETING.
INTERNAL REVENUE SERVICE CHIEF COUNSEL | ASSISTANT CHIEF COUNSEL (INTERNATIONAL) (LITIGATION)
| ASSISTANT CHIEF COUNSEL (COLLECTION, BANKRUPTCY AND SUMMONSES)
| DIVISION COUNSEL (WAGE AND INVESTMENT)
| DEPUTY DIVISION COUNSEL/DEPUTY ASSISTANT CHIEF COUNSEL (CRIMINAL TAX).
| DEPUTY ASSOCIATE CHIEF COUNSEL (GENERAL LEGAL SERVICES).
| ASSISTANT CHIEF COUNSEL (DISCLOSURE AND PRIVACY LAW).
| AREA COUNSEL (SMALL BUSINESS AND SELF-EMPLOYED) (AREA 7).
| AREA COUNSEL (SMALL BUSINESS AND SELF-EMPLOYED)—LOS ANGELES.
| DEPUTY ASSOCIATE CHIEF COUNSEL (GENERAL LEGAL SERVICES) (LABOR AND PERSONNEL LAW).
| AREA COUNSEL (SMALL BUSINESS AND SELF-EMPLOYED)—PHILADELPHIA.
| SPECIAL COUNSEL TO THE CHIEF COUNSEL.
| AREA COUNSEL (SMALL BUSINESS AND SELF-EMPLOYED)—CHICAGO.
| AREA COUNSEL (SMALL BUSINESS AND SELF-EMPLOYED)—NEW YORK.
| DEPUTY DIVISION COUNSEL (SMALL BUSINESS AND SELF-EMPLOYED).
| DIVISION COUNSEL (LARGE AND MID-SIZE BUSINESS).
| DIVISION COUNSEL (SMALL BUSINESS AND SELF-EMPLOYED).
| DEPUTY ASSOCIATE CHIEF COUNSEL (CORPORATE).
| ASSISTANT CHIEF COUNSEL (FINANCIAL INSTITUTIONS AND PRODUCTS).
| AREA COUNSEL (LARGE AND MID-SIZE BUSINESS) (AREA 1) (FINANCIAL SERVICES AND HEALTH CARE).
| DEPUTY ASSOCIATE CHIEF COUNSEL #2 (PASSTHROUGHS AND SPECIAL INDUSTRIES).
| DIRECTOR, EMPLOYEE PLANS EXAMINATIONS.
| ASSOCIATE CHIEF COUNSEL (PROCEDURE AND ADMINISTRATION).
| ASSOCIATE CHIEF COUNSEL (PASSTHROUGHS AND SPECIAL INDUSTRIES).
| ASSOCIATE CHIEF COUNSEL (CORPORATE).
| DEPUTY DIVISION COUNSEL #2 (SMALL BUSINESS AND SELF-EMPLOYED).
| DEPUTY ASSOCIATE CHIEF COUNSEL (FINANCE AND MANAGEMENT).
| DEPUTY ASSOCIATE CHIEF COUNSEL #1 (INCOME TAX AND ACCOUNTING).
| AREA COUNSEL (LARGE AND MID-SIZE BUSINESS) (AREA 2) (HEAVY MANUFACTURING, CONSTRUCTION AND TRANSPORTATION).
| SPECIAL COUNSEL TO THE NATIONAL TAXPAYER ADVOCATE.
| DEPUTY ASSOCIATE CHIEF COUNSEL (INTERNATIONAL TECHNICAL).
| ASSOCIATE CHIEF COUNSEL (GENERAL LEGAL SERVICES).
| AREA COUNSEL (LARGE AND MID-SIZE BUSINESS) (AREA 5) (COMMUNICATIONS, TECHNOLOGY, AND MEDIA).
| ASSISTANT CHIEF COUNSEL (ADMINISTRATIVE PROVISIONS AND JUDICIAL PRACTICE).
| AREA COUNSEL (SMALL BUSINESS AND SELF-EMPLOYED)—JACKSONVILLE.
| ASSISTANT CHIEF COUNSEL (EMPLOYEE BENEFITS).
| DEPUTY ASSOCIATE CHIEF COUNSEL (PROCEDURE AND ADMINISTRATION).
| DEPUTY ASSOCIATE CHIEF COUNSEL (STRATEGIC INTERNATIONAL PROGRAMS).
| DEPUTY DIVISION COUNSEL (LARGE AND MID-SIZE BUSINESS).
| DEPUTY CHIEF COUNSEL (TECHNICAL).
| AREA COUNSEL (SMALL BUSINESS AND SELF-EMPLOYED)—DALLAS.
| DEPUTY ASSOCIATE CHIEF COUNSEL #2 (INCOME TAX AND ACCOUNTING).
| DEPUTY DIVISION COUNSEL AND DEPUTY ASSOCIATE CHIEF COUNSEL (TAX EXEMPT AND GOVERNMENT ENTITIES).
| AREA COUNSEL, LARGE AND MID-SIZE BUSINESS (AREA 3) (FOOD, MASS RETAILERS, AND PHARMACEUTICALS).
| ASSOCIATE CHIEF COUNSEL (INTERNATIONAL).
| ASSOCIATE CHIEF COUNSEL (FINANCE AND MANAGEMENT).
| SENIOR COUNSEL TO THE CHIEF COUNSEL (LEGISLATION).
| DEPUTY ASSOCIATE CHIEF COUNSEL (FINANCIAL INSTITUTIONS AND PRODUCTS).
| ASSOCIATE CHIEF COUNSEL/OPERATING DIVISION COUNSEL (TAX EXEMPT AND GOVERNMENT ENTITIES).
| DEPUTY CHIEF COUNSEL (OPERATIONS).
| ASSISTANT CHIEF COUNSEL (EXEMPT ORGANIZATIONS, EMPLOYMENT TAX, AND GOVERNMENT ENTITIES).
| ASSOCIATE CHIEF COUNSEL (INCOME TAX AND ACCOUNTING).
| AREA COUNSEL (LARGE AND MID-SIZE BUSINESS) (AREA 4) (NATURAL RESOURCES).
| AREA COUNSEL (SMALL BUSINESS AND SELF-EMPLOYED)—DENVER.
| DEPUTY ASSOCIATE CHIEF COUNSEL #1 (PASSTHROUGHS AND SPECIAL INDUSTRIES).
| DIVISION COUNSEL/ASSOCIATE CHIEF COUNSEL (CRIMINAL TAX).
UNITED STATES MINT | ASSOCIATE DIRECTOR, INFORMATION RESOURCES/CHIEF INFORMATION OFFICER.
| ASSOCIATE DIRECTOR FOR CIRCULATING.
| SENIOR ADVISOR.
| ASSOCIATE DIRECTOR FOR SALES AND MARKETING.
| SENIOR ADVISOR.
| ASSOCIATE DIRECTOR FOR POLICY AND MANAGEMENT/CHIEF FINANCIAL OFFICER.
UNITED STATES AGENCY FOR INTERNATIONAL DEVELOPMENT:
OFFICE OF THE ADMINISTRATOR | COUNSELOR TO THE AGENCY.
OFFICE OF THE GENERAL COUNSEL | DEPUTY GENERAL COUNSEL.
| ASSISTANT GENERAL COUNSEL FOR ETHICS AND ADMINSTRATIONS.
OFFICE OF THE INSPECTOR GENERAL | ASSISTANT INSPECTOR GENERAL FOR INVESTIGATIONS.
| DEPUTY ASSISTANT INSPECTOR GENERAL FOR AUDIT.
| COUNSEL TO THE INSPECTOR GENERAL.
| DEPUTY INSPECTOR GENERAL.
OFFICE OF SECURITY | DIRECTOR, OFFICE OF SECURITY.
OFFICE OF EQUAL OPPORTUNITY PROGRAMS | DIRECTOR OFFICE OF EQUAL OPPORTUNITY PROGRAMS.
BUREAU FOR GLOBAL HEALTH | ASSOCIATE ASSISTANT ADMINISTRATOR CENTER FOR ECONOMIC GROWTH.
| SENIOR DEPUTY ASSISTANT ADMINISTRATOR.
| DEPUTY ASSISTANT ADMINISTRATOR, CENTER FOR POPULATION, HEALTH, AND NUTRITION.
| ASSOCIATE ASSISTANT ADMINISTRATOR.
BUREAU FOR EUROPE AND EURASIA | DEPUTY ASSISTANT ADMINISTRATOR.
BUREAU FOR MANAGEMENT | DEPUTY CONTROLLER.
| DIRECTOR OFFICE OF INFORMATION RESOURCE MANAGEMENT.
| DEPUTY DIRECTOR OFFICE OF PROCUREMENT.
| DEPUTY DIRECTOR, OFFICE OF HUMAN RESOURCES.
| DIRECTOR OFC MANAGEMENT OPERATIONS.
| DEPUTY DIRECTOR, OFFICE OF PROCUREMENT.
| DEPUTY ASSISTANT ADMINISTRATOR BUREAU FOR MANAGEMENT.
| DEPUTY DIRECTOR, OFFICE OF FINANCIAL MANAGEMENT.
| FINANCIAL OFFICER FOR CREDIT POLICY.
| FINANCIAL OFFICER FOR CREDIT POLICY.
UNITED STATES INTERNATIONAL TRADE COMMISSION:
OFFICE OF EXTERNAL RELATIONS | DIRECTOR, OFFICE OF EXTERNAL RELATIONS.
OFFICE OF INDUSTRIES | DIRECTOR OFFICE OF INDUSTRIES.
OFFICE OF INVESTIGATIONS | DIRECTOR, OFFICE OF INVESTIGATIONS.
DEPARTMENT OF VETERANS AFFAIRS:
OFFICE OF THE SECRETARY AND DEPUTY | DIRECTOR, OFFICE OF EMPLOYMENT DISCRIMINATION COMPLAINT ADJUDICATION.
OFFICE OF THE INSPECTOR GENERAL | DEPUTY INSPECTOR GENERAL.
| ASSISTANT INSPECTOR GENERAL FOR AUDITING.
| ASSISTANT INSPECTOR GENERAL FOR INVESTIGATIONS.
| DEPUTY INSPECTOR GENERAL.
| ASSISTANT INSPECTOR GENERAL FOR MANAGEMENT AND ADMINISTRATION.
| DEPUTY ASSISTANT INSPECTOR GENERAL FOR INVESTIGATIONS.
| COUNSELOR TO THE INSPECTOR GENERAL.
| ASSISTANT INSPECTOR GENERAL FOR HEALTHCARE INSPECTIONS.
| DEPUTY ASSISTANT INSPECTOR GENERAL FOR AUDITING.
| DEPUTY ASSISTANT INSPECTOR GENERAL FOR HEALTHCARE INSPECTIONS.
| DEPUTY ASSISTANT INSPECTOR GENERAL FOR MANAGEMENT AND ADMINISTRATION.
| DIRECTOR OF MEDICAL CONSULTATION AND REVIEW.
| ASSOCIATE DIRECTOR OF MEDICAL CONSULTATION AND REVIEW.
BOARD OF VETERANS APPEALS | VICE CHAIRMAN.
OFFICE OF THE GENERAL COUNSEL | REGIONAL COUNSEL.
| REGIONAL COUNSEL.
| REGIONAL COUNSEL.
| REGIONAL COUNSEL.
| REGIONAL COUNSEL.
| REGIONAL COUNSEL.
| REGIONAL COUNSEL.
OFFICE ASSISTANT SECRETARY FOR MANAGEMENT | PRINCIPAL DEPUTY ASSISTANT SECRETARY FOR MANAGEMENT.
| PROGRAM MANAGER (FINANCIAL SYSTEMS).
| DIRECTOR, OFFICE OF BUSINESS OVERSIGHT.
OFFICE OF FINANCE | ASSOCIATE DEPUTY ASSISTANT SECRETARY FOR FINANCIAL SYSTEMS AND OPERATIONS.
| DIRECTOR, FINANCIAL SERVICES CENTER.
OFFICE OF ACQUISITION AND MATERIEL MANAGEMENT | DEPUTY ASSISTANT SECRETARY FOR ACQUISITION AND MATERIEL MANAGEMENT.
| ASSOCIATE DEPUTY ASSISTANT SECRETARY FOR ACQUISITIONS.
| ASSOCIATE DEPUTY ASSISTANT SECRETARY FOR PROGRAM MANAGEMENT AND OPERATIONS.
| EXECUTIVE DIRECTOR/CHIEF OPERATING OFFICER.
OFFICE OF ASSET ENTERPRISE MANAGEMENT | DEPUTY DIRECTOR, ASSET ENTERPRISE MANAGEMENT.
OFFICE ASSISTANT SECRETARY FOR POLICY, PLANNING AND PREPAREDNESS | DEPUTY ASSISTANT SECRETARY FOR EMERGENCY MANAGEMENT.
OFFICE OF SECURITY AND LAW ENFORCEMENT | DEPUTY ASSISTANT SECRETARY FOR SECURITY AND LAW ENFORCEMENT.
OFFICE OF HUMAN RESOURCES MANAGEMENT AND LABOR RELATIONS | ASSOCIATE DEPUTY ASSISTANT SECRETARY FOR HUMAN RESOURCES MANAGEMENT.
OFFICE ASST SECRETARY FOR INFORMATION AND TECHNOLOGY | DIRECTOR, VETERANS AFFAIRS AUTOMATION CENTER, AUSTIN, TEXAS.
| ASSOCIATE DEPUTY ASSISTANT SECRETARY FOR POLICY, PORTFOLIO OVERSIGHT AND EXECUTION.
| ASSOCIATE DEPUTY ASSISTANT SECRETARY FOR CYBER AND INFORMATION SECURITY.
| PROGRAM MANAGEMENT EXECUTIVE.
| ASSOCIATE DEPUTY ASSISTANT SECRETARY ELECTRONIC GOVERNMENT AND RECORDS MANAGEMENT.
| ASSOCIATE DEPUTY ASSISTANT SECRETARY FOR FINANCE INFORMATION TECHNOLOGY.
| EXECUTIVE DIRECTOR (BUSINESS OPERATIONS).
| ASSOCIATE DEPUTY ASSISTANT SECRETARY FOR INFORMATION TECHNOLOGY OPERATIONS.
NATIONAL CEMETERY ADMINISTRATION | DIRECTOR, OFFICE OF FINANCE AND PLANNING.
| DIRECTOR, OFFICE OF CONSTRUCTION MANAGEMENT.
VETERANS BENEFITS ADMINISTRATION | DEPUTY DIRECTOR FOR POLICY AND PROCEDURES.
| CHIEF FINANCIAL OFFICER.
| DEPUTY DIRECTOR FOR OPERATIONS.
VETERANS HEALTH ADMINISTRATION | CHIEF FINANCIAL OFFICER.
| DIRECTOR, OFFICE OF COMPLIANCE AND BUSINESS INTEGRITY.
| DEPUTY CHIEF FINANCIAL OFFICER.
| ASSOCIATE CHIEF FACILITIES MANAGEMENT OFFICER FOR STRATEGIC MANAGEMENT.
| ASSOCIATE CHIEF FACILITIES MANAGEMENT OFFICER FOR SERVICE DELIVERY.
| ASSOCIATE CHIEF FACILITIES MANAGEMENT OFFICER FOR RESOURCE MANAGEMENT.
| CHIEF OPERATING OFFICER.
| FINANCIAL MANAGER.
| CHIEF PROSTHETICS AND CLINICAL LOGISTICS OFFICER.
| ASSOCIATE CHIEF INFORMATION OFFICER IMPLEMENTATION AND TRAINING SERVICES.
| ASSOCIATE CHIEF FINANCIAL OFFICER FOR COREFINANCIAL AND LOGISTICS SYSTEM AND DECISION SUPPORT SYSTEMS.
VETERANS INTEGRATED SERVICE NETWORK DIRECTORS | DIRECTOR CANTEEN SERVICE.

[FR Doc. E7-5534 Filed 4-2-07; 8:45 am]

BILLING CODE 6325-43-P